DEPARTMENT OF HEALTH AND HUMAN SERVICES

Centers for Medicare & Medicaid Services

42 CFR Parts 414 and 484

[CMS-1304-P]

RIN 0938-AN76

Medicare Program; Home Health Prospective Payment System Rate Update for Calendar Year 2007 and Deficit Reduction Act of 2005 Changes to Medicare Payment for Oxygen Equipment and Capped Rental Durable Medical Equipment; Proposed Rule

AGENCY: Centers for Medicare & Medicaid Services (CMS), HHS.

ACTION: Proposed rule.

SUMMARY: This proposed rule would set forth an update to the 60-day national episode rates and the national per-visit amounts under the Medicare prospective payment system for home health agencies. In addition, this proposed rule would set forth policy changes related to Medicare payment for certain durable medical equipment for the purpose of implementing sections 1834(a)(5) and 1834(a)(7) of the Social Security Act, as amended by section 5101 of the Deficit Reduction Act of 2005. We are also inviting comments on a number of issues including payments based on reporting quality data and health information technology, as well as how to improve data transparency for consumers.

DATES: To be assured consideration, comments must be received at one of the addresses provided below, no later than 5 p.m. on September 25, 2006.

ADDRESSES: In commenting, please refer to file code CMS-1304-P. Because of staff and resource limitations, we cannot accept comments by facsimile (FAX) transmission.

You may submit comments in one of four ways (no duplicates, please):

1. Electronically. You may submit electronic comments on specific issues in this regulation to http://www.cms.hhs.gov/eRulemaking. Click on the link “Submit electronic comments on CMS regulations with an open comment period.” (Attachments should be in Microsoft Word, WordPerfect, or Excel; however, we prefer Microsoft Word.)

2. By regular mail. You may mail written comments (one original and two copies) to the following address ONLY:

Centers for Medicare & Medicaid Services, Department of Health and Human Services, Attention: CMS-1304-P, P.O. Box 8014, Baltimore, MD 21244-8014.

Please allow sufficient time for mailed comments to be received before the close of the comment period.

3. By express or overnight mail. You may send written comments (one original and two copies) to the following address ONLY:

Centers for Medicare & Medicaid Services, Department of Health and Human Services, Attention: CMS-1304-P, Mail Stop C4-26-05, 7500 Security Boulevard, Baltimore, MD 21244-1850.

4. By hand or courier. If you prefer, you may deliver (by hand or courier) your written comments (one original and two copies) before the close of the comment period to one of the following addresses. If you intend to deliver your comments to the Baltimore address, please call telephone number (410) 786-7195 in advance to schedule your arrival with one of our staff members.

Room 445-G, Hubert H. Humphrey Building, 200 Independence Avenue, SW., Washington, DC 20201; or 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and received after the comment period.

Submission of comments on paperwork requirements. You may submit comments on this document's paperwork requirements by mailing your comments to the addresses provided at the end of the “Collection of Information Requirements” section in this document.

For information on viewing public comments, see the beginning of the SUPPLEMENTARY INFORMATION section.

FOR FURTHER INFORMATION CONTACT: Randy Throndset, (410) 786-0131, or Sharon Ventura, (410) 786-1985 (for issues related to the home health prospective payment system).

Doug Brown, (410) 786-0028 (for issues related to reporting quality data).

Alexis Meholic, (410) 786-2300 (for issues related to implementation of section 5101 of the Deficit Reduction Act of 2005).

SUPPLEMENTARY INFORMATION: Submitting Comments: We welcome comments from the public on all issues set forth in this rule to assist us in fully considering issues and developing policies. You can assist us by referencing the file code CMS-1304-P and the specific “issue identifier” that precedes the section on which you choose to comment.

Inspection of Public Comments: All comments received before the close of the comment period are available for viewing by the public, including any personally identifiable or confidential business information that is included in a comment. We post all comments received before the close of the comment period on the following Web site as soon as possible after they have been received: http://www.cms.hhs.gov/eRulemaking. Click on the link “Electronic Comments on CMS Regulations” on that Web site to view public comments.

Comments received timely would also be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

I. Background

[If you choose to comment on issues in this section, please include the caption “BACKGROUND” at the beginning of your comments.]

A. Statutory Background

The Balanced Budget Act of 1997 (BBA) (Pub. L. 105-33), enacted on August 5, 1997, significantly changed the way Medicare pays for Medicare home health services. Until the implementation of a home health prospective payment system (HH PPS) on October 1, 2000, home health agencies (HHAs) received payment under a cost-based reimbursement system. Section 4603 of the BBA governed the development of the HH PPS.

Section 4603(a) of the BBA provides the authority for the development of a PPS for all Medicare-covered home health services provided under a plan of care that were paid on a reasonable cost basis by adding section 1895, entitled “Prospective Payment For Home Health Services,” to the Social Security Act (the Act).

Section 1895(b)(1) of the Act requires the Secretary to establish a PPS for all costs of home health services paid under Medicare.

Section 1895(b)(3)(A) of the Act requires that (1) the computation of a standard prospective payment amount include all costs of home health services covered and paid for on a reasonable cost basis and be initially based on the most recent audited cost report data available to the Secretary, and (2) the prospective payment amounts be standardized to eliminate the effects of case-mix and wage levels among HHAs.

Section 1895(b)(3)(B) of the Act addresses the annual update to the standard prospective payment amounts by the home health applicable increase percentage as specified in the statute.

Section 1895(b)(4) of the Act governs the payment computation. Sections 1895(b)(4)(A)(i) and (b)(4)(A)(ii) of the Act require the standard prospective payment amount to be adjusted for case-mix and geographic differences in wage levels. Section 1895(b)(4)(B) of the Act requires the establishment of an appropriate case-mix adjustment factor that explains a significant amount of the variation in cost among different units of services. Similarly, section 1895(b)(4)(C) of the Act requires the establishment of wage-adjustment factors that reflect the relative level of wages and wage-related costs applicable to the furnishing of home health services in a geographic area compared to the national average applicable level. These wage-adjustment factors may be the factors used by the Secretary for the different area wage levels for purposes of section 1886(d)(3)(E) of the Act.

Section 1895(b)(5) of the Act gives the Secretary the option to grant additions or adjustments to the payment amount otherwise made in the case of outliers because of unusual variations in the type or amount of medically necessary care. Total outlier payments in a given fiscal year cannot exceed 5 percent of total payments projected or estimated.

On December 8, 2003, the Congress enacted the Medicare Prescription Drug, Improvement, and Modernization Act (MMA) of 2003 (Pub. L. 108-173). This legislation affected how we make updates to HH payment rates.

Section 701 of the MMA changed the yearly update cycle of the HH PPS rates from that of a fiscal year to a calendar year update cycle for 2004 and any subsequent year. Generally, section 701(a) of the MMA changed the references in the statute to refer to the calendar year for 2004 and any subsequent year. The changes resulted in updates to the HH PPS rates described as “fiscal year” updates for 2002 and 2003 and as “calendar year” updates for 2004 and any subsequent year (section 1895(b)(3)(B)(i) of the Act). Beginning on January 1, 2005, HH PPS would now be updated on a calendar year update cycle.

In addition to changing the update cycle for HH PPS rates, section 701 of the MMA made adjustments to the home health applicable increase percentage for 2004, 2005, and 2006. Specifically, section 701(a)(2)(D) of the MMA left unchanged the home health market basket update for the last calendar year quarter of 2003 and the first calendar year quarter of 2004 (section 1895(b)(3)(B)(ii)(II) of the Act). Furthermore, section 701(b)(4) of the MMA set the home health applicable percentage increase for the last 3 quarters of 2004 as the home health market basket (3.1 percent) minus 0.8 percentage point (section 1895(b)(3)(B)(ii)(III) of the Act). We implemented this provision through Pub. 100-20, One Time Notification, Transmittal 59, issued February 20, 2004. Section 701(b)(4) of the MMA also provided that updates for CY 2005 and CY 2006 would equal the applicable home health market basket percentage increase minus 0.8 percentage point. Lastly, section 701(b)(3) of the MMA revised the statute to provide that HH PPS rates for CY 2007 and any subsequent year would be updated by that year's home health market basket percentage increase (section 1895(b)(3)(B)(ii)(IV) of the Act).

On February 8, 2006, the Congress enacted the Deficit Reduction Act (DRA) of 2005 (Pub. L. 109-171). This legislation made additional changes to HH PPS.

Section 5201 of the DRA changed the CY 2006 update from the applicable home health market basket percentage increase minus 0.8 percentage point to a 0 percent update.

Section 5201 of the DRA amended section 421(a) of the MMA. The amended section 421(a) of the MMA requires for home health services furnished in a rural area (as defined in section 1886(d)(2)(D) of the Act) on or after January 1, 2006 and before January 1, 2007, that the Secretary increase the payment amount otherwise made under section 1895 of the Act for those services by 5 percent. The statute waives budget neutrality for purposes of this increase as it specifically requires that the Secretary not reduce the standard prospective payment amount (or amounts) under section 1895 of the Act applicable to home health services furnished during a period to offset the increase in payments resulting in the application of this section of the statute.

The 0 percent update to the payment rates and the rural add-on provisions of the DRA were implemented through Pub. 100-20, One Time Notification, Transmittal 211 issued February 10, 2006.

In addition, section 5201(c) of the DRA amends the statute to add section 1895(b)(3)(B)(v) to the Act, requiring HHAs to submit data for purposes of measuring health care quality. This requirement is applicable for 2007 and each subsequent year. For 2007 and each subsequent year, in the case of a HHA that does not submit quality data, the home health market basket percentage increase would be reduced by 2 percentage points.

B. Updates

On July 3, 2000, we published a final rule (65 FR 41128) in the Federal Register to implement the HH PPS legislation. That final rule established requirements for the new PPS for HHAs as required by section 4603 of the BBA, and as subsequently amended by section 5101 of the Omnibus Consolidated and Emergency Supplemental Appropriations Act (OCESAA) for Fiscal Year 1999 (Pub. L. 105-277), enacted on October 21, 1998; and by sections 302, 305, and 306 of the Medicare, Medicaid, and SCHIP Balanced Budget Refinement Act (BBRA) of 1999 (Pub. L. 106-113), enacted on November 29, 1999. The requirements include the implementation of a PPS for HHAs, consolidated billing requirements, and a number of other related changes. The PPS described in that rule replaced the retrospective reasonable-cost-based system that was used by Medicare for the payment of home health services under Part A and Part B.

On November 9, 2005, we published a final rule (70 FR 68132), which set forth an update to the 60-day national episode rates and the national per-visit amounts under the Medicare prospective payment system for home health agencies. As part of that final rule, we adopted revised area labor market Metropolitan Statistical Area designations for CY 2006. In implementing the new area labor market designations, we allowed for a one-year transition period. This transition consists of a blend of 50 percent of the new area labor market designations' wage index and 50 percent of the previous area labor market designations' wage index. In addition, we revised the fixed dollar loss ratio, which is used in the calculation of outlier payments.

C. System for Payment of Home Health Services

Generally, Medicare makes payment under the HH PPS on the basis of a national standardized 60-day episode payment, adjusted for case mix and wage index. For episodes with four or fewer visits, Medicare pays on the basis of a national per-visit amount by discipline, referred to as a low utilization payment adjustment (LUPA). Medicare also adjusts the 60-day episode payment for certain intervening events that give rise to a partial episode payment adjustment (PEP adjustment) or a significant change in condition adjustment (SCIC). For certain cases that exceed a specific cost threshold, an outlier adjustment may also be available. For a complete and full description of the HH PPS as required by the BBA and as amended by OCESAA and BBRA, see the July 3, 2000 HH PPS final rule (65 FR 41128).

D. Changes in Payment for Oxygen and Oxygen Equipment and Other Durable Medical Equipment (Capped Rental Items)

The Medicare payment rules for durable medical equipment (DME) are set forth in section 1834(a) of the Act and 42 CFR part 414, subpart D of our regulations. General payment rules for DME are set forth in section 1834(a)(1) of the Act and § 414.210 of our regulations, and § 414.210 also contains paragraphs relating to maintenance and servicing of items and replacement of items. Specific rules for oxygen and oxygen equipment are set forth in section 1834(a)(5) of the Act and § 414.226 of our regulations, and specific rules for capped rental items are set forth in section 1834(a)(7) of the Act and § 414.229 of our regulations. Rules for determining a period of continuous use for the rental of DME are set forth in § 414.230 of our regulations. The Medicare payment basis for DME is equal to 80 percent of either the lower of the actual charge or the fee schedule amount for the item. The beneficiary coinsurance is equal to 20 percent of either the lower of the actual charge or the fee schedule amount for the item.

In accordance with the rules set forth in section 1834(a)(5) of the Act and § 414.226 of our regulations, since 1989, suppliers have been paid monthly for furnishing oxygen and oxygen equipment to Medicare beneficiaries. Suppliers have also been paid an add-on fee for furnishing portable oxygen equipment to patients when medically necessary. Before the enactment of the DRA, these monthly payments continued for the duration of use of the equipment, provided that Medicare Part B coverage and eligibility criteria were met. Medicare covers three types of oxygen delivery systems: (1) Stationary or portable oxygen concentrators, which concentrate oxygen in room air; (2) stationary or portable liquid oxygen systems, which use oxygen stored as a very cold liquid in cylinders and tanks; and (3) stationary or portable gaseous oxygen systems, which administer compressed oxygen directly from cylinders. Both liquid and gaseous oxygen systems require delivery of oxygen contents.

Medicare payment for furnishing oxygen and oxygen equipment is made on a monthly basis and the fee schedule amounts vary by State. Payment for oxygen contents for both stationary and portable equipment is included in the fee schedule allowances for stationary equipment. Medicare fee schedules for home oxygen equipment are modality neutral; meaning that in a given State, there is one fee schedule amount that applies to all stationary systems and one fee schedule amount that applies to all portable systems.

Effective January 1, 2006, section 5101(b) of the DRA amended the Act at section 1834(a)(5) of the Act, limiting to 36 months the total number of continuous months for which Medicare will pay for oxygen equipment on a rental basis. At the end of the 36-month period, this section mandates that the supplier transfer title to the stationary and portable oxygen equipment to the beneficiary. Section 5101(b) of the DRA does not, however, limit the number of months for which Medicare will pay for oxygen contents for beneficiary-owned stationary or portable gaseous or liquid systems, and payment will continue to be made as long as the oxygen remains medically necessary. Section 5101(b) of the DRA also provides that payment for reasonable and necessary maintenance and servicing of beneficiary-owned oxygen equipment will be made for parts and labor not covered by a supplier's or manufacturer's warranty. In the case of beneficiaries using oxygen equipment on December 31, 2005, the 36-month rental period prescribed by the DRA begins on January 1, 2006.

In accordance with the rules set forth in section 1834(a)(7) of the Act and § 414.229 of our regulations, before the enactment of the DRA, suppliers of capped rental items (that is, other DME not described in paragraphs (2) through (6) of section 1834(a) of the Act) were paid on a rental or purchase option basis. Payment for most items in the capped rental category was made on a monthly rental basis, with rental payments being capped at 15 months or 13 months, depending on whether the beneficiary chose to continue renting the item or to take over ownership of the item through the “purchase option.” For all capped rental items, the supplier was required to inform the beneficiary of his or her purchase option, during the 10th rental month, to enter into a purchase agreement under which the supplier would transfer title to the item to the beneficiary on the first day after the 13th continuous month during which payment was made for the rental of the item. Therefore, if the beneficiary chose the purchase option, rental payments to the supplier would continue through the 13th month of continuous use of the equipment, after which time title to the equipment would transfer from the supplier to the beneficiary. Medicare would also make payment for any reasonable and necessary repair or maintenance and servicing of the equipment following the transfer of title. If the beneficiary did not choose the purchase option, rental payments would continue through the 15th month of continuous use. In these cases, suppliers would maintain title to the equipment but would have to continue furnishing the item to the beneficiary as long as medically necessity continued. Beginning 6 months after the 15th month of continuous use in which payment was made, Medicare would also make semi-annual maintenance and servicing payments to suppliers. These payments were approximately equal to 10 percent of the purchase price for the equipment as determined by the statute. Total Medicare payments made through the 13th and 15th months of rental equal 105 and 120 percent, respectively, of the purchase price for the equipment.

In the case of power-driven wheelchairs, since 1989 payment has also been made on a lump-sum purchase basis at the time that the item is initially furnished to the beneficiary if the beneficiary chooses to obtain the item in this manner. Most beneficiaries choose to obtain power-driven wheelchairs via this lump-sum purchase option.

Effective for items for which the first rental month occurs on or after January 1, 2006, section 5101(a) of the DRA of 2005 amended section 1834(a)(7) of the Act, limiting to 13 months the total number of continuous months for which Medicare will pay for DME in this category. After a 13-month period of continuous use during which rental payments are made, the statute requires that the supplier transfer title to the equipment to the beneficiary. Beneficiaries may still elect to obtain power-driven wheelchairs on a lump-sum purchase agreement basis. In all cases, payment for reasonable and necessary maintenance and servicing of beneficiary-owned equipment will be made for parts and labor not covered by the supplier's or manufacturer's warranty.

II. Provisions of the Proposed Regulations

[If you choose to comment on issues in this section, please include the caption “PROVISIONS OF THE PROPOSED REGULATIONS” at the beginning of your comments.]

A. National Standardized 60-Day Episode Rate

Medicare HH PPS has been effective since October 1, 2000. As set forth in the final rule published July 3, 2000 in the Federal Register (65 FR 41128), the unit of payment under Medicare HH PPS is a national standardized 60-day episode rate. As set forth in § 484.220, we adjust the national standardized 60-day episode rate by a case mix grouping and a wage index value based on the site of service for the beneficiary. The proposed CY 2007 HH PPS rates use the same case-mix methodology and application of the wage index adjustment to the labor portion of the HH PPS rates as set forth in the July 3, 2000 final rule. In the October 22, 2004 final rule, we rebased and revised the home health market basket, resulting in a labor-related share of 76.775 percent and a non-labor portion of 23.225 percent (69 FR 62126). We multiply the national 60-day episode rate by the patient's applicable case-mix weight. We divide the case-mix adjusted amount into a labor and non-labor portion. We multiply the labor portion by the applicable wage index based on the site of service of the beneficiary.

As required by section 1895(b)(3)(B) of the Act, we have updated the HH PPS rates annually in a separate Federal Register document. Section 484.225 sets forth the specific annual percentage update. To reflect section 1895(b)(3)(B)(v) of the Act, as added by section 5201 of the DRA, in § 484.225, we are proposing to revise paragraph (g) as follows:

(g) For 2007 and subsequent calendar years, the unadjusted national rate is equal to the rate for the previous calendar year increased by the applicable home health market basket index amount unless the HHA has not submitted quality data in which case the unadjusted national rate is equal to the rate for the previous calendar year increased by the applicable home health market basket index amount minus 2 percentage points.

For CY 2007, we are proposing to use again the design and case-mix methodology described in section III.G of the HH PPS July 3, 2000 final rule (65 FR 41192 through 41203). For CY 2007, we are proposing to base the wage index adjustment to the labor portion of the PPS rates on the most recent pre-floor and pre-reclassified hospital wage index as discussed in section II.F. of this proposed rule (not including any reclassifications under section 1886(d)(8)(B) of the Act).

As discussed in the July 3, 2000 HH PPS final rule, for episodes with four or fewer visits, Medicare pays the national per-visit amount by discipline, referred to as a LUPA. We update the national per-visit amounts by discipline annually by the applicable home health market basket percentage. We adjust the national per-visit amount by the appropriate wage index based on the site of service for the beneficiary as set forth in § 484.230. We propose to adjust the labor portion of the updated national per-visit amounts by discipline used to calculate the LUPA by the most recent pre-floor and pre-reclassified hospital wage index, as discussed in section II.F of this proposed rule.

Medicare pays the 60-day case-mix and wage-adjusted episode payment on a split percentage payment approach. The split percentage payment approach includes an initial percentage payment and a final percentage payment as set forth in § 484.205(b)(1) and § 484.205(b)(2). We may base the initial percentage payment on the submission of a request for anticipated payment (RAP) and the final percentage payment on the submission of the claim for the episode, as discussed in § 409.43. The claim for the episode that the HHA submits for the final percentage payment determines the total payment amount for the episode and whether we make an applicable adjustment to the 60-day case-mix and wage-adjusted episode payment. The end date of the 60-day episode as reported on the claim determines which calendar year rates Medicare would use to pay the claim.

We may also adjust the 60-day case-mix and wage-adjusted episode payment based on the information submitted on the claim to reflect the following:

• A low utilization payment provided on a per-visit basis as set forth in § 484.205(c) and § 484.230.

• A partial episode payment adjustment as set forth in § 484.205(d) and § 484.235.

• A significant change in condition adjustment as set forth in § 484.205(e) and § 484.237.

• An outlier payment as set forth in § 484.205(f) and § 484.240.

This proposed rule reflects the proposed updated CY 2007 rates that would be effective January 1, 2007.

B. Proposed CY 2007 Update to the Home Health Market Basket Index

Section 1895(b)(3)(B) of the Act, as amended by section 5201 of the DRA, requires for CY 2007 that the standard prospective payment amounts be increased by a factor equal to the applicable home health market basket update.

• Proposed CY 2007 Adjustments.

In calculating the annual update for the CY 2007 60-day episode rates, we are proposing to first look at the CY 2006 rates as a starting point. The CY 2006 national 60-day episode rate, as modified by section 5201(a)(4) of the DRA (and implemented through Pub. 100-20, One Time Notification, Transmittal 211 issued February 10, 2006) is $2,264.28.

In order to calculate the CY 2007 national 60-day episode rate, we are proposing to multiply the CY 2006 national 60-day episode rate ($2,264.28) by the proposed estimated home health market basket update of 3.1 percent for CY 2007. The proposed estimated home health market basket percentage increase reflects changes over time in the prices of an appropriate mix of goods and services included in covered home health services. The estimated home health market basket percentage increase is generally used to update the HH PPS rates on an annual basis.

We would increase the 60-day episode payment rate for CY 2007 (episodes ending on or after January 1, 2007, and before January 1, 2008) by the proposed estimated home health market basket update (3.1 percent) ($2,264.28 × 1.031) to yield the proposed updated CY 2007 national 60-day episode rate ($2,334.47) (see Table 1 below).

Table 1.—Proposed National 60-Day Episode Amounts Updated by the Estimated Home Health Market Basket Update for CY 2007, Before Case-Mix Adjustment
Total CY 2006 prospective payment amount per 60-day episode | Multiply by the proposed estimated home health market basket update (3.1 Percent) ¹ | Proposed CY 2007 updated national 60-day episode rate
$2,264.28 | × 1.031 | $2,334.47
¹ The estimated home health market basket update of 3.1 percent for CY 2007 is based on Global Insight, Inc, 2nd Qtr, 2006 forecast with historical data through 1st Qtr, 2006.

National Per-visit Amounts Used To Pay LUPAs and Compute Imputed Costs Used in Outlier Calculations

As discussed previously in this proposed rule, the policies governing the LUPAs and outlier calculations set forth in the July 3, 2000 HH PPS final rule would continue during CY 2007. In calculating the annual update for the CY 2007 national per-visit amounts we use to pay LUPAs and to compute the imputed costs in outlier calculations, we are proposing to look again at the CY 2006 rates as a starting point. We then are proposing to multiply those amounts by the proposed estimated home health market basket update (3.1 percent) for CY 2007 to yield the updated per-visit amounts for each home health discipline for CY 2007 (episodes ending on or after January 1, 2007, and before January 1, 2008) (see Table 2 below).

Table 2.—Proposed National Per-Visit Amounts for LUPAs and Outlier Calculations Updated by the Estimated Home Health Market Basket Update for CY 2007
Home health discipline type | Final CY 2006 per-visit amounts per 60-day episode for LUPAs | Multiply by the proposed estimated home health market basket (3.1 percent) ¹ | Proposed CY 2007 per-visit payment amount per discipline for LUPAs
Home health aide | $44.76 | × 1.031 | $46.15
Medical social services | 158.45 | × 1.031 | 163.36
Occupational therapy | 108.81 | × 1.031 | 112.18
Physical therapy | 108.08 | × 1.031 | 111.43
Skilled nursing | 98.85 | × 1.031 | 101.91
Speech-language pathology | 117.44 | × 1.031 | 121.08
¹ The estimated home health market basket update of 3.1 percent for CY 2007 is based on Global Insight, Inc, 2nd Qtr, 2006 forecast with historical data through 1st Qtr, 2006.

C. Rural Add-On

As stated above, section 5201(b) of the DRA requires, for home health services furnished in a rural area (as defined in section 1886(d)(2)(D) of the Act) with respect to episodes and visits beginning on or after January 1, 2006 and before January 1, 2007, that the Secretary increase by 5 percent the payment amount otherwise made under section 1895 of the Act. The statute waives budget neutrality related to this provision as it specifically states that the Secretary shall not reduce the standard prospective payment amount (or amounts) under section 1895 of the Act applicable to home health services furnished during a period to offset the increase in payments resulting in the application of this section of the statute.

While the rural add-on would primarily affect those episodes paid based on CY 2006 rates, it would also affect a number of episodes that would be paid based on CY 2007 rates. For example, an episode that begins on December 20, 2006 and ends on February 17, 2007, for services furnished in a rural area, would be paid based on CY 2007 rates because the episode ends on or after January 1, 2007 and before January 1, 2008; and the episode would also receive the rural add-on because the episode begins on or after January 1, 2006 and before January 1, 2007.

The applicable case-mix and wage index adjustment is subsequently applied to the 60-day episode amount for the provision of home health services where the site of service is the non-Metropolitan Statistical Area (MSA) of the beneficiary. Similarly, the applicable wage index adjustment is subsequently applied to the LUPA per-visit amounts adjusted for the provision of home health services where the site of service for the beneficiary is a non-MSA area. We implemented this provision for CY 2006 on February 13, 2006 through Pub. 100-20, One Time Notification, Transmittal 211 issued February 10, 2006. The 5 percent rural add-on is noted in tables 3 and 4 below.

Table 3.—Proposed Payment Amounts for 60-Day Episodes Beginning in CY 2006 and Ending in CY 2007 Updated by the Estimated Home Health Market Basket Update for CY 2007 With Rural Add-On, Before Case-Mix Adjustment
Proposed CY 2007 total prospective payment amount per 60-day episode | 5 percent rural add-on | Proposed CY 2007 payment amount per 60-day episode beginning in CY 2006 and before January 1, 2007 and ending in CY 2007 for a beneficiary who resides in a non-MSA area
2,334.47 | × 1.05 | $2,451.20

Table 4.—Proposed National Per-Visit Amounts for Episodes Beginning in CY 2006 and Ending in CY 2007 Updated by the Estimated Home Health Market Basket Update for CY 2007 With Rural Add-On
Home health discipline type | Proposed CY 2007 per-visit amounts | Multiply by the 5 percent rural add-on | Proposed CY 2007 per-visit payment amount per discipline for 60-day episodes beginning on or after January 1 in CY 2006 and ending in CY 2007 for a beneficiary who resides in a non-msa area
Home health aide | $46.15 | × 1.05 | $48.46
Medical social services | 163.36 | × 1.05 | 171.53
Occupational therapy | 112.18 | × 1.05 | 117.79
Physical therapy | 111.43 | × 1.05 | 117.00
Skilled nursing | 101.91 | × 1.05 | 107.01
Speech-language pathology | 121.08 | × 1.05 | 127.13

Section 5201(c)(2) of the DRA added section 1895(b)(3)(B)(v)(II) to the Act, requiring that “each home health agency shall submit to the Secretary such data that the Secretary determines are appropriate for the measurement of health care quality. Such data shall be submitted in a form and manner, and at a time, specified by the Secretary for purposes of this clause.” In addition, section 1895(b)(3)(B)(v)(I) of the Act, as also added by section 5201(c)(2) of the DRA, dictates that “for 2007 and each subsequent year, in the case of a home health agency that does not submit data to the Secretary in accordance with subclause (II) with respect to such a year, the home health market basket percentage increase applicable under such clause for such year shall be reduced by 2 percentage points.”

The Omnibus Budget Reconciliation Act of 1987 (OBRA 87) required the use of a standardized assessment instrument for quality oversight of HHAs. A standardized assessment instrument provides an HHA with a uniform mechanism to assess the needs of their patients and provide CMS with a uniform mechanism to assess the HHA's ability to adequately address those needs. To fulfill the OBRA 87 mandate, CMS required that, as part of their comprehensive assessment process, HHAs collect and report Outcome and Assessment Information Set (OASIS) data and later mandated the submission of this data as an HHA condition of participation at 42 CFR 484.20 and 484.55.

The OASIS data provide consumers and HHAs with ten, publicly-reported home health quality measures which have been endorsed by the National Quality Forum (NQF). Reporting this quality data has also required the development of several supporting mechanisms such as the HAVEN software used to encode and transmit data using a CMS standard electronic record layout, edit specifications, and data dictionary. The HAVEN software, which includes the OASIS, has become a standard practice within HHA operations. These early investments in data infrastructure and supporting software that CMS and HHAs have made over the past several years in order to create this quality reporting structure, have made quality reporting and measurement an important component of the HHA industry. The ten measures are:

(1) Improvement in ambulation/locomotion.

(2) Improvement in bathing.

(3) Improvement in transferring.

(4) Improvement in management of oral medications.

(5) Improvement in pain interfering with activity.

(6) Acute care hospitalization.

(7) Emergent care.

(8) Improvement in dyspnea.

(9) Improvement in urinary incontinence.

(10) Discharge to community.

We propose to use OASIS data and the ten quality measures based on those data as the appropriate measure on home health quality. Continuing to use the OASIS instrument would minimize the burden to providers and ensure that costs associated with the development and testing of a new reporting mechanism are not incurred. We believe that at this time the noted ten quality measures are the most appropriate measure of home health quality. Accordingly, for the calendar year (CY) 2007, we propose that the OASIS data, specifically, the ten quality measures, be submitted by HHAs, to meet the requirement that each HHA submit data appropriate for the measurement of health care quality, as determined by the Secretary.

Additionally, section 1895(b)(3)(B)(v)(II) of the Act provides the Secretary with the discretion to submit the required data in a form, manner, and time specified by him. For CY 2007, we are proposing to consider OASIS data submitted by HHAs to CMS for episodes beginning on or after July 1, 2005 and before July 1, 2006 as meeting the reporting requirement. This reporting time period will allow a full 12 months of data and will provide CMS the time necessary to analyze and make any necessary payment adjustments to the CY 2007 payment rates. HHAs that meet the reporting requirement would be eligible for the full home health market basket percentage increase.

During the next few years, we will be pursuing the development of patient level process measures for home health agencies, as well as continuing to refine the current OASIS tool in response to recommendations from a Technical Expert Panel conducted to review the data elements that make up the OASIS tool. These process measures will refer to specific care practices that are, or are not, followed by the home health agency for each patient. An example of this type of measure may be: the percentage of patients at risk of falls for whom prevention of falls was addressed in the care plan. We expect to introduce these additional measures over 2008 and 2009 so as to complement the existing OASIS outcome measures. During the years leading to calendar year 2010 payments, we will test and refine these measures to determine if they can more accurately reflect the level of quality care being provided at HHAs without being overly burdensome with the data collection instrument. Some process measures are in the very early stages of development. To the extent that evidence-based data are available on which to determine the appropriate measure specifications, and adequate risk-adjustments are made, we anticipate collecting and reporting these measures as part of each agency's home health quality plan. We believe that future modifications to the current OASIS tool including reducing the numbers of questions on the tool, refining possible responses, as well as adding new process measures will be made. In all cases, we anticipate that any future quality measures should be evidence-based, clearly linked to improved outcomes, and able to be reliably captured with the least burden to the provider. We are also beginning work in order to measure patient experience (in the form of a patient satisfaction survey) of care in the home health setting.

We recognize, however, that the conditions of participation (42 CFR part 484) that require OASIS submission also provide for exclusions from this requirement. Generally, agencies are not subject to the OASIS submission requirement, and thus do not receive Medicare payments, for patients that are not Medicare Beneficiaries or the patients are not receiving Medicare-covered home health services. Under the conditions of participation, agencies are excluded from the OASIS reporting requirement on individual patients if:

• Those patients are receiving only non-skilled services,

• Neither Medicare nor Medicaid is paying for home health care (patients receiving care under a Medicare or Medicaid Managed Care Plan are not excluded from the OASIS reporting requirement),

• Those patients are receiving pre- or post-partum services,

• Those patients are under the age of 18 years.

We believe that the rationale behind the exclusion of these agencies from submitting OASIS on patients excluded from OASIS submission as a condition of participation is equally applicable to HHAs for purposes of meeting the DRA quality requirement. If an agency is not submitting OASIS for patients excluded from OASIS submission as a condition of participation, we believe that the submission of OASIS for quality measures for Medicare payment purposes is also not necessary. Therefore, we propose that HHAs do not need to submit quality measures for DRA reporting purposes, for those patients who are excluded from OASIS submission as a condition of participation.

Additionally, we propose that agencies newly certified (on or after May 31, 2006 for payments to be made in CY 2007) be excluded from the DRA reporting requirement as data submission and analysis will not be possible for an agency certified this late in the reporting time period. We propose that in future years, agencies that certify on or after May 31 of the preceding year involved be excluded from any payment penalty under the DRA for the following calendar year. For example, if HHA “X” were to enroll in the Medicare Program on May 30 2007, CMS would expect them to submit the required quality data (unless covered by another exclusion protocol) on or before June 30 2006 (the end of the reporting period for payments effectuated in calendar year 2007. However, if HHA “X” were to enroll in the Medicare Program on May 31, 2006, CMS would automatically exclude them from the requirements under the DRA and the agency would be entitled to the full market basket increase for calendar year 2007. We note these exclusions only affect reporting requirements under the DRA and do not affect the agency's OASIS reporting responsibilities under the conditions of participation.

We propose to require that all HHAs, unless covered by these specific exclusions, meet the reporting requirement, or be subject to a 2 percent reduction in the home health market basket percentage increase in accordance with section 1895(b)(3)(B)(v)(I) of the Act. The 2 percent reduction would apply to all episodes ending on or before December 31, 2007. We provide the reduced payment rates in tables 5, 6, 7, and 8 below.

Table 5.—For HHAs That Do Not Submit the Required Quality Data—Proposed National 60-Day Episode Amount Updated by the Estimated Home Health Market Basket Update for CY 2007, Minus 2 Percentage Points, Before Case-Mix Adjustment
Total CY 2006 prospective payment amount per 60-day episode | Multiply by the proposed estimated home health market basket update (3.1 percent ¹ minus 2 percent) | Proposed CY 2007 updated national 60-day episode rate for HHAs that do not submit required quality data
$2,264.28 | × 1.011 | $2,289.19
¹ The estimated home health market basket update of 3.1 percent for CY 2007 is based on Global Insight, Inc, 2nd Qtr, 2006 forecast with historical data through 1st Qtr, 2006.

Table 6.—For HHAs That Do Not Submit the Required Quality Data—Proposed National Per-Visit Amounts Updated by the Estimated Home Health Market Basket Update for CY 2007, Minus 2 Percentage Points
Home health discipline type | Final CY 2006 per-visit amounts per 60-day episode | Multiply by the proposed estimated home health market basket update (3.1 percent ¹ minus 2 percent) | Proposed CY 2007 per-visit payment amount per discipline for HHAs that do not submit required quality data
Home health aide | $44.76 | × 1.011 | $45.25
Medical social services | 158.45 | × 1.011 | 160.19
Occupational therapy | 108.81 | × 1.011 | 110.01
Physical therapy | 108.08 | × 1.011 | 109.27
Skilled nursing | 98.85 | × 1.011 | 99.94
Speech-language pathology | 117.44 | × 1.011 | 118.73
¹ The estimated home health market basket update of 3.1 percent for CY 2007 is based on Global Insight, Inc, 2nd Qtr, 2006 forecast with historical data through 1st Qtr, 2006.

Table 7.—For HHAs That Do Not Submit the Required Quality Data—Proposed Payment Amount for 60-Day Episodes Beginning in CY 2006 and Ending in CY 2007 Updated by the Estimated Home Health Market Basket for CY 2007, Minus 2 Percentage Points, With Rural Add-On, Before Case-Mix Adjustment
Proposed CY 2007 updated national 60-day episode rate for HHAs that do not submit required quality data | 5 percent rural add-on | Proposed CY 2007 payment amount per 60-day episode beginning in CY 2006 and ending in CY 2007 for a beneficiary who resides in a non-MSA area for HHAs that do not submit required quality data
$2,289.19 | × 1.05 | $2,403.65

Table 8.—For HHAs That Do Not Submit the Required Quality Data—Proposed Per-Visit Payment Amounts for Episodes Beginning in CY 2006 and Ending in CY 2007 Updated by the Estimated Home Health Market Basket for CY 2007, Minus 2 Percentage Points, With Rural Add-On
Home health discipline type | Proposed CY 2007 per-visit amounts for HHAs that do not submit required quality data | 5 percent rural add-on | Proposed CY 2007 per-visit payment amounts for episodes beginning in CY 2006 and ending in CY 2007 for a beneficiary who resides in a non-MSA area for HHAs that do not submit required quality data
Home health aide | $45.25 | × 1.05 | $47.51
Medical social services | 160.19 | × 1.05 | 168.20
Occupational therapy | 110.01 | × 1.05 | 115.51
Physical therapy | 109.27 | × 1.05 | 114.73
Skilled nursing | 99.94 | × 1.05 | 104.93
Speech-language pathology | 118.73 | × 1.05 | 124.67

Section 1895(b)(3)(B)(v)(III) of the Act further requires that the “Secretary shall establish procedures for making data submitted under subclause (II) available to the public.” Additionally, the statute requires that “such procedures shall ensure that a home health agency has the opportunity to review the data that is to be made public with respect to the agency prior to such data being made public.” To meet the requirement for making such data public, we are proposing to continue to use the CMS Home Health Compare Web site whereby HHAs are listed geographically. Currently the 10 proposed quality measures are posted on the CMS Home Health Compare Web site. Consumers can search for all Medicare-approved home health providers that serve their city or zip code and then find the agencies offering the types of services they need as well as the proposed quality measures. See http://www.medicare.gov/HHCompare/Home/. HHAs currently have access (through the Home Health Compare contractor) to their own agency's quality data (updated periodically) and we propose to continue this process thus enabling each agency to know how it is performing before public posting of agency quality data on the CMS Home Health Compare Web site.

Currently, the CMS Home Health Compare Web site does not publicly report data when agencies have fewer than 20 episodes of care within a reporting period. In light of the DRA requirements we recognize the need to provide the required data to the public and propose to make these statistics available through expansion of the CMS Home Health Compare Web site.

In the July 27, 2005 Medicare Payment Advisory Commission (MedPAC) testimony before the U.S. Senate Committee on Finance, MedPAC expressed support for the concept of differential payments for Medicare providers, which could create incentives to improve quality. To support this initiative, MedPAC stated that “outcome measures from CMS' Outcome-based Quality Indicators” (currently collected through the OASIS instrument) “could form the starter set.” MedPAC further states “* * * the Agency for Healthcare Research and Quality concur(s) that a set of these measures is reliable and adequately risk adjusted.”

The MedPAC testimony recognizes that while the goal of care for many home health patients is improving health and functioning, for some patients the goal of the HHA is to simply stabilize their conditions and prevent further decline. Additionally, the MedPAC testimony reflects that measures of structure and process could also be considered.

Various home health outcome measures are now in common use and have been studied for some time. A number of these measures have been endorsed by the National Quality Forum (NQF) and are evidence-based, well accepted, and not unduly burdensome. When determining outcome measures that would be most appropriate it is important to measure aspects of care that providers can control and are adequately risk-adjusted. Home-based care presents particular difficulties for provider control because patient conditions are compounded by a variety of home environment and support system issues.

We are currently pursuing the development of patient-level process measures for HHAs, as well as refining the current OASIS tool in response to recommendations from a Technical Expert Panel conducted to review the data elements that make up the OASIS tool. These additional measures would complement the existing OASIS outcome measures and would assist us in identifying processes of care that lead to improvements for certain populations of patients. These process measures are currently in the very early stages of development. As we stated previously, to the extent that evidence-based data are available on which to determine the appropriate measure specifications, and adequate risk-adjustments are made, we anticipate collecting and reporting these measures as part of our home health quality plan. Possible modifications to the current OASIS tool include reducing the numbers of questions on the tool, refining possible responses, as well as adding new process measures.

We are soliciting comments on how to make the outcome measures more useful. We would also like comments on measures of home health care processes for which there is evidence or improved care to beneficiaries. In all cases, measures should be evidence-based, clearly linked to improved outcomes, and able to be reliably captured with the least burden to the provider. We are also considering measures of patient experience of care in the home health setting, as well as efficiency measures, and soliciting comment on the use of the measures and their importance in the home health setting. We would address any changes to the HH PPS quality data submission requirement in future rulemaking.

It is also our intent to provide guidance on the specifications, definitions, and reporting requirements of any additional measures through the standard protocol for measure development.

We are proposing to revise the regulations at 42 CFR § 484.225 to reflect these new payment requirements which require submission of quality data.

E. Outliers and Fixed Dollar Loss Ratio

Outlier payments are payments made in addition to regular 60-day case-mix and wage-adjusted episode payments for episodes that incur unusually large costs due to patient home health care needs. Outlier payments are made for episodes for which the estimated cost exceeds a threshold amount. The episode's estimated cost is the sum of the national wage-adjusted per-visit payment amounts for all visits delivered during the episode. The outlier threshold for each case-mix group, PEP adjustment, or total SCIC adjustment is defined as the 60-day episode payment amount, PEP adjustment, or total SCIC adjustment for that group plus a fixed dollar loss amount. Both components of the outlier threshold are wage-adjusted.

The wage-adjusted fixed dollar loss (FDL) amount represents the amount of loss that an agency must bear before an episode becomes eligible for outlier payments. The FDL is computed by multiplying the wage-adjusted 60-day episode payment amount by the FDL ratio, which is a proportion expressed in terms of the national standardized episode payment amount. The outlier payment is defined to be a proportion of the wage-adjusted estimated costs beyond the wage-adjusted threshold. The proportion of additional costs paid as outlier payments is referred to as the loss-sharing ratio.

Section 1895(b)(5) of the Act requires that estimated total outlier payments are no more than 5 percent of total estimated HH PPS payments. In response to the concerns about potential financial losses that might result from unusually expensive cases expressed in comments to the October 28, 1999 proposed rule (64 FR 58133), the July 2000 final rule set the target for estimated outlier payments at the 5 percent level. The FDL ratio and the loss-sharing ratio were then selected so that estimated total outlier payments would meet the 5 percent target.

For a given level of outlier payments, there is a trade-off between the values selected for the FDL ratio and the loss-sharing ratio. A high FDL ratio reduces the number of episodes that can receive outlier payments, but makes it possible to select a higher loss-sharing ratio and, therefore, increase outlier payments for outlier episodes. Alternatively, a lower FDL ratio means that more episodes can qualify for outlier payments, but outlier payments per episode must be lower. As a result of public comments on the October 28, 1999 proposed rule, in our July 2000 final rule, we made the decision to attempt to cover a relatively high proportion of the costs of outlier cases for the most expensive episodes that would qualify for outlier payments within the 5 percent constraint.

In the July 2000 final rule, we chose a value of 0.80 for the loss-sharing ratio, which preserves incentives for agencies to attempt to provide care efficiently for outlier cases. A loss-sharing ratio of 0.80 was also consistent with the loss-sharing ratios used in other Medicare PPS outlier policies. Furthermore, we estimated the value of the FDL ratio that would yield estimated total outlier payments that were 5 percent of total home health PPS payments. The resulting value for the FDL ratio, for the July 2000 final rule, was 1.13.

Our CY 2005 update to the HH PPS rates (69 FR 62124) changed the FDL ratio from the original 1.13 to 0.70 to allow more home health episodes to qualify for outlier payments and to better meet the estimated 5 percent target of outlier payments to total HH PPS payments. We stated in that CY 2005 update that we planned to continue to monitor the outlier expenditures on a yearly basis and to make adjustments as necessary (69 FR 62129). To do so, we planned on using the best Medicare data available at the time of publication. For the CY 2005 update, we used CY 2003 home health claims data.

Our CY 2006 update to the HH PPS rates (70 FR 68132) changed the FDL ratio from 0.70 to 0.65 to allow even more home health episodes to qualify for outlier payments and to better meet the estimated 5 percent target of outlier payments to total HH PPS payments. For the CY 2006 update, we used CY 2004 home health claims data.

At this time, we do not have sufficient data to propose any update to the FDL ratio for the CY 2007 update to the HH PPS rates. However, depending on the availability of more recent data at the time of publication of the HH PPS rate update for the CY 2007 final rule, we may, if necessary, implement an update to the FDL ratio for the CY 2007 update to the HH PPS rates. If so, we plan on using the same methodology performed in updating to the current FDL ratio described in the June 2, 2004 proposed rule using any more recent available data.

F. Hospital Wage Index—Revised OMB Definition for Geographical Statistical Areas

Sections 1895(b)(4)(A)(ii) and (b)(4)(C) of the Act require the Secretary to establish area wage adjustment factors that reflect the relative level of wages and wage-related costs applicable to the furnishing of home health services and to provide appropriate adjustments to the episode payment amounts under HH PPS to account for area wage differences. We apply the appropriate wage index value to the labor portion (76.775 percent; see 60 FR 62126) of the HH PPS rates based on the geographic area in which the beneficiary received home health services as discussed in section II.A of this proposed rule. Generally, we determine each HHA's labor market area based on definitions of Metropolitan Statistical Areas (MSAs) issued by the Office of Management and Budget (OMB).

We acknowledged in our October 22, 2004 final rule that on June 6, 2003, the OMB issued an OMB Bulletin (No. 03-04) announcing revised definitions for MSAs, new definitions for Micropolitan Statistical Areas and Combined Statistical Areas, and guidance on using the statistical definitions. A copy of the Bulletin may be obtained at the following Internet address: http://www.whitehouse.gov/omb/bulletins/b03-04.html. At that time, we did not propose to apply these new definitions known as Core-Based Statistical Areas (CBSAs). In the November 9, 2005 final rule, we adopted the OMB-revised definitions to adjust the CY 2006 HH PPS payment rates and revised the regulations at § 484.202 to reflect this proposed change. The Hospital Inpatient PPS (IPPS) also applied these revised definitions as discussed in the August 11, 2004 IPPS final rule (68 FR 49207).

1. Background

As discussed previously and set forth in the July 3, 2000 final rule, the statute provides that the wage adjustment factors may be the factors used by the Secretary for purposes of section 1886(d)(3)(E) of the Act for hospital wage adjustment factors. As discussed in the July 3, 2000 final rule, we are proposing to again use the pre-floor and pre-reclassified hospital wage index data to adjust the labor portion of the HH PPS rates based on the geographic area in which the beneficiary receives the home health services. We believe the use of the pre-floor and pre-reclassified hospital wage index data results in the appropriate adjustment to the labor portion of the costs as required by statute. For the CY 2007 update to the home health payment rates, we would continue to use the most recent pre-floor and pre-reclassified hospital wage index available at the time of publication. See Addenda A and B of this proposed rule, respectively, for the rural and urban hospital wage indices using the CBSA designations. For HH PPS rates addressed in this proposed rule, we use preliminary 2007 pre-floor and pre-reclassified hospital wage index data. We are proposing to incorporate updated hospital wage index data for the 2007 pre-floor and pre-reclassified hospital wage index for use in the final rule for the CY 2007 HH PPS update (not including any reclassifications under section 1886(d)(8)(B) of the Act).

As implemented under the HH PPS in the July 3, 2000 HH PPS final rule, each HHA's labor market is determined based on definitions of MSAs issued by OMB. In general, an urban area is defined as an MSA or New England County Metropolitan Area (NECMA) as defined by OMB. Under § 412.62(f)(1)(iii), a rural area is defined as any area outside of the urban area. The urban and rural area geographic classifications are defined in § 412.62(f)(1)(ii) and § 412.62(f)(1)(iii), respectively, and have been used under HH PPS since it was implemented.

Under the HH PPS, the wage index value is based upon the site of service (defined by section 1861(m) of the Act as the beneficiary's place of residence) for the beneficiary. As has been our longstanding practice, any area not included in an MSA (urban area) is considered to be nonurban (§ 412.64(b)(1)(ii)(C)) and receives the statewide rural wage index value (see, for example, 65 FR 41173).

2. Current Labor Market Areas Based on MSAs, Including CBSAs

In the August 11, 2004 IPPS final rule (69 FR 49206 through 49034), revised labor market area definitions were adopted at § 412.64(b), which were effective October 1, 2004 for acute care hospitals. The new definitions, including CBSAs, were announced by OMB in late 2000 and were also discussed in greater detail in the July 14, 2005 HH PPS proposed rule in which we proposed to move from MSA-based to CBSA-based wage area designations. For the purposes of this proposed rule, the term “MSA-based” refers to wage index values and designations based on the previous MSA designations. Conversely, the term “CBSA-based” refers to wage index values and designations based on the new OMB revised MSA designations which now include CBSAs. Recently other payment systems such as the inpatient rehabilitation facility PPS, the skilled nursing facility PPS, and Medicare payment for hospice care have been updated to use the new revised labor market area definitions.

Based on public comments received in response to the July 14, 2005 HH PPS proposed rule, we decided to adopt a 1-year transition policy consisting of a 50/50 blend of the CBSA-based wage index values and the MSA-based wage index values. This transition policy is discussed in the November 9, 2005 HH PPS final rule (70 FR 68132, 68138). In the final rule, we also noted that for CY 2007, the HH PPS wage index adjustment would be solely based on a CBSA-based wage index.

3. Proposed Revision to the HH PPS Labor Market Areas

For CY 2007, we are proposing to end the 1 year transition policy (implemented for CY 2006) of using a 50/50 blend of MSA-based and CBSA-based wage area designations. For CY 2007, we are proposing to use 100 percent of the CBSA-based wage area designations for purposes of determining the HH PPS wage index adjustment.

In adopting the CBSA designations, we identified some geographic areas where there were no hospitals, and thus no hospital wage data on which to base the calculation of the CY 2006 home health wage index. For CY 2006, we adopted a policy in the HH PPS final rule (70 FR 68132) to use the CY 2005 pre-floor, pre-reclassified hospital wage index value for rural areas when no rural hospital wage data is available. We also adopted the policy that for urban labor markets without an urban hospital from which a hospital wage index can be derived, all of the urban CBSAs within the State would be used to calculate a statewide urban average wage index to use as a reasonable proxy for these areas. As we stated in the CY 2006 Home Health PPS Final Rule, we believe that this approach serves as a proxy for hospital wage data and provides an appropriate standard that accounts for area wage differences.

For this CY 2007 proposed rule, we are again proposing to apply our policy to use the CY 2005 pre-floor/pre-reclassified hospital wage index for rural areas where no hospital wage data is available.

We have not received any concerns from the industry regarding our policy to calculate a statewide urban average wage index, using all of the urban CBSAs wage index values within the State, for urban labor markets without an urban hospital from which a hospital wage index can be derived. Consequently, for this CY 2007 proposed rule, we again propose to apply our policy to calculate a statewide urban average wage index for urban areas with no hospital wage data available. For this CY 2007 proposed rule, the following areas will be affected by these policies:

Rural Massachusetts—proposed assigned wage index value of 1.0216;

Rural Puerto Rico—proposed assigned wage index value of 0.4047; and

Hinesville, GA (CBSA 25980)—proposed assigned wage index value of 0.9163.

We recognize that since the publication of the CY 2006 HH PPS final rule, representatives of the home health industry have expressed concerns with the policy we apply for rural areas where no hospital wage data is available, particularly as applied to rural Massachusetts facilities. In response to these concerns and in recognition that there may be additional rural areas in the future similarly impacted by a lack of hospital wage data on which to derive a hospital wage index, we are considering alternative methodologies to the methodology proposed above, for imputing a rural wage index for areas in States where no hospital wage data are available. We believe that an evaluation of alternative methodologies for imputing a rural wage index in these areas should adhere to four basic policy criteria. First, an alternative methodology should retain our current longstanding policy to use pre-floor, pre-reclassified hospital wage data to compute wage index values for post acute care facilities, including home health agencies. Second, any methodology to impute a rural wage index should use rural wage data to derive the rural wage index value. Third, any methodology to impute a rural wage index should be easy to evaluate. Fourth, any methodology to impute a rural wage index would be able to update wage data from year-to-year.

We are specifically considering one alternative to the proposal that meets all of the above policy criteria. Under this alternative, we would impute a rural wage index value by using a simple average CBSA-based rural wage index value at the Census Division level. Census Divisions are defined by the U.S. Census Bureau and may be found at (http://www.census.gov/geo/www/us_regdiv.pdf). As stated above, for CY 2007, hospital wage data are not available to compute a rural wage index for HHAs in rural Massachusetts, and this alternative methodology could be applied in this case. Massachusetts is located in Census Division I (New England). The states in this Census Division, and their respective rural wage index values (using hospital cost report wage data for FY 2003) include: Connecticut (1.1753), Maine (0.8410), New Hampshire (1.0800), Vermont (0.9944), Rhode Island (all five counties classified as urban) and Massachusetts. Using this alternative methodology, the states in Census Division I for which rural wage index values are available, as shown above, would be used resulting in a simple average rural wage index value of 1.0227. Although this methodology results in a rural Massachusetts wage index that is currently greater than the value under the current proposed policy (1.0216), we believe this methodology may be able to accurately reflect future increases and/or decreases of wage data for the States within the applicable census division. Wage indices are intended to be redistributive and should not increase total Medicare spending. We believe that the alternative methodology could be a reasonable proxy as it uses current rural wage index values (using rural hospital wage data) from States within the same census bureau divisions, with similar economics.

As defined by the Census Bureau: “Census divisions are grouping of states and the District of Columbia that are subdivisions of the four census regions.” The Census Bureau further specifically states: “Puerto Rico and the Island Areas are not part of any census region or census division.” Therefore, because the Census Bureau does not recognize Puerto Rico as part of any of the Census Bureau divisions, we do not believe that it is appropriate to compute the wage index for rural Puerto Rico using the methodology described in the alternative described above. Consequently, as stated above, we propose to continue to apply the CY 2005 wage index (0.4047) for Puerto Rico to payments for home health services provided to beneficiaries who reside in rural areas of Puerto Rico for CY 2007.

We solicit comments on maintaining our current policy for establishing wage index values for rural and urban areas without hospitals, the alternative approach outlined above in developing wage index values for rural areas without hospitals for CY 2007 and subsequent years, as well as suggestions for determining the wage index for rural Puerto Rico. We note that there are sufficient economic differences between the hospitals in the United States and those in Puerto Rico, and that hospitals in Puerto Rico are paid on a blended Federal/Commonwealth-specific rates. Consequently, any alternative approach/methodology to computing a wage index for rural Puerto Rico would need to take into account those differences. We will also continue to evaluate existing hospital wage data and, possibly, wage data from other sources, such as the Bureau of Labor Statistics, to determine if other methodologies of imputing a wage index value where hospital wage data are not available may be feasible.

G. Payment for Oxygen, Oxygen Equipment and Capped Rental DME Items

This proposed rule would amend our regulations at § 414.226 by revising the payment rules for oxygen and oxygen equipment in paragraph (a), adding a new paragraph (f) that provides that the beneficiary assumes ownership of oxygen equipment on the first day that begins after the 36th continuous month in which rental payments are made, and adding a new paragraph (g) that contains new supplier requirements that we believe are necessary in light of the amendments made to section 1834(a)(5) of the Act by section 5101(b) of the DRA. This proposed rule would amend our regulations at § 414.226 by adding a new paragraph (c) that establishes new classes and national payment amounts for oxygen and oxygen equipment based on our authority in section 1834(a)(9)(D) of the Act. We are also revising paragraph (b) of this section to incorporate the special payment rules for oxygen equipment mandated by section 1834(a)(21) of the Act. The provisions of section 1834(a)(21), which we believe are self-implementing, resulted in adjustments to Medicare payment amounts for oxygen contents and stationary oxygen equipment as well as portable oxygen equipment in 2005, which were implemented through program instructions. We are now seeking to codify these changes to make our regulations consistent with the payment methodology for these items in 2005 and 2006, and because the payment reductions mandated by section 1834(a)(21) are incorporated into our proposal, as more fully discussed in section I below, to create new payment classes for oxygen and oxygen equipment. This proposed rule would redesignate old paragraph (c) of this section as paragraph (d) and would amend this paragraph to indicate under what situations payments would be made for the items and services described in new paragraph (c). Finally, this proposed rule would redesignate old paragraph (d) of this section as paragraph (e) and would make technical changes to this paragraph so that the cross-references are accurate in light of the other changes we are proposing to make to § 414.226.

This proposed rule would also amend our regulations at § 414.229 by revising the payment rules for capped rental durable medical equipment (DME) items (also called capped rental items) in paragraph (a), revising paragraph (f) to provide for new payment rules for capped rental items furnished beginning on or after January 1, 2006, revising paragraph (g) to provide for supplier requirements that we believe are necessary in light of the amendments made to section 1834(a)(7)(A) of the Act by section 5101(a) of the DRA, and adding a new paragraph (h) to address the lump-sum purchase option for power-driven wheelchairs furnished on or after January 1, 2006. The language in current paragraphs (f) and (g) of this section is obsolete, and therefore, we would propose to delete this language.

This proposed rule would amend our regulations at § 414.210 by revising the maintenance and servicing rules in paragraph (e) and the replacement of equipment rules in paragraph (f) to further implement the new supplier requirements that we are proposing below.

Finally, we are proposing to revise § 414.230(b) to incorporate section 5101(b)(2)(B) of the DRA, which provides that for all beneficiaries receiving oxygen equipment paid for under section 1834(a) on December 31, 2005, the period of continuous use begins on January 1, 2006. We are also proposing to revise § 414.230(f), which governs when a new period of continuous use begins if a beneficiary receives new equipment, to account for the fact that oxygen equipment is paid on a modality neutral basis.

Section 5101(a) of the DRA changes the Medicare payment methodology for capped rental equipment to beneficiary ownership after 13 months of continuous use, for those beneficiaries who need the equipment for more than 13 months. This section also makes the transfer of title for the capped rental items a requirement rather than a beneficiary option after 13 months of continuous use. The changes made by this section of the DRA apply to capped rental items, including rented power-driven wheelchairs, for which the first rental month occurs on or after January 1, 2006. We are proposing to update § 414.229 of our regulations to reflect these new statutory requirements. However, for capped rental items and rented power-driven wheelchairs for which the first rental month occurred before January 1, 2006, the existing rules in § 414.229 would continue to apply. In addition, as was the case before enactment of the DRA, beneficiaries may elect to obtain power-driven wheelchairs furnished on or after January 1, 2006, on a lump-sum purchase basis.

Section 5101(b) of the DRA changes the Medicare payment methodology for oxygen equipment from continuous rental to beneficiary ownership after 36 months of continuous use, for those beneficiaries who medically need the oxygen equipment for more than 36 months. For beneficiaries who were receiving oxygen equipment on December 31, 2005 for which payment was made under section 1834(a) of the Act, the 36-month rental period began on January 1, 2006. For beneficiaries who begin to rent oxygen equipment on or after January 1, 2006, the 36-month rental period commences at the time they begin to rent the equipment. We are proposing to update § 414.226 of our regulations to incorporate these new requirements.

In light of the changes made by sections 5101(a) and (b) of the DRA, we believe it is necessary to propose additional supplier requirements in order to maintain beneficiary protections and access to oxygen, oxygen equipment, and capped rental DME items under section 1834(a) of the Act. For both capped rental DME items and oxygen equipment, the DRA amendments make the transfer of title from the supplier to the beneficiary a requirement rather than an option after the statutorily-prescribed rental period ends for each category of items. Therefore, suppliers and beneficiaries should be aware that title to these items will automatically transfer to the beneficiary if the medical need for the equipment continues for a period of continuous use that is longer than 36 months for oxygen equipment and 13 months for capped rental items. We are concerned that there may be incentives for suppliers to avoid having to transfer title to equipment to beneficiaries as required by the DRA. For example, we are aware of cases where a supplier has informed beneficiaries that it would decline to accept assignment for capped rental items and would charge beneficiaries who elected the purchase option the full retail price for the item during the 13th rental month (which was right before the supplier would be required to transfer title under the purchase option). In these cases, the beneficiary would become financially liable for the total retail price for the equipment in the 13th month if they elected the purchase option. We are making several proposals relating to the furnishing of oxygen equipment and capped rental items which we believe protect beneficiaries from these types of abusive practices and which we believe are reasonable for a supplier to comply with. Our authority to promulgate these requirements stems from our authority to administer the payment rules at section 1834(a)(5) of the Act for oxygen equipment and section 1834(a)(7) of the Act for capped rental items, as well as the general authority provided in section 1871 of the Act for prescribing regulations necessary for administering the Medicare program. Other than the length of the rental periods, which the DRA made effective beginning on January 1, 2006 for all oxygen equipment and for capped rental items for which the first rental period began on or after that date, we are proposing that the requirements presented in this section of the regulations would be effective on January 1, 2007, and would apply to suppliers that furnish oxygen equipment or capped rental items on a rental basis.

We believe that a supplier of an item that is subject to these new payment rules that furnishes the item in the first month for which a rental payment is made has an obligation to continue furnishing the item to the beneficiary for the entire period of medical need in which payments are made, up to and including the time when title to the equipment transfers to the beneficiary. We believe it is reasonable for the beneficiary to have an expectation that he or she will not be forced to change equipment or suppliers during the period of medical need unless he or she wants to. Therefore, we are proposing that unless an exception applies, the supplier that furnishes oxygen equipment or a capped rental item for the first month of the statutorily prescribed rental period must continue to furnish the oxygen equipment or the capped rental item for as long as the equipment remains medically necessary, up to and including the last month for which a rental payment is made by Medicare. We believe that this proposal is necessary to ensure beneficiary access to equipment during a period of medical need, which we believe could be jeopardized if suppliers have the option to take back the rented equipment just before the rental period expires in order to retain title to that equipment. We propose that this requirement would be subject to the following exceptions: (1) Cases where the item becomes subject to a competitive acquisition program implemented in accordance with section 1847(a) of the Act; (2) cases where a beneficiary relocates on either a temporary or permanent basis to an area that is outside the normal service area of the initial supplier; (3) cases where the beneficiary chooses to obtain equipment from a different supplier; and (4) other cases where CMS or the carrier determine that an exception is warranted. We have proposed rules in connection with the first exception in our Notice of Proposed Rulemaking for Competitive Acquisition for Certain Durable Medical Equipment, Prosthetics, Orthotics, and Supplies (DMEPOS) and Other Issues. These proposed rules are addressed beginning on page 25662 of the May 1, 2006, Federal Register. If the second exception applies, we propose that the supplier or beneficiary would need to arrange for another supplier in the new area to furnish the item on either a temporary or permanent basis. This proposed exception is consistent with what currently happens when beneficiaries move outside a supplier's service area on either a temporary or permanent basis. The third exception is intended to protect a beneficiary's right to obtain the equipment from the supplier of his or her choice. Finally, we are proposing to allow other exceptions to this proposed requirement on a case-by-case basis at the discretion of CMS or the Medicare contractor. CMS will be monitoring the case-by-case determinations made by the Medicare contractor.

We are concerned that there might be potential incentives for a supplier to replace more valuable or newer equipment used by the beneficiary with less valuable or older equipment from its inventory at some point before the 36th rental month for oxygen equipment or 13th rental month for capped rental DME expires in order to avoid losing title to the more valuable equipment. In order to avoid such potential situations, we propose that the supplier may not provide different equipment from that which was initially furnished to the beneficiary at any time during the 36-month period for oxygen equipment or 13th rental month for capped rental DME unless one of the following exceptions applies: (1) The equipment is lost, stolen, or irreparably damaged; (2) the equipment is being repaired while loaner equipment is in use; (3) there is a change in the beneficiary's medical condition such that the equipment initially furnished is no longer appropriate or medically necessary; or (4) the carrier determines that a change in equipment is warranted. However, we are proposing that a change from one oxygen equipment modality to another without physician documentation that such a change is medically necessary for the individual would not be considered a change in equipment that is warranted under the fourth exception stated above since there is no medical basis for the change. In those cases where the equipment is replaced, we propose that the replacement item must be equipment that is, at minimum, in the same condition as the equipment being replaced. This proposal is intended to safeguard beneficiary access to quality oxygen equipment and capped rental items throughout the duration of the rental period.

Under Medicare, suppliers who furnish items of DME can accept assignment on all claims for Medicare services or on a claim-by-claim basis. Assignment is an agreement between the supplier and the beneficiary under which the supplier agrees to request direct payment from Medicare for the item, to accept 80 percent of the Medicare allowed payment amount for the item from the carrier, and to charge the beneficiary not more than the remaining 20 percent of the Medicare approved payment amount, plus any unmet deductible. If a supplier elects not to accept assignment, Medicare pays the beneficiary 80 percent of the Medicare allowed payment amount, after subtracting any unmet deductible, and there is no limit under Title XVIII of the Act on the amount the supplier can charge the beneficiary for rental of the DME item. The beneficiary, in these situations, is financially responsible for the difference between 80 percent of the Medicare allowed payment amount and the amount the supplier charges for the rental of the DME item.

Section 1842(h) allows suppliers to sign a participation agreement where the supplier agrees voluntarily, before a calendar year, to accept assignment for all Medicare items and services furnished to a beneficiary for the following calendar year. Current supplier participation agreements are renewable annually. However, the agreements do not apply for a full period of medical need for specific beneficiaries in cases where such need extends for more than a calendar year. Nor do current participation agreements apply to periods of medical need where such a period overlaps calendar years. In the latter case, while a supplier may renew its participation agreement annually, a beneficiary would not know before choosing a supplier whether the supplier would be willing to accept assignment of all claims during the 13-month or 36-month rental period.

In order for the beneficiary to make an informed choice, we propose that before furnishing the oxygen equipment or a capped rental item, the supplier must disclose to the beneficiary its intentions regarding whether it will accept assignment of all monthly rental claims for the equipment during the period of medical necessity, up to and including the 36th month of continuous use for oxygen equipment or the 13th rental month of continuous use for capped rental DME in which rental payments could potentially be made. We believe that it is reasonable for the supplier to disclose to each beneficiary its intentions regarding assignment of claims for all months during a rental period as this decision has a direct financial effect on the beneficiary. A supplier's intentions could be expressed in the form of a written agreement between the supplier and a beneficiary. This proposal would require suppliers to give beneficiaries advance notice of the possible extent of their financial liability during the period of medical need in which monthly rental payments are made for the equipment, so that they can use this information to help select a supplier. Additionally, to promote informed beneficiary choices, we plan to post information on a CMS and/or CMS contractor Web site(s) indicating supplier specific information on oxygen equipment and capped rental items such as (1) the percentage of beneficiaries for whom each supplier accepted assignment during a prior period of time (for example, a quarter), and/or (2) the percentage of cases in which the supplier accepted assignment during the beneficiary's entire rental period. We believe that these proposals create reasonable rules for suppliers that furnish oxygen equipment and capped rental items and ensure that beneficiaries have information necessary to make informed choices that could have significant financial consequences for them.

H. Payment for Oxygen Contents for Beneficiary-Owned Oxygen Equipment

Section 1834(a)(5) of the Act, as amended by section 5101(b)(1) of the DRA, requires that Medicare continue to make monthly payments for the delivery and refilling of oxygen contents for the period of medical need after beneficiaries own their own gaseous or liquid oxygen stationary or portable equipment. Before the enactment of the DRA, Medicare made monthly payments for the delivery and refilling of oxygen contents for beneficiaries who own their own stationary and/or portable equipment (equipment they obtained on a purchase basis before June 1, 1989, out-of-pocket, or before they enrolled in Medicare Part B). In accordance with the DRA, we propose that after the supplier transfers title to the stationary and/or portable oxygen equipment to the beneficiary, Medicare would continue to make separate monthly payments for gaseous or liquid oxygen contents until medical necessity ends. We are also proposing that if the beneficiary-owned equipment is replaced, and Medicare pays for the replacement in accordance with proposed revised § 414.210(f) (see section K of this proposed rule for a more complete discussion of our proposed oxygen equipment replacement policies), a new 36-month rental period start and the payment for oxygen contents would be included in the monthly rental payments. We are proposing that all oxygen content payment amounts would be based on new rates developed in accordance with our proposal to establish new payment classes, as discussed in section I below.

In transferring title to gaseous or liquid oxygen equipment used during the 36-month rental period, we propose that suppliers must transfer title for all equipment that will meet the beneficiary's continued medical need, including those oxygen cylinders or vessels that are refilled at the supplier's place of business. Customary practice by suppliers for refilling oxygen contents is to deliver to the beneficiary cylinders filled with contents and take back the empty cylinders to the supplier's place of business to refill the oxygen contents. Under our proposal, title would transfer for both sets of cylinders, meaning the ones that are being used by the beneficiary for the month and the ones that the supplier refills in its business location and delivers for use during the next subsequent month. This policy would apply to both gaseous and liquid oxygen stationary equipment and portable systems. Similarly, in those cases where the beneficiary uses an oxygen equipment system which includes a compressor which fills portable gaseous cylinders in the beneficiary's home, we propose that suppliers must transfer title for this equipment to the beneficiary.

Concerns have been raised regarding beneficiary access to, and safety issues associated with, the delivery of oxygen contents for beneficiary-owned stationary and portable gaseous or liquid equipment. We believe that these concerns are based on the misconception that beneficiaries become responsible for filling their own cylinders. To the contrary, there are numerous State and Federal regulations governing the safe handling, filling, and transport of oxygen and those regulations are unaffected by the DRA oxygen provisions. We expect that suppliers will continue to furnish replacement contents for beneficiary-owned gaseous and liquid systems in the same way that they have furnished replacement contents for beneficiary-owned equipment in the past. For example, suppliers that deliver a one-month supply of gaseous cylinders to a beneficiary's home at the same time that they are picking up empty cylinders that the beneficiary used during the previous month could continue this practice under section 5101(b) of the DRA.

I. Classes of Oxygen and Oxygen Equipment

Based on information from paid Medicare claims with dates of service in calendar year 2004, distribution of usage among the four general categories of oxygen systems was: (a) 69 percent of beneficiaries used both a stationary concentrator (which does not require delivery of oxygen contents) and a portable system that requires delivery of gaseous or liquid oxygen, (b) 5 percent of beneficiaries used a stationary system that requires delivery of gaseous or liquid oxygen and a portable system that requires delivery of gaseous or liquid oxygen, (c) 24 percent of beneficiaries used a stationary concentrator system only, and (d) 2 percent of beneficiaries used only a stationary system that requires delivery of liquid or gaseous oxygen. The prevalent use of stationary concentrator systems is due, in part, to the fact that this system is the most cost-effective and dependable of the stationary oxygen modalities. The main reason that the concentrator system is the most cost-effective system is that the oxygen is concentrated from room air, and therefore, the high cost of delivering contents to the beneficiary's residence is removed when this system is used. Medicare's current payment structure results in two separate payments for beneficiaries using both stationary and portable systems, both of which are modality neutral, meaning that the payment amount does not differ depending on the type of oxygen delivery system (gaseous, liquid, or concentrator) that is furnished. One payment, hereinto referred to as the “stationary payment,” includes payment for the rental of stationary equipment, delivery of stationary oxygen contents (for gaseous or liquid systems), and delivery of portable oxygen contents (for gaseous or liquid systems). A separate add-on payment, hereinto referred to as the “portable add-on,” is also made in cases where the beneficiary is renting portable oxygen equipment. As a result of this payment methodology which has been in place since 1989, suppliers have a financial incentive to furnish low cost concentrator systems as opposed to more expensive gaseous or liquid systems because the monthly payment is the same regardless of which system is used. Finally, in implementing section 1834(a)(5) and (9) of the Act, monthly payment amounts were established through regulations at § 414.226 for (1) stationary and portable oxygen contents (for beneficiaries who use stationary and, if applicable, portable equipment), and (2) portable oxygen contents only (for beneficiaries who only use portable oxygen equipment).

The current average statewide monthly payment amounts are:

Equipment & contents | Oxygen contents only
Stationary pmt | $199 | Stationary & portable | $156
Portable add-on | 32 | Portable only | 21

Based on our data, 36 percent of Medicare beneficiaries continue using oxygen equipment for more than three years, that is, beyond the 36th month after which title for the equipment would transfer to the beneficiary in accordance with the DRA.

We have heard concerns about the appropriateness of the current payment structure for oxygen and oxygen equipment in light of changes in the technologies for oxygen delivery systems that have occurred since 1989, and these concerns have been amplified in light of the recent changes made by the DRA. The specific concerns pertain to beneficiary access to (1) portable oxygen contents after title to the equipment transfers to the beneficiary, (2) devices that allow a beneficiary to fill portable tanks at home (otherwise referred to in the oxygen equipment industry as transfilling systems), and (3) portable oxygen concentrators. As we implement the DRA provisions for oxygen equipment and propose to promulgate additional supplier requirements, we want to ensure that the Medicare payment methodology results in payments for oxygen and oxygen equipment that are accurate, do not impede beneficiary access to innovations in technology, and do not create inappropriate incentives for suppliers.

Some believe that Medicare's stationary payment for equipment and contents (average of $199) is “too high” and that Medicare's payment for portable oxygen contents only for beneficiary-owned portable equipment (average of $21) is “too low”. While some contend that the overall payment (stationary payment plus portable add-on) for oxygen and oxygen equipment is adequate as long as the beneficiary continues to rent the equipment, they are concerned about the adequacy of Medicare's $21 monthly payment for furnishing oxygen contents for beneficiary-owned portable equipment. Some believe that Medicare's current average monthly payment of $156 for oxygen contents, which includes payment for both stationary and portable systems, is high enough to create an incentive for suppliers to furnish stationary oxygen systems that require the ongoing delivery of oxygen contents, rather than stationary concentrator systems that do not require delivery of oxygen contents.

Some technologies provide an attachment to a stationary oxygen concentrator that allows beneficiaries to fill their own portable tanks at home. Delivery of portable oxygen contents to the beneficiary's home is, therefore, not necessary since this equipment refills the beneficiary's rented or owned portable oxygen tanks. This transfilling technology eliminates the need for frequent and costly trips by a supplier to a beneficiary's home to refill portable oxygen tanks and would save the Medicare program and beneficiaries who use portable equipment the expense of paying for delivery of portable oxygen contents. We note that we are not aware that a similar “transfilling” technology has been developed that would be capable of filling stationary tanks in the beneficiary's home. Therefore, there remains a need for ongoing delivery of gaseous or liquid oxygen contents for stationary equipment. In accordance with the DRA, after 36 months of continuous use, title for the transfilling equipment and accompanying portable oxygen tanks would transfer to the beneficiary who would then own a portable equipment system that self-generates oxygen in their home. However, some are concerned that current Medicare payment rules that allow payment for oxygen contents for stationary equipment creates an incentive for suppliers to furnish stationary oxygen equipment that require liquid or gaseous oxygen deliveries, rather than concentrators and transfilling equipment that self-generate oxygen in the beneficiary's home. In addition, portable oxygen concentrators are now available that meet both the beneficiary's stationary and portable oxygen needs. Some have raised concern about whether the combination of the Medicare stationary payment and portable add-on payment (approximately $231 per month), which is what is currently paid for portable oxygen concentrators, is sufficient to facilitate use of this new technology which, like a transfilling system, eliminates the need for delivery of oxygen contents, but is more expensive than a “standard” or “non-portable” concentrator.

In light of these concerns, we are proposing regulatory changes to address the Medicare payment rates for oxygen and oxygen equipment. We are proposing to address these issues by using our authority under section 1834(a)(9)(D) of the Act to establish separate classes and monthly payment rates for items of oxygen and oxygen equipment. Specifically, there are two changes we are proposing for oxygen and oxygen equipment:

1. We propose to establish a new class and monthly payment amount for oxygen generating portable oxygen equipment (for example, portable concentrators and transfilling systems).

2. We propose to establish separate classes and monthly payment amounts for gaseous and liquid oxygen contents that must be delivered for beneficiary-owned stationary and portable oxygen equipment.

The first change involves creating a new separate class for portable oxygen systems that generate their own oxygen and therefore eliminate the need for delivery of oxygen contents (for example, portable concentrator systems or transfilling systems). A higher monthly payment amount would be allowed, as described below, for these systems to account for the increased, up-front costs to the supplier of furnishing these more expensive concentrator or transfilling systems, which would be partially offset by the reduced payments that the supplier would receive from the Medicare program and beneficiaries due to the fact that these systems do not require the delivery of oxygen contents.

The second change involves creating two separate classes (stationary contents only and portable contents only) and monthly payment rates for furnishing oxygen contents for beneficiary-owned stationary and portable systems. Currently, the combined average monthly payment amount of $156 for furnishing oxygen contents for beneficiary-owned stationary and portable systems includes payment for both stationary contents and portable contents. The current fee schedule amounts for oxygen contents are based on calendar year data from 1986 for the combined average Medicare monthly payment for both stationary and portable contents divided by number of rental months for stationary liquid and gaseous oxygen equipment. As a result, the current combined stationary/portable contents payment results in Medicare payments for portable contents even in those cases where the beneficiary does not use portable oxygen equipment. Under our proposal to create one payment class for oxygen contents used for stationary equipment, and a separate class for oxygen contents used for portable equipment, new national monthly payment amounts for stationary contents delivery and portable contents delivery would be established by splitting the combined payment of $156 into two new payments as explained below. This change would increase the monthly payment for furnishing portable oxygen contents and would address the concerns that the monthly payment rate of $21 is too low for the delivery and filling of portable tanks after the beneficiary assumes ownership of the equipment in accordance with the DRA.

In order to achieve budget neutrality for the new classes of oxygen and increase payment amounts for furnishing portable contents, we would need to reduce other Medicare oxygen payment rates. Budget neutrality would require that Medicare's total spending for all modalities of stationary and portable systems, including contents, be the same under the proposed change as they would be without the change.

We would propose to achieve budget neutrality by reducing the current monthly payment amounts (the stationary payment) for stationary oxygen equipment and oxygen contents (for stationary or portable equipment) made during the rental period. This reduction in payment is necessary to offset increased payments for the changes identified above and to meet the requirement in section 1834(a)(9)(D)(ii) that the classes and payments be established in a budget neutral fashion. In most cases, suppliers furnish Medicare beneficiaries with stationary oxygen concentrators. These devices can be purchased for $1,000 or less and the current, average Medicare payment of $199 pays suppliers $1,990 over 10 months. We believe that these facts indicate that making a reduction (from $199 on average to $177) in Medicare payment for this relatively inexpensive oxygen equipment in order to pay oxygen suppliers adequately for furnishing portable oxygen contents and more expensive portable oxygen equipment technologies is warranted. With this approach, the proposed new classes, as well as proposed new national monthly payment rates, would be as follows:

1. Stationary Payment: $177.

2. Portable Add-On: $32.

3. Oxygen Generating Portable Equipment Add-On (portable concentrators or transfilling systems): $64.

4. Stationary Contents Delivery: $101.

5. Portable Contents Delivery: $55.

We provide a detailed discussion of the payment rate calculations/adjustments in the paragraphs that follow. Under the proposed new oxygen and oxygen equipment class structure described above, in those cases where the beneficiary needs both stationary and portable oxygen, monthly payments of $241 or $209 (proposed revised stationary payment of $177 plus one of two proposed portable equipment payments, $32 or $64) would be made during rental months 1 through 36. The stationary payment (which includes payment for stationary equipment, as well as oxygen contents for stationary and portable systems) of $177 would be made during rental months 1 through 36 for beneficiaries who only need stationary oxygen and oxygen equipment. Monthly payments of $101 for stationary oxygen contents and/or $55 for portable oxygen contents would be made in cases where beneficiaries own their stationary and/or portable oxygen equipment. As explained in more detail in the paragraphs that follow, the $101 payment is for stationary oxygen contents only and is derived from the current payment of $156, which is made for both stationary and portable oxygen contents. The $55 payment for portable oxygen contents only is also derived from the current payment of $156 that is made for both stationary and portable oxygen contents and would replace the current statewide portable oxygen contents fees (average of $21), which was based on a relatively small number of claims and allowed services compared to the number of claims and allowed services that were used in computing the statewide fees (average of $156) for a combination of stationary and portable oxygen contents.

As noted above, the proposed national payment rates for delivery of oxygen contents for beneficiary owned gaseous/liquid equipment were derived from the current average payment for a combined oxygen contents delivery of $156. We propose to establish $101, or 65 percent of $156, as the monthly payment rate for delivery of larger, heavier, beneficiary-owned stationary gaseous oxygen cylinders or liquid oxygen vessels and $55, or 35 percent of $156, as the monthly payment rate for delivery of smaller, lighter, beneficiary-owned portable gaseous oxygen cylinders or liquid oxygen vessels. The 65/35 split is based on our understanding that there are higher costs associated with delivering stationary tanks (cylinders of gaseous oxygen and vessels of liquid oxygen) which are approximately twice as large as the portable tanks. Such costs include supplier overhead costs, including the costs to purchase, maintain, and dispatch trucks, obtain insurance, and purchase fuel. The 65/35 split is intended to account for the difference in costs associated with the size of the tanks. Larger tanks take up more space on the trucks, take longer to fill, are harder to move, and result in increased fuel costs.

We estimate that the increase from $21 to $55 in the monthly payment rate for delivery of oxygen contents for beneficiary-owned portable equipment will result in increased expenditures of approximately $22 million over a 24 month period, or $11 million annually. This figure is based on current data on utilization of portable oxygen by Medicare beneficiaries.

The add-on payment amount of $64 for the oxygen generating portable equipment class was calculated based on data indicating long term savings generated from use of equipment that eliminated the need for payment of $55 per month for portable oxygen contents. The first step in calculating the proposed $64 payment for oxygen generating portable equipment involves the computation of a national, enhanced, modality neutral monthly payment amount of $241 for new technology systems (stationary concentrators and transfilling systems, as well as portable concentrators), which was derived from the sum of the current average stationary payment ($199), the current average portable add-on payment ($32), and an additional $10 to pay suppliers for furnishing more expensive equipment that eliminates the need for delivery of portable oxygen contents. Specifically, we calculated the modality neutral increased payment (that is, $10 above the current combination of the stationary payment and portable add-on payment) by estimating potential savings that the Medicare program would realize as a result of not having to pay for delivery of oxygen contents for beneficiary-owned portable oxygen systems in the fourth and fifth years of use. We calculated the increased payment to be equal to potential savings from not delivering oxygen contents. In calculating this increased payment, we are only factoring in savings from the fourth and fifth years of use since we assume that most beneficiaries will elect to obtain replacement equipment after the 5-year reasonable useful lifetime for their equipment has expired. Since our data indicates that 35.8 percent of beneficiaries will use oxygen equipment for more than three years, and that approximately 74 percent of these beneficiaries use portable equipment, the $10 amount is calculated based on the following formula, and is rounded to the nearest dollar:

We estimate that the additional $10 payment per month for oxygen generating portable equipment (transfilling units and portable concentrators) will result in increased expenditures of approximately $15 million over a 36 month period, or $5 million annually. This figure is based on current data on utilization of stationary and portable oxygen by Medicare beneficiaries over 36 months.

The second step in calculating the proposed $64 add-on payment for the proposed new class of oxygen generating portable equipment involves subtracting the proposed new stationary payment. Therefore, the national monthly payment of $241 computed in the first step above would be reduced by $177, the proposed new adjusted stationary payment amount, to arrive at the proposed add-on payment of $64 for just the oxygen generating portable equipment. In addition, to offset the increased annual payments of approximately $16 million that will result from increased payments for portable oxygen contents ($11 million) and newer technology oxygen generating portable equipment ($5 million), we would propose to decrease the current stationary payment by $22 ($199 − $177). We estimate that this offset would result in annual Medicare savings of approximately $16 million, and would therefore offset the increased payments for new technology oxygen generating portable equipment and delivery of oxygen contents for other beneficiary-owned portable equipment. We are proposing that these fees be established on a nationwide basis due to the fact that the variation in the current statewide fee schedule amounts for oxygen and oxygen equipment, as well as the portable equipment add-on payment, are currently only 3 percent and 5 percent, respectively.

We are proposing that the $64 add-on payment would be made for oxygen generating portable equipment only if the equipment eliminates the need for delivery or portable oxygen contents. However, if transfilling equipment is used in connection with a stationary oxygen concentrator (whether as an integrated system component or as a separate part) to both deliver stationary oxygen and fill portable oxygen tanks, Medicare would make both a $177 stationary payment for the stationary oxygen concentrator and stationary oxygen contents, and a separate $64 oxygen generating portable equipment payment for the portable oxygen transfilling equipment.

There are also portable oxygen transfilling products that are not part of or used in conjunction with a stationary oxygen concentrator. These products are only used to fill portable oxygen tanks in the beneficiary's home. If the beneficiary is using one of these products, Medicare would make a $64 oxygen generating portable equipment payment. If the patient is also renting any type of stationary oxygen equipment (gaseous, liquid, or concentrator), Medicare would make a separate, additional $177 stationary equipment payment for that equipment.

If a portable oxygen concentrator is furnished, Medicare would make the $64 oxygen generating portable equipment add-on payment if the portable oxygen concentrator is used as both the beneficiary's stationary oxygen equipment and portable oxygen equipment. In this case, the portable oxygen concentrator equipment would fall under both the stationary oxygen equipment class and the oxygen generating portable equipment class. Therefore, the $177 stationary payment would also be made in this situation, since the equipment being furnished meets the beneficiary's needs for both stationary and portable oxygen equipment. In this case, it would be necessary for the supplier to use two HCPCS codes to bill for this device since it is being used as both the stationary and portable oxygen equipment for the beneficiary. If the beneficiary owns any type of stationary equipment (concentrator, liquid, or gaseous), and is also furnished with a portable oxygen concentrator, only the oxygen generating payment of $64 would be made (that is, the supplier would not also receive the $177 payment) and the portable oxygen concentrator equipment would fall under the oxygen generating portable equipment class because it is only being used to meet the beneficiary's need for portable oxygen equipment. Finally, if, the beneficiary is renting any type of stationary equipment (concentrator, liquid, or gaseous), and is also furnished with a portable oxygen concentrator, the oxygen generating add-on payment of $64 would be paid for the portable oxygen concentrator and the stationary payment of $177 would be paid separately for the stationary oxygen equipment and contents.

In summary, we are proposing new payment classes for oxygen contents for beneficiary-owned stationary equipment, oxygen contents for beneficiary-owned portable equipment, and oxygen generating portable equipment. Payments for oxygen contents for beneficiary-owned portable equipment and oxygen generating portable equipment would exceed what is currently paid for these items to ensure access to portable oxygen regardless of the type of equipment used. These increased payments would be offset by a reduction in the stationary payment. The six broad categories of oxygen equipment used by beneficiaries are as follows:

A. Concentrator and liquid or gaseous portable equipment

B. Concentrator and/or oxygen generating portable equipment

C. Liquid or gaseous stationary equipment and liquid or gaseous portable equipment

D. Liquid or gaseous stationary equipment and oxygen generating portable equipment

E. Concentrator only

F. Liquid or gaseous stationary equipment only

Based on our proposed new payment classes, Medicare payment under these six categories would be as follows:

Category | Equipment rental and contents | Contents for beneficiary-owned equipment
A | $209 ($177 + $32) | $55
B | 241 ($177 + $64) | 0
C | 209 ($177 + $32) | 156 ($101 + $55)
D | 241 ($177 + $64) | 101
E | 177 | 0
F | 177 | 101

We are proposing to revise our regulations in order to implement these new payment classes and payment amounts, effective for claims with dates of service on or after January 1, 2007.

J. Payment for Maintenance and Servicing of Oxygen and Oxygen Equipment and Capped Rental Items

Immediately following passage of the DRA, concerns were raised regarding the ability of a beneficiary to obtain maintenance and servicing of his or her DME once he or she has taken title to it. We believe that these concerns are largely based on misconceptions that the beneficiary will “be on his or her own” in terms of maintenance and servicing of equipment and submission of claims for payment for these services. We believe that these concerns are unfounded because Medicare payment has traditionally been made for reasonable and necessary repair and maintenance of beneficiary-owned DME. In addition, section 1834(a)(5)(F)(ii)(II)(bb) of the Act, as amended by section 5101(b)(1)(B) of the DRA, requires that Medicare continue to pay for reasonable and necessary maintenance and servicing for parts and labor that is not covered under a manufacturer's or supplier's warranty in amounts determined to be appropriate by the Secretary.

Medicare has also traditionally paid for loaner equipment used while the beneficiary's equipment is being repaired, or in some cases, when the beneficiary does not have access to the equipment (for example, in cases when a natural disaster such as a hurricane forces the beneficiary to be evacuated from his or her home). We are proposing to continue Medicare payment for such loaner equipment.

We are not aware of instances where beneficiaries have encountered problems in finding suppliers to provide maintenance and servicing of beneficiary-owned DME. Section 414.210(e) of our regulations currently provides that reasonable and necessary charges for maintenance and servicing of DME are those charges made for parts and labor not otherwise covered under a manufacturer's or supplier's warranty. This definition has been applied in paying claims for maintenance and servicing of beneficiary-owned DME for several years, and the wording of this regulatory definition is parallel to that used in amended sections 1834(a)(7)(A)(iv) and (a)(5)(F)(ii)(II)(bb) of the Act in describing the “maintenance and servicing” payments that are permitted for capped rental DME and oxygen equipment after title has transferred to the beneficiary. We are proposing to continue use of this existing regulatory definition to define “maintenance and servicing” in section 5101 of the DRA. We would, however, also propose to apply our existing policy of not covering certain routine maintenance or periodic servicing of purchased equipment, such as testing, cleaning, regulating, changing filters, and general inspection of beneficiary-owned DME that can be done by the beneficiary or caregiver, to beneficiary-owned oxygen equipment and to continue that policy for beneficiary-owned capped rental equipment. As specified in current program instructions at section 110.2.B of chapter 15 of the Medicare Benefit Policy Manual (Pub. 100-02), “the owner [of the equipment] is expected to perform such routine maintenance rather than a retailer or some other person who charges the beneficiary.” We expect that the supplier, when transferring title to the equipment to the beneficiary, would also provide to the beneficiary any operating manuals published by the manufacturer which describe the servicing an owner may perform to properly maintain the equipment. We also believe that these owner manuals are commonly available at the various manufacturer Web sites. In addition, the Durable Medical Equipment, Prosthetics, Orthotics and Supplies (DMEPOS) supplier standards at § 424.57(c)(12) require suppliers to provide the beneficiary with necessary information and instructions on how to use DME items safely and effectively. We believe that after receiving this information, and after becoming familiar with the equipment during the 13 or 36 month rental period, the beneficiary and/or caregiver should be very knowledgeable regarding the routine maintenance required for the item. All non-routine maintenance of beneficiary-owned oxygen equipment and capped rental items which would need to be performed by authorized technicians would be covered as reasonable and necessary maintenance and servicing. Examples of the types of maintenance that would be covered are currently listed in program instructions at section 110.2.B of chapter 15 of the Medicare Benefit Policy Manual (Pub. 100-02) and include “breaking down sealed components and performing tests which require specialized testing equipment not available to the beneficiary.”

We are proposing that maintenance and servicing of beneficiary-owned oxygen equipment and capped rental items would be reasonable and necessary if it is non-routine maintenance and servicing necessary to make the equipment serviceable. Payment is currently made under the Medicare program for parts and labor associated with repairing beneficiary-owned DME. Medicare allowed payment amounts for replacement parts are currently paid based on the carrier's individual consideration of the item. With regard to replacement parts for beneficiary-owned oxygen equipment or capped rental equipment, we propose that the carrier pay for the parts in a lump sum amount based on its consideration of the cost of the item, as is consistent with what our carriers currently do when evaluating maintenance and servicing claims for other beneficiary-owned DME. Currently, payment for labor is based on 15-minute increments in amounts that are established by the carriers and updated on an annual basis by the same factor specified in section 1834(a)(14) of the Act, which is used to update fee schedule amounts for DME. We are proposing that the carriers use the same fee for labor that is currently used in paying for labor associated with repairing, maintaining, and servicing other beneficiary-owned DME, as we are not aware of any past problems associated with access to these services paid at these rates. We believe that the current methods and fees used by carriers in paying for maintenance and servicing of beneficiary-owned DME are reasonable given that we are not aware of any past problems associated with access to these services paid at these rates. In most cases, neither the Medicare program nor the beneficiary actually pays the full amount for repairing or maintaining an item since manufacturer warranties that cover all or part of these costs are widespread. For example, some manufacturers of commonly used oxygen concentrators offer full warranties that cover all parts and labor for 5 years. Rules in § 414.210(f) regarding replacement of DME that has been in continuous use for the equipment's reasonable useful lifetime provide that the beneficiary can elect to obtain replacement equipment after the reasonable useful lifetime for the equipment has expired. Therefore, we believe that the beneficiary should incur little, if any, expense for repair or maintenance of necessary equipment in cases where manufacturer warranties exist that cover parts and labor necessary to repair a new item during a 5-year period.

K. Payment for Replacement of Beneficiary-Owned Oxygen Equipment, Capped Rental Items, and Associated Supplies and Accessories

Medicare has traditionally paid for replacement beneficiary-owned DME after the expiration of the equipment's useful lifetime (see § 414.210(f) and § 414.229(g) of our regulations), and for replacement supplies and accessories used in conjunction with beneficiary-owned DME when these supplies and accessories are necessary for the effective use of the DME (see § 110.3 of Chapter 15 of the Medicare Benefit Policy Manual (Pub. 100-02)). Examples of supplies include drugs and administration sets used with infusion pumps. Examples of accessories include masks and tubing used with respiratory equipment. We are proposing to apply these policies to beneficiary-owned oxygen equipment, as well as the supplies and accessories used in conjunction with this equipment, and to continue to apply these policies to beneficiary-owned capped rental items, as well as the supplies and accessories used in conjunction with these items.

Specifically, we are proposing to update § 414.210(f) and § 414.229(g) of our regulations to reflect that payment may be made for the replacement of beneficiary-owned oxygen equipment and capped rental DME in cases where the item is lost, stolen, or irreparably damaged, or in cases where the item has been in continuous use for its reasonable useful lifetime. We propose that payment for the replacement be made on a rental basis in accordance with the payment rules in § 414.226 for oxygen equipment and § 414.229 for capped rental items. We also propose to revise § 414.229 to reflect that these proposed changes to the replacement policy for beneficiary-owned capped rental items only apply to those items for which the first rental month occurs on or after January 1, 2007 since the DRA does not apply to capped rental items for which the first rental month occurs before January 1, 2006. The current rules will remain in place for capped rental items to which the DRA does not apply.

We are aware that some manufacturer warranties may cover replacement of oxygen or capped rental equipment within a certain time period after the item is furnished. As was our policy prior to the enactment of DRA (see § 110.2.C of Chapter 15 of the Medicare Benefit Policy Manual (Pub. 100-02)), we are proposing that Medicare not pay for the replacement of beneficiary-owned oxygen equipment or capped rental items covered by a manufacturer's or supplier's warranty. In cases where equipment replacement is not covered by a manufacturer's or supplier's warranty, we propose that the supplier must still replace beneficiary-owned oxygen equipment or beneficiary-owned capped rental items at no cost to the beneficiary or to the Medicare program if: (1) The total accumulated costs, as illustrated in the example below, to repair the item after transfer of title to the beneficiary exceed 60 percent of the replacement cost; and (2) the item has been in continuous use for less than its reasonable useful lifetime, as established in accordance with the procedures set forth in proposed revised § 414.210(f). For example, a capped rental item that can be replaced for $1,000 (total of fee schedule payments after 13 rental months) and for which title has transferred to the beneficiary in accordance with section 1834(a)(7)(A)(ii) of the Act can be used to illustrate what we mean when we use the term “accumulated costs” above. In this example, if Medicare has paid a total of $500 for 3 repairs necessary to make the item functional, and a fourth repair costing $200 is needed in order to make the item functional, the accumulated costs for repair in this case will equal $700, which exceeds $600 or 60 percent of the $1,000 cost to replace the item. In this case, and therefore the supplier would be required to furnish a replacement item. The greater than 60 percent of cost threshold for replacement is consistent with the threshold repair costs that can result in the replacement of prosthetics (artificial limbs) in accordance with section 1834(h)(1)(G) of the Act. We believe this threshold should apply to oxygen equipment and capped rental items as well, because artificial limbs, like these items, are built to withstand repeated use.

We propose that the supplier be responsible for the cost of the replacement equipment because we believe that the item in this case did not last for the entire reasonable useful lifetime. After the beneficiary acquires title to the item, the supplier that transferred title would be responsible for furnishing the replacement item. We are proposing this provision to safeguard the beneficiary from receiving, and the Medicare program from paying for, substandard equipment, and to avoid creating an incentive for suppliers to increase the number of claims submitted for repairs in an effort to recover revenue lost as a result of DRA section 5101. We believe that this requirement is not unreasonable since suppliers should be furnishing items in good working order and are otherwise bound by regulations at § 424.57(c)(15) to accept returns from beneficiaries of substandard items. Exceptions to this rule may be granted by CMS or the carrier as appropriate (for example, the supplier would not be responsible for replacing an item in need of repair due to beneficiary neglect or abuse).

L. Periods of Continuous Use

Rules that apply in determining a period of continuous use for rental of DME are found at § 414.230 of our regulations. We are proposing that these rules would continue to apply in implementing section 5101 of the DRA, with one exception. The rules in § 414.230(f) provide that a new period of continuous use begins for new or additional equipment prescribed by a physician and found to be medically necessary, even if the new or additional equipment is similar to the old equipment.

Medicare payments for stationary and portable oxygen and oxygen equipment are currently modality neutral, which means that the same payment amounts apply to the different types of oxygen equipment furnished to Medicare beneficiaries. Since there is no distinction made between oxygen equipment modalities for payment purposes under the Medicare program, we do not believe that it is necessary or appropriate to begin a new period of continuous use when the beneficiary changes from one oxygen equipment modality to another. We are proposing to revise § 414.230(f) of our regulations to designate the existing language in this section as paragraph (f)(1) and to add a new paragraph (f)(2) to reflect this exception, effective for oxygen equipment furnished on or after January 1, 2007. We are also proposing to revise § 414.230(b) to incorporate section 5101(b)(2)(B) of the DRA, which provides that for all beneficiaries receiving oxygen equipment paid for under section 1834(a) on December 31, 2005, the period of continuous use begins on January 1, 2006.

M. Health Care Information Transparency and Health Information Technology

(If you choose to comment on issues in this section, please include the caption “Health Care Information Transparency and Health Information Technology” at the beginning of your comment.)

In the April 25, 2006 Inpatient Prospective Payment Systems proposed rule (71 FR 23996), we discussed in detail the Health Care Information Transparency Initiative and our efforts to promote effective use of health information technology (HIT) as a means to help improve health care quality and improve efficiency. Specifically, with regard to the transparency initiative, we discussed several potential options for making pricing and quality information available to the public (71 FR 24120 through 24121). We solicited comments on ways the Department can encourage transparency in health care quality and pricing whether through its leadership on voluntary initiatives or through regulatory requirements. We also sought comments on the Department's statutory authority to impose such requirements. In addition, we discussed the potential for HIT to facilitate improvements in the quality and efficiency of health care services (71 FR 24100 through 24101). We solicited comments on our statutory authority to encourage the adoption and use of HIT. The 2007 Budget states that “the Administration supports the adoption of health information technology (IT) as a normal cost of doing business to ensure patients receive high quality care.” We also sought comments on the appropriate role of HIT in potential value-based purchasing programs, beyond the intrinsic incentives of a PPS to provide efficient care, encourage the avoidance of unnecessary costs, and increase quality of care. In addition, we sought comments on promotion of the use of effective HIT and how CMS can encourage its use in HHAs.

We intend to consider both the health care information transparency initiative and the use of HIT as we refine and update all Medicare payment systems. Therefore, we seek comments on these initiatives as applied to HH PPS in this proposed rule, including the Department's statutory authority to impose any such requirements. We may address these initiatives in the final HH PPS rule. For example, a HIT proposal could include adding a requirement that HHAs use HIT that is compliant with and certified by the Certification Commission for Health Information Technology (CCHIT) in the areas in which the technology is available. As noted previously, we currently collect home health quality information and propose to collect additional quality data and report it on the CMS Home Health Compare Web site. We note that we are in the process of seeking input on these initiatives in various proposed Medicare payment rules being issued this year.

III. Collection of Information Requirements

Under the Paperwork Reduction Act of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

We are soliciting public comment on each of these issues for the following sections of this document that contain information collection requirements:

Section 414.226—Oxygen and Oxygen Equipment

This section proposes to require a supplier to disclose to the beneficiary whether or not the supplier will accept assignment of all monthly rental claims for oxygen equipment for the duration of the 36-month rental period.

The burden associated with this requirement is the time and effort put forth by the supplier to disclose this information. While this information collection is subject to the PRA, we believe this requirement meets the requirements of 5 CFR 1320.3(b)(2), and as such, the burden associated with this requirement is exempt from the PRA.

Section 414.229—Other Durable Medical Equipment-Capped Rental Items

This section proposes to require a supplier to disclose to the beneficiary whether or not the supplier will accept assignment of all monthly rental claims for capped rental DME for the duration of the 13-month rental period.

The burden associated with this requirement is the time and effort put forth by the supplier to disclose this information. While this information collection is subject to the PRA, we believe this requirement meets the requirements of 5 CFR 1320.3(b)(2), and as such, the burden associated with this requirement is exempt from the PRA.

We have submitted a copy of this proposed rule to OMB for its review of the information collection requirements described above. These requirements are not effective until they have been approved by OMB.

If you comment on these information collection and recordkeeping requirements, please mail copies directly to the following:

Centers for Medicare & Medicaid Services, Office of Strategic Operations and Regulatory Affairs, Division of Regulations Development, Attn: Melissa Musotto, [CMS-1304-P], Room C4-26-05, 7500 Security Boulevard, Baltimore, MD 21244-1850; and

Office of Information and Regulatory Affairs, Office of Management and Budget, Room 10235, New Executive Office Building, Washington, DC 20503, Attn: Carolyn Lovette, CMS Desk Officer, CMS-1304-P, carolyn_lovett@omb.eop.gov. Fax (202) 395-6974.

IV. Response to Comments

Because of the large number of public comments we normally receive on Federal Register documents, we are not able to acknowledge or respond to them individually. We would consider all comments we receive by the date and time specified in the DATES section of this preamble, and, when we proceed with a subsequent document, we would respond to the comments in the preamble to that document.

V. Regulatory Impact Analysis

[If you choose to comment on issues in this section, please include the caption “REGULATORY IMPACT ANALYSIS” at the beginning of your comments.]

A. Overall Impact

We have examined the impacts of this rule as required by Executive Order 12866 (September 1993, Regulatory Planning and Review), the Regulatory Flexibility Act (RFA) (September 19, 1980, Pub. L. 96-354), section 1102(b) of the Social Security Act, the Unfunded Mandates Reform Act of 1995 (Pub. L. 104-4), and Executive Order 13132.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). This proposed rule would be a major rule, as defined in Title 5, United States Code, section 804(2), because we estimate the impact to the Medicare Program, and the annual effects to the overall economy, would be more than $100 million. The update set forth in this proposed rule would apply to Medicare payments under HH PPS in CY 2007. Accordingly, the following analysis describes the impact in CY 2007 only. We estimate that there would be an additional $420 million in CY 2007 expenditures attributable to the CY 2007 proposed estimated home health market basket update of 3.1 percent.

The RFA requires agencies to analyze options for regulatory relief of small businesses. For purposes of the RFA, small entities include small businesses, nonprofit organizations, and small government agencies. Most hospitals and most other providers and suppliers are small entities, either by nonprofit status or by having revenues of $6 million to $29 million in any 1 year. For purposes of the RFA, approximately 75 percent of HHAs are considered small businesses according to the Small Business Administration's size standards with total revenues of $11.5 million or less in any 1 year. Individuals and States are not included in the definition of a small entity. As stated above, this proposed rule would provide an update to all HHAs for CY 2007 as required by statute. This proposed rule would have a significant positive effect upon small entities that are HHAs.

Based on our analysis of 2003 claims data, we also estimate that approximately 90 percent of registered DME suppliers are considered small businesses according to the Small Business Administration's size standards. The size standard for NAICS code, 532291, Home Health Equipment Rental is $6 million. (see http://www.sba.gov/size/sizetable2002.html, read May 9, 2005.) This proposed rule would reduce payments for oxygen equipment and capped rental items; and therefore, would have a significant negative effect upon small entities that are DME suppliers overall. However, as explained in detail below, we believe that Medicare payments would still be adequate for the items affected by this rule and that suppliers whose primary line of business involves furnishing these items will remain profitable.

In addition, section 1102(b) of the Act requires us to prepare a regulatory impact analysis if a rule may have a significant impact on the operations of a substantial number of small rural hospitals. This analysis must conform to the provisions of section 603 of the RFA. For purposes of section 1102(b) of the Act, we define a small rural hospital as a hospital that is located outside of a Metropolitan Statistical Area and has fewer than 100 beds. We have determined that this proposed rule would not have a significant economic impact on the operations of a substantial number of small rural hospitals.

Section 202 of the Unfunded Mandates Reform Act of 1995 (Pub. L. 104-4) also requires that agencies assess anticipated costs and benefits before issuing any rule that may result in expenditure in any 1 year by State, local, or tribal governments, in the aggregate, or by the private sector, of $120 million. We believe this proposed rule would not mandate expenditures in that amount.

Executive Order 13132 establishes certain requirements that an agency must meet when it promulgates a proposed rule (and subsequent final rule) that imposes substantial direct requirement costs on State and local governments, preempts State law, or otherwise has Federalism implications. We have reviewed this rule under the threshold criteria of Executive Order 13132, Federalism. We have determined that this proposed rule would not have substantial direct effects on the rights, roles, and responsibilities of States.

B. Anticipated Effects

1. Home Health PPS

This proposed rule would update the HH PPS rates contained in Pub. 100-20, One Time Notification, Transmittal 211, published February 10, 2006. We updated the rates in the CY 2006 final rule (70 FR 68132, November 9, 2005) through Transmittal 211 to take account of the DRA changes, specifically the 0 percent update and the rural add-on. The impact analysis of this proposed rule presents the projected effects of the proposed change from the CY 2006 transition wage index (50/50 blend of MSA-based and CBSA-based designations) to the CY 2007 proposed CBSA-based designations in determining the wage index used to calculate the HH PPS rates for CY 2007. We estimate the effects by estimating payments while holding all other payment variables constant. We use the best data available, but we do not attempt to predict behavioral responses to these changes, and we do not make adjustments for future changes in such variables as days or case-mix.

This analysis incorporates the latest estimates of growth in service use and payments under the Medicare home health benefit, based on the latest available Medicare claims from 2004. We note that certain events may combine to limit the scope or accuracy of our impact analysis, because such an analysis is future-oriented and, thus, susceptible to forecasting errors due to other changes in the forecasted impact time period. Some examples of such possible events are newly-legislated general Medicare program funding changes made by the Congress, or changes specifically related to HHAs. In addition, changes to the Medicare program may continue to be made as a result of the BBA, the BBRA, the Medicare, Medicaid, and SCHIP Benefits Improvement and Protection Act of 2000, the MMA, the DRA, or new statutory provisions. Although these changes may not be specific to HH PPS, the nature of the Medicare program is such that the changes may interact, and the complexity of the interaction of these changes could make it difficult to predict accurately the full scope of the impact upon HHAs.

Our discussion for this proposed rule will focus on the impact of changes in the wage index, most notably the adoption of the full CBSA designations. The impacts of the updated wage data are shown in Table 9 below. The breakdown of the various impacts displayed in the table follows.

The rows display the estimated effect of the proposed changes on different categories. The first row of figures represents the estimated effects on all facilities. The next 2 rows show the effect on urban and rural facilities. This is followed, in the next 4 rows, by impacts on urban and rural facilities based on whether they are a hospital-based or freestanding facility. The next 20 rows show the effect on urban and rural facilities based on the census region in which they are located.

The first column shows the breakdown of all HHAs by urban or rural status, hospital-based or freestanding status, and census division.

The second column in the table shows the number of facilities in the impact database. A facility is considered urban if it is located in a CBSA and, conversely, rural if it is not located in a CBSA.

The third column of the table shows the effect of the proposed annual update to the wage index. This represents the effect of using the most recent wage data available to determine the proposed estimated home health market basket update. The total impact of this change is −0.1 percent; however, there are distributional effects of the change.

The fourth column of the table shows the effect of all the changes on the proposed CY 2007 payments. The proposed estimated market basket update of 3.1 percentage points is constant for all providers and, though not shown individually, is included in this column. It is projected that total aggregate payments would increase by 3.0 percent, assuming facilities do not change their care delivery and billing practices in response.

As can be seen from this table, the combined effects of all of the changes would vary by specific types of providers and by location. For example, HHAs in the rural Pacific show the largest estimated increase in payment at 10.3 percent, while HHAs in the rural Mountain census division show the smallest increase in payments at 0.5 percent. Rural HHAs do somewhat better than urban HHAs, seeing an estimated increase in payments of 3.3 percent and 2.9 percent respectively. Amongst the different type of facility categories, freestanding rural HHAs do best, with an estimated increase in payments of 3.5 percent. Hospital-based urban HHAs are next with an estimated increase in payments of 3.2 percent with hospital-based rural and freestanding urban HHAs with estimated increases of 3.1 percent and 2.8 percent, respectively.

Table 9.—Projected Impact of CY 2007 Update to the HH PPS
| Number of facilities | Updated wage data (percent) | Total CY 2007 change (percent)
Total | 7,370 | −0.1 | 3.0
Urban | 2,097 | −0.2 | 2.9
Rural | 5,273 | 0.2 | 3.3
Hospital based urban | 1,988 | 0.1 | 3.2
Freestanding urban | 3,285 | −0.3 | 2.8
Hospital based rural | 1,201 | 0.0 | 3.1
Freestanding rural | 896 | 0.4 | 3.5
Urban by region:
New England | 254 | −1.1 | 2.0
Middle Atlantic | 423 | 0.0 | 3.1
South Atlantic | 913 | −0.5 | 2.6
East North Central | 886 | 0.3 | 3.5
East South Central | 222 | −0.4 | 2.7
West North Central | 304 | 0.3 | 3.4
West South Central | 1,300 | −0.6 | 2.4
Mountain | 281 | 1.7 | 4.8
Pacific | 649 | 0.2 | 3.3
Outlying | 41 | −4.8 | −1.8
Rural by region:
New England | 43 | −0.7 | 2.3
Middle Atlantic | 82 | 0.3 | 3.4
South Atlantic | 239 | −0.6 | 2.5
East North Central | 284 | 1.5 | 4.6
East South Central | 215 | −0.3 | 2.8
West North Central | 488 | 0.3 | 3.4
West South Central | 475 | −0.3 | 2.8
Mountain | 173 | −2.5 | 0.5
Pacific | 88 | 6.9 | 10.3
Outlying | 10 | 7.7 | 11.1

The impact of the proposed wage index for CY 2007 is shown in Addendum C to this document. Addendum C to this document shows a side-by-side comparison, by State and county code, of the CY 2006 transition wage index, which was a 50/50 blend of MSA-based and CBSA-based pre-floor, pre-reclassified hospital wage indexes, and the proposed CY 2007 pre-floor, pre-reclassified hospital wage index for the CY 2007 HH PPS update. In the last column of Addendum C to this document, we show the percentage change in the wage index from CY 2006 to the proposed wage index for CY 2007.

We estimate that there would be an additional $420 million in CY 2007 expenditures attributable to the CY 2007 proposed estimated market basket (3.1 percent) increase. Thus, the anticipated expenditures outlined in this proposed rule would exceed the $100 million annual threshold for a major rule as defined in Title 5, USC, section 804(2).

This proposed rule would have a positive effect on providers of Medicare home health services by increasing their Medicare payment rates. It is anticipated that very few HHAs will not submit the quality data required by section 1895(b)(3)(B)(v)(II)of the Act necessary to receive the full market basket percentage increase. Submission of OASIS data is a Medicare condition of participation for HHAs. Therefore, one would expect that no HHA would be subject to the 2 percent reduction in payments in CY 2007. As indicated in the rule, most HHAs that do not report OASIS provide pediatric, non-Medicare, or personal care only. However, CMS is aware of instances of non-compliance among a very small portion of HHAs with regard to OASIS submission.

For the purposes of the CY 2007 impact analysis, we anticipate that less than 1 percent of HHAs, involving less than 1 percent of total Medicare HH payments, would fail to submit quality data and hence would be subject to the 2 percent reduction. This is not enough to impact the estimated $420 million in additional expenditures. Finally, we do not believe there is a differential impact due to the aggregate nature of the update. We do not anticipate specific effects on other providers.

2. Oxygen and Oxygen Equipment Provisions

As mandated by the DRA of 2005, this proposed rule limits to 36 months the total number of continuous months for which Medicare would pay for oxygen equipment, after which the title to the oxygen equipment would be transferred from the supplier to the beneficiary. Since Medicare currently pays for oxygen equipment on a monthly basis for as long as it is medically necessary, this change would result in savings to Medicare. In addition, the DRA mandates that Medicare continue to make monthly payments for furnishing contents for beneficiary-owned oxygen equipment.

Close to a million patients now receive oxygen therapy. Although monthly rental payments already have been reduced by 30 percent by section 4552 of the Balanced Budget Act of 1997 and approximately 10 percent by section 302(c)(2) of the Medicare Prescription Drug, Improvement, and Modernization Act of 2003, Medicare allowed charges rose to $2.78 billion by 2004, a 71 percent increase since 1998 that reflects the growing use. Before the amendments to section 1834(a)(5) of the Act made by the DRA, Medicare continued to make rental payments for as long as medical necessity continued, even when the total payments greatly exceeded the cost of purchasing the equipment and the supplier retained title to the equipment. We believe the DRA amendments to the Act will result in a loss of revenue to suppliers that will no longer receive payments for oxygen equipment after the 36th month of continuous use.

Based on data for items furnished in calendar year 2004, oxygen concentrators accounted for over 93 percent of Medicare utilization for stationary oxygen systems, in terms of both allowed charges and allowed services. Since oxygen concentrators can typically be purchased for $1,000 or less, we believe that 36 months of payment at approximately $200 per month would ensure the supplier is reimbursed for its cost for furnishing the equipment. The $200 allowed payment amount may be re-adjusted in the future to assure that payments are adequate, but not excessive. This could be accomplished though the competitive acquisition programs mandated by section 1847 of the Act or in accordance with our authority for adjusting fee schedule amounts at section 1842(b)(8) and (9) of the Act. Based on our data, approximately 36 percent of Medicare beneficiaries use oxygen equipment for more than 3 years and approximately 20 percent of Medicare beneficiaries use oxygen equipment for more than 5 years. In section K of the “provisions of the proposed regulation section of this preamble,” we propose to allow beneficiaries to obtain replacement oxygen equipment in cases where their equipment has been in continuous use for the reasonable useful lifetime of the equipment. Unless CMS or its carriers establish a specific reasonable useful lifetime for oxygen equipment, the default lifetime for DME of 5 years would apply. The main effect of this rule on suppliers is that they will not be able to receive payment for the equipment beyond 36 months for approximately 36 percent of Medicare patients. They will also not be able to receive payment for furnishing the same item to subsequent patients in these cases since they lose title to the equipment. In the case of oxygen concentrator systems and portable oxygen transfilling systems, delivery of oxygen contents is not necessary, and therefore, payment will not be made for the furnishing of contents for these types of beneficiary owned equipment. Under the old payment rules, payment for oxygen concentrators used for stationary equipment purposes would have continued at approximately $200 per month for the entire period of medical need. Section 5101(b) of the DRA mandates that payment for oxygen equipment end and that title to the equipment transfer after 36 months of continuous use.

In the case of liquid and gaseous oxygen systems, suppliers will continue to be paid for furnishing oxygen contents for beneficiary-owned systems. The current statewide monthly payment amounts for oxygen and oxygen equipment that would be paid during the 36-month period of continuous use for beneficiaries who only use stationary equipment range from $194.48 to $200.41, with the average statewide fee being $199.36. The current statewide monthly payment amount for furnishing oxygen contents for beneficiary owned equipment range from $137.54 to $198.12, with the average statewide fee being $156.07. The average decrease in Medicare fee schedule amounts that may result from the DRA changes for liquid and gaseous systems after the 36-month period (that is, shift from monthly payments for equipment and contents to monthly payments for contents only), is expected to be $43.29 ($199.36−$156.07). Therefore, this is the level of monthly reimbursement that would be lost after the 36-month period for suppliers that furnish oxygen and oxygen equipment to beneficiaries in these situations and who continue to furnish contents to these beneficiaries. Based on current fee schedule amounts for all oxygen and oxygen equipment, this equates to an average reduction in payment (from $199.36 to $156.07) of approximately 22 percent.

At the current monthly statewide fee schedule rates, which range from $194.48 to $200.41, suppliers of oxygen equipment are expected to be paid from $7,001.28 to $7,214.76 over 36 months. By comparison, a medical center operated by the Department of Veterans Affairs (VA) in Tampa, Florida, is the largest VA center in terms of number of veterans on oxygen therapy and services approximately 1,000 patients on oxygen by contracting with a locally based manufacturer to purchase the oxygen concentrators for $895 each. The medical center contracts with a local supplier for $90 to deliver and set up the concentrator to the patient's home. This local supplier also provides service and maintenance of the equipment at any time throughout the year for $48 per service episode. If the equipment needs to be replaced, the local supplier will furnish another concentrator for a $90 fee. The VA total payments over 5 years for an oxygen concentrator used by a veteran in this center plus payment for ten episodes of maintenance and servicing, assuming servicing every 6 months, would be $1,435, compared to total Medicare allowed charges of $7,164, on average, for a Medicare beneficiary. Based on this comparison, the Medicare payment amounts and methodology appear to be more than adequate.

We do not anticipate that transfer of ownership for oxygen equipment to the beneficiary after 36 months of continuous use would be a significant financial burden to suppliers because the effect is limited to a maximum of 36 percent of a supplier's Medicare business and because suppliers of oxygen equipment primarily furnish lower cost oxygen concentrators. We also do not anticipate a significant change in the rate of assignment of claims for oxygen equipment based on our belief that suppliers will be adequately reimbursed for furnishing the oxygen equipment.

Finally, if new oxygen and oxygen equipment classes and payment amounts are established in accordance with the proposed provisions in section I of this rule, there could potentially be a shift in utilization between the various oxygen equipment modalities, which could impact supplier revenues and sales volume for certain oxygen equipment manufacturers. However, since use of the authority to create such classes under section 1834(a)(9)(D) of the Act requires that these changes be budget-neutral, there would not a significant impact on overall Medicare payments to suppliers.

3. Capped Rental DME

This proposed rule, which limits to 13 months the total number of continuous months for which Medicare would pay for capped rental DME, after which the ownership of the capped rental item would be transferred from the supplier to the beneficiary, would result in significant savings for the Medicare program. Savings would be realized through: (1) The gradual elimination of rental payments for the 14th and 15th months of continuous use; and (2) changing the semi-annual payment for maintenance and servicing to payment only when reasonable and necessary maintenance and servicing is needed. We anticipate that suppliers may lose money due to the loss of 1 to 2 months rental in cases where beneficiaries need the item for more than 13 months and would not have otherwise selected the purchase option currently described in § 414.229(d). The average of the 2006 fee schedule amounts for all capped rental items for months 14 and 15 is approximately $152. We do not believe suppliers will suffer financially as a result of this provision based on data which shows that in 2004, 97 percent of suppliers accepted assignment for beneficiaries who chose the purchase option (§ 414.229(d)) in the 11th month of a capped rental period. This is an indication that suppliers were willing to accept the Medicare payment as payment in full for the capped rental item, even though they had been informed that the beneficiary would take over ownership of the item after the 13th month of continuous use. Therefore, we do not anticipate that transfer of ownership for capped rental equipment to the beneficiary after 13 months of continuous use would be a significant financial burden to suppliers.

For items for which the first rental payment falls on or after January 1, 2006, Medicare would only pay for maintenance and servicing as necessary. In a June 2002 report (OEI-03-00-00410), the Office of Inspector General (OIG) indicated that only 9 percent of the capped rental equipment with a June 2000 service date actually received any servicing between June and December 2000. Out of the $7.3 million Medicare paid for maintenance services from June 2000, we estimate that $6.5 million was paid for equipment that received no actual servicing. The OIG recommended to CMS in 2002 that we eliminate the semi-annual maintenance payment currently allowed for capped rental equipment and pay only for repairs when needed.

The combination of these two factors provides strong evidence that the Medicare rules for paying for maintenance and servicing of capped rental equipment furnished before January 1, 2006, were not cost-effective.

Impact on Beneficiaries

The DRA provisions and this proposed rule would result in savings for Medicare beneficiaries using oxygen equipment and capped rental items. For capped rental items, Medicare payments will be made for 13 continuous months and for oxygen equipment, payments will be made for 36 continuous months. After the rental period for each category of equipment expires, ownership of the equipment will transfer from the suppliers to the beneficiaries. Beneficiaries will continue to be financially responsible for a 20 percent coinsurance payment during the 13 or 36 month rental periods for capped rental items and oxygen equipment, respectively. However, beneficiaries will no longer have to make a monthly 20 percent coinsurance payment for the equipment after they own it. This will result in significant savings to beneficiaries.

For example, before the DRA, Medicare and the beneficiary made continuous payments for the rental of oxygen equipment that totaled about $200 per month. Of this amount, the beneficiary paid coinsurance of $40 which would equal $480 for a single year's rental, $1,440 over 36 months, and $2,400 over 5 years. After the DRA, beneficiaries will only pay a coinsurance amount for up to 36 months for the rental of oxygen equipment, after which time they will own the equipment. Thus, the DRA oxygen provisions result in savings of approximately $480 if beneficiaries use the equipment for 4 years, and $960 if they use the equipment for 5 years.

For capped rental items, beneficiaries will save coinsurance by not being responsible for any equipment payment after the 13th rental month or the semi-annual maintenance and servicing payment that was approximately equal to 10 percent of the purchase price for the equipment. Before the DRA, Medicare and the beneficiary would pay up to 15 months for capped rental items, and Medicare and the beneficiary would also pay for maintenance and servicing every six months. Thus, beneficiaries will save coinsurance payments related to both the equipment itself and the maintenance and servicing of that equipment.

The proposed rule would assure beneficiaries that suppliers that furnish the equipment for the first month would continue to furnish the equipment for the entire 36-month period of continuous use for oxygen equipment or the 13-month period of continuous use for capped rental.

Beneficiaries would also be assured that their oxygen and capped rental equipment would not be impermissibly swapped by the supplier at any time during the rental period. Under the proposed rule, we propose that a supplier may not provide different rented equipment to the beneficiary at any time during the 36 rental months for oxygen equipment or the 13 rental months for capped rental DME unless one of the following exceptions apply: The equipment is lost, stolen, or irreparably damaged; the equipment is being repaired while loaner equipment is in use; there is a change in the beneficiary's medical condition; or the carrier determines that a change in equipment is otherwise warranted.

We are proposing that suppliers inform beneficiaries whether they will accept or not accept assignment on all monthly rental claims during the 13-month rental period for capped rental items or the 36-month rental period for oxygen equipment in an upfront manner.

The proposed rule would also assure beneficiaries that following the transfer of title, the supplier would replace the item at no cost to the beneficiary in cases where the accumulated costs of repair exceed 60 percent of the cost of replacement, if the reasonable useful lifetime of the item (currently a default period of 5 years) has not expired.

C. Accounting Statement

As required by OMB Circular A-4 (available at ), http://www.whitehouse.gov/omb/circulars/a004/a-4.pdf) in Table 10 below, we have prepared an accounting statement showing the classification of the expenditures associated with the provisions of this proposed rule. This table provides our best estimate of the increase in Medicare payments under the HH PPS as a result of the changes presented in this final rule based on the data for 7,370 HHAs in our database. All expenditures are classified as transfers to Medicare providers (that is, HHAs).

Table 10.—Accounting Statement: Classification of Estimated Expenditures, From CY 2006 to CY 2007
[In millions]
Category | Transfers
Annualized monetized transfers | $420
From whom to whom? | Federal Government to HHAs.

In Table 11 below, we have prepared an accounting statement showing the classification of the expenditures associated with the DME provisions of this final rule. This table provides our best estimate of the decrease in Medicare payments under the DME benefit as a result of the changes presented in this final rule based on the 2004 allowed charge data for oxygen and capped rental DME in our database. All expenditures are classified as transfers to the Medicare program and its beneficiaries.

Table 11.—Accounting Statement: Classification of Estimated Expenditures
[In millions]
Category | Transfers
Monetized transfers in FY 2007 | $80
Monetized transfers in FY 2008 | 130
Monetized transfers in FY 2009 | 170
Monetized transfers in FY 2010 | 220
Monetized transfers in FY 2011 | 280
From whom to whom? | Suppliers to Federal Government and beneficiaries.

In accordance with the provisions of Executive Order 12866, this regulation was reviewed by the Office of Management and Budget.

List of Subjects

42 CFR Part 414

Administrative practice and procedure, Health facilities, Health professions, Kidney diseases, Medicare, Reporting and recordkeeping requirements.

42 CFR Part 484

Health facilities, Health professions, Medicare, Reporting and recordkeeping requirements.

For the reasons set forth in the preamble, the Centers for Medicare & Medicaid Services would amend 42 CFR chapter IV as set forth below:

PART 414—PAYMENT FOR PART B MEDICAL AND OTHER HEALTH SERVICES

Subpart D—Payment for Durable Medical Equipment and Prosthetic and Orthotic Devices

1. The authority citation for part 414 continues to read as follows:

Authority: Secs. 1102, 1871, and 1881(b)(1) of the Social Security Act (42 U.S.C. 1302, 1395(hh), and 1395rr(b)(1)).

2. Amend § 414.210 as follows:

A. Revise paragraph (e).

B. Revise the introductory text to paragraph (f).

C. Revise paragraph (f)(2)

D. Add new paragraphs (f)(3) and (f)(4).

The revisions read as follows:

§ 414.210 General payment rules.

* * * * *

(e) Maintenance and servicing.—(1) General rule. Except as provided in paragraph (e)(2) of this section, the carrier pays the reasonable and necessary charges for maintenance and servicing of beneficiary-owned equipment. Reasonable and necessary charges are those made for parts and labor not otherwise covered under a manufacturer's or supplier's warranty. Payment is made for replacement parts in a lump sum based on the carrier's consideration of the item. The carrier establishes a reasonable fee for labor associated with repairing, maintaining, and servicing the item. Payment is not made for maintenance and servicing of a rented item other than the maintenance and servicing fee for other durable medical equipment as described in § 414.229(e).

(2) Exception. For items purchased on or after June 1, 1989, no payment is made under the provisions of paragraph (e)(1) of this section for the maintenance and servicing of:

(i) Items requiring frequent and substantial servicing, as defined in § 414.222(a);

(ii) Capped rental items, as defined in § 414.229(a), that are not beneficiary-owned in accordance with § 414.229(d) or § 414.229(h); and

(iii) Oxygen equipment, as described in § 414.226, that is not beneficiary-owned in accordance with § 414.226(e).

(3) Supplier replacement of beneficiary-owned equipment based on accumulated repair costs. A supplier that transfers title to oxygen equipment or a capped rental item to a beneficiary in accordance with § 414.226(f) or § 414.229(f)(2) is responsible for furnishing replacement equipment at no cost to the beneficiary or to the Medicare program if the total repair costs that accumulate for the equipment after transfer of title exceed 60 percent of the cost to replace the equipment and the equipment has been in use for less than its reasonable useful lifetime, as determined under § 414.210(f)(1).

(f) Payment for replacement of equipment. If a beneficiary-owned item of DME or a prosthetic or orthotic device paid for under this subpart has been in continuous use by the patient for the equipment's reasonable useful lifetime or if the carrier determines that the item is lost, stolen, or irreparably damaged, the patient may elect to obtain a new piece of equipment.

* * * * *

(2) If the beneficiary elects to obtain replacement oxygen equipment, payment is made in accordance with § 414.226(a).

(3) If the beneficiary elects to obtain a replacement capped rental item, payment is made in accordance with § 414.229(a)(2) or (a)(3).

(4) For all other beneficiary-owned items, if the beneficiary elects to obtain replacement equipment, payment is made on a purchase basis.

3. Amend § 414.226 by—

A. Revising paragraph (a) and the heading of paragraph (b).

B. Revising paragraph (b)(3).

C. Adding paragraphs (b)(4) and (b)(5).

D. Redesignating paragraph (d) as paragraph (e).

E. Redesignating paragraph (c) as paragraph (d).

F. Revising newly redesignated paragraph (d).

G. Adding a new paragraph (c).

H. Revising newly redesignated paragraph (e)(1) introductory text.

I. Revising newly redesignated paragraph (e)(1)(i).

. Revising newly redesignated paragraph (e)(2)(i).

K. Revising newly redesignated paragraph (e)(2)(ii).

L. Adding new paragraphs (f) and (g).

The revisions and additions read as follows:

§ 414.226 Oxygen and oxygen equipment.

(a) Payment rules. (1) Oxygen equipment. Payment for rental of oxygen equipment is made based on a monthly fee schedule amount during the period of medical need, but for no longer than a period of continuous use of 36 months. A period of continuous use is determined under the provisions in § 414.230.

(2) Oxygen contents. Payment for purchase of oxygen contents is made based on a monthly fee schedule amount until medical necessity ends.

(b) Monthly fee schedule amount for items furnished prior to 2007.

* * * * *

(3) For 1991 through 2006, the fee schedule amounts for items described in paragraphs (b)(1)(iii) and (iv) of this section are determined using the methodology contained in § 414.220 (d), (e), and (f).

(4) For 1991 through 2006, the fee schedule amounts for items described in paragraphs (b)(1)(i) and (ii) of this section are determined using the methodology contained in § 414.220 (d), (e), and (f).

(5) For 2005 and 2006, the fee schedule amounts determined under paragraph (b)(4) of this section are reduced using the methodology described in § 1834(a)(21)(A) of the Act.

(c) Monthly fee schedule amount for items furnished for years after 2006. (1) Monthly fee schedule amounts are separately calculated for the following items:

(i) Stationary oxygen equipment (including stationary concentrators) and oxygen contents (stationary and portable).

(ii) Portable equipment only (gaseous or liquid tanks).

(iii) Oxygen generating portable equipment only.

(iv) Stationary oxygen contents only.

(v) Portable oxygen contents only.

(2) The nationwide fee schedule amount for items described in paragraph (c)(1)(i) of this section is equal to the average fee schedule amount established under paragraph (b)(5) of this section reduced by $22.

(3) The nationwide fee schedule amount for items described in paragraph (c)(1)(ii) of this section is equal to the average of the fee schedule amounts established under paragraph (b)(5) of this section.

(4) The nationwide fee schedule amount for items described in paragraph (c)(1)(iii) of this section is equal to the sum of the average of the fee schedule amounts established under paragraph (b)(5) of this section for items described in paragraph (b)(1)(i) of this section and the average of the fee schedule amounts established under paragraph (b)(5) of this section for items described in paragraph (b)(1)(ii) of this section, increased by $10, and reduced by the nationwide fee schedule amount established under paragraph (c)(2) of this section.

(5) The nationwide fee schedule amount for items described in paragraph (c)(1)(iv) of this section is equal to 65 percent of the average fee schedule amount established under paragraph (b)(3) of this section for items described in paragraph (b)(1)(iii) of this section.

(6) The nationwide fee schedule amount for items described in paragraph (c)(1)(v) of this section is equal to 35 percent of the average fee schedule amount established under paragraph (b)(3) of this section for items described in paragraph (b)(1)(iii) of this section.

(d) Application of monthly fee schedule amounts. (1) The fee schedule amount for items described in paragraph (c)(1)(i) of this section is paid when the beneficiary rents stationary oxygen equipment.

(2) Subject to the limitation set forth in paragraph (e)(2) of this section, the fee schedule amount for items described in paragraph (c)(1)(ii) and (iii) of this section is paid when the beneficiary rents portable oxygen equipment.

(3) The fee schedule amount for items described in paragraph (c)(1)(iv) of this section is paid when the beneficiary owns stationary oxygen equipment that requires delivery of gaseous or liquid oxygen contents.

(4) The fee schedule amount for items described in paragraph (c)(1)(v) of this section is paid when the beneficiary owns portable oxygen equipment described in paragraph (c)(1)(ii) of this section, or rents portable oxygen equipment described in paragraph (c)(1)(ii) of this section and does not rent stationary oxygen equipment.

(e) Volume adjustments. (1) The fee schedule amount for an item described in paragraph (c)(1)(i) of this section is adjusted as follows:

(i) If the attending physician prescribes an oxygen flow rate exceeding four liters per minute, the fee schedule amount is increased by 50 percent, subject to the limit in paragraph (e)(2) of this section.

* * * * *

(2) * * *

(i) The sum of the monthly fee schedule amount for the items described in paragraphs (c)(1)(i) and (ii) or (iii) of this section; or

(ii) The adjusted fee schedule amount described in paragraph (e)(1)(i) of this section.

* * * * *

(f) Ownership of equipment. On the first day that begins after the 36th continuous month in which payment is made for oxygen equipment under paragraph (a)(1) of this section, the supplier must transfer title to the oxygen equipment to the beneficiary.

(g) Additional supplier requirements for rentals that begin on or after January 1, 2007. (1) The supplier that furnishes oxygen equipment for the first month during which payment is made under this section must continue to furnish the equipment until medical necessity ends, or the 36-month period of continuous use ends, whichever is earlier, unless-(i) The item becomes subject to a competitive acquisition program implemented in accordance with section 1847(a) of the Act;

(ii) The beneficiary relocates to an area that is outside the normal service area of the supplier that initially furnished the equipment;

(iii) The beneficiary elects to obtain oxygen equipment from a different supplier prior to the expiration of the 36-month rental period; or

(iv) CMS or the carrier determines that an exception should apply in an individual case based on the circumstances.

(2) Oxygen equipment furnished under this section may not be replaced by the supplier prior to the expiration of the 36-month rental period unless:

(i) The equipment is lost, stolen, or irreparably damaged;

(ii) The furnishing of loaner equipment is necessary while the equipment is being repaired;

(iii) The equipment is no longer medically necessary; or

(iv) The equipment is replaced in accordance with § 414.210(e)(3) or (f).

(3) Before furnishing oxygen equipment, the supplier must disclose to the beneficiary its intentions regarding whether it will accept assignment of all monthly rental claims for the duration of the rental period. A supplier's intentions could be expressed in the form of a written agreement between the supplier and the beneficiary.

4. Amend § 414.229 by—

A. Revising paragraphs (a), (f) and (g).

B. Adding paragraph (h).

The revisions and additions read as follows:

§ 414.229 Other durable medical equipment-capped rental items.

(a) General payment rule. Payment is made for other durable medical equipment that is not subject to the payment provisions set forth in §§ 414.220 through 414.228 as follows:

(1) For items furnished prior to January 1, 2006, payment is made on a rental or purchase option basis in accordance with the rules set forth in paragraphs (b) through (e) of this section.

(2) For items other than power-driven wheelchairs furnished on or after January 1, 2006, payment is made in accordance with the rules set forth in paragraph (f) of this section.

(3) For power-driven wheelchairs furnished on or after January 1, 2006, payment is made in accordance with the rules set forth in paragraphs (f) or (h) of this section.

* * * * *

(f) Rules for Capped Rental Items Furnished Beginning on or after January 1, 2006. (1) For items furnished on or after January 1, 2006, payment is made based on a monthly rental fee schedule amount during the period of medical need, but for no longer than a period of continuous use of 13 months. A period of continuous use is determined under the provisions in § 414.230.

(2) The supplier must transfer title to the item to the beneficiary on the first day that begins after the 13th continuous month in which payments are made under paragraph (f)(1) of this section.

(3) Payment for maintenance and servicing of beneficiary-owned equipment is made in accordance with § 414.210(e).

(g) Additional supplier requirements for capped rental items that are furnished beginning on or after January 1, 2007. (1) The supplier that furnishes an item for the first month during which payment is made using the methodology described in paragraph (f)(1) of this section must continue to furnish the equipment until medical necessity ends, or the 13-month period of continuous use ends, whichever is earlier, unless—

(i) The item becomes subject to a competitive acquisition program implemented in accordance with section 1847(a) of the Act;

(ii) The beneficiary relocates to an area that is outside the normal service area of the supplier that initially furnished the equipment;

(iii) The beneficiary elects to obtain the equipment from a different supplier prior to the expiration of the 13-month rental period; or

(iv) CMS or the carrier determines that an exception should apply in an individual case based on the circumstances.

(2) A capped rental item furnished under this section may not be replaced by the supplier prior to the expiration of the 13-month rental period unless:

(i) The item is lost, stolen, or irreparably damaged;

(ii) The furnishing of a loaner item is necessary while the item is being repaired;

(iii) The item is no longer medically necessary; or

(iv) The item is replaced in accordance with § 414.210(e)(3) or (f).

(3) Before furnishing a capped rental item, the supplier must disclose to the beneficiary its intentions regarding whether it will accept assignment of all monthly rental claims for the duration of the rental period. A supplier's intentions could be expressed in the form of a written agreement between the supplier and the beneficiary.

(h) Purchase of power-driven wheelchairs furnished on or after January 1, 2006. Suppliers must offer beneficiaries the option to purchase power-driven wheelchairs at the time the equipment is initially furnished. Payment is made on a lump-sum purchase basis if the beneficiary chooses this option.

5. Amend § 414.230 by—

A. Revising paragraphs (b)(1) and (b)(2).

B. Revising paragraph (f).

The revisions read as follows:

§ 414.230 Determining a period of continuous use.

* * * * *

(b) Continuous use. (1) A period of continuous use begins with the first month of medical need and lasts until a beneficiary's medical need for a particular item of durable medical equipment ends.

(2) In the case of a beneficiary receiving oxygen equipment on December 31, 2005, the period of continuous use for the equipment begins on January 1, 2006.

* * * * *

(f) New equipment. (1) If a beneficiary changes equipment or requires additional equipment based on a physician's prescription, and the new or additional equipment is found to be necessary, a new period of continuous use begins for the new or additional equipment. A new period of continuous use does not begin for base equipment that is modified by an addition.

(2) A new period of continuous use does not begin when a beneficiary changes from one oxygen equipment modality to another.

* * * * *

PART 484—HOME HEALTH SERVICES

6. The authority citation for part 484 continues to read as follows:

Authority: Secs. 1102 and 1871 of the Social Security Act (42 U.S.C. 1302 and 1395(hh)) unless otherwise indicated.

7. Amend § 484.225 as follows:

A. Revise paragraph (f).

B. Redesignate paragraph (g) as paragraph (h).

C. Add new paragraph (g).

D. Revise newly redesignated paragraph (h).

E. Add new paragraph (i).

The revisions and additions read as follows:

§ 484.225 Annual update of the unadjusted national prospective 60-day episode payment rate.

* * * * *

(f) For calendar year 2005, the unadjusted national prospective 60-day episode payment rate is equal to the rate from the previous calendar year, increased by the applicable home health market basket minus 0.8 percentage points.

(g) For calendar year 2006, the unadjusted national prospective 60-day episode payment rate is equal to the rate from calendar year 2005.

(h) For 2007 and subsequent calendar years, in the case of a home health agency that submits home health quality data, as specified by the Secretary, the unadjusted national prospective 60-day episode rate is equal to the rate for the previous calendar year increased by the applicable home health market basket index amount.

(i) For 2007 and subsequent calendar years, in the case of a home health agency that does not submit home health quality data, as specified by the Secretary, the unadjusted national prospective 60-day episode rate is equal to the rate for the previous calendar year increased by the applicable home health market basket index amount minus 2 percentage points. Any reduction of the percentage change will apply only to the calendar year involved and will not be taken into account in computing the prospective payment amount for a subsequent calendar year.

(Catalog of Federal Domestic Assistance Program No. 93.773, Medicare—Hospital Insurance; and Program No. 93.774, Medicare—Supplementary Medical Insurance Program)

Dated: June 16, 2006.
Mark B. McClellan,
Administrator, Centers for Medicare & Medicaid Services.
Approved: July 14, 2006.
Michael O. Leavitt,
Secretary.

Addendum A.—Proposed CY 2007 Wage Index for Rural Areas by CBSA; Applicable Pre-Floor and Pre-Reclassified Hospital Wage Index
CBSA code | Nonurban Area | Wage index
01 | Alabama | 0.7652
02 | Alaska | 1.0680
03 | Arizona | 0.8924
04 | Arkansas | 0.7335
05 | California | 1.1302
06 | Colorado | 0.9342
07 | Connecticut | 1.1753
08 | Delaware | 0.9723
10 | Florida | 0.8595
11 | Georgia | 0.7560
12 | Hawaii | 1.0467
13 | Idaho | 0.8134
14 | Illinois | 0.8327
15 | Indiana | 0.8477
16 | Iowa | 0.8697
17 | Kansas | 0.8000
18 | Kentucky | 0.7780
19 | Louisiana | 0.7450
20 | Maine | 0.8410
21 | Maryland | 0.8942
22 | Massachusetts¹ | 1.0216
23 | Michigan | 0.9052
24 | Minnesota | 0.9167
25 | Mississippi | 0.7565
26 | Missouri | 0.7934
27 | Montana | 0.8605
28 | Nebraska | 0.8693
29 | Nevada | 0.8960
30 | New Hampshire | 1.0800
31 | New Jersey¹ |
32 | New Mexico | 0.8347
33 | New York | 0.8250
34 | North Carolina | 0.8599
35 | North Dakota | 0.7228
36 | Ohio | 0.8674
37 | Oklahoma | 0.7640
38 | Oregon | 0.9770
39 | Pennsylvania | 0.8332
40 | Puerto Rico ¹ | 0.4047
41 | Rhode Island ¹ |
42 | South Carolina | 0.8583
43 | South Dakota | 0.8496
44 | Tennessee | 0.7841
45 | Texas | 0.7973
46 | Utah | 0.8154
47 | Vermont | 0.9944
48 | Virgin Islands | 0.7615
49 | Virginia | 0.7954
50 | Washington | 1.0281
51 | West Virginia | 0.7620
52 | Wisconsin | 0.9468
53 | Wyoming | 0.9311
65 | Guam | 0.9611
¹All counties within the State are classified as urban, with the exception of Massaschusetts and Puerto Pico. Massachusetts and Puerto Rico have areas designated as rural, however, no short-term, acute care hospitals are located in the area(s) for CY 2007.

Addendum B.—Proposed CY 2007 Wage Index for Urban Areas by CBSA; Applicable Pre-Floor and Pre-Reclassified Hospital Wage Index
CBSA code | Urban area (constituent counties) | Wage index
10180 | Abilene, TX | 0.8014
| Callahan County, TX
| Jones County, TX
| Taylor County, TX
10380 | Aguadilla-Isabela-San Sebastián, PR | 0.3922
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.8639
| Portage County, OH
| Summit County, OH
10500 | Albany, GA | 0.8962
| Baker County, GA
| Dougherty County, GA
| Lee County, GA
| Terrell County, GA
| Worth County, GA
10580 | Albany-Schenectady-Troy, NY | 0.8735
| Albany County, NY
| Rensselaer County, NY
| Saratoga County, NY
| Schenectady County, NY
| Schoharie County, NY
10740 | Albuquerque, NM | 0.9474
| Bernalillo County, NM
| Sandoval County, NM
| Torrance County, NM
| Valencia County, NM
10780 | Alexandria, LA | 0.8020
| Grant Parish, LA
| Rapides Parish, LA
10900 | Allentown-Bethlehem-Easton, PA-NJ | 0.9910
| Warren County, NJ
| Carbon County, PA
| Lehigh County, PA
| Northampton County, PA
11020 | Altoona, PA | 0.8727
| Blair County, PA
11100 | Amarillo, TX | 0.9177
| Armstrong County, TX
| Carson County, TX
| Potter County, TX
| Randall County, TX
11180 | Ames, IA | 0.9777
| Story County, IA
11260 | Anchorage, AK | 1.2045
| Anchorage Municipality, AK
| Matanuska-Susitna Borough, AK
11300 | Anderson, IN | 0.8790
| Madison County, IN
11340 | Anderson, SC | 0.8959
| Anderson County, SC
11460 | Ann Arbor, MI | 1.0838
| Washtenaw County, MI
11500 | Anniston-Oxford, AL | 0.7868
| Calhoun County, AL
11540 | Appleton, WI | 0.9472
| Calumet County, WI
| Outagamie County, WI
11700 | Asheville, NC | 0.9093
| Buncombe County, NC
| Haywood County, NC
| Henderson County, NC
| Madison County, NC
12020 | Athens-Clarke County, GA | 0.9857
| Clarke County, GA
| Madison County, GA
| Oconee County, GA
| Oglethorpe County, GA
12060 | Atlanta-Sandy Springs-Marietta, GA | 0.9772
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1751
| Atlantic County, NJ
12220 | Auburn-Opelika, AL | 0.8110
| Lee County, AL
12260 | Augusta-Richmond County, GA-SC | 0.9678
| Burke County, GA
| Columbia County, GA
| McDuffie County, GA
| Richmond County, GA
| Aiken County, SC
| Edgefield County, SC
12420 | Austin-Round Rock, TX | 0.9360
| Bastrop County, TX
| Caldwell County, TX
| Hays County, TX
| Travis County, TX
| Williamson County, TX
12540 | Bakersfield, CA | 1.0605
| Kern County, CA
12580 | Baltimore-Towson, MD | 1.0106
| Anne Arundel County, MD
| Baltimore County, MD
| Carroll County, MD
| Harford County, MD
| Howard County, MD
| Queen Anne's County, MD
| Baltimore City, MD
12620 | Bangor, ME | 0.9719
| Penobscot County, ME
12700 | Barnstable Town, MA | 1.2561
| Barnstable County, MA
12940 | Baton Rouge, LA | 0.8099
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9746
| Calhoun County, MI
13020 | Bay City, MI | 0.9271
| Bay County, MI
13140 | Beaumont-Port Arthur, TX | 0.8610
| Hardin County, TX
| Jefferson County, TX
| Orange County, TX
13380 | Bellingham, WA | 1.1124
| Whatcom County, WA
13460 | Bend, OR | 1.0762
| Deschutes County, OR
13644 | Bethesda-Frederick-Gaithersburg, MD | 1.0923
| Frederick County, MD
| Montgomery County, MD
13740 | Billings, MT | 0.8728
| Carbon County, MT
| Yellowstone County, MT
13780 | Binghamton, NY | 0.8798
| Broome County, NY
| Tioga County, NY
13820 | Birmingham-Hoover, AL | 0.8919
| Bibb County, AL
| Blount County, AL
| Chilton County, AL
| Jefferson County, AL
| St. Clair County, AL
| Shelby County, AL
| Walker County, AL
13900 | Bismarck, ND | 0.7253
| Burleigh County, ND
| Morton County, ND
13980 | Blacksburg-Christiansburg-Radford, VA | 0.8227
| Giles County, VA
| Montgomery County, VA
| Pulaski County, VA
| Radford City, VA
14020 | Bloomington, IN | 0.8548
| Greene County, IN
| Monroe County, IN
| Owen County, IN
14060 | Bloomington-Normal, IL | 0.8960
| McLean County, IL
14260 | Boise City-Nampa, ID | 0.9417
| Ada County, ID
| Boise County, ID
| Canyon County, ID
| Gem County, ID
| Owyhee County, ID
14484 | Boston-Quincy, MA | 1.1693
| Norfolk County, MA
| Plymouth County, MA
| Suffolk County, MA
14500 | Boulder, CO | 1.0368
| Boulder County, CO
14540 | Bowling Green, KY | 0.8162
| Edmonson County, KY
| Warren County, KY
14740 | Bremerton-Silverdale, WA | 1.0932
| Kitsap County, WA
14860 | Bridgeport-Stamford-Norwalk, CT | 1.2681
| Fairfield County, CT
15180 | Brownsville-Harlingen, TX | 0.9446
| Cameron County, TX
15260 | Brunswick, GA | 1.0097
| Brantley County, GA
| Glynn County, GA
| McIntosh County, GA
15380 | Buffalo-Niagara Falls, NY | 0.9483
| Erie County, NY
| Niagara County, NY
15500 | Burlington, NC | 0.8689
| Alamance County, NC
15540 | Burlington-South Burlington, VT | 0.9491
| Chittenden County, VT
| Franklin County, VT
| Grand Isle County, VT
15764 | Cambridge-Newton-Framingham, MA | 1.0918
| Middlesex County, MA
15804 | Camden, NJ | 1.0411
| Burlington County, NJ
| Camden County, NJ
| Gloucester County, NJ
15940 | Canton-Massillon, OH | 0.9047
| Carroll County, OH
| Stark County, OH
15980 | Cape Coral-Fort Myers, FL | 0.9359
| Lee County, FL
16180 | Carson City, NV | 1.0043
| Carson City, NV
16220 | Casper, WY | 0.9161
| Natrona County, WY
16300 | Cedar Rapids, IA | 0.8903
| Benton County, IA
| Jones County, IA
| Linn County, IA
16580 | Champaign-Urbana, IL | 0.9661
| Champaign County, IL
| Ford County, IL
| Piatt County, IL
16620 | Charleston, WV | 0.8558
| Boone County, WV
| Clay County, WV
| Kanawha County, WV
| Lincoln County, WV
| Putnam County, WV
16700 | Charleston-North Charleston, SC | 0.9156
| Berkeley County, SC
| Charleston County, SC
| Dorchester County, SC
16740 | Charlotte-Gastonia-Concord, NC-SC | 0.9564
| Anson County, NC
| Cabarrus County, NC
| Gaston County, NC
| Mecklenburg County, NC
| Union County, NC
| York County, SC
16820 | Charlottesville, VA | 1.0143
| Albemarle County, VA
| Fluvanna County, VA
| Greene County, VA
| Nelson County, VA
| Charlottesville City, VA
16860 | Chattanooga, TN-GA | 0.8963
| Catoosa County, GA
| Dade County, GA
| Walker County, GA
| Hamilton County, TN
| Marion County, TN
| Sequatchie County, TN
16940 | Cheyenne, WY | 0.9076
| Laramie County, WY
16974 | Chicago-Naperville-Joliet, IL | 1.0745
| Cook County, IL
| DeKalb County, IL
| DuPage County, IL
| Grundy County, IL
| Kane County, IL
| Kendall County, IL
| McHenry County, IL
| Will County, IL
17020 | Chico, CA | 1.1073
| Butte County, CA
17140 | Cincinnati-Middletown, OH-KY-IN | 0.9617
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8451
| Christian County, KY
| Trigg County, KY
| Montgomery County, TN
| Stewart County, TN
17420 | Cleveland, TN | 0.8124
| Bradley County, TN
| Polk County, TN
17460 | Cleveland-Elyria-Mentor, OH | 0.9385
| Cuyahoga County, OH
| Geauga County, OH
| Lake County, OH
| Lorain County, OH
| Medina County, OH
17660 | Coeur d'Alene, ID | 0.9360
| Kootenai County, ID
17780 | College Station-Bryan, TX | 0.9061
| Brazos County, TX
| Burleson County, TX
| Robertson County, TX
17820 | Colorado Springs, CO | 0.9718
| El Paso County, CO
| Teller County, CO
17860 | Columbia, MO | 0.8557
| Boone County, MO
| Howard County, MO
17900 | Columbia, SC | 0.8028
| Calhoun County, SC
| Fairfield County, SC
| Kershaw County, SC
| Lexington County, SC
| Richland County, SC
| Saluda County, SC
17980 | Columbus, GA-AL | 0.8254
| Russell County, AL
| Chattahoochee County, GA
| Harris County, GA
| Marion County, GA
| Muscogee County, GA
18020 | Columbus, IN | 0.9334
| Bartholomew County, IN
18140 | Columbus, OH | 1.0122
| Delaware County, OH
| Fairfield County, OH
| Franklin County, OH
| Licking County, OH
| Madison County, OH
| Morrow County, OH
| Pickaway County, OH
| Union County, OH
18580 | Corpus Christi, TX | 0.8579
| Aransas County, TX
| Nueces County, TX
| San Patricio County, TX
18700 | Corvallis, OR | 1.1566
| Benton County, OR
19060 | Cumberland, MD-WV | 0.8859
| Allegany County, MD
| Mineral County, WV
19124 | Dallas-Plano-Irving, TX | 1.0093
| Collin County, TX
| Dallas County, TX
| Delta County, TX
| Denton County, TX
| Ellis County, TX
| Hunt County, TX
| Kaufman County, TX
| Rockwall County, TX
19140 | Dalton, GA | 0.9061
| Murray County, GA
| Whitfield County, GA
19180 | Danville, IL | 0.9283
| Vermilion County, IL
19260 | Danville, VA | 0.8466
| Pittsylvania County, VA
| Danville City, VA
19340 | Davenport-Moline-Rock Island, IA-IL | 0.8557
| Henry County, IL
| Mercer County, IL
| Rock Island County, IL
| Scott County, IA
19380 | Dayton, OH | 0.9053
| Greene County, OH
| Miami County, OH
| Montgomery County, OH
| Preble County, OH
19460 | Decatur, AL | 0.8220
| Lawrence County, AL
| Morgan County, AL
19500 | Decatur, IL | 0.8187
| Macon County, IL
19660 | Deltona-Daytona Beach-Ormond Beach, FL | 0.9280
| Volusia County, FL
19740 | Denver-Aurora, CO | 1.0947
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9136
| Dallas County, IA
| Guthrie County, IA
| Madison County, IA
| Polk County, IA
| Warren County, IA
19804 | Detroit-Livonia-Dearborn, MI | 1.0223
| Wayne County, MI
20020 | Dothan, AL | 0.7438
| Geneva County, AL
| Henry County, AL
| Houston County, AL
20100 | Dover, DE | 0.9865
| Kent County, DE
20220 | Dubuque, IA | 0.9150
| Dubuque County, IA
20260 | Duluth, MN-WI | 1.0070
| Carlton County, MN
| St. Louis County, MN
| Douglas County, WI
20500 | Durham, NC | 0.9843
| Chatham County, NC
| Durham County, NC
| Orange County, NC
| Person County, NC
20740 | Eau Claire, WI | 0.9647
| Chippewa County, WI
| Eau Claire County, WI
20764 | Edison, NJ | 1.1207
| Middlesex County, NJ
| Monmouth County, NJ
| Ocean County, NJ
| Somerset County, NJ
20940 | El Centro, CA | 0.9092
| Imperial County, CA
21060 | Elizabethtown, KY | 0.8713
| Hardin County, KY
| Larue County, KY
21140 | Elkhart-Goshen, IN | 0.9442
| Elkhart County, IN
21300 | Elmira, NY | 0.8213
| Chemung County, NY
21340 | El Paso, TX | 0.9069
| El Paso County, TX
21500 | Erie, PA | 0.8704
| Erie County, PA
21604 | Essex County, MA | 1.0437
| Essex County, MA
21660 | Eugene-Springfield, OR | 1.0896
| Lane County, OR
21780 | Evansville, IN-KY | 0.8830
| Gibson County, IN
| Posey County, IN
| Vanderburgh County, IN
| Warrick County, IN
| Henderson County, KY
| Webster County, KY
21820 | Fairbanks, AK | 1.1079
| Fairbanks North Star Borough, AK
21940 | Fajardo, PR | 0.4044
| Ceiba Municipio, PR
| Fajardo Municipio, PR
| Luquillo Municipio, PR
22020 | Fargo, ND-MN | 0.8265
| Cass County, ND
| Clay County, MN
22140 | Farmington, NM | 0.8604
| San Juan County, NM
22180 | Fayetteville, NC | 0.8961
| Cumberland County, NC
| Hoke County, NC
22220 | Fayetteville-Springdale-Rogers, AR-MO | 0.8761
| Benton County, AR
| Madison County, AR
| Washington County, AR
| McDonald County, MO
22380 | Flagstaff, AZ | 1.1621
| Coconino County, AZ
22420 | Flint, MI | 1.0988
| Genesee County, MI
22500 | Florence, SC | 0.8421
| Darlington County, SC
| Florence County, SC
22520 | Florence-Muscle Shoals, AL | 0.7967
| Colbert County, AL
| Lauderdale County, AL
22540 | Fond du Lac, WI | 1.0081
| Fond du Lac County, WI
22660 | Fort Collins-Loveland, CO | 0.9561
| Larimer County, CO
22744 | Fort Lauderdale-Pompano Beach-Deerfield | 1.0151
| Beach, FL
| Broward County, FL
22900 | Fort Smith, AR-OK | 0.7745
| Crawford County, AR
| Franklin County, AR
| Sebastian County, AR
| Le Flore County, OK
| Sequoyah County, OK
23020 | Fort Walton Beach-Crestview-Destin, FL | 0.8658
| Okaloosa County, FL
23060 | Fort Wayne, IN | 0.9504
| Allen County, IN
| Wells County, IN
| Whitley County, IN
23104 | Fort Worth-Arlington, TX | 0.9587
| Johnson County, TX
| Parker County, TX
| Tarrant County, TX
| Wise County, TX
23420 | Fresno, CA | 1.0965
| Fresno County, CA
23460 | Gadsden, AL | 0.8080
| Etowah County, AL
23540 | Gainesville, FL | 0.9312
| Alachua County, FL
| Gilchrist County, FL
23580 | Gainesville, GA | 0.8974
| Hall County, GA
23844 | Gary, IN | 0.9281
| Jasper County, IN
| Lake County, IN
| Newton County, IN
| Porter County, IN
24020 | Glens Falls, NY | 0.8339
| Warren County, NY
| Washington County, NY
24140 | Goldsboro, NC | 0.9187
| Wayne County, NC
24220 | Grand Forks, ND-MN | 0.7963
| Polk County, MN
| Grand Forks County, ND
24300 | Grand Junction, CO | 0.9685
| Mesa County, CO
24340 | Grand Rapids-Wyoming, MI | 0.9470
| Barry County, MI
| Ionia County, MI
| Kent County, MI
| Newaygo County, MI
24500 | Great Falls, MT | 0.8613
| Cascade County, MT
24540 | Greeley, CO | 0.9619
| Weld County, CO
24580 | Green Bay, WI | 0.9804
| Brown County, WI
| Kewaunee County, WI
| Oconto County, WI
24660 | Greensboro-High Point, NC | 0.8735
| Guilford County, NC
| Randolph County, NC
| Rockingham County, NC
24780 | Greenville, NC | 0.9449
| Greene County, NC
| Pitt County, NC
24860 | Greenville, SC | 0.9733
| Greenville County, SC
| Laurens County, SC
| Pickens County, SC
25020 | Guayama, PR | 0.3241
| Arroyo Municipio, PR
| Guayama Municipio, PR
| Patillas Municipio, PR
25060 | Gulfport-Biloxi, MS | 0.8931
| Hancock County, MS
| Harrison County, MS
| Stone County, MS
25180 | Hagerstown-Martinsburg, MD-WV | 0.9054
| Washington County, MD
| Berkeley County, WV
| Morgan County, WV
25260 | Hanford-Corcoran, CA | 1.0142
| Kings County, CA
25420 | Harrisburg-Carlisle, PA | 0.9419
| Cumberland County, PA
| Dauphin County, PA
| Perry County, PA
25500 | Harrisonburg, VA | 0.9090
| Rockingham County, VA
| Harrisonburg City, VA
25540 | Hartford-West Hartford-East Hartford, CT | 1.0916
| Hartford County, CT
| Litchfield County, CT
| Middlesex County, CT
| Tolland County, CT
25620 | Hattiesburg, MS | 0.7443
| Forrest County, MS
| Lamar County, MS
| Perry County, MS
25860 | Hickory-Lenoir-Morganton, NC | 0.9021
| Alexander County, NC
| Burke County, NC
| Caldwell County, NC
| Catawba County, NC
25980 \2 | Hinesville-Fort Stewart, GA | 0.9163
| Liberty County, GA
| Long County, GA
26100 | Holland-Grand Haven, MI | 0.9205
| Ottawa County, MI
26180 | Honolulu, HI | 1.1067
| Honolulu County, HI
26300 | Hot Springs, AR | 0.8797
| Garland County, AR
26380 | Houma-Bayou Cane-Thibodaux, LA | 0.8003
| Lafourche Parish, LA
| Terrebonne Parish, LA
26420 | Houston-Baytown-Sugar Land, TX | 1.0026
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9013
| Boyd County, KY
| Greenup County, KY
| Lawrence County, OH
| Cabell County, WV
| Wayne County, WV
26620 | Huntsville, AL | 0.9051
| Limestone County, AL
| Madison County, AL
26820 | Idaho Falls, ID | 0.9104
| Bonneville County, ID
| Jefferson County, ID
26900 | Indianapolis, IN | 0.9766
| Boone County, IN
| Brown County, IN
| Hamilton County, IN
| Hancock County, IN
| Hendricks County, IN
| Johnson County, IN
| Marion County, IN
| Morgan County, IN
| Putnam County, IN
| Shelby County, IN
26980 | Iowa City, IA | 0.9731
| Johnson County, IA
| Washington County, IA
27060 | Ithaca, NY | 0.9831
| Tompkins County, NY
27100 | Jackson, MI | 0.9577
| Jackson County, MI
27140 | Jackson, MS | 0.8286
| Copiah County, MS
| Hinds County, MS
| Madison County, MS
| Rankin County, MS
| Simpson County, MS
27180 | Jackson, TN | 0.8869
| Chester County, TN
| Madison County, TN
27260 | Jacksonville, FL | 0.9042
| Baker County, FL
| Clay County, FL
| Duval County, FL
| Nassau County, FL
| St. Johns County, FL
27340 | Jacksonville, NC | 0.8245
| Onslow County, NC
27500 | Janesville, WI | 0.9672
| Rock County, WI
27620 | Jefferson City, MO | 0.8347
| Callaway County, MO
| Cole County, MO
| Moniteau County, MO
| Osage County, MO
27740 | Johnson City, TN | 0.8057
| Carter County, TN
| Unicoi County, TN
| Washington County, TN
27780 | Johnstown, PA | 0.8635
| Cambria County, PA
27860 | Jonesboro, AR | 0.7609
| Craighead County, AR
| Poinsett County, AR
27900 | Joplin, MO | 0.8620
| Jasper County, MO
| Newton County, MO
28020 | Kalamazoo-Portage, MI | 1.0723
| Kalamazoo County, MI
| Van Buren County, MI
28100 | Kankakee-Bradley, IL | 0.9990
| Kankakee County, IL
28140 | Kansas City, MO-KS | 0.9514
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0361
| Benton County, WA
| Franklin County, WA
28660 | Killeen-Temple-Fort Hood, TX | 0.9098
| Bell County, TX
| Coryell County, TX
| Lampasas County, TX
28700 | Kingsport-Bristol-Bristol, TN-VA | 0.7975
| Hawkins County, TN
| Sullivan County, TN
| Bristol City, VA
| Scott County, VA
| Washington County, VA
28740 | Kingston, NY | 0.9383
| Ulster County, NY
28940 | Knoxville, TN | 0.8263
| Anderson County, TN
| Blount County, TN
| Knox County, TN
| Loudon County, TN
| Union County, TN
29020 | Kokomo, IN | 0.9460
| Howard County, IN
| Tipton County, IN
29100 | La Crosse, WI-MN | 0.9442
| Houston County, MN
| La Crosse County, WI
29140 | Lafayette, IN | 0.8972
| Benton County, IN
| Carroll County, IN
| Tippecanoe County, IN
29180 | Lafayette, LA | 0.8293
| Lafayette Parish, LA
| St. Martin Parish, LA
29340 | Lake Charles, LA | 0.7928
| Calcasieu Parish, LA
| Cameron Parish, LA
29404 | Lake County-Kenosha County, IL-WI | 1.0406
| Lake County, IL
| Kenosha County, WI
29460 | Lakeland, FL | 0.8895
| Polk County, FL
29540 | Lancaster, PA | 0.9644
| Lancaster County, PA
29620 | Lansing-East Lansing, MI | 1.0102
| Clinton County, MI
| Eaton County, MI
| Ingham County, MI
29700 | Laredo, TX | 0.7825
| Webb County, TX
29740 | Las Cruces, NM | 0.9290
| Dona Ana County, NM
29820 | Las Vegas-Paradise, NV | 1.1450
| Clark County, NV
29940 | Lawrence, KS | 0.8353
| Douglas County, KS
30020 | Lawton, OK | 0.8080
| Comanche County, OK
30140 | Lebanon, PA | 0.8695
| Lebanon County, PA
30300 | Lewiston, ID-WA | 0.9871
| Nez Perce County, ID
| Asotin County, WA
30340 | Lewiston-Auburn, ME | 0.9148
| Androscoggin County, ME
30460 | Lexington-Fayette, KY | 0.9191
| Bourbon County, KY
| Clark County, KY
| Fayette County, KY
| Jessamine County, KY
| Scott County, KY
| Woodford County, KY
30620 | Lima, OH | 0.9058
| Allen County, OH
30700 | Lincoln, NE | 1.0110
| Lancaster County, NE
| Seward County, NE
30780 | Little Rock-North Little Rock, AR | 0.8906
| Faulkner County, AR
| Grant County, AR
| Lonoke County, AR
| Perry County, AR
| Pulaski County, AR
| Saline County, AR
30860 | Logan, UT-ID | 0.9038
| Franklin County, ID
| Cache County, UT
30980 | Longview, TX | 0.8803
| Gregg County, TX
| Rusk County, TX
| Upshur County, TX
31020 | Longview, WA | 1.0029
| Cowlitz County, WA
31084 | Los Angeles-Long Beach-Glendale, CA | 1.1752
| Los Angeles County, CA
31140 | Louisville, KY-IN | 0.9135
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8628
| Crosby County, TX
| Lubbock County, TX
31340 | Lynchburg, VA | 0.8710
| Amherst County, VA
| Appomattox County, VA
| Bedford County, VA
| Campbell County, VA
| Bedford City, VA
| Lynchburg City, VA
31420 | Macon, GA | 0.9518
| Bibb County, GA
| Crawford County, GA
| Jones County, GA
| Monroe County, GA
| Twiggs County, GA
31460 | Madera, CA | 0.8169
| Madera County, CA
31540 | Madison, WI | 1.0736
| Columbia County, WI
| Dane County, WI
| Iowa County, WI
31700 | Manchester-Nashua, NH | 1.0261
| Hillsborough County, NH
| Merrimack County, NH
31900 | Mansfield, OH | 0.9287
| Richland County, OH
32420 | Mayagüez, PR | 0.3857
| Hormigueros Municipio, PR
| Mayagüez Municipio, PR
32580 | McAllen-Edinburg-Pharr, TX | 0.8788
| Hidalgo County, TX
32780 | Medford, OR | 1.0837
| Jackson County, OR
32820 | Memphis, TN-MS-AR | 0.9361
| Crittenden County, AR
| DeSoto County, MS
| Marshall County, MS
| Tate County, MS
| Tunica County, MS
| Fayette County, TN
| Shelby County, TN
| Tipton County, TN
32900 | Merced, CA | 1.1415
| Merced County, CA
33124 | Miami-Miami Beach-Kendall, FL | 0.9830
| Miami-Dade County, FL
33140 | Michigan City-La Porte, IN | 0.9093
| LaPorte County, IN
33260 | Midland, TX | 0.9803
| Midland County, TX
33340 | Milwaukee-Waukesha-West Allis, WI | 1.0236
| Milwaukee County, WI
| Ozaukee County, WI
| Washington County, WI
| Waukesha County, WI
33460 | Minneapolis-St. Paul-Bloomington, MN-WI | 1.0965
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.8944
| Missoula County, MT
33660 | Mobile, AL | 0.7947
| Mobile County, AL
33700 | Modesto, CA | 1.1590
| Stanislaus County, CA
33740 | Monroe, LA | 0.8011
| Ouachita Parish, LA
| Union Parish, LA
33780 | Monroe, MI | 0.9725
| Monroe County, MI
33860 | Montgomery, AL | 0.8023
| Autauga County, AL
| Elmore County, AL
| Lowndes County, AL
| Montgomery County, AL
34060 | Morgantown, WV | 0.8438
| Monongalia County, WV
| Preston County, WV
34100 | Morristown, TN | 0.7944
| Grainger County, TN
| Hamblen County, TN
| Jefferson County, TN
34580 | Mount Vernon-Anacortes, WA | 1.0536
| Skagit County, WA
34620 | Muncie, IN | 0.8299
| Delaware County, IN
34740 | Muskegon-Norton Shores, MI | 0.9957
| Muskegon County, MI
34820 | Myrtle Beach-Conway-North Myrtle Beach, SC | 0.8824
| Horry County, SC
34900 | Napa, CA | 1.3496
| Napa County, CA
34940 | Naples-Marco Island, FL | 0.9959
| Collier County, FL
34980 | Nashville-Davidson--Murfreesboro, TN | 0.9862
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | Nassau-Suffolk, NY | 1.2681
| Nassau County, NY
| Suffolk County, NY
35084 | Newark-Union, NJ-PA | 1.1890
| Essex County, NJ
| Hunterdon County, NJ
| Morris County, NJ
| Sussex County, NJ
| Union County, NJ
| Pike County, PA
35300 | New Haven-Milford, CT | 1.1974
| New Haven County, CT
35380 | New Orleans-Metairie-Kenner, LA | 0.8858
| Jefferson Parish, LA
| Orleans Parish, LA
| Plaquemines Parish, LA
| St. Bernard Parish, LA
| St. Charles Parish, LA
| St. John the Baptist Parish, LA
| St. Tammany Parish, LA
35644 | New York-Wayne-White Plains, NY-NJ | 1.3208
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8931
| Berrien County, MI
35980 | Norwich-New London, CT | 1.1953
| New London County, CT
36084 | Oakland-Fremont-Hayward, CA | 1.5420
| Alameda County, CA
| Contra Costa County, CA
36100 | Ocala, FL | 0.8883
| Marion County, FL
36140 | Ocean City, NJ | 1.0490
| Cape May County, NJ
36220 | Odessa, TX | 1.0119
| Ector County, TX
36260 | Ogden-Clearfield, UT | 0.9011
| Davis County, UT
| Morgan County, UT
| Weber County, UT
36420 | Oklahoma City, OK | 0.8853
| Canadian County, OK
| Cleveland County, OK
| Grady County, OK
| Lincoln County, OK
| Logan County, OK
| McClain County, OK
| Oklahoma County, OK
36500 | Olympia, WA | 1.1100
| Thurston County, WA
36540 | Omaha-Council Bluffs, NE-IA | 0.9467
| Harrison County, IA
| Mills County, IA
| Pottawattamie County, IA
| Cass County, NE
| Douglas County, NE
| Sarpy County, NE
| Saunders County, NE
| Washington County, NE
36740 | Orlando, FL | 0.9422
| Lake County, FL
| Orange County, FL
| Osceola County, FL
| Seminole County, FL
36780 | Oshkosh-Neenah, WI | 0.9332
| Winnebago County, WI
36980 | Owensboro, KY | 0.8763
| Daviess County, KY
| Hancock County, KY
| McLean County, KY
37100 | Oxnard-Thousand Oaks-Ventura, CA | 1.1591
| Ventura County, CA
37340 | Palm Bay-Melbourne-Titusville, FL | 0.9448
| Brevard County, FL
37460 | Panama City-Lynn Haven, FL | 0.8087
| Bay County, FL
37620 | Parkersburg-Marietta, WV-OH | 0.7940
| Washington County, OH
| Pleasants County, WV
| Wirt County, WV
| Wood County, WV
37700 | Pascagoula, MS | 0.8230
| George County, MS
| Jackson County, MS
37860 | Pensacola-Ferry Pass-Brent, FL | 0.8014
| Escambia County, FL
| Santa Rosa County, FL
37900 | Peoria, IL | 0.8998
| Marshall County, IL
| Peoria County, IL
| Stark County, IL
| Tazewell County, IL
| Woodford County, IL
37964 | Philadelphia, PA | 1.1018
| Bucks County, PA
| Chester County, PA
| Delaware County, PA
| Montgomery County, PA
| Philadelphia County, PA
38060 | Phoenix-Mesa-Scottsdale, AZ | 1.0305
| Maricopa County, AZ
| Pinal County, AZ
38220 | Pine Bluff, AR | 0.8398
| Cleveland County, AR
| Jefferson County, AR
| Lincoln County, AR
38300 | Pittsburgh, PA | 0.8685
| Allegheny County, PA
| Armstrong County, PA
| Beaver County, PA
| Butler County, PA
| Fayette County, PA
| Washington County, PA
| Westmoreland County, PA
38340 | Pittsfield, MA | 1.0284
| Berkshire County, MA
38540 | Pocatello, ID | 0.9417
| Bannock County, ID
| Power County, ID
38660 | Ponce, PR | 0.4851
| Juana Díaz Municipio, PR
| Ponce Municipio, PR
| Villalba Municipio, PR
38860 | Portland-South Portland-Biddeford, ME | 0.9926
| Cumberland County, ME
| Sagadahoc County, ME
| York County, ME
38900 | Portland-Vancouver-Beaverton, OR-WA | 1.1436
| Clackamas County, OR
| Columbia County, OR
| Multnomah County, OR
| Washington County, OR
| Yamhill County, OR
| Clark County, WA
| Skamania County, WA
38940 | Port St. Lucie-Fort Pierce, FL | 0.9851
| Martin County, FL
| St. Lucie County, FL
39100 | Poughkeepsie-Newburgh-Middletown, NY | 1.0913
| Dutchess County, NY
| Orange County, NY
39140 | Prescott, AZ | 0.9853
| Yavapai County, AZ
39300 | Providence-New Bedford-Fall River, RI-MA | 1.0804
| Bristol County, MA
| Bristol County, RI
| Kent County, RI
| Newport County, RI
| Providence County, RI
| Washington County, RI
39340 | Provo-Orem, UT | 0.9554
| Juab County, UT
| Utah County, UT
39380 | Pueblo, CO | 0.8552
| Pueblo County, CO
39460 | Punta Gorda, FL | 0.9421
| Charlotte County, FL
39540 | Racine, WI | 0.9192
| Racine County, WI
39580 | Raleigh-Cary, NC | 0.9879
| Franklin County, NC
| Johnston County, NC
| Wake County, NC
39660 | Rapid City, SD | 1.0351
| Meade County, SD
| Pennington County, SD
39740 | Reading, PA | 0.9639
| Berks County, PA
39820 | Redding, CA | 1.3221
| Shasta County, CA
39900 | Reno-Sparks, NV | 1.1984
| Storey County, NV
| Washoe County, NV
40060 | Richmond, VA | 0.9193
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.0934
| Riverside County, CA
| San Bernardino County, CA
40220 | Roanoke, VA | 0.8662
| Botetourt County, VA
| Craig County, VA
| Franklin County, VA
| Roanoke County, VA
| Roanoke City, VA
| Salem City, VA
40340 | Rochester, MN | 1.1260
| Dodge County, MN
| Olmsted County, MN
| Wabasha County, MN
40380 | Rochester, NY | 0.9005
| Livingston County, NY
| Monroe County, NY
| Ontario County, NY
| Orleans County, NY
| Wayne County, NY
40420 | Rockford, IL | 1.0007
| Boone County, IL
| Winnebago County, IL
40484 | Rockingham County-Strafford County, NH | 1.0177
| Rockingham County, NH
| Strafford County, NH
40580 | Rocky Mount, NC | 0.8869
| Edgecombe County, NC
| Nash County, NC
40660 | Rome, GA | 0.9316
| Floyd County, GA
40900 | Sacramento-Arden-Arcade-Roseville, CA | 1.3373
| El Dorado County, CA
| Placer County, CA
| Sacramento County, CA
| Yolo County, CA
40980 | Saginaw-Saginaw Township North, MI | 0.8889
| Saginaw County, MI
41060 | St. Cloud, MN | 1.0380
| Benton County, MN
| Stearns County, MN
41100 | St. George, UT | 0.9281
| Washington County, UT
41140 | St. Joseph, MO-KS | 1.0136
| Doniphan County, KS
| Andrew County, MO
| Buchanan County, MO
| DeKalb County, MO
41180 | St. Louis, MO-IL | 0.9013
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0457
| Marion County, OR
| Polk County, OR
41500 | Salinas, CA | 1.4459
| Monterey County, CA
41540 | Salisbury, MD | 0.8969
| Somerset County, MD
| Wicomico County, MD
41620 | Salt Lake City, UT | 0.9418
| Salt Lake County, UT
| Summit County, UT
| Tooele County, UT
41660 | San Angelo, TX | 0.8377
| Irion County, TX
| Tom Green County, TX
41700 | San Antonio, TX | 0.8860
| Atascosa County, TX
| Bandera County, TX
| Bexar County, TX
| Comal County, TX
| Guadalupe County, TX
| Kendall County, TX
| Medina County, TX
| Wilson County, TX
41740 | San Diego-Carlsbad-San Marcos, CA | 1.1374
| San Diego County, CA
41780 | Sandusky, OH | 0.9319
| Erie County, OH
41884 | San Francisco-San Mateo-Redwood City, CA | 1.5071
| Marin County, CA
| San Francisco County, CA
| San Mateo County, CA
41900 | San Germán-Cabo Rojo, PR | 0.4893
| Cabo Rojo Municipio, PR
| Lajas Municipio, PR
| Sabana Grande Municipio, PR
| San Germán Municipio, PR
41940 | San Jose-Sunnyvale-Santa Clara, CA | 1.5293
| San Benito County, CA
| Santa Clara County, CA
41980 | San Juan-Caguas-Guaynabo, PR | 0.4397
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1619
| San Luis Obispo County, CA
42044 | Santa Ana-Anaheim-Irvine, CA | 1.1294
| Orange County, CA
42060 | Santa Barbara-Santa Maria-Goleta, CA | 1.1075
| Santa Barbara County, CA
42100 | Santa Cruz-Watsonville, CA | 1.5531
| Santa Cruz County, CA
42140 | Santa Fe, NM | 1.0843
| Santa Fe County, NM
42220 | Santa Rosa-Petaluma, CA | 1.4489
| Sonoma County, CA
42260 | Sarasota-Bradenton-Venice, FL | 0.9885
| Manatee County, FL
| Sarasota County, FL
42340 | Savannah, GA | 0.9087
| Bryan County, GA
| Chatham County, GA
| Effingham County, GA
42540 | Scranton--Wilkes-Barre, PA | 0.8521
| Lackawanna County, PA
| Luzerne County, PA
| Wyoming County, PA
42644 | Seattle-Bellevue-Everett, WA | 1.1454
| King County, WA
| Snohomish County, WA
42680 | Sebastian-Vero Beach, FL | 0.9590
43100 | Sheboygan, WI | 0.9042
| Sheboygan County, WI
43300 | Sherman-Denison, TX | 0.8517
| Grayson County, TX
43340 | Shreveport-Bossier City, LA | 0.8881
| Bossier Parish, LA
| Caddo Parish, LA
| De Soto Parish, LA
43580 | Sioux City, IA-NE-SD | 0.9217
| Woodbury County, IA
| Dakota County, NE
| Dixon County, NE
| Union County, SD
43620 | Sioux Falls, SD | 0.9587
| Lincoln County, SD
| McCook County, SD
| Minnehaha County, SD
| Turner County, SD
43780 | South Bend-Mishawaka, IN-MI | 0.9690
| St. Joseph County, IN
| Cass County, MI
43900 | Spartanburg, SC | 0.9190
| Spartanburg County, SC
44060 | Spokane, WA | 1.0465
| Spokane County, WA
44100 | Springfield, IL | 0.8905
| Menard County, IL
| Sangamon County, IL
44140 | Springfield, MA | 1.0080
| Franklin County, MA
| Hampden County, MA
| Hampshire County, MA
44180 | Springfield, MO | 0.8484
| Christian County, MO
| Dallas County, MO
| Greene County, MO
| Polk County, MO
| Webster County, MO
44220 | Springfield, OH | 0.8462
| Clark County, OH
44300 | State College, PA | 0.8799
| Centre County, PA
44700 | Stockton, CA | 1.1462
| San Joaquin County, CA
44940 | Sumter, SC | 0.8098
| Sumter County, SC
45060 | Syracuse, NY | 0.9709
| Madison County, NY
| Onondaga County, NY
| Oswego County, NY
45104 | Tacoma, WA | 1.0808
| Pierce County, WA
45220 | Tallahassee, FL | 0.9299
| Gadsden County, FL
| Jefferson County, FL
| Leon County, FL
| Wakulla County, FL
45300 | Tampa-St. Petersburg-Clearwater, FL | 0.9160
| Hernando County, FL
| Hillsborough County, FL
| Pasco County, FL
| Pinellas County, FL
45460 | Terre Haute, IN | 0.8661
| Clay County, IN
| Sullivan County, IN
| Vermillion County, IN
| Vigo County, IN
45500 | Texarkana, TX-Texarkana, AR | 0.8118
| Miller County, AR
| Bowie County, TX
45780 | Toledo, OH | 0.9599
| Fulton County, OH
| Lucas County, OH
| Ottawa County, OH
| Wood County, OH
45820 | Topeka, KS | 0.8746
| Jackson County, KS
| Jefferson County, KS
| Osage County, KS
| Shawnee County, KS
| Wabaunsee County, KS
45940 | Trenton-Ewing, NJ | 1.0877
| Mercer County, NJ
46060 | Tucson, AZ | 0.9219
| Pima County, AZ
46140 | Tulsa, OK | 0.8104
| Creek County, OK
| Okmulgee County, OK
| Osage County, OK
| Pawnee County, OK
| Rogers County, OK
| Tulsa County, OK
| Wagoner County, OK
46220 | Tuscaloosa, AL | 0.8641
| Greene County, AL
| Hale County, AL
| Tuscaloosa County, AL
46340 | Tyler, TX | 0.8827
| Smith County, TX
46540 | Utica-Rome, NY | 0.8402
| Herkimer County, NY
| Oneida County, NY
46660 | Valdosta, GA | 0.8344
| Brooks County, GA
| Echols County, GA
| Lanier County, GA
| Lowndes County, GA
46700 | Vallejo-Fairfield, CA | 1.5164
| Solano County, CA
47020 | Victoria, TX | 0.8575
| Calhoun County, TX
| Goliad County, TX
| Victoria County, TX
47220 | Vineland-Millville-Bridgeton, NJ | 0.9849
| Cumberland County, NJ
47260 | Virginia Beach-Norfolk-Newport News, VA-NC | 0.8805
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA | 0.9986
| Tulare County, CA
47380 | Waco, TX | 0.8648
| McLennan County, TX
47580 | Warner Robins, GA | 0.8394
| Houston County, GA
47644 | Warren-Farmington Hills-Troy, MI | 1.0126
| Lapeer County, MI
| Livingston County, MI
| Macomb County, MI
| Oakland County, MI
| St. Clair County, MI
47894 | Washington-Arlington-Alexandria, DC-VA-MD-WV | 1.1074
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8422
| Black Hawk County, IA
| Bremer County, IA
| Grundy County, IA
48140 | Wausau, WI | 0.9740
| Marathon County, WI
48260 | Weirton-Steubenville, WV-OH | 0.8078
| Jefferson County, OH
| Brooke County, WV
| Hancock County, WV
48300 | Wenatchee, WA | 1.0365
| Chelan County, WA
| Douglas County, WA
48424 | West Palm Beach-Boca Raton-Boynton Beach, FL | 0.9657
| Palm Beach County, FL
48540 | Wheeling, WV-OH | 0.7022
| Belmont County, OH
| Marshall County, WV
| Ohio County, WV
48620 | Wichita, KS | 0.9079
| Butler County, KS
| Harvey County, KS
| Sedgwick County, KS
| Sumner County, KS
48660 | Wichita Falls, TX | 0.8326
| Archer County, TX
| Clay County, TX
| Wichita County, TX
48700 | Williamsport, PA | 0.8126
| Lycoming County, PA
48864 | Wilmington, DE-MD-NJ | 1.0703
| New Castle County, DE
| Cecil County, MD
| Salem County, NJ
48900 | Wilmington, NC | 0.9853
| Brunswick County, NC
| New Hanover County, NC
| Pender County, NC
49020 | Winchester, VA-WV | 1.0109
| Frederick County, VA
| Winchester City, VA
| Hampshire County, WV
49180 | Winston-Salem, NC | 0.9293
| Davie County, NC
| Forsyth County, NC
| Stokes County, NC
| Yadkin County, NC
49340 | Worcester, MA | 1.0741
| Worcester County, MA
49420 | Yakima, WA | 0.9865
| Yakima County, WA
49500 | Yauco, PR | 0.3861
| Guánica Municipio, PR
| Guayanilla Municipio, PR
| Peñuelas Municipio, PR
| Yauco Municipio, PR
49620 | York-Hanover, PA | 0.9414
| York County, PA
49660 | Youngstown-Warren-Boardman, OH-PA | 0.8817
| Mahoning County, OH
| Trumbull County, OH
| Mercer County, PA
49700 | Yuba City, CA | 1.0749
| Sutter County, CA
| Yuba County, CA
49740 | Yuma, AZ | 0.9125
| Yuma County, AZ
² At this time, there are no hospitals in these urban areas on which to base a wage index. Therefore, the urban wage index value is based on the average wage index of all urban areas within the State.

Addendum C.—Comparison of HH PPS Transition Wage Index for CY 2006 and Pre-Floor and Pre-Reclassified Hospital Wage Index for CY 2007
SSA state/county code | County name | CBSA No. | CY 2006 HH PPS transition wage index | Proposed CY 2007 CBSA-based wage index | Percent change CY 2006-CY 2007
01000 | Autauga County, Alabama | 33860 | 0.8618 | 0.8023 | -6.90
01010 | Baldwin County, Alabama | 99901 | 0.7654 | 0.7652 | -0.03
01020 | Barbour County, Alabama | 99901 | 0.7439 | 0.7652 | 2.86
01030 | Bibb County, Alabama | 13820 | 0.8196 | 0.8919 | 8.82
01040 | Blount County, Alabama | 13820 | 0.8980 | 0.8919 | -0.68
01050 | Bullock County, Alabama | 99901 | 0.7439 | 0.7652 | 2.86
01060 | Butler County, Alabama | 99901 | 0.7439 | 0.7652 | 2.86
01070 | Calhoun County, Alabama | 11500 | 0.7682 | 0.7868 | 2.42
01080 | Chambers County, Alabama | 99901 | 0.7439 | 0.7652 | 2.86
01090 | Cherokee County, Alabama | 99901 | 0.7439 | 0.7652 | 2.86
01100 | Chilton County, Alabama | 13820 | 0.8196 | 0.8919 | 8.82
01110 | Choctaw County, Alabama | 99901 | 0.7439 | 0.7652 | 2.86
01120 | Clarke County, Alabama | 99901 | 0.7439 | 0.7652 | 2.86
01130 | Clay County, Alabama | 99901 | 0.7439 | 0.7652 | 2.86
01140 | Cleburne County, Alabama | 99901 | 0.7439 | 0.7652 | 2.86
01150 | Coffee County, Alabama | 99901 | 0.7439 | 0.7652 | 2.86
01160 | Colbert County, Alabama | 22520 | 0.8272 | 0.7967 | -3.69
01170 | Conecuh County, Alabama | 99901 | 0.7439 | 0.7652 | 2.86
01180 | Coosa County, Alabama | 99901 | 0.7439 | 0.7652 | 2.86
01190 | Covington County, Alabama | 99901 | 0.7439 | 0.7652 | 2.86
01200 | Crenshaw County, Alabama | 99901 | 0.7439 | 0.7652 | 2.86
01210 | Cullman County, Alabama | 99901 | 0.7439 | 0.7652 | 2.86
01220 | Dale County, Alabama | 99901 | 0.7574 | 0.7652 | 1.03
01230 | Dallas County, Alabama | 99901 | 0.7439 | 0.7652 | 2.86
01240 | De Kalb County, Alabama | 99901 | 0.7439 | 0.7652 | 2.86
01250 | Elmore County, Alabama | 33860 | 0.8618 | 0.8023 | -6.90
01260 | Escambia County, Alabama | 99901 | 0.7439 | 0.7652 | 2.86
01270 | Etowah County, Alabama | 23460 | 0.7938 | 0.8080 | 1.79
01280 | Fayette County, Alabama | 99901 | 0.7439 | 0.7652 | 2.86
01290 | Franklin County, Alabama | 99901 | 0.7439 | 0.7652 | 2.86
01300 | Geneva County, Alabama | 20020 | 0.7577 | 0.7438 | -1.83
01310 | Greene County, Alabama | 46220 | 0.8039 | 0.8641 | 7.49
01320 | Hale County, Alabama | 46220 | 0.8039 | 0.8641 | 7.49
01330 | Henry County, Alabama | 20020 | 0.7577 | 0.7438 | -1.83
01340 | Houston County, Alabama | 20020 | 0.7711 | 0.7438 | -3.54
01350 | Jackson County, Alabama | 99901 | 0.7439 | 0.7652 | 2.86
01360 | Jefferson County, Alabama | 13820 | 0.8980 | 0.8919 | -0.68
01370 | Lamar County, Alabama | 99901 | 0.7439 | 0.7652 | 2.86
01380 | Lauderdale County, Alabama | 22520 | 0.8272 | 0.7967 | -3.69
01390 | Lawrence County, Alabama | 19460 | 0.8469 | 0.8220 | -2.94
01400 | Lee County, Alabama | 12220 | 0.8100 | 0.8110 | 0.12
01410 | Limestone County, Alabama | 26620 | 0.9146 | 0.9051 | -1.04
01420 | Lowndes County, Alabama | 33860 | 0.8025 | 0.8023 | -0.02
01430 | Macon County, Alabama | 99901 | 0.7439 | 0.7652 | 2.86
01440 | Madison County, Alabama | 26620 | 0.9146 | 0.9051 | -1.04
01450 | Marengo County, Alabama | 99901 | 0.7439 | 0.7652 | 2.86
01460 | Marion County, Alabama | 99901 | 0.7439 | 0.7652 | 2.86
01470 | Marshall County, Alabama | 99901 | 0.7439 | 0.7652 | 2.86
01480 | Mobile County, Alabama | 33660 | 0.7876 | 0.7947 | 0.90
01490 | Monroe County, Alabama | 99901 | 0.7439 | 0.7652 | 2.86
01500 | Montgomery County, Alabama | 33860 | 0.8618 | 0.8023 | -6.90
01510 | Morgan County, Alabama | 19460 | 0.8469 | 0.8220 | -2.94
01520 | Perry County, Alabama | 99901 | 0.7439 | 0.7652 | 2.86
01530 | Pickens County, Alabama | 99901 | 0.7439 | 0.7652 | 2.86
01540 | Pike County, Alabama | 99901 | 0.7439 | 0.7652 | 2.86
01550 | Randolph County, Alabama | 99901 | 0.7439 | 0.7652 | 2.86
01560 | Russell County, Alabama | 17980 | 0.8560 | 0.8254 | -3.57
01570 | St Clair County, Alabama | 13820 | 0.8980 | 0.8919 | -0.68
01580 | Shelby County, Alabama | 13820 | 0.8980 | 0.8919 | -0.68
01590 | Sumter County, Alabama | 99901 | 0.7439 | 0.7652 | 2.86
01600 | Talladega County, Alabama | 99901 | 0.7439 | 0.7652 | 2.86
01610 | Tallapoosa County, Alabama | 99901 | 0.7439 | 0.7652 | 2.86
01620 | Tuscaloosa County, Alabama | 46220 | 0.8705 | 0.8641 | -0.74
01630 | Walker County, Alabama | 13820 | 0.8196 | 0.8919 | 8.82
01640 | Washington County, Alabama | 99901 | 0.7439 | 0.7652 | 2.86
01650 | Wilcox County, Alabama | 99901 | 0.7439 | 0.7652 | 2.86
01660 | Winston County, Alabama | 99901 | 0.7439 | 0.7652 | 2.86
02013 | Aleutians County East, Alaska | 99902 | 1.1933 | 1.0680 | -10.50
02016 | Aleutians County West, Alaska | 99902 | 1.1933 | 1.0680 | -10.50
02020 | Anchorage County, Alaska | 11260 | 1.1840 | 1.2045 | 1.73
02030 | Angoon County, Alaska | 99902 | 1.1933 | 1.0680 | -10.50
02040 | Barrow-North Slope County, Alaska | 99902 | 1.1933 | 1.0680 | -10.50
02050 | Bethel County, Alaska | 99902 | 1.1933 | 1.0680 | -10.50
02060 | Bristol Bay Borough County, Alaska | 99902 | 1.1933 | 1.0680 | -10.50
02068 | Denali County, Alaska | 99902 | 1.1933 | 1.0680 | -10.50
02070 | Bristol Bay County, Alaska | 99902 | 1.1933 | 1.0680 | -10.50
02080 | Cordova-Mc Carthy County, Alaska | 99902 | 1.1933 | 1.0680 | -10.50
02090 | Fairbanks County, Alaska | 21820 | 1.1648 | 1.1079 | -4.88
02100 | Haines County, Alaska | 99902 | 1.1933 | 1.0680 | -10.50
02110 | Juneau County, Alaska | 99902 | 1.1933 | 1.0680 | -10.50
02120 | Kenai-Cook Inlet County, Alaska | 99902 | 1.1933 | 1.0680 | -10.50
02122 | Kenai Peninsula Borough, Alaska | 99902 | 1.1933 | 1.0680 | -10.50
02130 | Ketchikan County, Alaska | 99902 | 1.1933 | 1.0680 | -10.50
02140 | Kobuk County, Alaska | 99902 | 1.1933 | 1.0680 | -10.50
02150 | Kodiak County, Alaska | 99902 | 1.1933 | 1.0680 | -10.50
02160 | Kuskokwin County, Alaska | 99902 | 1.1933 | 1.0680 | -10.50
02164 | Lake and Peninsula Borough, Alaska | 99902 | 1.1933 | 1.0680 | -10.50
02170 | Matanuska County, Alaska | 11260 | 1.1892 | 1.2045 | 1.29
02180 | Nome County, Alaska | 99902 | 1.1933 | 1.0680 | -10.50
02185 | North Slope Borough, Alaska | 99902 | 1.1933 | 1.0680 | -10.50
02188 | Northwest Arctic Borough, Alaska | 99902 | 1.1933 | 1.0680 | -10.50
02190 | Outer Ketchikan County, Alaska | 99902 | 1.1933 | 1.0680 | -10.50
02200 | Prince Of Wales County, Alaska | 99902 | 1.1933 | 1.0680 | -10.50
02201 | Prince of Wales-Outer Ketchikan Census Area,AK | 99902 | 1.1933 | 1.0680 | -10.50
02210 | Seward County, Alaska | 99902 | 1.1933 | 1.0680 | -10.50
02220 | Sitka County, Alaska | 99902 | 1.1933 | 1.0680 | -10.50
02230 | Skagway-Yakutat County, Alaska | 99902 | 1.1933 | 1.0680 | -10.50
02231 | Skagway-Yakutat-Angoon Census Area, Alaska | 99902 | 1.1933 | 1.0680 | -10.50
02232 | Skagway-Hoonah-Angoon Census Area, Alaska | 99902 | 1.1933 | 1.0680 | -10.50
02240 | Southeast Fairbanks County, Alaska | 99902 | 1.1933 | 1.0680 | -10.50
02250 | Upper Yukon County, Alaska | 99902 | 1.1933 | 1.0680 | -10.50
02260 | Valdz-Chitna-Whitier County, Alaska | 99902 | 1.1933 | 1.0680 | -10.50
02261 | Valdex-Cordove Census Area, Alaska | 99902 | 1.1933 | 1.0680 | -10.50
02270 | Wade Hampton County, Alaska | 99902 | 1.1933 | 1.0680 | -10.50
02280 | Wrangell-Petersburg County, Alaska | 99902 | 1.1933 | 1.0680 | -10.50
02282 | Yakutat Borough, Alaska | 99902 | 1.1933 | 1.0680 | -10.50
02290 | Yukon-Koyukuk County, Alaska | 99902 | 1.1933 | 1.0680 | -10.50
03000 | Apache County, Arizona | 99903 | 0.8907 | 0.8924 | 0.19
03010 | Cochise County, Arizona | 99903 | 0.8907 | 0.8924 | 0.19
03020 | Coconino County, Arizona | 22380 | 1.1969 | 1.1621 | -2.91
03030 | Gila County, Arizona | 99903 | 0.8907 | 0.8924 | 0.19
03040 | Graham County, Arizona | 99903 | 0.8907 | 0.8924 | 0.19
03050 | Greenlee County, Arizona | 99903 | 0.8907 | 0.8924 | 0.19
03055 | La Paz County, Arizona | 99903 | 0.8907 | 0.8924 | 0.19
03060 | Maricopa County, Arizona | 38060 | 1.0127 | 1.0305 | 1.76
03070 | Mohave County, Arizona | 99903 | 0.9962 | 0.8924 | -10.42
03080 | Navajo County, Arizona | 99903 | 0.8907 | 0.8924 | 0.19
03090 | Pima County, Arizona | 46060 | 0.9007 | 0.9219 | 2.35
03100 | Pinal County, Arizona | 38060 | 1.0127 | 1.0305 | 1.76
03110 | Santa Cruz County, Arizona | 99903 | 0.8907 | 0.8924 | 0.19
03120 | Yavapai County, Arizona | 39140 | 0.9457 | 0.9853 | 4.19
03130 | Yuma County, Arizona | 49740 | 0.9126 | 0.9125 | -0.01
04000 | Arkansas County, Arkansas | 99904 | 0.7605 | 0.7335 | -3.55
04010 | Ashley County, Arkansas | 99904 | 0.7605 | 0.7335 | -3.55
04020 | Baxter County, Arkansas | 99904 | 0.7605 | 0.7335 | -3.55
04030 | Benton County, Arkansas | 22220 | 0.8661 | 0.8761 | 1.15
04040 | Boone County, Arkansas | 99904 | 0.7605 | 0.7335 | -3.55
04050 | Bradley County, Arkansas | 99904 | 0.7605 | 0.7335 | -3.55
04060 | Calhoun County, Arkansas | 99904 | 0.7605 | 0.7335 | -3.55
04070 | Carroll County, Arkansas | 99904 | 0.7605 | 0.7335 | -3.55
04080 | Chicot County, Arkansas | 99904 | 0.7605 | 0.7335 | -3.55
04090 | Clark County, Arkansas | 99904 | 0.7605 | 0.7335 | -3.55
04100 | Clay County, Arkansas | 99904 | 0.7605 | 0.7335 | -3.55
04110 | Cleburne County, Arkansas | 99904 | 0.7605 | 0.7335 | -3.55
04120 | Cleveland County, Arkansas | 38220 | 0.8212 | 0.8398 | 2.26
04130 | Columbia County, Arkansas | 99904 | 0.7605 | 0.7335 | -3.55
04140 | Conway County, Arkansas | 99904 | 0.7605 | 0.7335 | -3.55
04150 | Craighead County, Arkansas | 27860 | 0.7911 | 0.7609 | -3.82
04160 | Crawford County, Arkansas | 22900 | 0.8238 | 0.7745 | -5.98
04170 | Crittenden County, Arkansas | 32820 | 0.9407 | 0.9361 | -0.49
04180 | Cross County, Arkansas | 99904 | 0.7605 | 0.7335 | -3.55
04190 | Dallas County, Arkansas | 99904 | 0.7605 | 0.7335 | -3.55
04200 | Desha County, Arkansas | 99904 | 0.7605 | 0.7335 | -3.55
04210 | Drew County, Arkansas | 99904 | 0.7605 | 0.7335 | -3.55
04220 | Faulkner County, Arkansas | 30780 | 0.8747 | 0.8906 | 1.82
04230 | Franklin County, Arkansas | 22900 | 0.7987 | 0.7745 | -3.03
04240 | Fulton County, Arkansas | 99904 | 0.7605 | 0.7335 | -3.55
04250 | Garland County, Arkansas | 26300 | 0.8375 | 0.8797 | 5.04
04260 | Grant County, Arkansas | 30780 | 0.8246 | 0.8906 | 8.00
04270 | Greene County, Arkansas | 99904 | 0.7605 | 0.7335 | -3.55
04280 | Hempstead County, Arkansas | 99904 | 0.7605 | 0.7335 | -3.55
04290 | Hot Spring County, Arkansas | 99904 | 0.7605 | 0.7335 | -3.55
04300 | Howard County, Arkansas | 99904 | 0.7605 | 0.7335 | -3.55
04310 | Independence County, Arkansas | 99904 | 0.7605 | 0.7335 | -3.55
04320 | Izard County, Arkansas | 99904 | 0.7605 | 0.7335 | -3.55
04330 | Jackson County, Arkansas | 99904 | 0.7605 | 0.7335 | -3.55
04340 | Jefferson County, Arkansas | 38220 | 0.8680 | 0.8398 | -3.25
04350 | Johnson County, Arkansas | 99904 | 0.7605 | 0.7335 | -3.55
04360 | Lafayette County, Arkansas | 99904 | 0.7605 | 0.7335 | -3.55
04370 | Lawrence County, Arkansas | 99904 | 0.7605 | 0.7335 | -3.55
04380 | Lee County, Arkansas | 99904 | 0.7605 | 0.7335 | -3.55
04390 | Lincoln County, Arkansas | 38220 | 0.8212 | 0.8398 | 2.26
04400 | Little River County, Arkansas | 99904 | 0.7605 | 0.7335 | -3.55
04410 | Logan County, Arkansas | 99904 | 0.7605 | 0.7335 | -3.55
04420 | Lonoke County, Arkansas | 30780 | 0.8747 | 0.8906 | 1.82
04430 | Madison County, Arkansas | 22220 | 0.8203 | 0.8761 | 6.80
04440 | Marion County, Arkansas | 99904 | 0.7605 | 0.7335 | -3.55
04450 | Miller County, Arkansas | 45500 | 0.8283 | 0.8118 | -1.99
04460 | Mississippi County, Arkansas | 99904 | 0.7605 | 0.7335 | -3.55
04470 | Monroe County, Arkansas | 99904 | 0.7605 | 0.7335 | -3.55
04480 | Montgomery County, Arkansas | 99904 | 0.7605 | 0.7335 | -3.55
04490 | Nevada County, Arkansas | 99904 | 0.7605 | 0.7335 | -3.55
04500 | Newton County, Arkansas | 99904 | 0.7605 | 0.7335 | -3.55
04510 | Ouachita County, Arkansas | 99904 | 0.7605 | 0.7335 | -3.55
04520 | Perry County, Arkansas | 30780 | 0.8246 | 0.8906 | 8.00
04530 | Phillips County, Arkansas | 99904 | 0.7605 | 0.7335 | -3.55
04540 | Pike County, Arkansas | 99904 | 0.7605 | 0.7335 | -3.55
04550 | Poinsett County, Arkansas | 27860 | 0.7828 | 0.7609 | -2.80
04560 | Polk County, Arkansas | 99904 | 0.7605 | 0.7335 | -3.55
04570 | Pope County, Arkansas | 99904 | 0.7605 | 0.7335 | -3.55
04580 | Prairie County, Arkansas | 99904 | 0.7605 | 0.7335 | -3.55
04590 | Pulaski County, Arkansas | 30780 | 0.8747 | 0.8906 | 1.82
04600 | Randolph County, Arkansas | 99904 | 0.7605 | 0.7335 | -3.55
04610 | St Francis County, Arkansas | 99904 | 0.7605 | 0.7335 | -3.55
04620 | Saline County, Arkansas | 30780 | 0.8747 | 0.8906 | 1.82
04630 | Scott County, Arkansas | 99904 | 0.7605 | 0.7335 | -3.55
04640 | Searcy County, Arkansas | 99904 | 0.7605 | 0.7335 | -3.55
04650 | Sebastian County, Arkansas | 22900 | 0.8238 | 0.7745 | -5.98
04660 | Sevier County, Arkansas | 99904 | 0.7605 | 0.7335 | -3.55
04670 | Sharp County, Arkansas | 99904 | 0.7605 | 0.7335 | -3.55
04680 | Stone County, Arkansas | 99904 | 0.7605 | 0.7335 | -3.55
04690 | Union County, Arkansas | 99904 | 0.7605 | 0.7335 | -3.55
04700 | Van Buren County, Arkansas | 99904 | 0.7605 | 0.7335 | -3.55
04710 | Washington County, Arkansas | 22220 | 0.8661 | 0.8761 | 1.15
04720 | White County, Arkansas | 99904 | 0.7605 | 0.7335 | -3.55
04730 | Woodruff County, Arkansas | 99904 | 0.7605 | 0.7335 | -3.55
04740 | Yell County, Arkansas | 99904 | 0.7605 | 0.7335 | -3.55
05000 | Alameda County, California | 36084 | 1.5346 | 1.5420 | 0.48
05010 | Alpine County, California | 99905 | 1.0915 | 1.1302 | 3.55
05020 | Amador County, California | 99905 | 1.0915 | 1.1302 | 3.55
05030 | Butte County, California | 17020 | 1.0511 | 1.1073 | 5.35
05040 | Calaveras County, California | 99905 | 1.0915 | 1.1302 | 3.55
05050 | Colusa County, California | 99905 | 1.0915 | 1.1302 | 3.55
05060 | Contra Costa County, California | 36084 | 1.5346 | 1.5420 | 0.48
05070 | Del Norte County, California | 99905 | 1.0915 | 1.1302 | 3.55
05080 | Eldorado County, California | 40900 | 1.3056 | 1.3373 | 2.43
05090 | Fresno County, California | 23420 | 1.0483 | 1.0965 | 4.60
05100 | Glenn County, California | 99905 | 1.0915 | 1.1302 | 3.55
05110 | Humboldt County, California | 99905 | 1.0915 | 1.1302 | 3.55
05120 | Imperial County, California | 20940 | 0.9841 | 0.9092 | -7.61
05130 | Inyo County, California | 99905 | 1.0915 | 1.1302 | 3.55
05140 | Kern County, California | 12540 | 1.0470 | 1.0605 | 1.29
05150 | Kings County, California | 25260 | 1.0406 | 1.0142 | -2.54
05160 | Lake County, California | 99905 | 1.0915 | 1.1302 | 3.55
05170 | Lassen County, California | 99905 | 1.0915 | 1.1302 | 3.55
05200 | Los Angeles County, California | 31084 | 1.1783 | 1.1752 | -0.26
05210 | Los Angeles County, California | 31084 | 1.1783 | 1.1752 | -0.26
05300 | Madera County, California | 31460 | 0.9571 | 0.8169 | -14.65
05310 | Marin County, California | 41884 | 1.4994 | 1.5071 | 0.51
05320 | Mariposa County, California | 99905 | 1.0915 | 1.1302 | 3.55
05330 | Mendocino County, California | 99905 | 1.0915 | 1.1302 | 3.55
05340 | Merced County, California | 32900 | 1.1109 | 1.1415 | 2.75
05350 | Modoc County, California | 99905 | 1.0915 | 1.1302 | 3.55
05360 | Mono County, California | 99905 | 1.0915 | 1.1302 | 3.55
05370 | Monterey County, California | 41500 | 1.4128 | 1.4459 | 2.34
05380 | Napa County, California | 34900 | 1.3313 | 1.3496 | 1.37
05390 | Nevada County, California | 99905 | 1.0915 | 1.1302 | 3.55
05400 | Orange County, California | 42044 | 1.1559 | 1.1294 | -2.29
05410 | Placer County, California | 40900 | 1.3056 | 1.3373 | 2.43
05420 | Plumas County, California | 99905 | 1.0915 | 1.1302 | 3.55
05430 | Riverside County, California | 40140 | 1.1027 | 1.0934 | -0.84
05440 | Sacramento County, California | 40900 | 1.3056 | 1.3373 | 2.43
05450 | San Benito County, California | 41940 | 1.2937 | 1.5293 | 18.21
05460 | San Bernardino County, California | 40140 | 1.1027 | 1.0934 | -0.84
05470 | San Diego County, California | 41740 | 1.1413 | 1.1374 | -0.34
05480 | San Francisco County, California | 41884 | 1.4994 | 1.5071 | 0.51
05490 | San Joaquin County, California | 44700 | 1.1307 | 1.1462 | 1.37
05500 | San Luis Obispo County, California | 42020 | 1.1349 | 1.1619 | 2.38
05510 | San Mateo County, California | 41884 | 1.4994 | 1.5071 | 0.51
05520 | Santa Barbara County, California | 42060 | 1.1694 | 1.1075 | -5.29
05530 | Santa Clara County, California | 41940 | 1.5109 | 1.5293 | 1.22
05540 | Santa Cruz County, California | 42100 | 1.5166 | 1.5531 | 2.41
05550 | Shasta County, California | 39820 | 1.2203 | 1.3221 | 8.34
05560 | Sierra County, California | 99905 | 1.0915 | 1.1302 | 3.55
05570 | Siskiyou County, California | 99905 | 1.0915 | 1.1302 | 3.55
05580 | Solano County, California | 46700 | 1.4460 | 1.5164 | 4.87
05590 | Sonoma County, California | 42220 | 1.3493 | 1.4489 | 7.38
05600 | Stanislaus County, California | 33700 | 1.1885 | 1.1590 | -2.48
05610 | Sutter County, California | 49700 | 1.0921 | 1.0749 | -1.57
05620 | Tehama County, California | 99905 | 1.0915 | 1.1302 | 3.55
05630 | Trinity County, California | 99905 | 1.0915 | 1.1302 | 3.55
05640 | Tulare County, California | 47300 | 1.0123 | 0.9986 | -1.35
05650 | Tuolumne County, California | 99905 | 1.0915 | 1.1302 | 3.55
05660 | Ventura County, California | 37100 | 1.1622 | 1.1591 | -0.27
05670 | Yolo County, California | 40900 | 1.1460 | 1.3373 | 16.69
05680 | Yuba County, California | 49700 | 1.0921 | 1.0749 | -1.57
06000 | Adams County, Colorado | 19740 | 1.0723 | 1.0947 | 2.09
06010 | Alamosa County, Colorado | 99906 | 0.9380 | 0.9342 | -0.41
06020 | Arapahoe County, Colorado | 19740 | 1.0723 | 1.0947 | 2.09
06030 | Archuleta County, Colorado | 99906 | 0.9380 | 0.9342 | -0.41
06040 | Baca County, Colorado | 99906 | 0.9380 | 0.9342 | -0.41
06050 | Bent County, Colorado | 99906 | 0.9380 | 0.9342 | -0.41
06060 | Boulder County, Colorado | 14500 | 0.9734 | 1.0368 | 6.51
06070 | Chaffee County, Colorado | 99906 | 0.9380 | 0.9342 | -0.41
06080 | Cheyenne County, Colorado | 99906 | 0.9380 | 0.9342 | -0.41
06090 | Clear Creek County, Colorado | 19740 | 1.0052 | 1.0947 | 8.90
06100 | Conejos County, Colorado | 99906 | 0.9380 | 0.9342 | -0.41
06110 | Costilla County, Colorado | 99906 | 0.9380 | 0.9342 | -0.41
06120 | Crowley County, Colorado | 99906 | 0.9380 | 0.9342 | -0.41
06130 | Custer County, Colorado | 99906 | 0.9380 | 0.9342 | -0.41
06140 | Delta County, Colorado | 99906 | 0.9380 | 0.9342 | -0.41
06150 | Denver County, Colorado | 19740 | 1.0723 | 1.0947 | 2.09
06160 | Dolores County, Colorado | 99906 | 0.9380 | 0.9342 | -0.41
06170 | Douglas County, Colorado | 19740 | 1.0723 | 1.0947 | 2.09
06180 | Eagle County, Colorado | 99906 | 0.9380 | 0.9342 | -0.41
06190 | Elbert County, Colorado | 19740 | 1.0052 | 1.0947 | 8.90
06200 | El Paso County, Colorado | 17820 | 0.9468 | 0.9718 | 2.64
06210 | Fremont County, Colorado | 99906 | 0.9380 | 0.9342 | -0.41
06220 | Garfield County, Colorado | 99906 | 0.9380 | 0.9342 | -0.41
06230 | Gilpin County, Colorado | 19740 | 1.0052 | 1.0947 | 8.90
06240 | Grand County, Colorado | 99906 | 0.9380 | 0.9342 | -0.41
06250 | Gunnison County, Colorado | 99906 | 0.9380 | 0.9342 | -0.41
06260 | Hinsdale County, Colorado | 99906 | 0.9380 | 0.9342 | -0.41
06270 | Huerfano County, Colorado | 99906 | 0.9380 | 0.9342 | -0.41
06280 | Jackson County, Colorado | 99906 | 0.9380 | 0.9342 | -0.41
06290 | Jefferson County, Colorado | 19740 | 1.0723 | 1.0947 | 2.09
06300 | Kiowa County, Colorado | 99906 | 0.9380 | 0.9342 | -0.41
06310 | Kit Carson County, Colorado | 99906 | 0.9380 | 0.9342 | -0.41
06320 | Lake County, Colorado | 99906 | 0.9380 | 0.9342 | -0.41
06330 | La Plata County, Colorado | 99906 | 0.9380 | 0.9342 | -0.41
06340 | Larimer County, Colorado | 22660 | 1.0122 | 0.9561 | -5.54
06350 | Las Animas County, Colorado | 99906 | 0.9380 | 0.9342 | -0.41
06360 | Lincoln County, Colorado | 99906 | 0.9380 | 0.9342 | -0.41
06370 | Logan County, Colorado | 99906 | 0.9380 | 0.9342 | -0.41
06380 | Mesa County, Colorado | 24300 | 0.9550 | 0.9685 | 1.41
06390 | Mineral County, Colorado | 99906 | 0.9380 | 0.9342 | -0.41
06400 | Moffat County, Colorado | 99906 | 0.9380 | 0.9342 | -0.41
06410 | Montezuma County, Colorado | 99906 | 0.9380 | 0.9342 | -0.41
06420 | Montrose County, Colorado | 99906 | 0.9380 | 0.9342 | -0.41
06430 | Morgan County, Colorado | 99906 | 0.9380 | 0.9342 | -0.41
06440 | Otero County, Colorado | 99906 | 0.9380 | 0.9342 | -0.41
06450 | Ouray County, Colorado | 99906 | 0.9380 | 0.9342 | -0.41
06460 | Park County, Colorado | 19740 | 1.0052 | 1.0947 | 8.90
06470 | Phillips County, Colorado | 99906 | 0.9380 | 0.9342 | -0.41
06480 | Pitkin County, Colorado | 99906 | 0.9380 | 0.9342 | -0.41
06490 | Prowers County, Colorado | 99906 | 0.9380 | 0.9342 | -0.41
06500 | Pueblo County, Colorado | 39380 | 0.8623 | 0.8552 | -0.82
06510 | Rio Blanco County, Colorado | 99906 | 0.9380 | 0.9342 | -0.41
06520 | Rio Grande County, Colorado | 99906 | 0.9380 | 0.9342 | -0.41
06530 | Routt County, Colorado | 99906 | 0.9380 | 0.9342 | -0.41
06540 | Saguache County, Colorado | 99906 | 0.9380 | 0.9342 | -0.41
06550 | San Juan County, Colorado | 99906 | 0.9380 | 0.9342 | -0.41
06560 | San Miguel County, Colorado | 99906 | 0.9380 | 0.9342 | -0.41
06570 | Sedgwick County, Colorado | 99906 | 0.9380 | 0.9342 | -0.41
06580 | Summit County, Colorado | 99906 | 0.9380 | 0.9342 | -0.41
06590 | Teller County, Colorado | 17820 | 0.9424 | 0.9718 | 3.12
06600 | Washington County, Colorado | 99906 | 0.9380 | 0.9342 | -0.41
06610 | Weld County, Colorado | 24540 | 0.9570 | 0.9619 | 0.51
06620 | Yuma County, Colorado | 99906 | 0.9380 | 0.9342 | -0.41
06630 | Broomfield County, Colorado | 19740 | 1.0723 | 1.0947 | 2.09
07000 | Fairfield County, Connecticut | 14860 | 1.2394 | 1.2681 | 2.32
07010 | Hartford County, Connecticut | 25540 | 1.1073 | 1.0916 | -1.42
07020 | Litchfield County, Connecticut | 25540 | 1.1073 | 1.0916 | -1.42
07030 | Middlesex County, Connecticut | 25540 | 1.1073 | 1.0916 | -1.42
07040 | New Haven County, Connecticut | 35300 | 1.2042 | 1.1974 | -0.56
07050 | New London County, Connecticut | 35980 | 1.1345 | 1.1953 | 5.36
07060 | Tolland County, Connecticut | 25540 | 1.1073 | 1.0916 | -1.42
07070 | Windham County, Connecticut | 99907 | 1.1730 | 1.1753 | 0.20
08000 | Kent County, Delaware | 20100 | 0.9776 | 0.9865 | 0.91
08010 | New Castle County, Delaware | 48864 | 1.0499 | 1.0703 | 1.94
08020 | Sussex County, Delaware | 99908 | 0.9579 | 0.9723 | 1.50
09000 | Washington Dc County, Dist Of Col | 47894 | 1.0951 | 1.1074 | 1.12
10000 | Alachua County, Florida | 23540 | 0.9388 | 0.9312 | -0.81
10010 | Baker County, Florida | 27260 | 0.8984 | 0.9042 | 0.65
10020 | Bay County, Florida | 37460 | 0.8005 | 0.8087 | 1.02
10030 | Bradford County, Florida | 99910 | 0.8623 | 0.8595 | -0.32
10040 | Brevard County, Florida | 37340 | 0.9839 | 0.9448 | -3.97
10050 | Broward County, Florida | 22744 | 1.0432 | 1.0151 | -2.69
10060 | Calhoun County, Florida | 99910 | 0.8623 | 0.8595 | -0.32
10070 | Charlotte County, Florida | 39460 | 0.9255 | 0.9421 | 1.79
10080 | Citrus County, Florida | 99910 | 0.8623 | 0.8595 | -0.32
10090 | Clay County, Florida | 27260 | 0.9295 | 0.9042 | -2.72
10100 | Collier County, Florida | 34940 | 1.0139 | 0.9959 | -1.78
10110 | Columbia County, Florida | 99910 | 0.8623 | 0.8595 | -0.32
10120 | Dade County, Florida | 33124 | 0.9750 | 0.9830 | 0.82
10130 | De Soto County, Florida | 99910 | 0.8623 | 0.8595 | -0.32
10140 | Dixie County, Florida | 99910 | 0.8623 | 0.8595 | -0.32
10150 | Duval County, Florida | 27260 | 0.9295 | 0.9042 | -2.72
10160 | Escambia County, Florida | 37860 | 0.8096 | 0.8014 | -1.01
10170 | Flagler County, Florida | 99910 | 0.8947 | 0.8595 | -3.93
10180 | Franklin County, Florida | 99910 | 0.8623 | 0.8595 | -0.32
10190 | Gadsden County, Florida | 45220 | 0.8688 | 0.9299 | 7.03
10200 | Gilchrist County, Florida | 23540 | 0.9033 | 0.9312 | 3.09
10210 | Glades County, Florida | 99910 | 0.8623 | 0.8595 | -0.32
10220 | Gulf County, Florida | 99910 | 0.8623 | 0.8595 | -0.32
10230 | Hamilton County, Florida | 99910 | 0.8623 | 0.8595 | -0.32
10240 | Hardee County, Florida | 99910 | 0.8623 | 0.8595 | -0.32
10250 | Hendry County, Florida | 99910 | 0.8623 | 0.8595 | -0.32
10260 | Hernando County, Florida | 45300 | 0.9233 | 0.9160 | -0.79
10270 | Highlands County, Florida | 99910 | 0.8623 | 0.8595 | -0.32
10280 | Hillsborough County, Florida | 45300 | 0.9233 | 0.9160 | -0.79
10290 | Holmes County, Florida | 99910 | 0.8623 | 0.8595 | -0.32
10300 | Indian River County, Florida | 42680 | 0.9056 | 0.9590 | 5.90
10310 | Jackson County, Florida | 99910 | 0.8623 | 0.8595 | -0.32
10320 | Jefferson County, Florida | 45220 | 0.8683 | 0.9299 | 7.09
10330 | Lafayette County, Florida | 99910 | 0.8623 | 0.8595 | -0.32
10340 | Lake County, Florida | 36740 | 0.9464 | 0.9422 | -0.44
10350 | Lee County, Florida | 15980 | 0.9356 | 0.9359 | 0.03
10360 | Leon County, Florida | 45220 | 0.8688 | 0.9299 | 7.03
10370 | Levy County, Florida | 99910 | 0.8623 | 0.8595 | -0.32
10380 | Liberty County, Florida | 99910 | 0.8623 | 0.8595 | -0.32
10390 | Madison County, Florida | 99910 | 0.8623 | 0.8595 | -0.32
10400 | Manatee County, Florida | 42260 | 0.9639 | 0.9885 | 2.55
10410 | Marion County, Florida | 36100 | 0.8925 | 0.8883 | -0.47
10420 | Martin County, Florida | 38940 | 1.0123 | 0.9851 | -2.69
10430 | Monroe County, Florida | 99910 | 0.8623 | 0.8595 | -0.32
10440 | Nassau County, Florida | 27260 | 0.9295 | 0.9042 | -2.72
10450 | Okaloosa County, Florida | 23020 | 0.8872 | 0.8658 | -2.41
10460 | Okeechobee County, Florida | 99910 | 0.8623 | 0.8595 | -0.32
10470 | Orange County, Florida | 36740 | 0.9464 | 0.9422 | -0.44
10480 | Osceola County, Florida | 36740 | 0.9464 | 0.9422 | -0.44
10490 | Palm Beach County, Florida | 48424 | 1.0067 | 0.9657 | -4.07
10500 | Pasco County, Florida | 45300 | 0.9233 | 0.9160 | -0.79
10510 | Pinellas County, Florida | 45300 | 0.9233 | 0.9160 | -0.79
10520 | Polk County, Florida | 29460 | 0.8912 | 0.8895 | -0.19
10530 | Putnam County, Florida | 99910 | 0.8623 | 0.8595 | -0.32
10540 | Johns County, Florida | 27260 | 0.9295 | 0.9042 | -2.72
10550 | St Lucie County, Florida | 38940 | 1.0123 | 0.9851 | -2.69
10560 | Santa Rosa County, Florida | 37860 | 0.8096 | 0.8014 | -1.01
10570 | Sarasota County, Florida | 42260 | 0.9639 | 0.9885 | 2.55
10580 | Seminole County, Florida | 36740 | 0.9464 | 0.9422 | -0.44
10590 | Sumter County, Florida | 99910 | 0.8623 | 0.8595 | -0.32
10600 | Suwannee County, Florida | 99910 | 0.8623 | 0.8595 | -0.32
10610 | Taylor County, Florida | 99910 | 0.8623 | 0.8595 | -0.32
10620 | Union County, Florida | 99910 | 0.8623 | 0.8595 | -0.32
10630 | Volusia County, Florida | 19660 | 0.9312 | 0.9280 | -0.34
10640 | Wakulla County, Florida | 45220 | 0.8683 | 0.9299 | 7.09
10650 | Walton County, Florida | 99910 | 0.8623 | 0.8595 | -0.32
10660 | Washington County, Florida | 99910 | 0.8623 | 0.8595 | -0.32
11000 | Appling County, Georgia | 99911 | 0.7914 | 0.7560 | -4.47
11010 | Atkinson County, Georgia | 99911 | 0.7914 | 0.7560 | -4.47
11011 | Bacon County, Georgia | 99911 | 0.7914 | 0.7560 | -4.47
11020 | Baker County, Georgia | 10500 | 0.8397 | 0.8962 | 6.73
11030 | Baldwin County, Georgia | 99911 | 0.7914 | 0.7560 | -4.47
11040 | Banks County, Georgia | 99911 | 0.7914 | 0.7560 | -4.47
11050 | Barrow County, Georgia | 12060 | 0.9793 | 0.9772 | -0.21
11060 | Bartow County, Georgia | 12060 | 0.9793 | 0.9772 | -0.21
11070 | Ben Hill County, Georgia | 99911 | 0.7914 | 0.7560 | -4.47
11080 | Berrien County, Georgia | 99911 | 0.7914 | 0.7560 | -4.47
11090 | Bibb County, Georgia | 31420 | 0.9360 | 0.9518 | 1.69
11100 | Bleckley County, Georgia | 99911 | 0.7914 | 0.7560 | -4.47
11110 | Brantley County, Georgia | 15260 | 0.8739 | 1.0097 | 15.54
11120 | Brooks County, Georgia | 46660 | 0.8516 | 0.8344 | -2.02
11130 | Bryan County, Georgia | 42340 | 0.9461 | 0.9087 | -3.95
11140 | Bulloch County, Georgia | 99911 | 0.7914 | 0.7560 | -4.47
11150 | Burke County, Georgia | 12260 | 0.8957 | 0.9678 | 8.05
11160 | Butts County, Georgia | 12060 | 0.8980 | 0.9772 | 8.82
11161 | Calhoun County, Georgia | 99911 | 0.7914 | 0.7560 | -4.47
11170 | Camden County, Georgia | 99911 | 0.7914 | 0.7560 | -4.47
11180 | Candler County, Georgia | 99911 | 0.7914 | 0.7560 | -4.47
11190 | Carroll County, Georgia | 12060 | 0.9793 | 0.9772 | -0.21
11200 | Catoosa County, Georgia | 16860 | 0.9088 | 0.8963 | -1.38
11210 | Charlton County, Georgia | 99911 | 0.7914 | 0.7560 | -4.47
11220 | Chatham County, Georgia | 42340 | 0.9461 | 0.9087 | -3.95
11230 | Chattahoochee County, Georgia | 17980 | 0.8560 | 0.8254 | -3.57
11240 | Chattooga County, Georgia | 99911 | 0.7914 | 0.7560 | -4.47
11250 | Cherokee County, Georgia | 12060 | 0.9793 | 0.9772 | -0.21
11260 | Clarke County, Georgia | 12020 | 0.9855 | 0.9857 | 0.02
11270 | Clay County, Georgia | 99911 | 0.7914 | 0.7560 | -4.47
11280 | Clayton County, Georgia | 12060 | 0.9793 | 0.9772 | -0.21
11281 | Clinch County, Georgia | 99911 | 0.7914 | 0.7560 | -4.47
11290 | Cobb County, Georgia | 12060 | 0.9793 | 0.9772 | -0.21
11291 | Coffee County, Georgia | 99911 | 0.7914 | 0.7560 | -4.47
11300 | Colquitt County, Georgia | 99911 | 0.7914 | 0.7560 | -4.47
11310 | Columbia County, Georgia | 12260 | 0.9778 | 0.9678 | -1.02
11311 | Cook County, Georgia | 99911 | 0.7914 | 0.7560 | -4.47
11320 | Coweta County, Georgia | 12060 | 0.9793 | 0.9772 | -0.21
11330 | Crawford County, Georgia | 31420 | 0.8805 | 0.9518 | 8.10
11340 | Crisp County, Georgia | 99911 | 0.7914 | 0.7560 | -4.47
11341 | Dade County, Georgia | 16860 | 0.9088 | 0.8963 | -1.38
11350 | Dawson County, Georgia | 12060 | 0.8980 | 0.9772 | 8.82
11360 | Decatur County, Georgia | 99911 | 0.7914 | 0.7560 | -4.47
11370 | De Kalb County, Georgia | 12060 | 0.9793 | 0.9772 | -0.21
11380 | Dodge County, Georgia | 99911 | 0.7914 | 0.7560 | -4.47
11381 | Dooly County, Georgia | 99911 | 0.7914 | 0.7560 | -4.47
11390 | Dougherty County, Georgia | 10500 | 0.8628 | 0.8962 | 3.87
11400 | Douglas County, Georgia | 12060 | 0.9793 | 0.9772 | -0.21
11410 | Early County, Georgia | 99911 | 0.7914 | 0.7560 | -4.47
11420 | Echols County, Georgia | 46660 | 0.8516 | 0.8344 | -2.02
11421 | Effingham County, Georgia | 42340 | 0.9461 | 0.9087 | -3.95
11430 | Elbert County, Georgia | 99911 | 0.7914 | 0.7560 | -4.47
11440 | Emanuel County, Georgia | 99911 | 0.7914 | 0.7560 | -4.47
11441 | Evans County, Georgia | 99911 | 0.7914 | 0.7560 | -4.47
11450 | Fannin County, Georgia | 99911 | 0.7914 | 0.7560 | -4.47
11451 | Fayette County, Georgia | 12060 | 0.9793 | 0.9772 | -0.21
11460 | Floyd County, Georgia | 40660 | 0.8790 | 0.9316 | 5.98
11461 | Forsyth County, Georgia | 12060 | 0.9793 | 0.9772 | -0.21
11462 | Franklin County, Georgia | 99911 | 0.7914 | 0.7560 | -4.47
11470 | Fulton County, Georgia | 12060 | 0.9793 | 0.9772 | -0.21
11471 | Gilmer County, Georgia | 99911 | 0.7914 | 0.7560 | -4.47
11480 | Glascock County, Georgia | 99911 | 0.7914 | 0.7560 | -4.47
11490 | Glynn County, Georgia | 15260 | 0.8739 | 1.0097 | 15.54
11500 | Gordon County, Georgia | 99911 | 0.7914 | 0.7560 | -4.47
11510 | Grady County, Georgia | 99911 | 0.7914 | 0.7560 | -4.47
11520 | Greene County, Georgia | 99911 | 0.7914 | 0.7560 | -4.47
11530 | Gwinnett County, Georgia | 12060 | 0.9793 | 0.9772 | -0.21
11540 | Habersham County, Georgia | 99911 | 0.7914 | 0.7560 | -4.47
11550 | Hall County, Georgia | 23580 | 0.8520 | 0.8974 | 5.33
11560 | Hancock County, Georgia | 99911 | 0.7914 | 0.7560 | -4.47
11570 | Haralson County, Georgia | 12060 | 0.8980 | 0.9772 | 8.82
11580 | Harris County, Georgia | 17980 | 0.8560 | 0.8254 | -3.57
11581 | Hart County, Georgia | 99911 | 0.7914 | 0.7560 | -4.47
11590 | Heard County, Georgia | 12060 | 0.8980 | 0.9772 | 8.82
11591 | Henry County, Georgia | 12060 | 0.9793 | 0.9772 | -0.21
11600 | Houston County, Georgia | 47580 | 0.8961 | 0.8394 | -6.33
11601 | Irwin County, Georgia | 99911 | 0.7914 | 0.7560 | -4.47
11610 | Jackson County, Georgia | 99911 | 0.7914 | 0.7560 | -4.47
11611 | Jasper County, Georgia | 12060 | 0.8980 | 0.9772 | 8.82
11612 | Jeff Davis County, Georgia | 99911 | 0.7914 | 0.7560 | -4.47
11620 | Jefferson County, Georgia | 99911 | 0.7914 | 0.7560 | -4.47
11630 | Jenkins County, Georgia | 99911 | 0.7914 | 0.7560 | -4.47
11640 | Johnson County, Georgia | 99911 | 0.7914 | 0.7560 | -4.47
11650 | Jones County, Georgia | 31420 | 0.9360 | 0.9518 | 1.69
11651 | Lamar County, Georgia | 12060 | 0.8980 | 0.9772 | 8.82
11652 | Lanier County, Georgia | 46660 | 0.8516 | 0.8344 | -2.02
11660 | Laurens County, Georgia | 99911 | 0.7914 | 0.7560 | -4.47
11670 | Lee County, Georgia | 10500 | 0.8628 | 0.8962 | 3.87
11680 | Liberty County, Georgia | 25980 | 0.8973 | 0.9163 | 2.12
11690 | Lincoln County, Georgia | 99911 | 0.7914 | 0.7560 | -4.47
11691 | Long County, Georgia | 25980 | 0.8973 | 0.9163 | 2.12
11700 | Lowndes County, Georgia | 46660 | 0.8516 | 0.8344 | -2.02
11701 | Lumpkin County, Georgia | 99911 | 0.7914 | 0.7560 | -4.47
11702 | Mc Duffie County, Georgia | 12260 | 0.9778 | 0.9678 | -1.02
11703 | Mc Intosh County, Georgia | 15260 | 0.8739 | 1.0097 | 15.54
11710 | Macon County, Georgia | 99911 | 0.7914 | 0.7560 | -4.47
11720 | Madison County, Georgia | 12020 | 0.9855 | 0.9857 | 0.02
11730 | Marion County, Georgia | 17980 | 0.8363 | 0.8254 | -1.30
11740 | Meriwether County, Georgia | 12060 | 0.8980 | 0.9772 | 8.82
11741 | Miller County, Georgia | 99911 | 0.7914 | 0.7560 | -4.47
11750 | Mitchell County, Georgia | 99911 | 0.7914 | 0.7560 | -4.47
11760 | Monroe County, Georgia | 31420 | 0.8805 | 0.9518 | 8.10
11770 | Montgomery County, Georgia | 99911 | 0.7914 | 0.7560 | -4.47
11771 | Morgan County, Georgia | 99911 | 0.7914 | 0.7560 | -4.47
11772 | Murray County, Georgia | 19140 | 0.8623 | 0.9061 | 5.08
11780 | Muscogee County, Georgia | 17980 | 0.8560 | 0.8254 | -3.57
11790 | Newton County, Georgia | 12060 | 0.9793 | 0.9772 | -0.21
11800 | Oconee County, Georgia | 12020 | 0.9855 | 0.9857 | 0.02
11801 | Oglethorpe County, Georgia | 12020 | 0.9011 | 0.9857 | 9.39
11810 | Paulding County, Georgia | 12060 | 0.9793 | 0.9772 | -0.21
11811 | Peach County, Georgia | 99911 | 0.8470 | 0.7560 | -10.74
11812 | Pickens County, Georgia | 12060 | 0.9793 | 0.9772 | -0.21
11820 | Pierce County, Georgia | 99911 | 0.7914 | 0.7560 | -4.47
11821 | Pike County, Georgia | 12060 | 0.8980 | 0.9772 | 8.82
11830 | Polk County, Georgia | 99911 | 0.7914 | 0.7560 | -4.47
11831 | Pulaski County, Georgia | 99911 | 0.7914 | 0.7560 | -4.47
11832 | Putnam County, Georgia | 99911 | 0.7914 | 0.7560 | -4.47
11833 | Quitman County, Georgia | 99911 | 0.7914 | 0.7560 | -4.47
11834 | Rabun County, Georgia | 99911 | 0.7914 | 0.7560 | -4.47
11835 | Randolph County, Georgia | 99911 | 0.7914 | 0.7560 | -4.47
11840 | Richmond County, Georgia | 12260 | 0.9778 | 0.9678 | -1.02
11841 | Rockdale County, Georgia | 12060 | 0.9793 | 0.9772 | -0.21
11842 | Schley County, Georgia | 99911 | 0.7914 | 0.7560 | -4.47
11850 | Screven County, Georgia | 99911 | 0.7914 | 0.7560 | -4.47
11851 | Seminole County, Georgia | 99911 | 0.7914 | 0.7560 | -4.47
11860 | Spalding County, Georgia | 12060 | 0.9793 | 0.9772 | -0.21
11861 | Stephens County, Georgia | 99911 | 0.7914 | 0.7560 | -4.47
11862 | Stewart County, Georgia | 99911 | 0.7914 | 0.7560 | -4.47
11870 | Sumter County, Georgia | 99911 | 0.7914 | 0.7560 | -4.47
11880 | Talbot County, Georgia | 99911 | 0.7914 | 0.7560 | -4.47
11881 | Taliaferro County, Georgia | 99911 | 0.7914 | 0.7560 | -4.47
11882 | Tattnall County, Georgia | 99911 | 0.7914 | 0.7560 | -4.47
11883 | Taylor County, Georgia | 99911 | 0.7914 | 0.7560 | -4.47
11884 | Telfair County, Georgia | 99911 | 0.7914 | 0.7560 | -4.47
11885 | Terrell County, Georgia | 10500 | 0.8397 | 0.8962 | 6.73
11890 | Thomas County, Georgia | 99911 | 0.7914 | 0.7560 | -4.47
11900 | Tift County, Georgia | 99911 | 0.7914 | 0.7560 | -4.47
11901 | Toombs County, Georgia | 99911 | 0.7914 | 0.7560 | -4.47
11902 | Towns County, Georgia | 99911 | 0.7914 | 0.7560 | -4.47
11903 | Treutlen County, Georgia | 99911 | 0.7914 | 0.7560 | -4.47
11910 | Troup County, Georgia | 99911 | 0.7914 | 0.7560 | -4.47
11911 | Turner County, Georgia | 99911 | 0.7914 | 0.7560 | -4.47
11912 | Twiggs County, Georgia | 31420 | 0.9360 | 0.9518 | 1.69
11913 | Union County, Georgia | 99911 | 0.7914 | 0.7560 | -4.47
11920 | Upson County, Georgia | 99911 | 0.7914 | 0.7560 | -4.47
11921 | Walker County, Georgia | 16860 | 0.9088 | 0.8963 | -1.38
11930 | Walton County, Georgia | 12060 | 0.9793 | 0.9772 | -0.21
11940 | Ware County, Georgia | 99911 | 0.7914 | 0.7560 | -4.47
11941 | Warren County, Georgia | 99911 | 0.7914 | 0.7560 | -4.47
11950 | Washington County, Georgia | 99911 | 0.7914 | 0.7560 | -4.47
11960 | Wayne County, Georgia | 99911 | 0.7914 | 0.7560 | -4.47
11961 | Webster County, Georgia | 99911 | 0.7914 | 0.7560 | -4.47
11962 | Wheeler County, Georgia | 99911 | 0.7914 | 0.7560 | -4.47
11963 | White County, Georgia | 99911 | 0.7914 | 0.7560 | -4.47
11970 | Whitfield County, Georgia | 19140 | 0.8623 | 0.9061 | 5.08
11971 | Wilcox County, Georgia | 99911 | 0.7914 | 0.7560 | -4.47
11972 | Wilkes County, Georgia | 99911 | 0.7914 | 0.7560 | -4.47
11973 | Wilkinson County, Georgia | 99911 | 0.7914 | 0.7560 | -4.47
11980 | Worth County, Georgia | 10500 | 0.8397 | 0.8962 | 6.73
12005 | Kalawao County, Hawaii | 99912 | 1.0551 | 1.0467 | -0.80
12010 | Hawaii County, Hawaii | 99912 | 1.0551 | 1.0467 | -0.80
12020 | Honolulu County, Hawaii | 26180 | 1.1214 | 1.1067 | -1.31
12040 | Kauai County, Hawaii | 99912 | 1.0551 | 1.0467 | -0.80
12050 | Maui County, Hawaii | 99912 | 1.0551 | 1.0467 | -0.80
13000 | Ada County, Idaho | 14260 | 0.9052 | 0.9417 | 4.03
13010 | Adams County, Idaho | 99913 | 0.8567 | 0.8134 | -5.05
13020 | Bannock County, Idaho | 38540 | 0.9351 | 0.9417 | 0.71
13030 | Bear Lake County, Idaho | 99913 | 0.8567 | 0.8134 | -5.05
13040 | Benewah County, Idaho | 99913 | 0.8567 | 0.8134 | -5.05
13050 | Bingham County, Idaho | 99913 | 0.8567 | 0.8134 | -5.05
13060 | Blaine County, Idaho | 99913 | 0.8567 | 0.8134 | -5.05
13070 | Boise County, Idaho | 14260 | 0.9075 | 0.9417 | 3.77
13080 | Bonner County, Idaho | 99913 | 0.8567 | 0.8134 | -5.05
13090 | Bonneville County, Idaho | 26820 | 0.9259 | 0.9104 | -1.67
13100 | Boundary County, Idaho | 99913 | 0.8567 | 0.8134 | -5.05
13110 | Butte County, Idaho | 99913 | 0.8567 | 0.8134 | -5.05
13120 | Camas County, Idaho | 99913 | 0.8567 | 0.8134 | -5.05
13130 | Canyon County, Idaho | 14260 | 0.9052 | 0.9417 | 4.03
13140 | Caribou County, Idaho | 99913 | 0.8567 | 0.8134 | -5.05
13150 | Cassia County, Idaho | 99913 | 0.8567 | 0.8134 | -5.05
13160 | Clark County, Idaho | 99913 | 0.8567 | 0.8134 | -5.05
13170 | Clearwater County, Idaho | 99913 | 0.8567 | 0.8134 | -5.05
13180 | Custer County, Idaho | 99913 | 0.8567 | 0.8134 | -5.05
13190 | Elmore County, Idaho | 99913 | 0.8567 | 0.8134 | -5.05
13200 | Franklin County, Idaho | 30860 | 0.9131 | 0.9038 | -1.02
13210 | Fremont County, Idaho | 99913 | 0.8567 | 0.8134 | -5.05
13220 | Gem County, Idaho | 14260 | 0.9075 | 0.9417 | 3.77
13230 | Gooding County, Idaho | 99913 | 0.8567 | 0.8134 | -5.05
13240 | Idaho County, Idaho | 99913 | 0.8567 | 0.8134 | -5.05
13250 | Jefferson County, Idaho | 26820 | 0.9259 | 0.9104 | -1.67
13260 | Jerome County, Idaho | 99913 | 0.8567 | 0.8134 | -5.05
13270 | Kootenai County, Idaho | 17660 | 0.9372 | 0.9360 | -0.13
13280 | Latah County, Idaho | 99913 | 0.8567 | 0.8134 | -5.05
13290 | Lemhi County, Idaho | 99913 | 0.8567 | 0.8134 | -5.05
13300 | Lewis County, Idaho | 99913 | 0.8567 | 0.8134 | -5.05
13310 | Lincoln County, Idaho | 99913 | 0.8567 | 0.8134 | -5.05
13320 | Madison County, Idaho | 99913 | 0.8567 | 0.8134 | -5.05
13330 | Minidoka County, Idaho | 99913 | 0.8567 | 0.8134 | -5.05
13340 | Nez Perce County, Idaho | 30300 | 0.9492 | 0.9871 | 3.99
13350 | Oneida County, Idaho | 99913 | 0.8567 | 0.8134 | -5.05
13360 | Owyhee County, Idaho | 14260 | 0.9075 | 0.9417 | 3.77
13370 | Payette County, Idaho | 99913 | 0.8567 | 0.8134 | -5.05
13380 | Power County, Idaho | 38540 | 0.9224 | 0.9417 | 2.09
13390 | Shoshone County, Idaho | 99913 | 0.8567 | 0.8134 | -5.05
13400 | Teton County, Idaho | 99913 | 0.8567 | 0.8134 | -5.05
13410 | Twin Falls County, Idaho | 99913 | 0.8567 | 0.8134 | -5.05
13420 | Valley County, Idaho | 99913 | 0.8567 | 0.8134 | -5.05
13430 | Washington County, Idaho | 99913 | 0.8567 | 0.8134 | -5.05
14000 | Adams County, Illinois | 99914 | 0.8286 | 0.8327 | 0.49
14010 | Alexander County, Illinois | 99914 | 0.8286 | 0.8327 | 0.49
14020 | Bond County, Illinois | 41180 | 0.8628 | 0.9013 | 4.46
14030 | Boone County, Illinois | 40420 | 0.9984 | 1.0007 | 0.23
14040 | Brown County, Illinois | 99914 | 0.8286 | 0.8327 | 0.49
14050 | Bureau County, Illinois | 99914 | 0.8286 | 0.8327 | 0.49
14060 | Calhoun County, Illinois | 41180 | 0.8628 | 0.9013 | 4.46
14070 | Carroll County, Illinois | 99914 | 0.8286 | 0.8327 | 0.49
14080 | Cass County, Illinois | 99914 | 0.8286 | 0.8327 | 0.49
14090 | Champaign County, Illinois | 16580 | 0.9594 | 0.9661 | 0.70
14100 | Christian County, Illinois | 99914 | 0.8286 | 0.8327 | 0.49
14110 | Clark County, Illinois | 99914 | 0.8286 | 0.8327 | 0.49
14120 | Clay County, Illinois | 99914 | 0.8286 | 0.8327 | 0.49
14130 | Clinton County, Illinois | 41180 | 0.8958 | 0.9013 | 0.61
14140 | Coles County, Illinois | 99914 | 0.8286 | 0.8327 | 0.49
14141 | Cook County, Illinois | 16974 | 1.0787 | 1.0745 | -0.39
14150 | Crawford County, Illinois | 99914 | 0.8286 | 0.8327 | 0.49
14160 | Cumberland County, Illinois | 99914 | 0.8286 | 0.8327 | 0.49
14170 | De Kalb County, Illinois | 16974 | 1.0787 | 1.0745 | -0.39
14180 | De Witt County, Illinois | 99914 | 0.8286 | 0.8327 | 0.49
14190 | Douglas County, Illinois | 99914 | 0.8286 | 0.8327 | 0.49
14250 | Du Page County, Illinois | 16974 | 1.0787 | 1.0745 | -0.39
14310 | Edgar County, Illinois | 99914 | 0.8286 | 0.8327 | 0.49
14320 | Edwards County, Illinois | 99914 | 0.8286 | 0.8327 | 0.49
14330 | Effingham County, Illinois | 99914 | 0.8286 | 0.8327 | 0.49
14340 | Fayette County, Illinois | 99914 | 0.8286 | 0.8327 | 0.49
14350 | Ford County, Illinois | 16580 | 0.8948 | 0.9661 | 7.97
14360 | Franklin County, Illinois | 99914 | 0.8286 | 0.8327 | 0.49
14370 | Fulton County, Illinois | 99914 | 0.8286 | 0.8327 | 0.49
14380 | Gallatin County, Illinois | 99914 | 0.8286 | 0.8327 | 0.49
14390 | Greene County, Illinois | 99914 | 0.8286 | 0.8327 | 0.49
14400 | Grundy County, Illinois | 16974 | 1.0787 | 1.0745 | -0.39
14410 | Hamilton County, Illinois | 99914 | 0.8286 | 0.8327 | 0.49
14420 | Hancock County, Illinois | 99914 | 0.8286 | 0.8327 | 0.49
14421 | Hardin County, Illinois | 99914 | 0.8286 | 0.8327 | 0.49
14440 | Henderson County, Illinois | 99914 | 0.8286 | 0.8327 | 0.49
14450 | Henry County, Illinois | 19340 | 0.8724 | 0.8557 | -1.91
14460 | Iroquois County, Illinois | 99914 | 0.8286 | 0.8327 | 0.49
14470 | Jackson County, Illinois | 99914 | 0.8286 | 0.8327 | 0.49
14480 | Jasper County, Illinois | 99914 | 0.8286 | 0.8327 | 0.49
14490 | Jefferson County, Illinois | 99914 | 0.8286 | 0.8327 | 0.49
14500 | Jersey County, Illinois | 41180 | 0.8958 | 0.9013 | 0.61
14510 | Jo Daviess County, Illinois | 99914 | 0.8286 | 0.8327 | 0.49
14520 | Johnson County, Illinois | 99914 | 0.8286 | 0.8327 | 0.49
14530 | Kane County, Illinois | 16974 | 1.0787 | 1.0745 | -0.39
14540 | Kankakee County, Illinois | 28100 | 1.0721 | 0.9990 | -6.82
14550 | Kendall County, Illinois | 16974 | 1.0787 | 1.0745 | -0.39
14560 | Knox County, Illinois | 99914 | 0.8286 | 0.8327 | 0.49
14570 | Lake County, Illinois | 29404 | 1.0606 | 1.0406 | -1.89
14580 | La Salle County, Illinois | 99914 | 0.8286 | 0.8327 | 0.49
14590 | Lawrence County, Illinois | 99914 | 0.8286 | 0.8327 | 0.49
14600 | Lee County, Illinois | 99914 | 0.8286 | 0.8327 | 0.49
14610 | Livingston County, Illinois | 99914 | 0.8286 | 0.8327 | 0.49
14620 | Logan County, Illinois | 99914 | 0.8286 | 0.8327 | 0.49
14630 | Mc Donough County, Illinois | 99914 | 0.8286 | 0.8327 | 0.49
14640 | Mc Henry County, Illinois | 16974 | 1.0787 | 1.0745 | -0.39
14650 | Mclean County, Illinois | 14060 | 0.9075 | 0.8960 | -1.27
14660 | Macon County, Illinois | 19500 | 0.8067 | 0.8187 | 1.49
14670 | Macoupin County, Illinois | 41180 | 0.8628 | 0.9013 | 4.46
14680 | Madison County, Illinois | 41180 | 0.8958 | 0.9013 | 0.61
14690 | Marion County, Illinois | 99914 | 0.8286 | 0.8327 | 0.49
14700 | Marshall County, Illinois | 37900 | 0.8586 | 0.8998 | 4.80
14710 | Mason County, Illinois | 99914 | 0.8286 | 0.8327 | 0.49
14720 | Massac County, Illinois | 99914 | 0.8286 | 0.8327 | 0.49
14730 | Menard County, Illinois | 44100 | 0.8792 | 0.8905 | 1.29
14740 | Mercer County, Illinois | 19340 | 0.8513 | 0.8557 | 0.52
14750 | Monroe County, Illinois | 41180 | 0.8958 | 0.9013 | 0.61
14760 | Montgomery County, Illinois | 99914 | 0.8286 | 0.8327 | 0.49
14770 | Morgan County, Illinois | 99914 | 0.8286 | 0.8327 | 0.49
14780 | Moultrie County, Illinois | 99914 | 0.8286 | 0.8327 | 0.49
14790 | Ogle County, Illinois | 99914 | 0.9128 | 0.8327 | -8.78
14800 | Peoria County, Illinois | 37900 | 0.8870 | 0.8998 | 1.44
14810 | Perry County, Illinois | 99914 | 0.8286 | 0.8327 | 0.49
14820 | Piatt County, Illinois | 16580 | 0.8948 | 0.9661 | 7.97
14830 | Pike County, Illinois | 99914 | 0.8286 | 0.8327 | 0.49
14831 | Pope County, Illinois | 99914 | 0.8286 | 0.8327 | 0.49
14850 | Pulaski County, Illinois | 99914 | 0.8286 | 0.8327 | 0.49
14860 | Putnam County, Illinois | 99914 | 0.8286 | 0.8327 | 0.49
14870 | Randolph County, Illinois | 99914 | 0.8286 | 0.8327 | 0.49
14880 | Richland County, Illinois | 99914 | 0.8286 | 0.8327 | 0.49
14890 | Rock Island County, Illinois | 19340 | 0.8724 | 0.8557 | -1.91
14900 | St Clair County, Illinois | 41180 | 0.8958 | 0.9013 | 0.61
14910 | Saline County, Illinois | 99914 | 0.8286 | 0.8327 | 0.49
14920 | Sangamon County, Illinois | 44100 | 0.8792 | 0.8905 | 1.29
14921 | Schuyler County, Illinois | 99914 | 0.8286 | 0.8327 | 0.49
14940 | Scott County, Illinois | 99914 | 0.8286 | 0.8327 | 0.49
14950 | Shelby County, Illinois | 99914 | 0.8286 | 0.8327 | 0.49
14960 | Stark County, Illinois | 37900 | 0.8586 | 0.8998 | 4.80
14970 | Stephenson County, Illinois | 99914 | 0.8286 | 0.8327 | 0.49
14980 | Tazewell County, Illinois | 37900 | 0.8870 | 0.8998 | 1.44
14981 | Union County, Illinois | 99914 | 0.8286 | 0.8327 | 0.49
14982 | Vermilion County, Illinois | 19180 | 0.8665 | 0.9283 | 7.13
14983 | Wabash County, Illinois | 99914 | 0.8286 | 0.8327 | 0.49
14984 | Warren County, Illinois | 99914 | 0.8286 | 0.8327 | 0.49
14985 | Washington County, Illinois | 99914 | 0.8286 | 0.8327 | 0.49
14986 | Wayne County, Illinois | 99914 | 0.8286 | 0.8327 | 0.49
14987 | White County, Illinois | 99914 | 0.8286 | 0.8327 | 0.49
14988 | Whiteside County, Illinois | 99914 | 0.8286 | 0.8327 | 0.49
14989 | Will County, Illinois | 16974 | 1.0787 | 1.0745 | -0.39
14990 | Williamson County, Illinois | 99914 | 0.8286 | 0.8327 | 0.49
14991 | Winnebago County, Illinois | 40420 | 0.9984 | 1.0007 | 0.23
14992 | Woodford County, Illinois | 37900 | 0.8870 | 0.8998 | 1.44
15000 | Adams County, Indiana | 99915 | 0.9165 | 0.8477 | -7.51
15010 | Allen County, Indiana | 23060 | 0.9750 | 0.9504 | -2.52
15020 | Bartholomew County, Indiana | 18020 | 0.9164 | 0.9334 | 1.86
15030 | Benton County, Indiana | 29140 | 0.8738 | 0.8972 | 2.68
15040 | Blackford County, Indiana | 99915 | 0.8682 | 0.8477 | -2.36
15050 | Boone County, Indiana | 26900 | 0.9893 | 0.9766 | -1.28
15060 | Brown County, Indiana | 26900 | 0.9330 | 0.9766 | 4.67
15070 | Carroll County, Indiana | 29140 | 0.8738 | 0.8972 | 2.68
15080 | Cass County, Indiana | 99915 | 0.8682 | 0.8477 | -2.36
15090 | Clark County, Indiana | 31140 | 0.9272 | 0.9135 | -1.48
15100 | Clay County, Indiana | 45460 | 0.8321 | 0.8661 | 4.09
15110 | Clinton County, Indiana | 99915 | 0.8680 | 0.8477 | -2.34
15120 | Crawford County, Indiana | 99915 | 0.8682 | 0.8477 | -2.36
15130 | Daviess County, Indiana | 99915 | 0.8682 | 0.8477 | -2.36
15140 | Dearborn County, Indiana | 17140 | 0.9675 | 0.9617 | -0.60
15150 | Decatur County, Indiana | 99915 | 0.8682 | 0.8477 | -2.36
15160 | De Kalb County, Indiana | 99915 | 0.9165 | 0.8477 | -7.51
15170 | Delaware County, Indiana | 34620 | 0.8930 | 0.8299 | -7.07
15180 | Dubois County, Indiana | 99915 | 0.8682 | 0.8477 | -2.36
15190 | Elkhart County, Indiana | 21140 | 0.9627 | 0.9442 | -1.92
15200 | Fayette County, Indiana | 99915 | 0.8682 | 0.8477 | -2.36
15210 | Floyd County, Indiana | 31140 | 0.9272 | 0.9135 | -1.48
15220 | Fountain County, Indiana | 99915 | 0.8682 | 0.8477 | -2.36
15230 | Franklin County, Indiana | 17140 | 0.9177 | 0.9617 | 4.79
15240 | Fulton County, Indiana | 99915 | 0.8682 | 0.8477 | -2.36
15250 | Gibson County, Indiana | 21780 | 0.8726 | 0.8830 | 1.19
15260 | Grant County, Indiana | 99915 | 0.8682 | 0.8477 | -2.36
15270 | Greene County, Indiana | 14020 | 0.8593 | 0.8548 | -0.52
15280 | Hamilton County, Indiana | 26900 | 0.9893 | 0.9766 | -1.28
15290 | Hancock County, Indiana | 26900 | 0.9893 | 0.9766 | -1.28
15300 | Harrison County, Indiana | 31140 | 0.9272 | 0.9135 | -1.48
15310 | Hendricks County, Indiana | 26900 | 0.9893 | 0.9766 | -1.28
15320 | Henry County, Indiana | 99915 | 0.8682 | 0.8477 | -2.36
15330 | Howard County, Indiana | 29020 | 0.9508 | 0.9460 | -0.50
15340 | Huntington County, Indiana | 99915 | 0.9165 | 0.8477 | -7.51
15350 | Jackson County, Indiana | 99915 | 0.8682 | 0.8477 | -2.36
15360 | Jasper County, Indiana | 23844 | 0.9067 | 0.9281 | 2.36
15370 | Jay County, Indiana | 99915 | 0.8682 | 0.8477 | -2.36
15380 | Jefferson County, Indiana | 99915 | 0.8682 | 0.8477 | -2.36
15390 | Jennings County, Indiana | 99915 | 0.8682 | 0.8477 | -2.36
15400 | Johnson County, Indiana | 26900 | 0.9893 | 0.9766 | -1.28
15410 | Knox County, Indiana | 99915 | 0.8682 | 0.8477 | -2.36
15420 | Kosciusko County, Indiana | 99915 | 0.8682 | 0.8477 | -2.36
15430 | Lagrange County, Indiana | 99915 | 0.8682 | 0.8477 | -2.36
15440 | Lake County, Indiana | 23844 | 0.9395 | 0.9281 | -1.21
15450 | La Porte County, Indiana | 33140 | 0.9069 | 0.9093 | 0.26
15460 | Lawrence County, Indiana | 99915 | 0.8682 | 0.8477 | -2.36
15470 | Madison County, Indiana | 11300 | 0.9226 | 0.8790 | -4.73
15480 | Marion County, Indiana | 26900 | 0.9893 | 0.9766 | -1.28
15490 | Marshall County, Indiana | 99915 | 0.8682 | 0.8477 | -2.36
15500 | Martin County, Indiana | 99915 | 0.8682 | 0.8477 | -2.36
15510 | Miami County, Indiana | 99915 | 0.8682 | 0.8477 | -2.36
15520 | Monroe County, Indiana | 14020 | 0.8447 | 0.8548 | 1.20
15530 | Montgomery County, Indiana | 99915 | 0.8682 | 0.8477 | -2.36
15540 | Morgan County, Indiana | 26900 | 0.9893 | 0.9766 | -1.28
15550 | Newton County, Indiana | 23844 | 0.9067 | 0.9281 | 2.36
15560 | Noble County, Indiana | 99915 | 0.8682 | 0.8477 | -2.36
15570 | Ohio County, Indiana | 17140 | 0.9675 | 0.9617 | -0.60
15580 | Orange County, Indiana | 99915 | 0.8682 | 0.8477 | -2.36
15590 | Owen County, Indiana | 14020 | 0.8593 | 0.8548 | -0.52
15600 | Parke County, Indiana | 99915 | 0.8682 | 0.8477 | -2.36
15610 | Perry County, Indiana | 99915 | 0.8682 | 0.8477 | -2.36
15620 | Pike County, Indiana | 99915 | 0.8682 | 0.8477 | -2.36
15630 | Porter County, Indiana | 23844 | 0.9395 | 0.9281 | -1.21
15640 | Posey County, Indiana | 21780 | 0.8713 | 0.8830 | 1.34
15650 | Pulaski County, Indiana | 99915 | 0.8682 | 0.8477 | -2.36
15660 | Putnam County, Indiana | 26900 | 0.9330 | 0.9766 | 4.67
15670 | Randolph County, Indiana | 99915 | 0.8682 | 0.8477 | -2.36
15680 | Ripley County, Indiana | 99915 | 0.8682 | 0.8477 | -2.36
15690 | Rush County, Indiana | 99915 | 0.8682 | 0.8477 | -2.36
15700 | St Joseph County, Indiana | 43780 | 0.9788 | 0.9690 | -1.00
15710 | Scott County, Indiana | 99915 | 0.8959 | 0.8477 | -5.38
15720 | Shelby County, Indiana | 26900 | 0.9893 | 0.9766 | -1.28
15730 | Spencer County, Indiana | 99915 | 0.8682 | 0.8477 | -2.36
15740 | Starke County, Indiana | 99915 | 0.8682 | 0.8477 | -2.36
15750 | Steuben County, Indiana | 99915 | 0.8682 | 0.8477 | -2.36
15760 | Sullivan County, Indiana | 45460 | 0.8522 | 0.8661 | 1.63
15770 | Switzerland County, Indiana | 99915 | 0.8682 | 0.8477 | -2.36
15780 | Tippecanoe County, Indiana | 29140 | 0.8736 | 0.8972 | 2.70
15790 | Tipton County, Indiana | 29020 | 0.9508 | 0.9460 | -0.50
15800 | Union County, Indiana | 99915 | 0.8682 | 0.8477 | -2.36
15810 | Vanderburgh County, Indiana | 21780 | 0.8713 | 0.8830 | 1.34
15820 | Vermillion County, Indiana | 45460 | 0.8321 | 0.8661 | 4.09
15830 | Vigo County, Indiana | 45460 | 0.8321 | 0.8661 | 4.09
15840 | Wabash County, Indiana | 99915 | 0.8682 | 0.8477 | -2.36
15850 | Warren County, Indiana | 99915 | 0.8682 | 0.8477 | -2.36
15860 | Warrick County, Indiana | 21780 | 0.8713 | 0.8830 | 1.34
15870 | Washington County, Indiana | 31140 | 0.8995 | 0.9135 | 1.56
15880 | Wayne County, Indiana | 99915 | 0.8682 | 0.8477 | -2.36
15890 | Wells County, Indiana | 23060 | 0.9750 | 0.9504 | -2.52
15900 | White County, Indiana | 99915 | 0.8682 | 0.8477 | -2.36
15910 | Whitley County, Indiana | 23060 | 0.9750 | 0.9504 | -2.52
16000 | Adair County, Iowa | 99916 | 0.8552 | 0.8697 | 1.70
16010 | Adams County, Iowa | 99916 | 0.8552 | 0.8697 | 1.70
16020 | Allamakee County, Iowa | 99916 | 0.8552 | 0.8697 | 1.70
16030 | Appanoose County, Iowa | 99916 | 0.8552 | 0.8697 | 1.70
16040 | Audubon County, Iowa | 99916 | 0.8552 | 0.8697 | 1.70
16050 | Benton County, Iowa | 16300 | 0.8710 | 0.8903 | 2.22
16060 | Black Hawk County, Iowa | 47940 | 0.8557 | 0.8422 | -1.58
16070 | Boone County, Iowa | 99916 | 0.8552 | 0.8697 | 1.70
16080 | Bremer County, Iowa | 47940 | 0.8576 | 0.8422 | -1.80
16090 | Buchanan County, Iowa | 99916 | 0.8552 | 0.8697 | 1.70
16100 | Buena Vista County, Iowa | 99916 | 0.8552 | 0.8697 | 1.70
16110 | Butler County, Iowa | 99916 | 0.8552 | 0.8697 | 1.70
16120 | Calhoun County, Iowa | 99916 | 0.8552 | 0.8697 | 1.70
16130 | Carroll County, Iowa | 99916 | 0.8552 | 0.8697 | 1.70
16140 | Cass County, Iowa | 99916 | 0.8552 | 0.8697 | 1.70
16150 | Cedar County, Iowa | 99916 | 0.8552 | 0.8697 | 1.70
16160 | Cerro Gordo County, Iowa | 99916 | 0.8552 | 0.8697 | 1.70
16170 | Cherokee County, Iowa | 99916 | 0.8552 | 0.8697 | 1.70
16180 | Chickasaw County, Iowa | 99916 | 0.8552 | 0.8697 | 1.70
16190 | Clarke County, Iowa | 99916 | 0.8552 | 0.8697 | 1.70
16200 | Clay County, Iowa | 99916 | 0.8552 | 0.8697 | 1.70
16210 | Clayton County, Iowa | 99916 | 0.8552 | 0.8697 | 1.70
16220 | Clinton County, Iowa | 99916 | 0.8552 | 0.8697 | 1.70
16230 | Crawford County, Iowa | 99916 | 0.8552 | 0.8697 | 1.70
16240 | Dallas County, Iowa | 19780 | 0.9669 | 0.9136 | -5.51
16250 | Davis County, Iowa | 99916 | 0.8552 | 0.8697 | 1.70
16260 | Decatur County, Iowa | 99916 | 0.8552 | 0.8697 | 1.70
16270 | Delaware County, Iowa | 99916 | 0.8552 | 0.8697 | 1.70
16280 | Des Moines County, Iowa | 99916 | 0.8552 | 0.8697 | 1.70
16290 | Dickinson County, Iowa | 99916 | 0.8552 | 0.8697 | 1.70
16300 | Dubuque County, Iowa | 20220 | 0.9024 | 0.9150 | 1.40
16310 | Emmet County, Iowa | 99916 | 0.8552 | 0.8697 | 1.70
16320 | Fayette County, Iowa | 99916 | 0.8552 | 0.8697 | 1.70
16330 | Floyd County, Iowa | 99916 | 0.8552 | 0.8697 | 1.70
16340 | Franklin County, Iowa | 99916 | 0.8552 | 0.8697 | 1.70
16350 | Fremont County, Iowa | 99916 | 0.8552 | 0.8697 | 1.70
16360 | Greene County, Iowa | 99916 | 0.8552 | 0.8697 | 1.70
16370 | Grundy County, Iowa | 47940 | 0.8576 | 0.8422 | -1.80
16380 | Guthrie County, Iowa | 19780 | 0.9132 | 0.9136 | 0.04
16390 | Hamilton County, Iowa | 99916 | 0.8552 | 0.8697 | 1.70
16400 | Hancock County, Iowa | 99916 | 0.8552 | 0.8697 | 1.70
16410 | Hardin County, Iowa | 99916 | 0.8552 | 0.8697 | 1.70
16420 | Harrison County, Iowa | 36540 | 0.9077 | 0.9467 | 4.30
16430 | Henry County, Iowa | 99916 | 0.8552 | 0.8697 | 1.70
16440 | Howard County, Iowa | 99916 | 0.8552 | 0.8697 | 1.70
16450 | Humboldt County, Iowa | 99916 | 0.8552 | 0.8697 | 1.70
16460 | Ida County, Iowa | 99916 | 0.8552 | 0.8697 | 1.70
16470 | Iowa County, Iowa | 99916 | 0.8552 | 0.8697 | 1.70
16480 | Jackson County, Iowa | 99916 | 0.8552 | 0.8697 | 1.70
16490 | Jasper County, Iowa | 99916 | 0.8552 | 0.8697 | 1.70
16500 | Jefferson County, Iowa | 99916 | 0.8552 | 0.8697 | 1.70
16510 | Johnson County, Iowa | 26980 | 0.9747 | 0.9731 | -0.16
16520 | Jones County, Iowa | 16300 | 0.8710 | 0.8903 | 2.22
16530 | Keokuk County, Iowa | 99916 | 0.8552 | 0.8697 | 1.70
16540 | Kossuth County, Iowa | 99916 | 0.8552 | 0.8697 | 1.70
16550 | Lee County, Iowa | 99916 | 0.8552 | 0.8697 | 1.70
16560 | Linn County, Iowa | 16300 | 0.8825 | 0.8903 | 0.88
16570 | Louisa County, Iowa | 99916 | 0.8552 | 0.8697 | 1.70
16580 | Lucas County, Iowa | 99916 | 0.8552 | 0.8697 | 1.70
16590 | Lyon County, Iowa | 99916 | 0.8552 | 0.8697 | 1.70
16600 | Madison County, Iowa | 19780 | 0.9132 | 0.9136 | 0.04
16610 | Mahaska County, Iowa | 99916 | 0.8552 | 0.8697 | 1.70
16620 | Marion County, Iowa | 99916 | 0.8552 | 0.8697 | 1.70
16630 | Marshall County, Iowa | 99916 | 0.8552 | 0.8697 | 1.70
16640 | Mills County, Iowa | 36540 | 0.9077 | 0.9467 | 4.30
16650 | Mitchell County, Iowa | 99916 | 0.8552 | 0.8697 | 1.70
16660 | Monona County, Iowa | 99916 | 0.8552 | 0.8697 | 1.70
16670 | Monroe County, Iowa | 99916 | 0.8552 | 0.8697 | 1.70
16680 | Montgomery County, Iowa | 99916 | 0.8552 | 0.8697 | 1.70
16690 | Muscatine County, Iowa | 99916 | 0.8552 | 0.8697 | 1.70
16700 | O Brien County, Iowa | 99916 | 0.8552 | 0.8697 | 1.70
16710 | Osceola County, Iowa | 99916 | 0.8552 | 0.8697 | 1.70
16720 | Page County, Iowa | 99916 | 0.8552 | 0.8697 | 1.70
16730 | Palo Alto County, Iowa | 99916 | 0.8552 | 0.8697 | 1.70
16740 | Plymouth County, Iowa | 99916 | 0.8552 | 0.8697 | 1.70
16750 | Pocahontas County, Iowa | 99916 | 0.8552 | 0.8697 | 1.70
16760 | Polk County, Iowa | 19780 | 0.9669 | 0.9136 | -5.51
16770 | Pottawattamie County, Iowa | 36540 | 0.9560 | 0.9467 | -0.97
16780 | Poweshiek County, Iowa | 99916 | 0.8552 | 0.8697 | 1.70
16790 | Ringgold County, Iowa | 99916 | 0.8552 | 0.8697 | 1.70
16800 | Sac County, Iowa | 99916 | 0.8552 | 0.8697 | 1.70
16810 | Scott County, Iowa | 19340 | 0.8724 | 0.8557 | -1.91
16820 | Shelby County, Iowa | 99916 | 0.8552 | 0.8697 | 1.70
16830 | Sioux County, Iowa | 99916 | 0.8552 | 0.8697 | 1.70
16840 | Story County, Iowa | 11180 | 0.9065 | 0.9777 | 7.85
16850 | Tama County, Iowa | 99916 | 0.8552 | 0.8697 | 1.70
16860 | Taylor County, Iowa | 99916 | 0.8552 | 0.8697 | 1.70
16870 | Union County, Iowa | 99916 | 0.8552 | 0.8697 | 1.70
16880 | Van Buren County, Iowa | 99916 | 0.8552 | 0.8697 | 1.70
16890 | Wapello County, Iowa | 99916 | 0.8552 | 0.8697 | 1.70
16900 | Warren County, Iowa | 19780 | 0.9669 | 0.9136 | -5.51
16910 | Washington County, Iowa | 26980 | 0.9171 | 0.9731 | 6.11
16920 | Wayne County, Iowa | 99916 | 0.8552 | 0.8697 | 1.70
16930 | Webster County, Iowa | 99916 | 0.8552 | 0.8697 | 1.70
16940 | Winnebago County, Iowa | 99916 | 0.8552 | 0.8697 | 1.70
16950 | Winneshiek County, Iowa | 99916 | 0.8552 | 0.8697 | 1.70
16960 | Woodbury County, Iowa | 43580 | 0.9399 | 0.9217 | -1.94
16970 | Worth County, Iowa | 99916 | 0.8552 | 0.8697 | 1.70
16980 | Wright County, Iowa | 99916 | 0.8552 | 0.8697 | 1.70
17000 | Allen County, Kansas | 99917 | 0.8038 | 0.8000 | -0.47
17010 | Anderson County, Kansas | 99917 | 0.8038 | 0.8000 | -0.47
17020 | Atchison County, Kansas | 99917 | 0.8038 | 0.8000 | -0.47
17030 | Barber County, Kansas | 99917 | 0.8038 | 0.8000 | -0.47
17040 | Barton County, Kansas | 99917 | 0.8038 | 0.8000 | -0.47
17050 | Bourbon County, Kansas | 99917 | 0.8038 | 0.8000 | -0.47
17060 | Brown County, Kansas | 99917 | 0.8038 | 0.8000 | -0.47
17070 | Butler County, Kansas | 48620 | 0.9164 | 0.9079 | -0.93
17080 | Chase County, Kansas | 99917 | 0.8038 | 0.8000 | -0.47
17090 | Chautauqua County, Kansas | 99917 | 0.8038 | 0.8000 | -0.47
17100 | Cherokee County, Kansas | 99917 | 0.8038 | 0.8000 | -0.47
17110 | Cheyenne County, Kansas | 99917 | 0.8038 | 0.8000 | -0.47
17120 | Clark County, Kansas | 99917 | 0.8038 | 0.8000 | -0.47
17130 | Clay County, Kansas | 99917 | 0.8038 | 0.8000 | -0.47
17140 | Cloud County, Kansas | 99917 | 0.8038 | 0.8000 | -0.47
17150 | Coffey County, Kansas | 99917 | 0.8038 | 0.8000 | -0.47
17160 | Comanche County, Kansas | 99917 | 0.8038 | 0.8000 | -0.47
17170 | Cowley County, Kansas | 99917 | 0.8038 | 0.8000 | -0.47
17180 | Crawford County, Kansas | 99917 | 0.8038 | 0.8000 | -0.47
17190 | Decatur County, Kansas | 99917 | 0.8038 | 0.8000 | -0.47
17200 | Dickinson County, Kansas | 99917 | 0.8038 | 0.8000 | -0.47
17210 | Doniphan County, Kansas | 41140 | 0.8780 | 1.0136 | 15.44
17220 | Douglas County, Kansas | 29940 | 0.8537 | 0.8353 | -2.16
17230 | Edwards County, Kansas | 99917 | 0.8038 | 0.8000 | -0.47
17240 | Elk County, Kansas | 99917 | 0.8038 | 0.8000 | -0.47
17250 | Ellis County, Kansas | 99917 | 0.8038 | 0.8000 | -0.47
17260 | Ellsworth County, Kansas | 99917 | 0.8038 | 0.8000 | -0.47
17270 | Finney County, Kansas | 99917 | 0.8038 | 0.8000 | -0.47
17280 | Ford County, Kansas | 99917 | 0.8038 | 0.8000 | -0.47
17290 | Franklin County, Kansas | 28140 | 0.8758 | 0.9514 | 8.63
17300 | Geary County, Kansas | 99917 | 0.8038 | 0.8000 | -0.47
17310 | Gove County, Kansas | 99917 | 0.8038 | 0.8000 | -0.47
17320 | Graham County, Kansas | 99917 | 0.8038 | 0.8000 | -0.47
17330 | Grant County, Kansas | 99917 | 0.8038 | 0.8000 | -0.47
17340 | Gray County, Kansas | 99917 | 0.8038 | 0.8000 | -0.47
17350 | Greeley County, Kansas | 99917 | 0.8038 | 0.8000 | -0.47
17360 | Greenwood County, Kansas | 99917 | 0.8038 | 0.8000 | -0.47
17370 | Hamilton County, Kansas | 99917 | 0.8038 | 0.8000 | -0.47
17380 | Harper County, Kansas | 99917 | 0.8038 | 0.8000 | -0.47
17390 | Harvey County, Kansas | 48620 | 0.9164 | 0.9079 | -0.93
17391 | Haskell County, Kansas | 99917 | 0.8038 | 0.8000 | -0.47
17410 | Hodgeman County, Kansas | 99917 | 0.8038 | 0.8000 | -0.47
17420 | Jackson County, Kansas | 45820 | 0.8480 | 0.8746 | 3.14
17430 | Jefferson County, Kansas | 45820 | 0.8480 | 0.8746 | 3.14
17440 | Jewell County, Kansas | 99917 | 0.8038 | 0.8000 | -0.47
17450 | Johnson County, Kansas | 28140 | 0.9483 | 0.9514 | 0.33
17451 | Kearny County, Kansas | 99917 | 0.8038 | 0.8000 | -0.47
17470 | Kingman County, Kansas | 99917 | 0.8038 | 0.8000 | -0.47
17480 | Kiowa County, Kansas | 99917 | 0.8038 | 0.8000 | -0.47
17490 | Labette County, Kansas | 99917 | 0.8038 | 0.8000 | -0.47
17500 | Lane County, Kansas | 99917 | 0.8038 | 0.8000 | -0.47
17510 | Leavenworth County, Kansas | 28140 | 0.9483 | 0.9514 | 0.33
17520 | Lincoln County, Kansas | 99917 | 0.8038 | 0.8000 | -0.47
17530 | Linn County, Kansas | 28140 | 0.8758 | 0.9514 | 8.63
17540 | Logan County, Kansas | 99917 | 0.8038 | 0.8000 | -0.47
17550 | Lyon County, Kansas | 99917 | 0.8038 | 0.8000 | -0.47
17560 | Mc Pherson County, Kansas | 99917 | 0.8038 | 0.8000 | -0.47
17570 | Marion County, Kansas | 99917 | 0.8038 | 0.8000 | -0.47
17580 | Marshall County, Kansas | 99917 | 0.8038 | 0.8000 | -0.47
17590 | Meade County, Kansas | 99917 | 0.8038 | 0.8000 | -0.47
17600 | Miami County, Kansas | 28140 | 0.9483 | 0.9514 | 0.33
17610 | Mitchell County, Kansas | 99917 | 0.8038 | 0.8000 | -0.47
17620 | Montgomery County, Kansas | 99917 | 0.8038 | 0.8000 | -0.47
17630 | Morris County, Kansas | 99917 | 0.8038 | 0.8000 | -0.47
17640 | Morton County, Kansas | 99917 | 0.8038 | 0.8000 | -0.47
17650 | Nemaha County, Kansas | 99917 | 0.8038 | 0.8000 | -0.47
17660 | Neosho County, Kansas | 99917 | 0.8038 | 0.8000 | -0.47
17670 | Ness County, Kansas | 99917 | 0.8038 | 0.8000 | -0.47
17680 | Norton County, Kansas | 99917 | 0.8038 | 0.8000 | -0.47
17690 | Osage County, Kansas | 45820 | 0.8480 | 0.8746 | 3.14
17700 | Osborne County, Kansas | 99917 | 0.8038 | 0.8000 | -0.47
17710 | Ottawa County, Kansas | 99917 | 0.8038 | 0.8000 | -0.47
17720 | Pawnee County, Kansas | 99917 | 0.8038 | 0.8000 | -0.47
17730 | Phillips County, Kansas | 99917 | 0.8038 | 0.8000 | -0.47
17740 | Pottawatomie County, Kansas | 99917 | 0.8038 | 0.8000 | -0.47
17750 | Pratt County, Kansas | 99917 | 0.8038 | 0.8000 | -0.47
17760 | Rawlins County, Kansas | 99917 | 0.8038 | 0.8000 | -0.47
17770 | Reno County, Kansas | 99917 | 0.8038 | 0.8000 | -0.47
17780 | Republic County, Kansas | 99917 | 0.8038 | 0.8000 | -0.47
17790 | Rice County, Kansas | 99917 | 0.8038 | 0.8000 | -0.47
17800 | Riley County, Kansas | 99917 | 0.8038 | 0.8000 | -0.47
17810 | Rooks County, Kansas | 99917 | 0.8038 | 0.8000 | -0.47
17820 | Rush County, Kansas | 99917 | 0.8038 | 0.8000 | -0.47
17830 | Russell County, Kansas | 99917 | 0.8038 | 0.8000 | -0.47
17840 | Saline County, Kansas | 99917 | 0.8038 | 0.8000 | -0.47
17841 | Scott County, Kansas | 99917 | 0.8038 | 0.8000 | -0.47
17860 | Sedgwick County, Kansas | 48620 | 0.9164 | 0.9079 | -0.93
17870 | Seward County, Kansas | 99917 | 0.8038 | 0.8000 | -0.47
17880 | Shawnee County, Kansas | 45820 | 0.8920 | 0.8746 | -1.95
17890 | Sheridan County, Kansas | 99917 | 0.8038 | 0.8000 | -0.47
17900 | Sherman County, Kansas | 99917 | 0.8038 | 0.8000 | -0.47
17910 | Smith County, Kansas | 99917 | 0.8038 | 0.8000 | -0.47
17920 | Stafford County, Kansas | 99917 | 0.8038 | 0.8000 | -0.47
17921 | Stanton County, Kansas | 99917 | 0.8038 | 0.8000 | -0.47
17940 | Stevens County, Kansas | 99917 | 0.8038 | 0.8000 | -0.47
17950 | Sumner County, Kansas | 48620 | 0.8597 | 0.9079 | 5.61
17960 | Thomas County, Kansas | 99917 | 0.8038 | 0.8000 | -0.47
17970 | Trego County, Kansas | 99917 | 0.8038 | 0.8000 | -0.47
17980 | Wabaunsee County, Kansas | 45820 | 0.8480 | 0.8746 | 3.14
17981 | Wallace County, Kansas | 99917 | 0.8038 | 0.8000 | -0.47
17982 | Washington County, Kansas | 99917 | 0.8038 | 0.8000 | -0.47
17983 | Wichita County, Kansas | 99917 | 0.8038 | 0.8000 | -0.47
17984 | Wilson County, Kansas | 99917 | 0.8038 | 0.8000 | -0.47
17985 | Woodson County, Kansas | 99917 | 0.8038 | 0.8000 | -0.47
17986 | Wyandotte County, Kansas | 28140 | 0.9483 | 0.9514 | 0.33
18000 | Adair County, Kentucky | 99918 | 0.7812 | 0.7780 | -0.41
18010 | Allen County, Kentucky | 99918 | 0.7812 | 0.7780 | -0.41
18020 | Anderson County, Kentucky | 99918 | 0.7812 | 0.7780 | -0.41
18030 | Ballard County, Kentucky | 99918 | 0.7812 | 0.7780 | -0.41
18040 | Barren County, Kentucky | 99918 | 0.7812 | 0.7780 | -0.41
18050 | Bath County, Kentucky | 99918 | 0.7812 | 0.7780 | -0.41
18060 | Bell County, Kentucky | 99918 | 0.7812 | 0.7780 | -0.41
18070 | Boone County, Kentucky | 17140 | 0.9675 | 0.9617 | -0.60
18080 | Bourbon County, Kentucky | 30460 | 0.9032 | 0.9191 | 1.76
18090 | Boyd County, Kentucky | 26580 | 0.9477 | 0.9013 | -4.90
18100 | Boyle County, Kentucky | 99918 | 0.7812 | 0.7780 | -0.41
18110 | Bracken County, Kentucky | 17140 | 0.8737 | 0.9617 | 10.07
18120 | Breathitt County, Kentucky | 99918 | 0.7812 | 0.7780 | -0.41
18130 | Breckinridge County, Kentucky | 99918 | 0.7812 | 0.7780 | -0.41
18140 | Bullitt County, Kentucky | 31140 | 0.9272 | 0.9135 | -1.48
18150 | Butler County, Kentucky | 99918 | 0.7812 | 0.7780 | -0.41
18160 | Caldwell County, Kentucky | 99918 | 0.7812 | 0.7780 | -0.41
18170 | Calloway County, Kentucky | 99918 | 0.7812 | 0.7780 | -0.41
18180 | Campbell County, Kentucky | 17140 | 0.9675 | 0.9617 | -0.60
18190 | Carlisle County, Kentucky | 99918 | 0.7812 | 0.7780 | -0.41
18191 | Carroll County, Kentucky | 99918 | 0.7812 | 0.7780 | -0.41
18210 | Carter County, Kentucky | 99918 | 0.8622 | 0.7780 | -9.77
18220 | Casey County, Kentucky | 99918 | 0.7812 | 0.7780 | -0.41
18230 | Christian County, Kentucky | 17300 | 0.8284 | 0.8451 | 2.02
18240 | Clark County, Kentucky | 30460 | 0.9032 | 0.9191 | 1.76
18250 | Clay County, Kentucky | 99918 | 0.7812 | 0.7780 | -0.41
18260 | Clinton County, Kentucky | 99918 | 0.7812 | 0.7780 | -0.41
18270 | Crittenden County, Kentucky | 99918 | 0.7812 | 0.7780 | -0.41
18271 | Cumberland County, Kentucky | 99918 | 0.7812 | 0.7780 | -0.41
18290 | Daviess County, Kentucky | 36980 | 0.8780 | 0.8763 | -0.19
18291 | Edmonson County, Kentucky | 14540 | 0.8035 | 0.8162 | 1.58
18310 | Elliott County, Kentucky | 99918 | 0.7812 | 0.7780 | -0.41
18320 | Estill County, Kentucky | 99918 | 0.7812 | 0.7780 | -0.41
18330 | Fayette County, Kentucky | 30460 | 0.9032 | 0.9191 | 1.76
18340 | Fleming County, Kentucky | 99918 | 0.7812 | 0.7780 | -0.41
18350 | Floyd County, Kentucky | 99918 | 0.7812 | 0.7780 | -0.41
18360 | Franklin County, Kentucky | 99918 | 0.7812 | 0.7780 | -0.41
18361 | Fulton County, Kentucky | 99918 | 0.7812 | 0.7780 | -0.41
18362 | Gallatin County, Kentucky | 17140 | 0.9675 | 0.9617 | -0.60
18390 | Garrard County, Kentucky | 99918 | 0.7812 | 0.7780 | -0.41
18400 | Grant County, Kentucky | 17140 | 0.9675 | 0.9617 | -0.60
18410 | Graves County, Kentucky | 99918 | 0.7812 | 0.7780 | -0.41
18420 | Grayson County, Kentucky | 99918 | 0.7812 | 0.7780 | -0.41
18421 | Green County, Kentucky | 99918 | 0.7812 | 0.7780 | -0.41
18440 | Greenup County, Kentucky | 26580 | 0.9477 | 0.9013 | -4.90
18450 | Hancock County, Kentucky | 36980 | 0.8319 | 0.8763 | 5.34
18460 | Hardin County, Kentucky | 21060 | 0.8330 | 0.8713 | 4.60
18470 | Harlan County, Kentucky | 99918 | 0.7812 | 0.7780 | -0.41
18480 | Harrison County, Kentucky | 99918 | 0.7812 | 0.7780 | -0.41
18490 | Hart County, Kentucky | 99918 | 0.7812 | 0.7780 | -0.41
18500 | Henderson County, Kentucky | 21780 | 0.8713 | 0.8830 | 1.34
18510 | Henry County, Kentucky | 31140 | 0.8555 | 0.9135 | 6.78
18511 | Hickman County, Kentucky | 99918 | 0.7812 | 0.7780 | -0.41
18530 | Hopkins County, Kentucky | 99918 | 0.7812 | 0.7780 | -0.41
18540 | Jackson County, Kentucky | 99918 | 0.7812 | 0.7780 | -0.41
18550 | Jefferson County, Kentucky | 31140 | 0.9272 | 0.9135 | -1.48
18560 | Jessamine County, Kentucky | 30460 | 0.9032 | 0.9191 | 1.76
18570 | Johnson County, Kentucky | 99918 | 0.7812 | 0.7780 | -0.41
18580 | Kenton County, Kentucky | 17140 | 0.9675 | 0.9617 | -0.60
18590 | Knott County, Kentucky | 99918 | 0.7812 | 0.7780 | -0.41
18600 | Knox County, Kentucky | 99918 | 0.7812 | 0.7780 | -0.41
18610 | Larue County, Kentucky | 21060 | 0.8330 | 0.8713 | 4.60
18620 | Laurel County, Kentucky | 99918 | 0.7812 | 0.7780 | -0.41
18630 | Lawrence County, Kentucky | 99918 | 0.7812 | 0.7780 | -0.41
18640 | Lee County, Kentucky | 99918 | 0.7812 | 0.7780 | -0.41
18650 | Leslie County, Kentucky | 99918 | 0.7812 | 0.7780 | -0.41
18660 | Letcher County, Kentucky | 99918 | 0.7812 | 0.7780 | -0.41
18670 | Lewis County, Kentucky | 99918 | 0.7812 | 0.7780 | -0.41
18680 | Lincoln County, Kentucky | 99918 | 0.7812 | 0.7780 | -0.41
18690 | Livingston County, Kentucky | 99918 | 0.7812 | 0.7780 | -0.41
18700 | Logan County, Kentucky | 99918 | 0.7812 | 0.7780 | -0.41
18710 | Lyon County, Kentucky | 99918 | 0.7812 | 0.7780 | -0.41
18720 | Mc Cracken County, Kentucky | 99918 | 0.7812 | 0.7780 | -0.41
18730 | Mc Creary County, Kentucky | 99918 | 0.7812 | 0.7780 | -0.41
18740 | Mc Lean County, Kentucky | 36980 | 0.8319 | 0.8763 | 5.34
18750 | Madison County, Kentucky | 99918 | 0.8377 | 0.7780 | -7.13
18760 | Magoffin County, Kentucky | 99918 | 0.7812 | 0.7780 | -0.41
18770 | Marion County, Kentucky | 99918 | 0.7812 | 0.7780 | -0.41
18780 | Marshall County, Kentucky | 99918 | 0.7812 | 0.7780 | -0.41
18790 | Martin County, Kentucky | 99918 | 0.7812 | 0.7780 | -0.41
18800 | Mason County, Kentucky | 99918 | 0.7812 | 0.7780 | -0.41
18801 | Meade County, Kentucky | 31140 | 0.8555 | 0.9135 | 6.78
18802 | Menifee County, Kentucky | 99918 | 0.7812 | 0.7780 | -0.41
18830 | Mercer County, Kentucky | 99918 | 0.7812 | 0.7780 | -0.41
18831 | Metcalfe County, Kentucky | 99918 | 0.7812 | 0.7780 | -0.41
18850 | Monroe County, Kentucky | 99918 | 0.7812 | 0.7780 | -0.41
18860 | Montgomery County, Kentucky | 99918 | 0.7812 | 0.7780 | -0.41
18861 | Morgan County, Kentucky | 99918 | 0.7812 | 0.7780 | -0.41
18880 | Muhlenberg County, Kentucky | 99918 | 0.7812 | 0.7780 | -0.41
18890 | Nelson County, Kentucky | 31140 | 0.8555 | 0.9135 | 6.78
18900 | Nicholas County, Kentucky | 99918 | 0.7812 | 0.7780 | -0.41
18910 | Ohio County, Kentucky | 99918 | 0.7812 | 0.7780 | -0.41
18920 | Oldham County, Kentucky | 31140 | 0.9272 | 0.9135 | -1.48
18930 | Owen County, Kentucky | 99918 | 0.7812 | 0.7780 | -0.41
18931 | Owsley County, Kentucky | 99918 | 0.7812 | 0.7780 | -0.41
18932 | Pendleton County, Kentucky | 17140 | 0.9675 | 0.9617 | -0.60
18960 | Perry County, Kentucky | 99918 | 0.7812 | 0.7780 | -0.41
18970 | Pike County, Kentucky | 99918 | 0.7812 | 0.7780 | -0.41
18971 | Powell County, Kentucky | 99918 | 0.7812 | 0.7780 | -0.41
18972 | Pulaski County, Kentucky | 99918 | 0.7812 | 0.7780 | -0.41
18973 | Robertson County, Kentucky | 99918 | 0.7812 | 0.7780 | -0.41
18974 | Rockcastle County, Kentucky | 99918 | 0.7812 | 0.7780 | -0.41
18975 | Rowan County, Kentucky | 99918 | 0.7812 | 0.7780 | -0.41
18976 | Russell County, Kentucky | 99918 | 0.7812 | 0.7780 | -0.41
18977 | Scott County, Kentucky | 30460 | 0.9032 | 0.9191 | 1.76
18978 | Shelby County, Kentucky | 31140 | 0.8555 | 0.9135 | 6.78
18979 | Simpson County, Kentucky | 99918 | 0.7812 | 0.7780 | -0.41
18980 | Spencer County, Kentucky | 31140 | 0.8555 | 0.9135 | 6.78
18981 | Taylor County, Kentucky | 99918 | 0.7812 | 0.7780 | -0.41
18982 | Todd County, Kentucky | 99918 | 0.7812 | 0.7780 | -0.41
18983 | Trigg County, Kentucky | 17300 | 0.8071 | 0.8451 | 4.71
18984 | Trimble County, Kentucky | 31140 | 0.8555 | 0.9135 | 6.78
18985 | Union County, Kentucky | 99918 | 0.7812 | 0.7780 | -0.41
18986 | Warren County, Kentucky | 14540 | 0.8035 | 0.8162 | 1.58
18987 | Washington County, Kentucky | 99918 | 0.7812 | 0.7780 | -0.41
18988 | Wayne County, Kentucky | 99918 | 0.7812 | 0.7780 | -0.41
18989 | Webster County, Kentucky | 21780 | 0.8286 | 0.8830 | 6.57
18990 | Whitley County, Kentucky | 99918 | 0.7812 | 0.7780 | -0.41
18991 | Wolfe County, Kentucky | 99918 | 0.7812 | 0.7780 | -0.41
18992 | Woodford County, Kentucky | 30460 | 0.9032 | 0.9191 | 1.76
19000 | Acadia County, Louisiana | 99919 | 0.7831 | 0.7450 | -4.87
19010 | Allen County, Louisiana | 99919 | 0.7376 | 0.7450 | 1.00
19020 | Ascension County, Louisiana | 12940 | 0.8618 | 0.8099 | -6.02
19030 | Assumption County, Louisiana | 99919 | 0.7376 | 0.7450 | 1.00
19040 | Avoyelles County, Louisiana | 99919 | 0.7376 | 0.7450 | 1.00
19050 | Beauregard County, Louisiana | 99919 | 0.7376 | 0.7450 | 1.00
19060 | Bienville County, Louisiana | 99919 | 0.7376 | 0.7450 | 1.00
19070 | Bossier County, Louisiana | 43340 | 0.8749 | 0.8881 | 1.51
19080 | Caddo County, Louisiana | 43340 | 0.8749 | 0.8881 | 1.51
19090 | Calcasieu County, Louisiana | 29340 | 0.7846 | 0.7928 | 1.05
19100 | Caldwell County, Louisiana | 99919 | 0.7376 | 0.7450 | 1.00
19110 | Cameron County, Louisiana | 29340 | 0.7587 | 0.7928 | 4.49
19120 | Catahoula County, Louisiana | 99919 | 0.7376 | 0.7450 | 1.00
19130 | Claiborne County, Louisiana | 99919 | 0.7376 | 0.7450 | 1.00
19140 | Concordia County, Louisiana | 99919 | 0.7376 | 0.7450 | 1.00
19150 | De Soto County, Louisiana | 43340 | 0.8050 | 0.8881 | 10.32
19160 | East Baton Rouge County, Louisiana | 12940 | 0.8618 | 0.8099 | -6.02
19170 | East Carroll County, Louisiana | 99919 | 0.7376 | 0.7450 | 1.00
19180 | East Feliciana County, Louisiana | 12940 | 0.7967 | 0.8099 | 1.66
19190 | Evangeline County, Louisiana | 99919 | 0.7376 | 0.7450 | 1.00
19200 | Franklin County, Louisiana | 99919 | 0.7376 | 0.7450 | 1.00
19210 | Grant County, Louisiana | 10780 | 0.7687 | 0.8020 | 4.33
19220 | Iberia County, Louisiana | 99919 | 0.7376 | 0.7450 | 1.00
19230 | Iberville County, Louisiana | 12940 | 0.7967 | 0.8099 | 1.66
19240 | Jackson County, Louisiana | 99919 | 0.7376 | 0.7450 | 1.00
19250 | Jefferson County, Louisiana | 35380 | 0.8995 | 0.8858 | -1.52
19260 | Jefferson Davis County, Louisiana | 99919 | 0.7376 | 0.7450 | 1.00
19270 | Lafayette County, Louisiana | 29180 | 0.8340 | 0.8293 | -0.56
19280 | Lafourche County, Louisiana | 26380 | 0.7894 | 0.8003 | 1.38
19290 | La Salle County, Louisiana | 99919 | 0.7376 | 0.7450 | 1.00
19300 | Lincoln County, Louisiana | 99919 | 0.7376 | 0.7450 | 1.00
19310 | Livingston County, Louisiana | 12940 | 0.8618 | 0.8099 | -6.02
19320 | Madison County, Louisiana | 99919 | 0.7376 | 0.7450 | 1.00
19330 | Morehouse County, Louisiana | 99919 | 0.7376 | 0.7450 | 1.00
19340 | Natchitoches County, Louisiana | 99919 | 0.7376 | 0.7450 | 1.00
19350 | Orleans County, Louisiana | 35380 | 0.8995 | 0.8858 | -1.52
19360 | Ouachita County, Louisiana | 33740 | 0.8038 | 0.8011 | -0.34
19370 | Plaquemines County, Louisiana | 35380 | 0.8995 | 0.8858 | -1.52
19380 | Pointe Coupee County, Louisiana | 12940 | 0.7967 | 0.8099 | 1.66
19390 | Rapides County, Louisiana | 10780 | 0.8033 | 0.8020 | -0.16
19400 | Red River County, Louisiana | 99919 | 0.7376 | 0.7450 | 1.00
19410 | Richland County, Louisiana | 99919 | 0.7376 | 0.7450 | 1.00
19420 | Sabine County, Louisiana | 99919 | 0.7376 | 0.7450 | 1.00
19430 | St Bernard County, Louisiana | 35380 | 0.8995 | 0.8858 | -1.52
19440 | St Charles County, Louisiana | 35380 | 0.8995 | 0.8858 | -1.52
19450 | St Helena County, Louisiana | 12940 | 0.7967 | 0.8099 | 1.66
19460 | St James County, Louisiana | 99919 | 0.8203 | 0.7450 | -9.18
19470 | St John Baptist County, Louisiana | 35380 | 0.8995 | 0.8858 | -1.52
19480 | St Landry County, Louisiana | 99919 | 0.7831 | 0.7450 | -4.87
19490 | St Martin County, Louisiana | 29180 | 0.8340 | 0.8293 | -0.56
19500 | St Mary County, Louisiana | 99919 | 0.7376 | 0.7450 | 1.00
19510 | St Tammany County, Louisiana | 35380 | 0.8995 | 0.8858 | -1.52
19520 | Tangipahoa County, Louisiana | 99919 | 0.7376 | 0.7450 | 1.00
19530 | Tensas County, Louisiana | 99919 | 0.7376 | 0.7450 | 1.00
19540 | Terrebonne County, Louisiana | 26380 | 0.7894 | 0.8003 | 1.38
19550 | Union County, Louisiana | 33740 | 0.7686 | 0.8011 | 4.23
19560 | Vermilion County, Louisiana | 99919 | 0.7376 | 0.7450 | 1.00
19570 | Vernon County, Louisiana | 99919 | 0.7376 | 0.7450 | 1.00
19580 | Washington County, Louisiana | 99919 | 0.7376 | 0.7450 | 1.00
19590 | Webster County, Louisiana | 99919 | 0.8074 | 0.7450 | -7.73
19600 | West Baton Rouge County, Louisiana | 12940 | 0.8618 | 0.8099 | -6.02
19610 | West Carroll County, Louisiana | 99919 | 0.7376 | 0.7450 | 1.00
19620 | West Feliciana County, Louisiana | 12940 | 0.7967 | 0.8099 | 1.66
19630 | Winn County, Louisiana | 99919 | 0.7376 | 0.7450 | 1.00
20000 | Androscoggin County, Maine | 30340 | 0.9331 | 0.9148 | -1.96
20010 | Aroostook County, Maine | 99920 | 0.8843 | 0.8410 | -4.90
20020 | Cumberland County, Maine | 38860 | 1.0382 | 0.9926 | -4.39
20030 | Franklin County, Maine | 99920 | 0.8843 | 0.8410 | -4.90
20040 | Hancock County, Maine | 99920 | 0.8843 | 0.8410 | -4.90
20050 | Kennebec County, Maine | 99920 | 0.8843 | 0.8410 | -4.90
20060 | Knox County, Maine | 99920 | 0.8843 | 0.8410 | -4.90
20070 | Lincoln County, Maine | 99920 | 0.8843 | 0.8410 | -4.90
20080 | Oxford County, Maine | 99920 | 0.8843 | 0.8410 | -4.90
20090 | Penobscot County, Maine | 12620 | 0.9993 | 0.9719 | -2.74
20100 | Piscataquis County, Maine | 99920 | 0.8843 | 0.8410 | -4.90
20110 | Sagadahoc County, Maine | 38860 | 1.0382 | 0.9926 | -4.39
20120 | Somerset County, Maine | 99920 | 0.8843 | 0.8410 | -4.90
20130 | Waldo County, Maine | 99920 | 0.8843 | 0.8410 | -4.90
20140 | Washington County, Maine | 99920 | 0.8843 | 0.8410 | -4.90
20150 | York County, Maine | 38860 | 1.0382 | 0.9926 | -4.39
21000 | Allegany County, Maryland | 19060 | 0.9317 | 0.8859 | -4.92
21010 | Anne Arundel County, Maryland | 12580 | 0.9897 | 1.0106 | 2.11
21020 | Baltimore County, Maryland | 12580 | 0.9897 | 1.0106 | 2.11
21030 | Baltimore City County, Maryland | 12580 | 0.9897 | 1.0106 | 2.11
21040 | Calvert County, Maryland | 47894 | 1.0951 | 1.1074 | 1.12
21050 | Caroline County, Maryland | 99921 | 0.9292 | 0.8942 | -3.77
21060 | Carroll County, Maryland | 12580 | 0.9897 | 1.0106 | 2.11
21070 | Cecil County, Maryland | 48864 | 1.0499 | 1.0703 | 1.94
21080 | Charles County, Maryland | 47894 | 1.0951 | 1.1074 | 1.12
21090 | Dorchester County, Maryland | 99921 | 0.9292 | 0.8942 | -3.77
21100 | Frederick County, Maryland | 13644 | 1.1230 | 1.0923 | -2.73
21110 | Garrett County, Maryland | 99921 | 0.9292 | 0.8942 | -3.77
21120 | Harford County, Maryland | 12580 | 0.9897 | 1.0106 | 2.11
21130 | Howard County, Maryland | 12580 | 0.9897 | 1.0106 | 2.11
21140 | Kent County, Maryland | 99921 | 0.9292 | 0.8942 | -3.77
21150 | Montgomery County, Maryland | 13644 | 1.1230 | 1.0923 | -2.73
21160 | Prince Georges County, Maryland | 47894 | 1.0951 | 1.1074 | 1.12
21170 | Queen Annes County, Maryland | 12580 | 0.9897 | 1.0106 | 2.11
21180 | St Marys County, Maryland | 99921 | 0.9292 | 0.8942 | -3.77
21190 | Somerset County, Maryland | 41540 | 0.9147 | 0.8969 | -1.95
21200 | Talbot County, Maryland | 99921 | 0.9292 | 0.8942 | -3.77
21210 | Washington County, Maryland | 25180 | 0.9679 | 0.9054 | -6.46
21220 | Wicomico County, Maryland | 41540 | 0.9147 | 0.8969 | -1.95
21230 | Worcester County, Maryland | 99921 | 0.9292 | 0.8942 | -3.77
22000 | Barnstable County, Massachusetts | 12700 | 1.2600 | 1.2561 | -0.31
22010 | Berkshire County, Massachusetts | 38340 | 1.0181 | 1.0284 | 1.01
22020 | Bristol County, Massachusetts | 39300 | 1.1072 | 1.0804 | -2.42
22030 | Dukes County, Massachusetts | 99922 | 1.0216 | 1.0216 | 0.00
22040 | Essex County, Massachusetts | 21604 | 1.0858 | 1.0437 | -3.88
22060 | Franklin County, Massachusetts | 44140 | 1.0232 | 1.0080 | -0.63
22070 | Hampden County, Massachusetts | 44140 | 1.0256 | 1.0080 | -1.72
22080 | Hampshire County, Massachusetts | 44140 | 1.0256 | 1.0080 | -1.72
22090 | Middlesex County, Massachusetts | 15764 | 1.1175 | 1.0918 | -2.30
22120 | Nantucket County, Massachusetts | 99922 | 1.0216 | 1.0216 | 0.00
22130 | Norfolk County, Massachusetts | 14484 | 1.1368 | 1.1693 | 2.86
22150 | Plymouth County, Massachusetts | 14484 | 1.1368 | 1.1693 | 2.86
22160 | Suffolk County, Massachusetts | 14484 | 1.1368 | 1.1693 | 2.86
22170 | Worcester County, Massachusetts | 49340 | 1.1103 | 1.0741 | -3.26
23000 | Alcona County, Michigan | 99923 | 0.8860 | 0.9052 | 2.17
23010 | Alger County, Michigan | 99923 | 0.8860 | 0.9052 | 2.17
23020 | Allegan County, Michigan | 99923 | 0.9170 | 0.9052 | -1.29
23030 | Alpena County, Michigan | 99923 | 0.8860 | 0.9052 | 2.17
23040 | Antrim County, Michigan | 99923 | 0.8860 | 0.9052 | 2.17
23050 | Arenac County, Michigan | 99923 | 0.8860 | 0.9052 | 2.17
23060 | Baraga County, Michigan | 99923 | 0.8860 | 0.9052 | 2.17
23070 | Barry County, Michigan | 24340 | 0.9107 | 0.9470 | 3.99
23080 | Bay County, Michigan | 13020 | 0.9292 | 0.9271 | -0.23
23090 | Benzie County, Michigan | 99923 | 0.8860 | 0.9052 | 2.17
23100 | Berrien County, Michigan | 35660 | 0.8879 | 0.8931 | 0.59
23110 | Branch County, Michigan | 99923 | 0.8860 | 0.9052 | 2.17
23120 | Calhoun County, Michigan | 12980 | 0.9826 | 0.9746 | -0.81
23130 | Cass County, Michigan | 43780 | 0.9306 | 0.9690 | 4.13
23140 | Charlevoix County, Michigan | 99923 | 0.8860 | 0.9052 | 2.17
23150 | Cheboygan County, Michigan | 99923 | 0.8860 | 0.9052 | 2.17
23160 | Chippewa County, Michigan | 99923 | 0.8860 | 0.9052 | 2.17
23170 | Clare County, Michigan | 99923 | 0.8860 | 0.9052 | 2.17
23180 | Clinton County, Michigan | 29620 | 0.9794 | 1.0102 | 3.14
23190 | Crawford County, Michigan | 99923 | 0.8860 | 0.9052 | 2.17
23200 | Delta County, Michigan | 99923 | 0.8860 | 0.9052 | 2.17
23210 | Dickinson County, Michigan | 99923 | 0.8860 | 0.9052 | 2.17
23220 | Eaton County, Michigan | 29620 | 0.9794 | 1.0102 | 3.14
23230 | Emmet County, Michigan | 99923 | 0.8860 | 0.9052 | 2.17
23240 | Genesee County, Michigan | 22420 | 1.0655 | 1.0988 | 3.13
23250 | Gladwin County, Michigan | 99923 | 0.8860 | 0.9052 | 2.17
23260 | Gogebic County, Michigan | 99923 | 0.8860 | 0.9052 | 2.17
23270 | Grand Traverse County, Michigan | 99923 | 0.8860 | 0.9052 | 2.17
23280 | Gratiot County, Michigan | 99923 | 0.8860 | 0.9052 | 2.17
23290 | Hillsdale County, Michigan | 99923 | 0.8860 | 0.9052 | 2.17
23300 | Houghton County, Michigan | 99923 | 0.8860 | 0.9052 | 2.17
23310 | Huron County, Michigan | 99923 | 0.8860 | 0.9052 | 2.17
23320 | Ingham County, Michigan | 29620 | 0.9794 | 1.0102 | 3.14
23330 | Ionia County, Michigan | 24340 | 0.9107 | 0.9470 | 3.99
23340 | Iosco County, Michigan | 99923 | 0.8860 | 0.9052 | 2.17
23350 | Iron County, Michigan | 99923 | 0.8860 | 0.9052 | 2.17
23360 | Isabella County, Michigan | 99923 | 0.8860 | 0.9052 | 2.17
23370 | Jackson County, Michigan | 27100 | 0.9304 | 0.9577 | 2.93
23380 | Kalamazoo County, Michigan | 28020 | 1.0262 | 1.0723 | 4.49
23390 | Kalkaska County, Michigan | 99923 | 0.8860 | 0.9052 | 2.17
23400 | Kent County, Michigan | 24340 | 0.9418 | 0.9470 | 0.55
23410 | Keweenaw County, Michigan | 99923 | 0.8860 | 0.9052 | 2.17
23420 | Lake County, Michigan | 99923 | 0.8860 | 0.9052 | 2.17
23430 | Lapeer County, Michigan | 47644 | 1.0009 | 1.0126 | 1.17
23440 | Leelanau County, Michigan | 99923 | 0.8860 | 0.9052 | 2.17
23450 | Lenawee County, Michigan | 99923 | 0.9801 | 0.9052 | -7.64
23460 | Livingston County, Michigan | 47644 | 1.0289 | 1.0126 | -1.58
23470 | Luce County, Michigan | 99923 | 0.8860 | 0.9052 | 2.17
23480 | Mackinac County, Michigan | 99923 | 0.8860 | 0.9052 | 2.17
23490 | Macomb County, Michigan | 47644 | 1.0009 | 1.0126 | 1.17
23500 | Manistee County, Michigan | 99923 | 0.8860 | 0.9052 | 2.17
23510 | Marquette County, Michigan | 99923 | 0.8860 | 0.9052 | 2.17
23520 | Mason County, Michigan | 99923 | 0.8860 | 0.9052 | 2.17
23530 | Mecosta County, Michigan | 99923 | 0.8860 | 0.9052 | 2.17
23540 | Menominee County, Michigan | 99923 | 0.8860 | 0.9052 | 2.17
23550 | Midland County, Michigan | 99923 | 0.9068 | 0.9052 | -0.18
23560 | Missaukee County, Michigan | 99923 | 0.8860 | 0.9052 | 2.17
23570 | Monroe County, Michigan | 33780 | 0.9808 | 0.9725 | -0.85
23580 | Montcalm County, Michigan | 99923 | 0.8860 | 0.9052 | 2.17
23590 | Montmorency County, Michigan | 99923 | 0.8860 | 0.9052 | 2.17
23600 | Muskegon County, Michigan | 34740 | 0.9555 | 0.9957 | 4.21
23610 | Newaygo County, Michigan | 24340 | 0.9107 | 0.9470 | 3.99
23620 | Oakland County, Michigan | 47644 | 1.0009 | 1.0126 | 1.17
23630 | Oceana County, Michigan | 99923 | 0.8860 | 0.9052 | 2.17
23640 | Ogemaw County, Michigan | 99923 | 0.8860 | 0.9052 | 2.17
23650 | Ontonagon County, Michigan | 99923 | 0.8860 | 0.9052 | 2.17
23660 | Osceola County, Michigan | 99923 | 0.8860 | 0.9052 | 2.17
23670 | Oscoda County, Michigan | 99923 | 0.8860 | 0.9052 | 2.17
23680 | Otsego County, Michigan | 99923 | 0.8860 | 0.9052 | 2.17
23690 | Ottawa County, Michigan | 26100 | 0.9250 | 0.9205 | -0.49
23700 | Presque Isle County, Michigan | 99923 | 0.8860 | 0.9052 | 2.17
23710 | Roscommon County, Michigan | 99923 | 0.8860 | 0.9052 | 2.17
23720 | Saginaw County, Michigan | 40980 | 0.9165 | 0.8889 | -3.01
23730 | St Clair County, Michigan | 47644 | 1.0009 | 1.0126 | 1.17
23740 | St Joseph County, Michigan | 99923 | 0.8860 | 0.9052 | 2.17
23750 | Sanilac County, Michigan | 99923 | 0.8860 | 0.9052 | 2.17
23760 | Schoolcraft County, Michigan | 99923 | 0.8860 | 0.9052 | 2.17
23770 | Shiawassee County, Michigan | 99923 | 0.8860 | 0.9052 | 2.17
23780 | Tuscola County, Michigan | 99923 | 0.8860 | 0.9052 | 2.17
23790 | Van Buren County, Michigan | 28020 | 1.0262 | 1.0723 | 4.49
23800 | Washtenaw County, Michigan | 11460 | 1.0783 | 1.0838 | 0.51
23810 | Wayne County, Michigan | 19804 | 1.0286 | 1.0223 | -0.61
23830 | Wexford County, Michigan | 99923 | 0.8860 | 0.9052 | 2.17
24000 | Aitkin County, Minnesota | 99924 | 0.9132 | 0.9167 | 0.38
24010 | Anoka County, Minnesota | 33460 | 1.1075 | 1.0965 | -0.99
24020 | Becker County, Minnesota | 99924 | 0.9132 | 0.9167 | 0.38
24030 | Beltrami County, Minnesota | 99924 | 0.9132 | 0.9167 | 0.38
24040 | Benton County, Minnesota | 41060 | 0.9965 | 1.0380 | 4.16
24050 | Big Stone County, Minnesota | 99924 | 0.9132 | 0.9167 | 0.38
24060 | Blue Earth County, Minnesota | 99924 | 0.9132 | 0.9167 | 0.38
24070 | Brown County, Minnesota | 99924 | 0.9132 | 0.9167 | 0.38
24080 | Carlton County, Minnesota | 20260 | 0.9673 | 1.0070 | 4.10
24090 | Carver County, Minnesota | 33460 | 1.1075 | 1.0965 | -0.99
24100 | Cass County, Minnesota | 99924 | 0.9132 | 0.9167 | 0.38
24110 | Chippewa County, Minnesota | 99924 | 0.9132 | 0.9167 | 0.38
24120 | Chisago County, Minnesota | 33460 | 1.1075 | 1.0965 | -0.99
24130 | Clay County, Minnesota | 22020 | 0.8486 | 0.8265 | -2.60
24140 | Clearwater County, Minnesota | 99924 | 0.9132 | 0.9167 | 0.38
24150 | Cook County, Minnesota | 99924 | 0.9132 | 0.9167 | 0.38
24160 | Cottonwood County, Minnesota | 99924 | 0.9132 | 0.9167 | 0.38
24170 | Crow Wing County, Minnesota | 99924 | 0.9132 | 0.9167 | 0.38
24180 | Dakota County, Minnesota | 33460 | 1.1075 | 1.0965 | -0.99
24190 | Dodge County, Minnesota | 40340 | 1.0132 | 1.1260 | 11.13
24200 | Douglas County, Minnesota | 99924 | 0.9132 | 0.9167 | 0.38
24210 | Faribault County, Minnesota | 99924 | 0.9132 | 0.9167 | 0.38
24220 | Fillmore County, Minnesota | 99924 | 0.9132 | 0.9167 | 0.38
24230 | Freeborn County, Minnesota | 99924 | 0.9132 | 0.9167 | 0.38
24240 | Goodhue County, Minnesota | 99924 | 0.9132 | 0.9167 | 0.38
24250 | Grant County, Minnesota | 99924 | 0.9132 | 0.9167 | 0.38
24260 | Hennepin County, Minnesota | 33460 | 1.1075 | 1.0965 | -0.99
24270 | Houston County, Minnesota | 29100 | 0.9564 | 0.9442 | -1.28
24280 | Hubbard County, Minnesota | 99924 | 0.9132 | 0.9167 | 0.38
24290 | Isanti County, Minnesota | 33460 | 1.1075 | 1.0965 | -0.99
24300 | Itasca County, Minnesota | 99924 | 0.9132 | 0.9167 | 0.38
24310 | Jackson County, Minnesota | 99924 | 0.9132 | 0.9167 | 0.38
24320 | Kanabec County, Minnesota | 99924 | 0.9132 | 0.9167 | 0.38
24330 | Kandiyohi County, Minnesota | 99924 | 0.9132 | 0.9167 | 0.38
24340 | Kittson County, Minnesota | 99924 | 0.9132 | 0.9167 | 0.38
24350 | Koochiching County, Minnesota | 99924 | 0.9132 | 0.9167 | 0.38
24360 | Lac Qui Parle County, Minnesota | 99924 | 0.9132 | 0.9167 | 0.38
24370 | Lake County, Minnesota | 99924 | 0.9132 | 0.9167 | 0.38
24380 | Lake Of Woods County, Minnesota | 99924 | 0.9132 | 0.9167 | 0.38
24390 | Le Sueur County, Minnesota | 99924 | 0.9132 | 0.9167 | 0.38
24400 | Lincoln County, Minnesota | 99924 | 0.9132 | 0.9167 | 0.38
24410 | Lyon County, Minnesota | 99924 | 0.9132 | 0.9167 | 0.38
24420 | Mc Leod County, Minnesota | 99924 | 0.9132 | 0.9167 | 0.38
24430 | Mahnomen County, Minnesota | 99924 | 0.9132 | 0.9167 | 0.38
24440 | Marshall County, Minnesota | 99924 | 0.9132 | 0.9167 | 0.38
24450 | Martin County, Minnesota | 99924 | 0.9132 | 0.9167 | 0.38
24460 | Meeker County, Minnesota | 99924 | 0.9132 | 0.9167 | 0.38
24470 | Mille Lacs County, Minnesota | 99924 | 0.9132 | 0.9167 | 0.38
24480 | Morrison County, Minnesota | 99924 | 0.9132 | 0.9167 | 0.38
24490 | Mower County, Minnesota | 99924 | 0.9132 | 0.9167 | 0.38
24500 | Murray County, Minnesota | 99924 | 0.9132 | 0.9167 | 0.38
24510 | Nicollet County, Minnesota | 99924 | 0.9132 | 0.9167 | 0.38
24520 | Nobles County, Minnesota | 99924 | 0.9132 | 0.9167 | 0.38
24530 | Norman County, Minnesota | 99924 | 0.9132 | 0.9167 | 0.38
24540 | Olmsted County, Minnesota | 40340 | 1.1131 | 1.1260 | 1.16
24550 | Otter Tail County, Minnesota | 99924 | 0.9132 | 0.9167 | 0.38
24560 | Pennington County, Minnesota | 99924 | 0.9132 | 0.9167 | 0.38
24570 | Pine County, Minnesota | 99924 | 0.9132 | 0.9167 | 0.38
24580 | Pipestone County, Minnesota | 99924 | 0.9132 | 0.9167 | 0.38
24590 | Polk County, Minnesota | 24220 | 0.7901 | 0.7963 | 0.78
24600 | Pope County, Minnesota | 99924 | 0.9132 | 0.9167 | 0.38
24610 | Ramsey County, Minnesota | 33460 | 1.1075 | 1.0965 | -0.99
24620 | Red Lake County, Minnesota | 99924 | 0.9132 | 0.9167 | 0.38
24630 | Redwood County, Minnesota | 99924 | 0.9132 | 0.9167 | 0.38
24640 | Renville County, Minnesota | 99924 | 0.9132 | 0.9167 | 0.38
24650 | Rice County, Minnesota | 99924 | 0.9132 | 0.9167 | 0.38
24660 | Rock County, Minnesota | 99924 | 0.9132 | 0.9167 | 0.38
24670 | Roseau County, Minnesota | 99924 | 0.9132 | 0.9167 | 0.38
24680 | St Louis County, Minnesota | 20260 | 1.0213 | 1.0070 | -1.40
24690 | Scott County, Minnesota | 33460 | 1.1075 | 1.0965 | -0.99
24700 | Sherburne County, Minnesota | 33460 | 1.1075 | 1.0965 | -0.99
24710 | Sibley County, Minnesota | 99924 | 0.9132 | 0.9167 | 0.38
24720 | Stearns County, Minnesota | 41060 | 0.9965 | 1.0380 | 4.16
24730 | Steele County, Minnesota | 99924 | 0.9132 | 0.9167 | 0.38
24740 | Stevens County, Minnesota | 99924 | 0.9132 | 0.9167 | 0.38
24750 | Swift County, Minnesota | 99924 | 0.9132 | 0.9167 | 0.38
24760 | Todd County, Minnesota | 99924 | 0.9132 | 0.9167 | 0.38
24770 | Traverse County, Minnesota | 99924 | 0.9132 | 0.9167 | 0.38
24780 | Wabasha County, Minnesota | 40340 | 1.0132 | 1.1260 | 11.13
24790 | Wadena County, Minnesota | 99924 | 0.9132 | 0.9167 | 0.38
24800 | Waseca County, Minnesota | 99924 | 0.9132 | 0.9167 | 0.38
24810 | Washington County, Minnesota | 33460 | 1.1075 | 1.0965 | -0.99
24820 | Watonwan County, Minnesota | 99924 | 0.9132 | 0.9167 | 0.38
24830 | Wilkin County, Minnesota | 99924 | 0.9132 | 0.9167 | 0.38
24840 | Winona County, Minnesota | 99924 | 0.9132 | 0.9167 | 0.38
24850 | Wright County, Minnesota | 33460 | 1.1075 | 1.0965 | -0.99
24860 | Yellow Medicine County, Minnesota | 99924 | 0.9132 | 0.9167 | 0.38
25000 | Adams County, Mississippi | 99925 | 0.7654 | 0.7565 | -1.16
25010 | Alcorn County, Mississippi | 99925 | 0.7654 | 0.7565 | -1.16
25020 | Amite County, Mississippi | 99925 | 0.7654 | 0.7565 | -1.16
25030 | Attala County, Mississippi | 99925 | 0.7654 | 0.7565 | -1.16
25040 | Benton County, Mississippi | 99925 | 0.7654 | 0.7565 | -1.16
25050 | Bolivar County, Mississippi | 99925 | 0.7654 | 0.7565 | -1.16
25060 | Calhoun County, Mississippi | 99925 | 0.7654 | 0.7565 | -1.16
25070 | Carroll County, Mississippi | 99925 | 0.7654 | 0.7565 | -1.16
25080 | Chickasaw County, Mississippi | 99925 | 0.7654 | 0.7565 | -1.16
25090 | Choctaw County, Mississippi | 99925 | 0.7654 | 0.7565 | -1.16
25100 | Claiborne County, Mississippi | 99925 | 0.7654 | 0.7565 | -1.16
25110 | Clarke County, Mississippi | 99925 | 0.7654 | 0.7565 | -1.16
25120 | Clay County, Mississippi | 99925 | 0.7654 | 0.7565 | -1.16
25130 | Coahoma County, Mississippi | 99925 | 0.7654 | 0.7565 | -1.16
25140 | Copiah County, Mississippi | 27140 | 0.7973 | 0.8286 | 3.93
25150 | Covington County, Mississippi | 99925 | 0.7654 | 0.7565 | -1.16
25160 | Desoto County, Mississippi | 32820 | 0.9407 | 0.9361 | -0.49
25170 | Forrest County, Mississippi | 25620 | 0.7601 | 0.7443 | -2.08
25180 | Franklin County, Mississippi | 99925 | 0.7654 | 0.7565 | -1.16
25190 | George County, Mississippi | 37700 | 0.7895 | 0.8230 | 4.24
25200 | Greene County, Mississippi | 99925 | 0.7654 | 0.7565 | -1.16
25210 | Grenada County, Mississippi | 99925 | 0.7654 | 0.7565 | -1.16
25220 | Hancock County, Mississippi | 25060 | 0.8818 | 0.8931 | 1.28
25230 | Harrison County, Mississippi | 25060 | 0.8818 | 0.8931 | 1.28
25240 | Hinds County, Mississippi | 27140 | 0.8347 | 0.8286 | -0.73
25250 | Holmes County, Mississippi | 99925 | 0.7654 | 0.7565 | -1.16
25260 | Humphreys County, Mississippi | 99925 | 0.7654 | 0.7565 | -1.16
25270 | Issaquena County, Mississippi | 99925 | 0.7654 | 0.7565 | -1.16
25280 | Itawamba County, Mississippi | 99925 | 0.7654 | 0.7565 | -1.16
25290 | Jackson County, Mississippi | 37700 | 0.8431 | 0.8230 | -2.38
25300 | Jasper County, Mississippi | 99925 | 0.7654 | 0.7565 | -1.16
25310 | Jefferson County, Mississippi | 99925 | 0.7654 | 0.7565 | -1.16
25320 | Jefferson Davis County, Mississippi | 99925 | 0.7654 | 0.7565 | -1.16
25330 | Jones County, Mississippi | 99925 | 0.7654 | 0.7565 | -1.16
25340 | Kemper County, Mississippi | 99925 | 0.7654 | 0.7565 | -1.16
25350 | Lafayette County, Mississippi | 99925 | 0.7654 | 0.7565 | -1.16
25360 | Lamar County, Mississippi | 25620 | 0.7601 | 0.7443 | -2.08
25370 | Lauderdale County, Mississippi | 99925 | 0.7654 | 0.7565 | -1.16
25380 | Lawrence County, Mississippi | 99925 | 0.7654 | 0.7565 | -1.16
25390 | Leake County, Mississippi | 99925 | 0.7654 | 0.7565 | -1.16
25400 | Lee County, Mississippi | 99925 | 0.7654 | 0.7565 | -1.16
25410 | Leflore County, Mississippi | 99925 | 0.7654 | 0.7565 | -1.16
25420 | Lincoln County, Mississippi | 99925 | 0.7654 | 0.7565 | -1.16
25430 | Lowndes County, Mississippi | 99925 | 0.7654 | 0.7565 | -1.16
25440 | Madison County, Mississippi | 27140 | 0.8347 | 0.8286 | -0.73
25450 | Marion County, Mississippi | 99925 | 0.7654 | 0.7565 | -1.16
25460 | Marshall County, Mississippi | 32820 | 0.8516 | 0.9361 | 9.92
25470 | Monroe County, Mississippi | 99925 | 0.7654 | 0.7565 | -1.16
25480 | Montgomery County, Mississippi | 99925 | 0.7654 | 0.7565 | -1.16
25490 | Neshoba County, Mississippi | 99925 | 0.7654 | 0.7565 | -1.16
25500 | Newton County, Mississippi | 99925 | 0.7654 | 0.7565 | -1.16
25510 | Noxubee County, Mississippi | 99925 | 0.7654 | 0.7565 | -1.16
25520 | Oktibbeha County, Mississippi | 99925 | 0.7654 | 0.7565 | -1.16
25530 | Panola County, Mississippi | 99925 | 0.7654 | 0.7565 | -1.16
25540 | Pearl River County, Mississippi | 99925 | 0.7654 | 0.7565 | -1.16
25550 | Perry County, Mississippi | 25620 | 0.7618 | 0.7443 | -2.30
25560 | Pike County, Mississippi | 99925 | 0.7654 | 0.7565 | -1.16
25570 | Pontotoc County, Mississippi | 99925 | 0.7654 | 0.7565 | -1.16
25580 | Prentiss County, Mississippi | 99925 | 0.7654 | 0.7565 | -1.16
25590 | Quitman County, Mississippi | 99925 | 0.7654 | 0.7565 | -1.16
25600 | Rankin County, Mississippi | 27140 | 0.8347 | 0.8286 | -0.73
25610 | Scott County, Mississippi | 99925 | 0.7654 | 0.7565 | -1.16
25620 | Sharkey County, Mississippi | 99925 | 0.7654 | 0.7565 | -1.16
25630 | Simpson County, Mississippi | 27140 | 0.7973 | 0.8286 | 3.93
25640 | Smith County, Mississippi | 99925 | 0.7654 | 0.7565 | -1.16
25650 | Stone County, Mississippi | 25060 | 0.8282 | 0.8931 | 7.84
25660 | Sunflower County, Mississippi | 99925 | 0.7654 | 0.7565 | -1.16
25670 | Tallahatchie County, Mississippi | 99925 | 0.7654 | 0.7565 | -1.16
25680 | Tate County, Mississippi | 32820 | 0.8516 | 0.9361 | 9.92
25690 | Tippah County, Mississippi | 99925 | 0.7654 | 0.7565 | -1.16
25700 | Tishomingo County, Mississippi | 99925 | 0.7654 | 0.7565 | -1.16
25710 | Tunica County, Mississippi | 32820 | 0.8516 | 0.9361 | 9.92
25720 | Union County, Mississippi | 99925 | 0.7654 | 0.7565 | -1.16
25730 | Walthall County, Mississippi | 99925 | 0.7654 | 0.7565 | -1.16
25740 | Warren County, Mississippi | 99925 | 0.7654 | 0.7565 | -1.16
25750 | Washington County, Mississippi | 99925 | 0.7654 | 0.7565 | -1.16
25760 | Wayne County, Mississippi | 99925 | 0.7654 | 0.7565 | -1.16
25770 | Webster County, Mississippi | 99925 | 0.7654 | 0.7565 | -1.16
25780 | Wilkinson County, Mississippi | 99925 | 0.7654 | 0.7565 | -1.16
25790 | Winston County, Mississippi | 99925 | 0.7654 | 0.7565 | -1.16
25800 | Yalobusha County, Mississippi | 99925 | 0.7654 | 0.7565 | -1.16
25810 | Yazoo County, Mississippi | 99925 | 0.7654 | 0.7565 | -1.16
26000 | Adair County, Missouri | 99926 | 0.7930 | 0.7934 | 0.05
26010 | Andrew County, Missouri | 41140 | 0.9519 | 1.0136 | 6.48
26020 | Atchison County, Missouri | 99926 | 0.7930 | 0.7934 | 0.05
26030 | Audrain County, Missouri | 99926 | 0.7930 | 0.7934 | 0.05
26040 | Barry County, Missouri | 99926 | 0.7930 | 0.7934 | 0.05
26050 | Barton County, Missouri | 99926 | 0.7930 | 0.7934 | 0.05
26060 | Bates County, Missouri | 28140 | 0.8718 | 0.9514 | 9.13
26070 | Benton County, Missouri | 99926 | 0.7930 | 0.7934 | 0.05
26080 | Bollinger County, Missouri | 99926 | 0.7930 | 0.7934 | 0.05
26090 | Boone County, Missouri | 17860 | 0.8345 | 0.8557 | 2.54
26100 | Buchanan County, Missouri | 41140 | 0.9519 | 1.0136 | 6.48
26110 | Butler County, Missouri | 99926 | 0.7930 | 0.7934 | 0.05
26120 | Caldwell County, Missouri | 28140 | 0.8718 | 0.9514 | 9.13
26130 | Callaway County, Missouri | 27620 | 0.8173 | 0.8347 | 2.13
26140 | Camden County, Missouri | 99926 | 0.7930 | 0.7934 | 0.05
26150 | Cape Girardeau County, Missouri | 99926 | 0.7930 | 0.7934 | 0.05
26160 | Carroll County, Missouri | 99926 | 0.7930 | 0.7934 | 0.05
26170 | Carter County, Missouri | 99926 | 0.7930 | 0.7934 | 0.05
26180 | Cass County, Missouri | 28140 | 0.9483 | 0.9514 | 0.33
26190 | Cedar County, Missouri | 99926 | 0.7930 | 0.7934 | 0.05
26200 | Chariton County, Missouri | 99926 | 0.7930 | 0.7934 | 0.05
26210 | Christian County, Missouri | 44180 | 0.8244 | 0.8484 | 2.91
26220 | Clark County, Missouri | 99926 | 0.7930 | 0.7934 | 0.05
26230 | Clay County, Missouri | 28140 | 0.9483 | 0.9514 | 0.33
26240 | Clinton County, Missouri | 28140 | 0.9483 | 0.9514 | 0.33
26250 | Cole County, Missouri | 27620 | 0.8173 | 0.8347 | 2.13
26260 | Cooper County, Missouri | 99926 | 0.7930 | 0.7934 | 0.05
26270 | Crawford County, Missouri | 41180 | 0.8457 | 0.9013 | 6.57
26280 | Dade County, Missouri | 99926 | 0.7930 | 0.7934 | 0.05
26290 | Dallas County, Missouri | 44180 | 0.8098 | 0.8484 | 4.77
26300 | Daviess County, Missouri | 99926 | 0.7930 | 0.7934 | 0.05
26310 | De Kalb County, Missouri | 41140 | 0.8739 | 1.0136 | 15.99
26320 | Dent County, Missouri | 99926 | 0.7930 | 0.7934 | 0.05
26330 | Douglas County, Missouri | 99926 | 0.7930 | 0.7934 | 0.05
26340 | Dunklin County, Missouri | 99926 | 0.7930 | 0.7934 | 0.05
26350 | Franklin County, Missouri | 41180 | 0.8958 | 0.9013 | 0.61
26360 | Gasconade County, Missouri | 99926 | 0.7930 | 0.7934 | 0.05
26370 | Gentry County, Missouri | 99926 | 0.7930 | 0.7934 | 0.05
26380 | Greene County, Missouri | 44180 | 0.8244 | 0.8484 | 2.91
26390 | Grundy County, Missouri | 99926 | 0.7930 | 0.7934 | 0.05
26400 | Harrison County, Missouri | 99926 | 0.7930 | 0.7934 | 0.05
26410 | Henry County, Missouri | 99926 | 0.7930 | 0.7934 | 0.05
26411 | Hickory County, Missouri | 99926 | 0.7930 | 0.7934 | 0.05
26412 | Holt County, Missouri | 99926 | 0.7930 | 0.7934 | 0.05
26440 | Howard County, Missouri | 17860 | 0.8152 | 0.8557 | 4.97
26450 | Howell County, Missouri | 99926 | 0.7930 | 0.7934 | 0.05
26460 | Iron County, Missouri | 99926 | 0.7930 | 0.7934 | 0.05
26470 | Jackson County, Missouri | 28140 | 0.9483 | 0.9514 | 0.33
26480 | Jasper County, Missouri | 27900 | 0.8582 | 0.8620 | 0.44
26490 | Jefferson County, Missouri | 41180 | 0.8958 | 0.9013 | 0.61
26500 | Johnson County, Missouri | 99926 | 0.7930 | 0.7934 | 0.05
26510 | Knox County, Missouri | 99926 | 0.7930 | 0.7934 | 0.05
26520 | Laclede County, Missouri | 99926 | 0.7930 | 0.7934 | 0.05
26530 | Lafayette County, Missouri | 28140 | 0.9483 | 0.9514 | 0.33
26540 | Lawrence County, Missouri | 99926 | 0.7930 | 0.7934 | 0.05
26541 | Lewis County, Missouri | 99926 | 0.7930 | 0.7934 | 0.05
26560 | Lincoln County, Missouri | 41180 | 0.8958 | 0.9013 | 0.61
26570 | Linn County, Missouri | 99926 | 0.7930 | 0.7934 | 0.05
26580 | Livingston County, Missouri | 99926 | 0.7930 | 0.7934 | 0.05
26590 | Mc Donald County, Missouri | 22220 | 0.8310 | 0.8761 | 5.43
26600 | Macon County, Missouri | 99926 | 0.7930 | 0.7934 | 0.05
26601 | Madison County, Missouri | 99926 | 0.7930 | 0.7934 | 0.05
26620 | Maries County, Missouri | 99926 | 0.7930 | 0.7934 | 0.05
26630 | Marion County, Missouri | 99926 | 0.7930 | 0.7934 | 0.05
26631 | Mercer County, Missouri | 99926 | 0.7930 | 0.7934 | 0.05
26650 | Miller County, Missouri | 99926 | 0.7930 | 0.7934 | 0.05
26660 | Mississippi County, Missouri | 99926 | 0.7930 | 0.7934 | 0.05
26670 | Moniteau County, Missouri | 27620 | 0.8173 | 0.8347 | 2.13
26680 | Monroe County, Missouri | 99926 | 0.7930 | 0.7934 | 0.05
26690 | Montgomery County, Missouri | 99926 | 0.7930 | 0.7934 | 0.05
26700 | Morgan County, Missouri | 99926 | 0.7930 | 0.7934 | 0.05
26710 | New Madrid County, Missouri | 99926 | 0.7930 | 0.7934 | 0.05
26720 | Newton County, Missouri | 27900 | 0.8582 | 0.8620 | 0.44
26730 | Nodaway County, Missouri | 99926 | 0.7930 | 0.7934 | 0.05
26740 | Oregon County, Missouri | 99926 | 0.7930 | 0.7934 | 0.05
26750 | Osage County, Missouri | 27620 | 0.8173 | 0.8347 | 2.13
26751 | Ozark County, Missouri | 99926 | 0.7930 | 0.7934 | 0.05
26770 | Pemiscot County, Missouri | 99926 | 0.7930 | 0.7934 | 0.05
26780 | Perry County, Missouri | 99926 | 0.7930 | 0.7934 | 0.05
26790 | Pettis County, Missouri | 99926 | 0.7930 | 0.7934 | 0.05
26800 | Phelps County, Missouri | 99926 | 0.7930 | 0.7934 | 0.05
26810 | Pike County, Missouri | 99926 | 0.7930 | 0.7934 | 0.05
26820 | Platte County, Missouri | 28140 | 0.9483 | 0.9514 | 0.33
26821 | Polk County, Missouri | 44180 | 0.8098 | 0.8484 | 4.77
26840 | Pulaski County, Missouri | 99926 | 0.7930 | 0.7934 | 0.05
26850 | Putnam County, Missouri | 99926 | 0.7930 | 0.7934 | 0.05
26860 | Ralls County, Missouri | 99926 | 0.7930 | 0.7934 | 0.05
26870 | Randolph County, Missouri | 99926 | 0.7930 | 0.7934 | 0.05
26880 | Ray County, Missouri | 28140 | 0.9483 | 0.9514 | 0.33
26881 | Reynolds County, Missouri | 99926 | 0.7930 | 0.7934 | 0.05
26900 | Ripley County, Missouri | 99926 | 0.7930 | 0.7934 | 0.05
26910 | St Charles County, Missouri | 41180 | 0.8958 | 0.9013 | 0.61
26911 | St Clair County, Missouri | 99926 | 0.7930 | 0.7934 | 0.05
26930 | St Francois County, Missouri | 99926 | 0.7930 | 0.7934 | 0.05
26940 | St Louis County, Missouri | 41180 | 0.8958 | 0.9013 | 0.61
26950 | St Louis City County, Missouri | 41180 | 0.8958 | 0.9013 | 0.61
26960 | Ste Genevieve County, Missouri | 99926 | 0.7930 | 0.7934 | 0.05
26970 | Saline County, Missouri | 99926 | 0.7930 | 0.7934 | 0.05
26980 | Schuyler County, Missouri | 99926 | 0.7930 | 0.7934 | 0.05
26981 | Scotland County, Missouri | 99926 | 0.7930 | 0.7934 | 0.05
26982 | Scott County, Missouri | 99926 | 0.7930 | 0.7934 | 0.05
26983 | Shannon County, Missouri | 99926 | 0.7930 | 0.7934 | 0.05
26984 | Shelby County, Missouri | 99926 | 0.7930 | 0.7934 | 0.05
26985 | Stoddard County, Missouri | 99926 | 0.7930 | 0.7934 | 0.05
26986 | Stone County, Missouri | 99926 | 0.7930 | 0.7934 | 0.05
26987 | Sullivan County, Missouri | 99926 | 0.7930 | 0.7934 | 0.05
26988 | Taney County, Missouri | 99926 | 0.7930 | 0.7934 | 0.05
26989 | Texas County, Missouri | 99926 | 0.7930 | 0.7934 | 0.05
26990 | Vernon County, Missouri | 99926 | 0.7930 | 0.7934 | 0.05
26991 | Warren County, Missouri | 41180 | 0.8958 | 0.9013 | 0.61
26992 | Washington County, Missouri | 41180 | 0.8457 | 0.9013 | 6.57
26993 | Wayne County, Missouri | 99926 | 0.7930 | 0.7934 | 0.05
26994 | Webster County, Missouri | 44180 | 0.8244 | 0.8484 | 2.91
26995 | Worth County, Missouri | 99926 | 0.7930 | 0.7934 | 0.05
26996 | Wright County, Missouri | 99926 | 0.7930 | 0.7934 | 0.05
27000 | Beaverhead County, Montana | 99927 | 0.8762 | 0.8605 | -1.79
27010 | Big Horn County, Montana | 99927 | 0.8762 | 0.8605 | -1.79
27020 | Blaine County, Montana | 99927 | 0.8762 | 0.8605 | -1.79
27030 | Broadwater County, Montana | 99927 | 0.8762 | 0.8605 | -1.79
27040 | Carbon County, Montana | 13740 | 0.8798 | 0.8728 | -0.80
27050 | Carter County, Montana | 99927 | 0.8762 | 0.8605 | -1.79
27060 | Cascade County, Montana | 24500 | 0.9052 | 0.8613 | -4.85
27070 | Chouteau County, Montana | 99927 | 0.8762 | 0.8605 | -1.79
27080 | Custer County, Montana | 99927 | 0.8762 | 0.8605 | -1.79
27090 | Daniels County, Montana | 99927 | 0.8762 | 0.8605 | -1.79
27100 | Dawson County, Montana | 99927 | 0.8762 | 0.8605 | -1.79
27110 | Deer Lodge County, Montana | 99927 | 0.8762 | 0.8605 | -1.79
27113 | Yellowstone National Park, Montana | 99927 | 0.8762 | 0.8605 | -1.79
27120 | Fallon County, Montana | 99927 | 0.8762 | 0.8605 | -1.79
27130 | Fergus County, Montana | 99927 | 0.8762 | 0.8605 | -1.79
27140 | Flathead County, Montana | 99927 | 0.8762 | 0.8605 | -1.79
27150 | Gallatin County, Montana | 99927 | 0.8762 | 0.8605 | -1.79
27160 | Garfield County, Montana | 99927 | 0.8762 | 0.8605 | -1.79
27170 | Glacier County, Montana | 99927 | 0.8762 | 0.8605 | -1.79
27180 | Golden Valley County, Montana | 99927 | 0.8762 | 0.8605 | -1.79
27190 | Granite County, Montana | 99927 | 0.8762 | 0.8605 | -1.79
27200 | Hill County, Montana | 99927 | 0.8762 | 0.8605 | -1.79
27210 | Jefferson County, Montana | 99927 | 0.8762 | 0.8605 | -1.79
27220 | Judith Basin County, Montana | 99927 | 0.8762 | 0.8605 | -1.79
27230 | Lake County, Montana | 99927 | 0.8762 | 0.8605 | -1.79
27240 | Lewis And Clark County, Montana | 99927 | 0.8762 | 0.8605 | -1.79
27250 | Liberty County, Montana | 99927 | 0.8762 | 0.8605 | -1.79
27260 | Lincoln County, Montana | 99927 | 0.8762 | 0.8605 | -1.79
27270 | Mc Cone County, Montana | 99927 | 0.8762 | 0.8605 | -1.79
27280 | Madison County, Montana | 99927 | 0.8762 | 0.8605 | -1.79
27290 | Meagher County, Montana | 99927 | 0.8762 | 0.8605 | -1.79
27300 | Mineral County, Montana | 99927 | 0.8762 | 0.8605 | -1.79
27310 | Missoula County, Montana | 33540 | 0.9473 | 0.8944 | -5.58
27320 | Musselshell County, Montana | 99927 | 0.8762 | 0.8605 | -1.79
27330 | Park County, Montana | 99927 | 0.8762 | 0.8605 | -1.79
27340 | Petroleum County, Montana | 99927 | 0.8762 | 0.8605 | -1.79
27350 | Phillips County, Montana | 99927 | 0.8762 | 0.8605 | -1.79
27360 | Pondera County, Montana | 99927 | 0.8762 | 0.8605 | -1.79
27370 | Powder River County, Montana | 99927 | 0.8762 | 0.8605 | -1.79
27380 | Powell County, Montana | 99927 | 0.8762 | 0.8605 | -1.79
27390 | Prairie County, Montana | 99927 | 0.8762 | 0.8605 | -1.79
27400 | Ravalli County, Montana | 99927 | 0.8762 | 0.8605 | -1.79
27410 | Richland County, Montana | 99927 | 0.8762 | 0.8605 | -1.79
27420 | Roosevelt County, Montana | 99927 | 0.8762 | 0.8605 | -1.79
27430 | Rosebud County, Montana | 99927 | 0.8762 | 0.8605 | -1.79
27440 | Sanders County, Montana | 99927 | 0.8762 | 0.8605 | -1.79
27450 | Sheridan County, Montana | 99927 | 0.8762 | 0.8605 | -1.79
27460 | Silver Bow County, Montana | 99927 | 0.8762 | 0.8605 | -1.79
27470 | Stillwater County, Montana | 99927 | 0.8762 | 0.8605 | -1.79
27480 | Sweet Grass County, Montana | 99927 | 0.8762 | 0.8605 | -1.79
27490 | Teton County, Montana | 99927 | 0.8762 | 0.8605 | -1.79
27500 | Toole County, Montana | 99927 | 0.8762 | 0.8605 | -1.79
27510 | Treasure County, Montana | 99927 | 0.8762 | 0.8605 | -1.79
27520 | Valley County, Montana | 99927 | 0.8762 | 0.8605 | -1.79
27530 | Wheatland County, Montana | 99927 | 0.8762 | 0.8605 | -1.79
27540 | Wibaux County, Montana | 99927 | 0.8762 | 0.8605 | -1.79
27550 | Yellowstone County, Montana | 13740 | 0.8834 | 0.8728 | -1.20
28000 | Adams County, Nebraska | 99928 | 0.8657 | 0.8693 | 0.42
28010 | Antelope County, Nebraska | 99928 | 0.8657 | 0.8693 | 0.42
28020 | Arthur County, Nebraska | 99928 | 0.8657 | 0.8693 | 0.42
28030 | Banner County, Nebraska | 99928 | 0.8657 | 0.8693 | 0.42
28040 | Blaine County, Nebraska | 99928 | 0.8657 | 0.8693 | 0.42
28050 | Boone County, Nebraska | 99928 | 0.8657 | 0.8693 | 0.42
28060 | Box Butte County, Nebraska | 99928 | 0.8657 | 0.8693 | 0.42
28070 | Boyd County, Nebraska | 99928 | 0.8657 | 0.8693 | 0.42
28080 | Brown County, Nebraska | 99928 | 0.8657 | 0.8693 | 0.42
28090 | Buffalo County, Nebraska | 99928 | 0.8657 | 0.8693 | 0.42
28100 | Burt County, Nebraska | 99928 | 0.8657 | 0.8693 | 0.42
28110 | Butler County, Nebraska | 99928 | 0.8657 | 0.8693 | 0.42
28120 | Cass County, Nebraska | 36540 | 0.9560 | 0.9467 | -0.97
28130 | Cedar County, Nebraska | 99928 | 0.8657 | 0.8693 | 0.42
28140 | Chase County, Nebraska | 99928 | 0.8657 | 0.8693 | 0.42
28150 | Cherry County, Nebraska | 99928 | 0.8657 | 0.8693 | 0.42
28160 | Cheyenne County, Nebraska | 99928 | 0.8657 | 0.8693 | 0.42
28170 | Clay County, Nebraska | 99928 | 0.8657 | 0.8693 | 0.42
28180 | Colfax County, Nebraska | 99928 | 0.8657 | 0.8693 | 0.42
28190 | Cuming County, Nebraska | 99928 | 0.8657 | 0.8693 | 0.42
28200 | Custer County, Nebraska | 99928 | 0.8657 | 0.8693 | 0.42
28210 | Dakota County, Nebraska | 43580 | 0.9399 | 0.9217 | -1.94
28220 | Dawes County, Nebraska | 99928 | 0.8657 | 0.8693 | 0.42
28230 | Dawson County, Nebraska | 99928 | 0.8657 | 0.8693 | 0.42
28240 | Deuel County, Nebraska | 99928 | 0.8657 | 0.8693 | 0.42
28250 | Dixon County, Nebraska | 43580 | 0.9019 | 0.9217 | 2.20
28260 | Dodge County, Nebraska | 99928 | 0.8657 | 0.8693 | 0.42
28270 | Douglas County, Nebraska | 36540 | 0.9560 | 0.9467 | -0.97
28280 | Dundy County, Nebraska | 99928 | 0.8657 | 0.8693 | 0.42
28290 | Fillmore County, Nebraska | 99928 | 0.8657 | 0.8693 | 0.42
28300 | Franklin County, Nebraska | 99928 | 0.8657 | 0.8693 | 0.42
28310 | Frontier County, Nebraska | 99928 | 0.8657 | 0.8693 | 0.42
28320 | Furnas County, Nebraska | 99928 | 0.8657 | 0.8693 | 0.42
28330 | Gage County, Nebraska | 99928 | 0.8657 | 0.8693 | 0.42
28340 | Garden County, Nebraska | 99928 | 0.8657 | 0.8693 | 0.42
28350 | Garfield County, Nebraska | 99928 | 0.8657 | 0.8693 | 0.42
28360 | Gosper County, Nebraska | 99928 | 0.8657 | 0.8693 | 0.42
28370 | Grant County, Nebraska | 99928 | 0.8657 | 0.8693 | 0.42
28380 | Greeley County, Nebraska | 99928 | 0.8657 | 0.8693 | 0.42
28390 | Hall County, Nebraska | 99928 | 0.8657 | 0.8693 | 0.42
28400 | Hamilton County, Nebraska | 99928 | 0.8657 | 0.8693 | 0.42
28410 | Harlan County, Nebraska | 99928 | 0.8657 | 0.8693 | 0.42
28420 | Hayes County, Nebraska | 99928 | 0.8657 | 0.8693 | 0.42
28430 | Hitchcock County, Nebraska | 99928 | 0.8657 | 0.8693 | 0.42
28440 | Holt County, Nebraska | 99928 | 0.8657 | 0.8693 | 0.42
28450 | Hooker County, Nebraska | 99928 | 0.8657 | 0.8693 | 0.42
28460 | Howard County, Nebraska | 99928 | 0.8657 | 0.8693 | 0.42
28470 | Jefferson County, Nebraska | 99928 | 0.8657 | 0.8693 | 0.42
28480 | Johnson County, Nebraska | 99928 | 0.8657 | 0.8693 | 0.42
28490 | Kearney County, Nebraska | 99928 | 0.8657 | 0.8693 | 0.42
28500 | Keith County, Nebraska | 99928 | 0.8657 | 0.8693 | 0.42
28510 | Keya Paha County, Nebraska | 99928 | 0.8657 | 0.8693 | 0.42
28520 | Kimball County, Nebraska | 99928 | 0.8657 | 0.8693 | 0.42
28530 | Knox County, Nebraska | 99928 | 0.8657 | 0.8693 | 0.42
28540 | Lancaster County, Nebraska | 30700 | 1.0214 | 1.0110 | -1.02
28550 | Lincoln County, Nebraska | 99928 | 0.8657 | 0.8693 | 0.42
28560 | Logan County, Nebraska | 99928 | 0.8657 | 0.8693 | 0.42
28570 | Loup County, Nebraska | 99928 | 0.8657 | 0.8693 | 0.42
28580 | Mc Pherson County, Nebraska | 99928 | 0.8657 | 0.8693 | 0.42
28590 | Madison County, Nebraska | 99928 | 0.8657 | 0.8693 | 0.42
28600 | Merrick County, Nebraska | 99928 | 0.8657 | 0.8693 | 0.42
28610 | Morrill County, Nebraska | 99928 | 0.8657 | 0.8693 | 0.42
28620 | Nance County, Nebraska | 99928 | 0.8657 | 0.8693 | 0.42
28630 | Nemaha County, Nebraska | 99928 | 0.8657 | 0.8693 | 0.42
28640 | Nuckolls County, Nebraska | 99928 | 0.8657 | 0.8693 | 0.42
28650 | Otoe County, Nebraska | 99928 | 0.8657 | 0.8693 | 0.42
28660 | Pawnee County, Nebraska | 99928 | 0.8657 | 0.8693 | 0.42
28670 | Perkins County, Nebraska | 99928 | 0.8657 | 0.8693 | 0.42
28680 | Phelps County, Nebraska | 99928 | 0.8657 | 0.8693 | 0.42
28690 | Pierce County, Nebraska | 99928 | 0.8657 | 0.8693 | 0.42
28700 | Platte County, Nebraska | 99928 | 0.8657 | 0.8693 | 0.42
28710 | Polk County, Nebraska | 99928 | 0.8657 | 0.8693 | 0.42
28720 | Redwillow County, Nebraska | 99928 | 0.8657 | 0.8693 | 0.42
28730 | Richardson County, Nebraska | 99928 | 0.8657 | 0.8693 | 0.42
28740 | Rock County, Nebraska | 99928 | 0.8657 | 0.8693 | 0.42
28750 | Saline County, Nebraska | 99928 | 0.8657 | 0.8693 | 0.42
28760 | Sarpy County, Nebraska | 36540 | 0.9560 | 0.9467 | -0.97
28770 | Saunders County, Nebraska | 36540 | 0.9109 | 0.9467 | 3.93
28780 | Scotts Bluff County, Nebraska | 99928 | 0.8657 | 0.8693 | 0.42
28790 | Seward County, Nebraska | 30700 | 0.9436 | 1.0110 | 7.14
28800 | Sheridan County, Nebraska | 99928 | 0.8657 | 0.8693 | 0.42
28810 | Sherman County, Nebraska | 99928 | 0.8657 | 0.8693 | 0.42
28820 | Sioux County, Nebraska | 99928 | 0.8657 | 0.8693 | 0.42
28830 | Stanton County, Nebraska | 99928 | 0.8657 | 0.8693 | 0.42
28840 | Thayer County, Nebraska | 99928 | 0.8657 | 0.8693 | 0.42
28850 | Thomas County, Nebraska | 99928 | 0.8657 | 0.8693 | 0.42
28860 | Thurston County, Nebraska | 99928 | 0.8657 | 0.8693 | 0.42
28870 | Valley County, Nebraska | 99928 | 0.8657 | 0.8693 | 0.42
28880 | Washington County, Nebraska | 36540 | 0.9560 | 0.9467 | -0.97
28890 | Wayne County, Nebraska | 99928 | 0.8657 | 0.8693 | 0.42
28900 | Webster County, Nebraska | 99928 | 0.8657 | 0.8693 | 0.42
28910 | Wheeler County, Nebraska | 99928 | 0.8657 | 0.8693 | 0.42
28920 | York County, Nebraska | 99928 | 0.8657 | 0.8693 | 0.42
29000 | Churchill County, Nevada | 99929 | 0.9376 | 0.8960 | -4.44
29010 | Clark County, Nevada | 29820 | 1.1296 | 1.1450 | 1.36
29020 | Douglas County, Nevada | 99929 | 0.9376 | 0.8960 | -4.44
29030 | Elko County, Nevada | 99929 | 0.9376 | 0.8960 | -4.44
29040 | Esmeralda County, Nevada | 99929 | 0.9376 | 0.8960 | -4.44
29050 | Eureka County, Nevada | 99929 | 0.9376 | 0.8960 | -4.44
29060 | Humboldt County, Nevada | 99929 | 0.9376 | 0.8960 | -4.44
29070 | Lander County, Nevada | 99929 | 0.9376 | 0.8960 | -4.44
29080 | Lincoln County, Nevada | 99929 | 0.9376 | 0.8960 | -4.44
29090 | Lyon County, Nevada | 99929 | 0.9376 | 0.8960 | -4.44
29100 | Mineral County, Nevada | 99929 | 0.9376 | 0.8960 | -4.44
29110 | Nye County, Nevada | 99929 | 1.0110 | 0.8960 | -11.37
29120 | Carson City County, Nevada | 16180 | 0.9961 | 1.0043 | 0.82
29130 | Pershing County, Nevada | 99929 | 0.9376 | 0.8960 | -4.44
29140 | Storey County, Nevada | 39900 | 1.0335 | 1.1984 | 15.96
29150 | Washoe County, Nevada | 39900 | 1.0982 | 1.1984 | 9.12
29160 | White Pine County, Nevada | 99929 | 0.9376 | 0.8960 | -4.44
30000 | Belknap County, New Hampshire | 99930 | 1.0817 | 1.0800 | -0.16
30010 | Carroll County, New Hampshire | 99930 | 1.0817 | 1.0800 | -0.16
30020 | Cheshire County, New Hampshire | 99930 | 1.0817 | 1.0800 | -0.16
30030 | Coos County, New Hampshire | 99930 | 1.0817 | 1.0800 | -0.16
30040 | Grafton County, New Hampshire | 99930 | 1.0817 | 1.0800 | -0.16
30050 | Hillsboro County, New Hampshire | 31700 | 1.0766 | 1.0261 | -4.69
30060 | Merrimack County, New Hampshire | 31700 | 1.0766 | 1.0261 | -4.69
30070 | Rockingham County, New Hampshire | 40484 | 1.0776 | 1.0177 | -5.56
30080 | Strafford County, New Hampshire | 40484 | 1.0776 | 1.0177 | -5.56
30090 | Sullivan County, New Hampshire | 99930 | 1.0817 | 1.0800 | -0.16
31000 | Atlantic County, New Jersey | 12100 | 1.1556 | 1.1751 | 1.69
31100 | Bergen County, New Jersey | 35644 | 1.2420 | 1.3208 | 6.34
31150 | Burlington County, New Jersey | 15804 | 1.0720 | 1.0411 | -2.88
31160 | Camden County, New Jersey | 15804 | 1.0720 | 1.0411 | -2.88
31180 | Cape May County, New Jersey | 36140 | 1.1254 | 1.0490 | -6.79
31190 | Cumberland County, New Jersey | 47220 | 0.9827 | 0.9849 | 0.22
31200 | Essex County, New Jersey | 35084 | 1.1859 | 1.1890 | 0.26
31220 | Gloucester County, New Jersey | 15804 | 1.0720 | 1.0411 | -2.88
31230 | Hudson County, New Jersey | 35644 | 1.2263 | 1.3208 | 7.71
31250 | Hunterdon County, New Jersey | 35084 | 1.1525 | 1.1890 | 3.17
31260 | Mercer County, New Jersey | 45940 | 1.0834 | 1.0877 | 0.40
31270 | Middlesex County, New Jersey | 20764 | 1.1208 | 1.1207 | -0.01
31290 | Monmouth County, New Jersey | 20764 | 1.1255 | 1.1207 | -0.43
31300 | Morris County, New Jersey | 35084 | 1.1859 | 1.1890 | 0.26
31310 | Ocean County, New Jersey | 20764 | 1.1255 | 1.1207 | -0.43
31320 | Passaic County, New Jersey | 35644 | 1.2420 | 1.3208 | 6.34
31340 | Salem County, New Jersey | 48864 | 1.0697 | 1.0703 | 0.06
31350 | Somerset County, New Jersey | 20764 | 1.1208 | 1.1207 | -0.01
31360 | Sussex County, New Jersey | 35084 | 1.1859 | 1.1890 | 0.26
31370 | Union County, New Jersey | 35084 | 1.1859 | 1.1890 | 0.26
31390 | Warren County, New Jersey | 10900 | 1.0826 | 0.9910 | -8.46
32000 | Bernalillo County, New Mexico | 10740 | 0.9684 | 0.9474 | -2.17
32010 | Catron County, New Mexico | 99932 | 0.8599 | 0.8347 | -2.93
32020 | Chaves County, New Mexico | 99932 | 0.8599 | 0.8347 | -2.93
32025 | Cibola County, New Mexico | 99932 | 0.8599 | 0.8347 | -2.93
32030 | Colfax County, New Mexico | 99932 | 0.8599 | 0.8347 | -2.93
32040 | Curry County, New Mexico | 99932 | 0.8599 | 0.8347 | -2.93
32050 | De Baca County, New Mexico | 99932 | 0.8599 | 0.8347 | -2.93
32060 | Dona Ana County, New Mexico | 29740 | 0.8467 | 0.9290 | 9.72
32070 | Eddy County, New Mexico | 99932 | 0.8599 | 0.8347 | -2.93
32080 | Grant County, New Mexico | 99932 | 0.8599 | 0.8347 | -2.93
32090 | Guadalupe County, New Mexico | 99932 | 0.8599 | 0.8347 | -2.93
32100 | Harding County, New Mexico | 99932 | 0.8599 | 0.8347 | -2.93
32110 | Hidalgo County, New Mexico | 99932 | 0.8599 | 0.8347 | -2.93
32120 | Lea County, New Mexico | 99932 | 0.8599 | 0.8347 | -2.93
32130 | Lincoln County, New Mexico | 99932 | 0.8599 | 0.8347 | -2.93
32131 | Los Alamos County, New Mexico | 99932 | 0.9692 | 0.8347 | -13.88
32140 | Luna County, New Mexico | 99932 | 0.8599 | 0.8347 | -2.93
32150 | Mc Kinley County, New Mexico | 99932 | 0.8599 | 0.8347 | -2.93
32160 | Mora County, New Mexico | 99932 | 0.8599 | 0.8347 | -2.93
32170 | Otero County, New Mexico | 99932 | 0.8599 | 0.8347 | -2.93
32180 | Quay County, New Mexico | 99932 | 0.8599 | 0.8347 | -2.93
32190 | Rio Arriba County, New Mexico | 99932 | 0.8599 | 0.8347 | -2.93
32200 | Roosevelt County, New Mexico | 99932 | 0.8599 | 0.8347 | -2.93
32210 | Sandoval County, New Mexico | 10740 | 0.9684 | 0.9474 | -2.17
32220 | San Juan County, New Mexico | 22140 | 0.8536 | 0.8604 | 0.80
32230 | San Miguel County, New Mexico | 99932 | 0.8599 | 0.8347 | -2.93
32240 | Santa Fe County, New Mexico | 42140 | 1.0834 | 1.0843 | 0.08
32250 | Sierra County, New Mexico | 99932 | 0.8599 | 0.8347 | -2.93
32260 | Socorro County, New Mexico | 99932 | 0.8599 | 0.8347 | -2.93
32270 | Taos County, New Mexico | 99932 | 0.8599 | 0.8347 | -2.93
32280 | Torrance County, New Mexico | 10740 | 0.9124 | 0.9474 | 3.84
32290 | Union County, New Mexico | 99932 | 0.8599 | 0.8347 | -2.93
32300 | Valencia County, New Mexico | 10740 | 0.9684 | 0.9474 | -2.17
33000 | Albany County, New York | 10580 | 0.8574 | 0.8735 | 1.88
33010 | Allegany County, New York | 99933 | 0.8275 | 0.8250 | -0.30
33020 | Bronx County, New York | 35644 | 1.3326 | 1.3208 | -0.89
33030 | Broome County, New York | 13780 | 0.8562 | 0.8798 | 2.76
33040 | Cattaraugus County, New York | 99933 | 0.8275 | 0.8250 | -0.30
33050 | Cayuga County, New York | 99933 | 0.8823 | 0.8250 | -6.49
33060 | Chautauqua County, New York | 99933 | 0.7849 | 0.8250 | 5.11
33070 | Chemung County, New York | 21300 | 0.8250 | 0.8213 | -0.45
33080 | Chenango County, New York | 99933 | 0.8275 | 0.8250 | -0.30
33090 | Clinton County, New York | 99933 | 0.8275 | 0.8250 | -0.30
33200 | Columbia County, New York | 99933 | 0.8275 | 0.8250 | -0.30
33210 | Cortland County, New York | 99933 | 0.8275 | 0.8250 | -0.30
33220 | Delaware County, New York | 99933 | 0.8275 | 0.8250 | -0.30
33230 | Dutchess County, New York | 39100 | 1.0683 | 1.0913 | 2.15
33240 | Erie County, New York | 15380 | 0.9511 | 0.9483 | -0.29
33260 | Essex County, New York | 99933 | 0.8275 | 0.8250 | -0.30
33270 | Franklin County, New York | 99933 | 0.8275 | 0.8250 | -0.30
33280 | Fulton County, New York | 99933 | 0.8275 | 0.8250 | -0.30
33290 | Genesee County, New York | 99933 | 0.8602 | 0.8250 | -4.09
33300 | Greene County, New York | 99933 | 0.8275 | 0.8250 | -0.30
33310 | Hamilton County, New York | 99933 | 0.8275 | 0.8250 | -0.30
33320 | Herkimer County, New York | 46540 | 0.8358 | 0.8402 | 0.53
33330 | Jefferson County, New York | 99933 | 0.8275 | 0.8250 | -0.30
33331 | Kings County, New York | 35644 | 1.3326 | 1.3208 | -0.89
33340 | Lewis County, New York | 99933 | 0.8275 | 0.8250 | -0.30
33350 | Livingston County, New York | 40380 | 0.9085 | 0.9005 | -0.88
33360 | Madison County, New York | 45060 | 0.9533 | 0.9709 | 1.85
33370 | Monroe County, New York | 40380 | 0.9085 | 0.9005 | -0.88
33380 | Montgomery County, New York | 99933 | 0.8357 | 0.8250 | -1.28
33400 | Nassau County, New York | 35004 | 1.2719 | 1.2681 | -0.30
33420 | New York County, New York | 35644 | 1.3326 | 1.3208 | -0.89
33500 | Niagara County, New York | 15380 | 0.9511 | 0.9483 | -0.29
33510 | Oneida County, New York | 46540 | 0.8358 | 0.8402 | 0.53
33520 | Onondaga County, New York | 45060 | 0.9533 | 0.9709 | 1.85
33530 | Ontario County, New York | 40380 | 0.9085 | 0.9005 | -0.88
33540 | Orange County, New York | 39100 | 1.1049 | 1.0913 | -1.23
33550 | Orleans County, New York | 40380 | 0.9085 | 0.9005 | -0.88
33560 | Oswego County, New York | 45060 | 0.9533 | 0.9709 | 1.85
33570 | Otsego County, New York | 99933 | 0.8275 | 0.8250 | -0.30
33580 | Putnam County, New York | 35644 | 1.3326 | 1.3208 | -0.89
33590 | Queens County, New York | 35644 | 1.3326 | 1.3208 | -0.89
33600 | Rensselaer County, New York | 10580 | 0.8574 | 0.8735 | 1.88
33610 | Richmond County, New York | 35644 | 1.3326 | 1.3208 | -0.89
33620 | Rockland County, New York | 35644 | 1.3326 | 1.3208 | -0.89
33630 | St Lawrence County, New York | 99933 | 0.8275 | 0.8250 | -0.30
33640 | Saratoga County, New York | 10580 | 0.8574 | 0.8735 | 1.88
33650 | Schenectady County, New York | 10580 | 0.8574 | 0.8735 | 1.88
33660 | Schoharie County, New York | 10580 | 0.8574 | 0.8735 | 1.88
33670 | Schuyler County, New York | 99933 | 0.8275 | 0.8250 | -0.30
33680 | Seneca County, New York | 99933 | 0.8275 | 0.8250 | -0.30
33690 | Steuben County, New York | 99933 | 0.8275 | 0.8250 | -0.30
33700 | Suffolk County, New York | 35004 | 1.2719 | 1.2681 | -0.30
33710 | Sullivan County, New York | 99933 | 0.8275 | 0.8250 | -0.30
33720 | Tioga County, New York | 13780 | 0.8562 | 0.8798 | 2.76
33730 | Tompkins County, New York | 27060 | 0.9094 | 0.9831 | 8.10
33740 | Ulster County, New York | 28740 | 0.8825 | 0.9383 | 6.32
33750 | Warren County, New York | 24020 | 0.8559 | 0.8339 | -2.57
33760 | Washington County, New York | 24020 | 0.8559 | 0.8339 | -2.57
33770 | Wayne County, New York | 40380 | 0.9085 | 0.9005 | -0.88
33800 | Westchester County, New York | 35644 | 1.3326 | 1.3208 | -0.89
33900 | Wyoming County, New York | 99933 | 0.8275 | 0.8250 | -0.30
33910 | Yates County, New York | 99933 | 0.8275 | 0.8250 | -0.30
34000 | Alamance County, N Carolina | 15500 | 0.8962 | 0.8689 | -3.05
34010 | Alexander County, N Carolina | 25860 | 0.8921 | 0.9021 | 1.12
34020 | Alleghany County, N Carolina | 99934 | 0.8501 | 0.8599 | 1.15
34030 | Anson County, N Carolina | 16740 | 0.9106 | 0.9564 | 5.03
34040 | Ashe County, N Carolina | 99934 | 0.8501 | 0.8599 | 1.15
34050 | Avery County, N Carolina | 99934 | 0.8501 | 0.8599 | 1.15
34060 | Beaufort County, N Carolina | 99934 | 0.8501 | 0.8599 | 1.15
34070 | Bertie County, N Carolina | 99934 | 0.8501 | 0.8599 | 1.15
34080 | Bladen County, N Carolina | 99934 | 0.8501 | 0.8599 | 1.15
34090 | Brunswick County, N Carolina | 48900 | 0.9582 | 0.9853 | 2.83
34100 | Buncombe County, N Carolina | 11700 | 0.9511 | 0.9093 | -4.39
34110 | Burke County, N Carolina | 25860 | 0.8921 | 0.9021 | 1.12
34120 | Cabarrus County, N Carolina | 16740 | 0.9733 | 0.9564 | -1.74
34130 | Caldwell County, N Carolina | 25860 | 0.8921 | 0.9021 | 1.12
34140 | Camden County, N Carolina | 99934 | 0.8501 | 0.8599 | 1.15
34150 | Carteret County, N Carolina | 99934 | 0.8501 | 0.8599 | 1.15
34160 | Caswell County, N Carolina | 99934 | 0.8501 | 0.8599 | 1.15
34170 | Catawba County, N Carolina | 25860 | 0.8921 | 0.9021 | 1.12
34180 | Chatham County, N Carolina | 20500 | 1.0139 | 0.9843 | -2.92
34190 | Cherokee County, N Carolina | 99934 | 0.8501 | 0.8599 | 1.15
34200 | Chowan County, N Carolina | 99934 | 0.8501 | 0.8599 | 1.15
34210 | Clay County, N Carolina | 99934 | 0.8501 | 0.8599 | 1.15
34220 | Cleveland County, N Carolina | 99934 | 0.8501 | 0.8599 | 1.15
34230 | Columbus County, N Carolina | 99934 | 0.8501 | 0.8599 | 1.15
34240 | Craven County, N Carolina | 99934 | 0.8501 | 0.8599 | 1.15
34250 | Cumberland County, N Carolina | 22180 | 0.9416 | 0.8961 | -4.83
34251 | Currituck County, N Carolina | 47260 | 0.8799 | 0.8805 | 0.07
34270 | Dare County, N Carolina | 99934 | 0.8501 | 0.8599 | 1.15
34280 | Davidson County, N Carolina | 99934 | 0.8779 | 0.8599 | -2.05
34290 | Davie County, N Carolina | 49180 | 0.8981 | 0.9293 | 3.47
34300 | Duplin County, N Carolina | 99934 | 0.8501 | 0.8599 | 1.15
34310 | Durham County, N Carolina | 20500 | 1.0139 | 0.9843 | -2.92
34320 | Edgecombe County, N Carolina | 40580 | 0.8915 | 0.8869 | -0.52
34330 | Forsyth County, N Carolina | 49180 | 0.8981 | 0.9293 | 3.47
34340 | Franklin County, N Carolina | 39580 | 0.9863 | 0.9879 | 0.16
34350 | Gaston County, N Carolina | 16740 | 0.9733 | 0.9564 | -1.74
34360 | Gates County, N Carolina | 99934 | 0.8501 | 0.8599 | 1.15
34370 | Graham County, N Carolina | 99934 | 0.8501 | 0.8599 | 1.15
34380 | Granville County, N Carolina | 99934 | 0.8501 | 0.8599 | 1.15
34390 | Greene County, N Carolina | 24780 | 0.8944 | 0.9449 | 5.65
34400 | Guilford County, N Carolina | 24660 | 0.9061 | 0.8735 | -3.60
34410 | Halifax County, N Carolina | 99934 | 0.8501 | 0.8599 | 1.15
34420 | Harnett County, N Carolina | 99934 | 0.8501 | 0.8599 | 1.15
34430 | Haywood County, N Carolina | 11700 | 0.8874 | 0.9093 | 2.47
34440 | Henderson County, N Carolina | 11700 | 0.8874 | 0.9093 | 2.47
34450 | Hertford County, N Carolina | 99934 | 0.8501 | 0.8599 | 1.15
34460 | Hoke County, N Carolina | 22180 | 0.8939 | 0.8961 | 0.25
34470 | Hyde County, N Carolina | 99934 | 0.8501 | 0.8599 | 1.15
34480 | Iredell County, N Carolina | 99934 | 0.8501 | 0.8599 | 1.15
34490 | Jackson County, N Carolina | 99934 | 0.8501 | 0.8599 | 1.15
34500 | Johnston County, N Carolina | 39580 | 0.9863 | 0.9879 | 0.16
34510 | Jones County, N Carolina | 99934 | 0.8501 | 0.8599 | 1.15
34520 | Lee County, N Carolina | 99934 | 0.8501 | 0.8599 | 1.15
34530 | Lenoir County, N Carolina | 99934 | 0.8501 | 0.8599 | 1.15
34540 | Lincoln County, N Carolina | 99934 | 0.9128 | 0.8599 | -5.80
34550 | Mc Dowell County, N Carolina | 99934 | 0.8501 | 0.8599 | 1.15
34560 | Macon County, N Carolina | 99934 | 0.8501 | 0.8599 | 1.15
34570 | Madison County, N Carolina | 11700 | 0.9511 | 0.9093 | -4.39
34580 | Martin County, N Carolina | 99934 | 0.8501 | 0.8599 | 1.15
34590 | Mecklenburg County, N Carolina | 16740 | 0.9733 | 0.9564 | -1.74
34600 | Mitchell County, N Carolina | 99934 | 0.8501 | 0.8599 | 1.15
34610 | Montgomery County, N Carolina | 99934 | 0.8501 | 0.8599 | 1.15
34620 | Moore County, N Carolina | 99934 | 0.8501 | 0.8599 | 1.15
34630 | Nash County, N Carolina | 40580 | 0.8915 | 0.8869 | -0.52
34640 | New Hanover County, N Carolina | 48900 | 0.9582 | 0.9853 | 2.83
34650 | Northampton County, N Carolina | 99934 | 0.8501 | 0.8599 | 1.15
34660 | Onslow County, N Carolina | 27340 | 0.8236 | 0.8245 | 0.11
34670 | Orange County, N Carolina | 20500 | 1.0139 | 0.9843 | -2.92
34680 | Pamlico County, N Carolina | 99934 | 0.8501 | 0.8599 | 1.15
34690 | Pasquotank County, N Carolina | 99934 | 0.8501 | 0.8599 | 1.15
34700 | Pender County, N Carolina | 48900 | 0.9022 | 0.9853 | 9.21
34710 | Perquimans County, N Carolina | 99934 | 0.8501 | 0.8599 | 1.15
34720 | Person County, N Carolina | 20500 | 0.9353 | 0.9843 | 5.24
34730 | Pitt County, N Carolina | 24780 | 0.9425 | 0.9449 | 0.25
34740 | Polk County, N Carolina | 99934 | 0.8501 | 0.8599 | 1.15
34750 | Randolph County, N Carolina | 24660 | 0.9061 | 0.8735 | -3.60
34760 | Richmond County, N Carolina | 99934 | 0.8501 | 0.8599 | 1.15
34770 | Robeson County, N Carolina | 99934 | 0.8501 | 0.8599 | 1.15
34780 | Rockingham County, N Carolina | 24660 | 0.8783 | 0.8735 | -0.55
34790 | Rowan County, N Carolina | 99934 | 0.9128 | 0.8599 | -5.80
34800 | Rutherford County, N Carolina | 99934 | 0.8501 | 0.8599 | 1.15
34810 | Sampson County, N Carolina | 99934 | 0.8501 | 0.8599 | 1.15
34820 | Scotland County, N Carolina | 99934 | 0.8501 | 0.8599 | 1.15
34830 | Stanly County, N Carolina | 99934 | 0.8501 | 0.8599 | 1.15
34840 | Stokes County, N Carolina | 49180 | 0.8981 | 0.9293 | 3.47
34850 | Surry County, N Carolina | 99934 | 0.8501 | 0.8599 | 1.15
34860 | Swain County, N Carolina | 99934 | 0.8501 | 0.8599 | 1.15
34870 | Transylvania County, N Carolina | 99934 | 0.8501 | 0.8599 | 1.15
34880 | Tyrrell County, N Carolina | 99934 | 0.8501 | 0.8599 | 1.15
34890 | Union County, N Carolina | 16740 | 0.9733 | 0.9564 | -1.74
34900 | Vance County, N Carolina | 99934 | 0.8501 | 0.8599 | 1.15
34910 | Wake County, N Carolina | 39580 | 0.9863 | 0.9879 | 0.16
34920 | Warren County, N Carolina | 99934 | 0.8501 | 0.8599 | 1.15
34930 | Washington County, N Carolina | 99934 | 0.8501 | 0.8599 | 1.15
34940 | Watauga County, N Carolina | 99934 | 0.8501 | 0.8599 | 1.15
34950 | Wayne County, N Carolina | 24140 | 0.8775 | 0.9187 | 4.70
34960 | Wilkes County, N Carolina | 99934 | 0.8501 | 0.8599 | 1.15
34970 | Wilson County, N Carolina | 99934 | 0.8501 | 0.8599 | 1.15
34980 | Yadkin County, N Carolina | 49180 | 0.8981 | 0.9293 | 3.47
34981 | Yancey County, N Carolina | 99934 | 0.8501 | 0.8599 | 1.15
35000 | Adams County, N Dakota | 99935 | 0.7261 | 0.7228 | -0.45
35010 | Barnes County, N Dakota | 99935 | 0.7261 | 0.7228 | -0.45
35020 | Benson County, N Dakota | 99935 | 0.7261 | 0.7228 | -0.45
35030 | Billings County, N Dakota | 99935 | 0.7261 | 0.7228 | -0.45
35040 | Bottineau County, N Dakota | 99935 | 0.7261 | 0.7228 | -0.45
35050 | Bowman County, N Dakota | 99935 | 0.7261 | 0.7228 | -0.45
35060 | Burke County, N Dakota | 99935 | 0.7261 | 0.7228 | -0.45
35070 | Burleigh County, N Dakota | 13900 | 0.7574 | 0.7253 | -4.24
35080 | Cass County, N Dakota | 22020 | 0.8486 | 0.8265 | -2.60
35090 | Cavalier County, N Dakota | 99935 | 0.7261 | 0.7228 | -0.45
35100 | Dickey County, N Dakota | 99935 | 0.7261 | 0.7228 | -0.45
35110 | Divide County, N Dakota | 99935 | 0.7261 | 0.7228 | -0.45
35120 | Dunn County, N Dakota | 99935 | 0.7261 | 0.7228 | -0.45
35130 | Eddy County, N Dakota | 99935 | 0.7261 | 0.7228 | -0.45
35140 | Emmons County, N Dakota | 99935 | 0.7261 | 0.7228 | -0.45
35150 | Foster County, N Dakota | 99935 | 0.7261 | 0.7228 | -0.45
35160 | Golden Valley County, N Dakota | 99935 | 0.7261 | 0.7228 | -0.45
35170 | Grand Forks County, N Dakota | 24220 | 0.7901 | 0.7963 | 0.78
35180 | Grant County, N Dakota | 99935 | 0.7261 | 0.7228 | -0.45
35190 | Griggs County, N Dakota | 99935 | 0.7261 | 0.7228 | -0.45
35200 | Hettinger County, N Dakota | 99935 | 0.7261 | 0.7228 | -0.45
35210 | Kidder County, N Dakota | 99935 | 0.7261 | 0.7228 | -0.45
35220 | La Moure County, N Dakota | 99935 | 0.7261 | 0.7228 | -0.45
35230 | Logan County, N Dakota | 99935 | 0.7261 | 0.7228 | -0.45
35240 | Mc Henry County, N Dakota | 99935 | 0.7261 | 0.7228 | -0.45
35250 | Mc Intosh County, N Dakota | 99935 | 0.7261 | 0.7228 | -0.45
35260 | Mc Kenzie County, N Dakota | 99935 | 0.7261 | 0.7228 | -0.45
35270 | Mc Lean County, N Dakota | 99935 | 0.7261 | 0.7228 | -0.45
35280 | Mercer County, N Dakota | 99935 | 0.7261 | 0.7228 | -0.45
35290 | Morton County, N Dakota | 13900 | 0.7574 | 0.7253 | -4.24
35300 | Mountrail County, N Dakota | 99935 | 0.7261 | 0.7228 | -0.45
35310 | Nelson County, N Dakota | 99935 | 0.7261 | 0.7228 | -0.45
35320 | Oliver County, N Dakota | 99935 | 0.7261 | 0.7228 | -0.45
35330 | Pembina County, N Dakota | 99935 | 0.7261 | 0.7228 | -0.45
35340 | Pierce County, N Dakota | 99935 | 0.7261 | 0.7228 | -0.45
35350 | Ramsey County, N Dakota | 99935 | 0.7261 | 0.7228 | -0.45
35360 | Ransom County, N Dakota | 99935 | 0.7261 | 0.7228 | -0.45
35370 | Renville County, N Dakota | 99935 | 0.7261 | 0.7228 | -0.45
35380 | Richland County, N Dakota | 99935 | 0.7261 | 0.7228 | -0.45
35390 | Rolette County, N Dakota | 99935 | 0.7261 | 0.7228 | -0.45
35400 | Sargent County, N Dakota | 99935 | 0.7261 | 0.7228 | -0.45
35410 | Sheridan County, N Dakota | 99935 | 0.7261 | 0.7228 | -0.45
35420 | Sioux County, N Dakota | 99935 | 0.7261 | 0.7228 | -0.45
35430 | Slope County, N Dakota | 99935 | 0.7261 | 0.7228 | -0.45
35440 | Stark County, N Dakota | 99935 | 0.7261 | 0.7228 | -0.45
35450 | Steele County, N Dakota | 99935 | 0.7261 | 0.7228 | -0.45
35460 | Stutsman County, N Dakota | 99935 | 0.7261 | 0.7228 | -0.45
35470 | Towner County, N Dakota | 99935 | 0.7261 | 0.7228 | -0.45
35480 | Traill County, N Dakota | 99935 | 0.7261 | 0.7228 | -0.45
35490 | Walsh County, N Dakota | 99935 | 0.7261 | 0.7228 | -0.45
35500 | Ward County, N Dakota | 99935 | 0.7261 | 0.7228 | -0.45
35510 | Wells County, N Dakota | 99935 | 0.7261 | 0.7228 | -0.45
35520 | Williams County, N Dakota | 99935 | 0.7261 | 0.7228 | -0.45
36000 | Adams County, Ohio | 99936 | 0.8874 | 0.8674 | -2.25
36010 | Allen County, Ohio | 30620 | 0.9172 | 0.9058 | -1.24
36020 | Ashland County, Ohio | 99936 | 0.8874 | 0.8674 | -2.25
36030 | Ashtabula County, Ohio | 99936 | 0.9005 | 0.8674 | -3.68
36040 | Athens County, Ohio | 99936 | 0.8874 | 0.8674 | -2.25
36050 | Auglaize County, Ohio | 99936 | 0.8973 | 0.8674 | -3.33
36060 | Belmont County, Ohio | 48540 | 0.7161 | 0.7022 | -1.94
36070 | Brown County, Ohio | 17140 | 0.9675 | 0.9617 | -0.60
36080 | Butler County, Ohio | 17140 | 0.9283 | 0.9617 | 3.60
36090 | Carroll County, Ohio | 15940 | 0.8935 | 0.9047 | 1.25
36100 | Champaign County, Ohio | 99936 | 0.8874 | 0.8674 | -2.25
36110 | Clark County, Ohio | 44220 | 0.8688 | 0.8462 | -2.60
36120 | Clermont County, Ohio | 17140 | 0.9675 | 0.9617 | -0.60
36130 | Clinton County, Ohio | 99936 | 0.8874 | 0.8674 | -2.25
36140 | Columbiana County, Ohio | 99936 | 0.8837 | 0.8674 | -1.84
36150 | Coshocton County, Ohio | 99936 | 0.8874 | 0.8674 | -2.25
36160 | Crawford County, Ohio | 99936 | 0.9359 | 0.8674 | -7.32
36170 | Cuyahoga County, Ohio | 17460 | 0.9198 | 0.9385 | 2.03
36190 | Darke County, Ohio | 99936 | 0.8874 | 0.8674 | -2.25
36200 | Defiance County, Ohio | 99936 | 0.8874 | 0.8674 | -2.25
36210 | Delaware County, Ohio | 18140 | 0.9867 | 1.0122 | 2.58
36220 | Erie County, Ohio | 41780 | 0.8970 | 0.9319 | 3.89
36230 | Fairfield County, Ohio | 18140 | 0.9867 | 1.0122 | 2.58
36240 | Fayette County, Ohio | 99936 | 0.8874 | 0.8674 | -2.25
36250 | Franklin County, Ohio | 18140 | 0.9867 | 1.0122 | 2.58
36260 | Fulton County, Ohio | 45780 | 0.9574 | 0.9599 | 0.26
36270 | Gallia County, Ohio | 99936 | 0.8874 | 0.8674 | -2.25
36280 | Geauga County, Ohio | 17460 | 0.9198 | 0.9385 | 2.03
36290 | Greene County, Ohio | 19380 | 0.9022 | 0.9053 | 0.34
36300 | Guernsey County, Ohio | 99936 | 0.8874 | 0.8674 | -2.25
36310 | Hamilton County, Ohio | 17140 | 0.9675 | 0.9617 | -0.60
36330 | Hancock County, Ohio | 99936 | 0.8874 | 0.8674 | -2.25
36340 | Hardin County, Ohio | 99936 | 0.8874 | 0.8674 | -2.25
36350 | Harrison County, Ohio | 99936 | 0.8874 | 0.8674 | -2.25
36360 | Henry County, Ohio | 99936 | 0.8874 | 0.8674 | -2.25
36370 | Highland County, Ohio | 99936 | 0.8874 | 0.8674 | -2.25
36380 | Hocking County, Ohio | 99936 | 0.8874 | 0.8674 | -2.25
36390 | Holmes County, Ohio | 99936 | 0.8874 | 0.8674 | -2.25
36400 | Huron County, Ohio | 99936 | 0.8874 | 0.8674 | -2.25
36410 | Jackson County, Ohio | 99936 | 0.8874 | 0.8674 | -2.25
36420 | Jefferson County, Ohio | 48260 | 0.7819 | 0.8078 | 3.31
36430 | Knox County, Ohio | 99936 | 0.8874 | 0.8674 | -2.25
36440 | Lake County, Ohio | 17460 | 0.9198 | 0.9385 | 2.03
36450 | Lawrence County, Ohio | 26580 | 0.9477 | 0.9013 | -4.90
36460 | Licking County, Ohio | 18140 | 0.9867 | 1.0122 | 2.58
36470 | Logan County, Ohio | 99936 | 0.8874 | 0.8674 | -2.25
36480 | Lorain County, Ohio | 17460 | 0.9198 | 0.9385 | 2.03
36490 | Lucas County, Ohio | 45780 | 0.9574 | 0.9599 | 0.26
36500 | Madison County, Ohio | 18140 | 0.9867 | 1.0122 | 2.58
36510 | Mahoning County, Ohio | 49660 | 0.8726 | 0.8817 | 1.04
36520 | Marion County, Ohio | 99936 | 0.8874 | 0.8674 | -2.25
36530 | Medina County, Ohio | 17460 | 0.9198 | 0.9385 | 2.03
36540 | Meigs County, Ohio | 99936 | 0.8874 | 0.8674 | -2.25
36550 | Mercer County, Ohio | 99936 | 0.8874 | 0.8674 | -2.25
36560 | Miami County, Ohio | 19380 | 0.9022 | 0.9053 | 0.34
36570 | Monroe County, Ohio | 99936 | 0.8874 | 0.8674 | -2.25
36580 | Montgomery County, Ohio | 19380 | 0.9022 | 0.9053 | 0.34
36590 | Morgan County, Ohio | 99936 | 0.8874 | 0.8674 | -2.25
36600 | Morrow County, Ohio | 18140 | 0.9391 | 1.0122 | 7.78
36610 | Muskingum County, Ohio | 99936 | 0.8874 | 0.8674 | -2.25
36620 | Noble County, Ohio | 99936 | 0.8874 | 0.8674 | -2.25
36630 | Ottawa County, Ohio | 45780 | 0.9248 | 0.9599 | 3.80
36640 | Paulding County, Ohio | 99936 | 0.8874 | 0.8674 | -2.25
36650 | Perry County, Ohio | 99936 | 0.8874 | 0.8674 | -2.25
36660 | Pickaway County, Ohio | 18140 | 0.9867 | 1.0122 | 2.58
36670 | Pike County, Ohio | 99936 | 0.8874 | 0.8674 | -2.25
36680 | Portage County, Ohio | 10420 | 0.8982 | 0.8639 | -3.82
36690 | Preble County, Ohio | 19380 | 0.8993 | 0.9053 | 0.67
36700 | Putnam County, Ohio | 99936 | 0.8874 | 0.8674 | -2.25
36710 | Richland County, Ohio | 31900 | 0.8902 | 0.9287 | 4.32
36720 | Ross County, Ohio | 99936 | 0.8874 | 0.8674 | -2.25
36730 | Sandusky County, Ohio | 99936 | 0.8874 | 0.8674 | -2.25
36740 | Scioto County, Ohio | 99936 | 0.8874 | 0.8674 | -2.25
36750 | Seneca County, Ohio | 99936 | 0.8874 | 0.8674 | -2.25
36760 | Shelby County, Ohio | 99936 | 0.8874 | 0.8674 | -2.25
36770 | Stark County, Ohio | 15940 | 0.8935 | 0.9047 | 1.25
36780 | Summit County, Ohio | 10420 | 0.8982 | 0.8639 | -3.82
36790 | Trumbull County, Ohio | 49660 | 0.8726 | 0.8817 | 1.04
36800 | Tuscarawas County, Ohio | 99936 | 0.8874 | 0.8674 | -2.25
36810 | Union County, Ohio | 18140 | 0.9391 | 1.0122 | 7.78
36820 | Van Wert County, Ohio | 99936 | 0.8874 | 0.8674 | -2.25
36830 | Vinton County, Ohio | 99936 | 0.8874 | 0.8674 | -2.25
36840 | Warren County, Ohio | 17140 | 0.9675 | 0.9617 | -0.60
36850 | Washington County, Ohio | 37620 | 0.8270 | 0.7940 | -3.99
36860 | Wayne County, Ohio | 99936 | 0.8874 | 0.8674 | -2.25
36870 | Williams County, Ohio | 99936 | 0.8874 | 0.8674 | -2.25
36880 | Wood County, Ohio | 45780 | 0.9574 | 0.9599 | 0.26
36890 | Wyandot County, Ohio | 99936 | 0.8874 | 0.8674 | -2.25
37000 | Adair County, Oklahoma | 99937 | 0.7512 | 0.7640 | 1.70
37010 | Alfalfa County, Oklahoma | 99937 | 0.7512 | 0.7640 | 1.70
37020 | Atoka County, Oklahoma | 99937 | 0.7512 | 0.7640 | 1.70
37030 | Beaver County, Oklahoma | 99937 | 0.7512 | 0.7640 | 1.70
37040 | Beckham County, Oklahoma | 99937 | 0.7512 | 0.7640 | 1.70
37050 | Blaine County, Oklahoma | 99937 | 0.7512 | 0.7640 | 1.70
37060 | Bryan County, Oklahoma | 99937 | 0.7512 | 0.7640 | 1.70
37070 | Caddo County, Oklahoma | 99937 | 0.7512 | 0.7640 | 1.70
37080 | Canadian County, Oklahoma | 36420 | 0.9028 | 0.8853 | -1.94
37090 | Carter County, Oklahoma | 99937 | 0.7512 | 0.7640 | 1.70
37100 | Cherokee County, Oklahoma | 99937 | 0.7512 | 0.7640 | 1.70
37110 | Choctaw County, Oklahoma | 99937 | 0.7512 | 0.7640 | 1.70
37120 | Cimarron County, Oklahoma | 99937 | 0.7512 | 0.7640 | 1.70
37130 | Cleveland County, Oklahoma | 36420 | 0.9028 | 0.8853 | -1.94
37140 | Coal County, Oklahoma | 99937 | 0.7512 | 0.7640 | 1.70
37150 | Comanche County, Oklahoma | 30020 | 0.7872 | 0.8080 | 2.64
37160 | Cotton County, Oklahoma | 99937 | 0.7512 | 0.7640 | 1.70
37170 | Craig County, Oklahoma | 99937 | 0.7512 | 0.7640 | 1.70
37180 | Creek County, Oklahoma | 46140 | 0.8565 | 0.8104 | -5.38
37190 | Custer County, Oklahoma | 99937 | 0.7512 | 0.7640 | 1.70
37200 | Delaware County, Oklahoma | 99937 | 0.7512 | 0.7640 | 1.70
37210 | Dewey County, Oklahoma | 99937 | 0.7512 | 0.7640 | 1.70
37220 | Ellis County, Oklahoma | 99937 | 0.7512 | 0.7640 | 1.70
37230 | Garfield County, Oklahoma | 99937 | 0.8124 | 0.7640 | -5.96
37240 | Garvin County, Oklahoma | 99937 | 0.7512 | 0.7640 | 1.70
37250 | Grady County, Oklahoma | 36420 | 0.8237 | 0.8853 | 7.48
37260 | Grant County, Oklahoma | 99937 | 0.7512 | 0.7640 | 1.70
37270 | Greer County, Oklahoma | 99937 | 0.7512 | 0.7640 | 1.70
37280 | Harmon County, Oklahoma | 99937 | 0.7512 | 0.7640 | 1.70
37290 | Harper County, Oklahoma | 99937 | 0.7512 | 0.7640 | 1.70
37300 | Haskell County, Oklahoma | 99937 | 0.7512 | 0.7640 | 1.70
37310 | Hughes County, Oklahoma | 99937 | 0.7512 | 0.7640 | 1.70
37320 | Jackson County, Oklahoma | 99937 | 0.7512 | 0.7640 | 1.70
37330 | Jefferson County, Oklahoma | 99937 | 0.7512 | 0.7640 | 1.70
37340 | Johnston County, Oklahoma | 99937 | 0.7512 | 0.7640 | 1.70
37350 | Kay County, Oklahoma | 99937 | 0.7512 | 0.7640 | 1.70
37360 | Kingfisher County, Oklahoma | 99937 | 0.7512 | 0.7640 | 1.70
37370 | Kiowa County, Oklahoma | 99937 | 0.7512 | 0.7640 | 1.70
37380 | Latimer County, Oklahoma | 99937 | 0.7512 | 0.7640 | 1.70
37390 | Le Flore County, Oklahoma | 22900 | 0.7836 | 0.7745 | -1.16
37400 | Lincoln County, Oklahoma | 36420 | 0.8237 | 0.8853 | 7.48
37410 | Logan County, Oklahoma | 36420 | 0.9028 | 0.8853 | -1.94
37420 | Love County, Oklahoma | 99937 | 0.7512 | 0.7640 | 1.70
37430 | Mc Clain County, Oklahoma | 36420 | 0.9028 | 0.8853 | -1.94
37440 | Mc Curtain County, Oklahoma | 99937 | 0.7512 | 0.7640 | 1.70
37450 | Mc Intosh County, Oklahoma | 99937 | 0.7512 | 0.7640 | 1.70
37460 | Major County, Oklahoma | 99937 | 0.7512 | 0.7640 | 1.70
37470 | Marshall County, Oklahoma | 99937 | 0.7512 | 0.7640 | 1.70
37480 | Mayes County, Oklahoma | 99937 | 0.7512 | 0.7640 | 1.70
37490 | Murray County, Oklahoma | 99937 | 0.7512 | 0.7640 | 1.70
37500 | Muskogee County, Oklahoma | 99937 | 0.7512 | 0.7640 | 1.70
37510 | Noble County, Oklahoma | 99937 | 0.7512 | 0.7640 | 1.70
37520 | Nowata County, Oklahoma | 99937 | 0.7512 | 0.7640 | 1.70
37530 | Okfuskee County, Oklahoma | 99937 | 0.7512 | 0.7640 | 1.70
37540 | Oklahoma County, Oklahoma | 36420 | 0.9028 | 0.8853 | -1.94
37550 | Okmulgee County, Oklahoma | 46140 | 0.7993 | 0.8104 | 1.39
37560 | Osage County, Oklahoma | 46140 | 0.8565 | 0.8104 | -5.38
37570 | Ottawa County, Oklahoma | 99937 | 0.7512 | 0.7640 | 1.70
37580 | Pawnee County, Oklahoma | 46140 | 0.7993 | 0.8104 | 1.39
37590 | Payne County, Oklahoma | 99937 | 0.7512 | 0.7640 | 1.70
37600 | Pittsburg County, Oklahoma | 99937 | 0.7512 | 0.7640 | 1.70
37610 | Pontotoc County, Oklahoma | 99937 | 0.7512 | 0.7640 | 1.70
37620 | Pottawatomie County, Oklahoma | 99937 | 0.8303 | 0.7640 | -7.99
37630 | Pushmataha County, Oklahoma | 99937 | 0.7512 | 0.7640 | 1.70
37640 | Roger Mills County, Oklahoma | 99937 | 0.7512 | 0.7640 | 1.70
37650 | Rogers County, Oklahoma | 46140 | 0.8565 | 0.8104 | -5.38
37660 | Seminole County, Oklahoma | 99937 | 0.7512 | 0.7640 | 1.70
37670 | Sequoyah County, Oklahoma | 22900 | 0.8238 | 0.7745 | -5.98
37680 | Stephens County, Oklahoma | 99937 | 0.7512 | 0.7640 | 1.70
37690 | Texas County, Oklahoma | 99937 | 0.7512 | 0.7640 | 1.70
37700 | Tillman County, Oklahoma | 99937 | 0.7512 | 0.7640 | 1.70
37710 | Tulsa County, Oklahoma | 46140 | 0.8565 | 0.8104 | -5.38
37720 | Wagoner County, Oklahoma | 46140 | 0.8565 | 0.8104 | -5.38
37730 | Washington County, Oklahoma | 99937 | 0.7512 | 0.7640 | 1.70
37740 | Washita County, Oklahoma | 99937 | 0.7512 | 0.7640 | 1.70
37750 | Woods County, Oklahoma | 99937 | 0.7512 | 0.7640 | 1.70
37760 | Woodward County, Oklahoma | 99937 | 0.7512 | 0.7640 | 1.70
38000 | Baker County, Oregon | 99938 | 0.9939 | 0.9770 | -1.70
38010 | Benton County, Oregon | 18700 | 1.0729 | 1.1566 | 7.80
38020 | Clackamas County, Oregon | 38900 | 1.1266 | 1.1436 | 1.51
38030 | Clatsop County, Oregon | 99938 | 0.9939 | 0.9770 | -1.70
38040 | Columbia County, Oregon | 38900 | 1.1266 | 1.1436 | 1.51
38050 | Coos County, Oregon | 99938 | 0.9939 | 0.9770 | -1.70
38060 | Crook County, Oregon | 99938 | 0.9939 | 0.9770 | -1.70
38070 | Curry County, Oregon | 99938 | 0.9939 | 0.9770 | -1.70
38080 | Deschutes County, Oregon | 13460 | 1.0419 | 1.0762 | 3.29
38090 | Douglas County, Oregon | 99938 | 0.9939 | 0.9770 | -1.70
38100 | Gilliam County, Oregon | 99938 | 0.9939 | 0.9770 | -1.70
38110 | Grant County, Oregon | 99938 | 0.9939 | 0.9770 | -1.70
38120 | Harney County, Oregon | 99938 | 0.9939 | 0.9770 | -1.70
38130 | Hood River County, Oregon | 99938 | 0.9939 | 0.9770 | -1.70
38140 | Jackson County, Oregon | 32780 | 1.0225 | 1.0837 | 5.99
38150 | Jefferson County, Oregon | 99938 | 0.9939 | 0.9770 | -1.70
38160 | Josephine County, Oregon | 99938 | 0.9939 | 0.9770 | -1.70
38170 | Klamath County, Oregon | 99938 | 0.9939 | 0.9770 | -1.70
38180 | Lake County, Oregon | 99938 | 0.9939 | 0.9770 | -1.70
38190 | Lane County, Oregon | 21660 | 1.0818 | 1.0896 | 0.72
38200 | Lincoln County, Oregon | 99938 | 0.9939 | 0.9770 | -1.70
38210 | Linn County, Oregon | 99938 | 0.9939 | 0.9770 | -1.70
38220 | Malheur County, Oregon | 99938 | 0.9939 | 0.9770 | -1.70
38230 | Marion County, Oregon | 41420 | 1.0442 | 1.0457 | 0.14
38240 | Morrow County, Oregon | 99938 | 0.9939 | 0.9770 | -1.70
38250 | Multnomah County, Oregon | 38900 | 1.1266 | 1.1436 | 1.51
38260 | Polk County, Oregon | 41420 | 1.0442 | 1.0457 | 0.14
38270 | Sherman County, Oregon | 99938 | 0.9939 | 0.9770 | -1.70
38280 | Tillamook County, Oregon | 99938 | 0.9939 | 0.9770 | -1.70
38290 | Umatilla County, Oregon | 99938 | 0.9939 | 0.9770 | -1.70
38300 | Union County, Oregon | 99938 | 0.9939 | 0.9770 | -1.70
38310 | Wallowa County, Oregon | 99938 | 0.9939 | 0.9770 | -1.70
38320 | Wasco County, Oregon | 99938 | 0.9939 | 0.9770 | -1.70
38330 | Washington County, Oregon | 38900 | 1.1266 | 1.1436 | 1.51
38340 | Wheeler County, Oregon | 99938 | 0.9939 | 0.9770 | -1.70
38350 | Yamhill County, Oregon | 38900 | 1.1266 | 1.1436 | 1.51
39000 | Adams County, Pennsylvania | 99939 | 0.8305 | 0.8332 | 0.33
39010 | Allegheny County, Pennsylvania | 38300 | 0.8853 | 0.8685 | -1.90
39070 | Armstrong County, Pennsylvania | 38300 | 0.8582 | 0.8685 | 1.20
39080 | Beaver County, Pennsylvania | 38300 | 0.8853 | 0.8685 | -1.90
39100 | Bedford County, Pennsylvania | 99939 | 0.8305 | 0.8332 | 0.33
39110 | Berks County, Pennsylvania | 39740 | 0.9686 | 0.9639 | -0.49
39120 | Blair County, Pennsylvania | 11020 | 0.8944 | 0.8727 | -2.43
39130 | Bradford County, Pennsylvania | 99939 | 0.8305 | 0.8332 | 0.33
39140 | Bucks County, Pennsylvania | 37964 | 1.0980 | 1.1018 | 0.35
39150 | Butler County, Pennsylvania | 38300 | 0.8853 | 0.8685 | -1.90
39160 | Cambria County, Pennsylvania | 27780 | 0.8220 | 0.8635 | 5.05
39180 | Cameron County, Pennsylvania | 99939 | 0.8305 | 0.8332 | 0.33
39190 | Carbon County, Pennsylvania | 10900 | 0.9832 | 0.9910 | 0.79
39200 | Centre County, Pennsylvania | 44300 | 0.8356 | 0.8799 | 5.30
39210 | Chester County, Pennsylvania | 37964 | 1.0980 | 1.1018 | 0.35
39220 | Clarion County, Pennsylvania | 99939 | 0.8305 | 0.8332 | 0.33
39230 | Clearfield County, Pennsylvania | 99939 | 0.8305 | 0.8332 | 0.33
39240 | Clinton County, Pennsylvania | 99939 | 0.8305 | 0.8332 | 0.33
39250 | Columbia County, Pennsylvania | 99939 | 0.8408 | 0.8332 | -0.90
39260 | Crawford County, Pennsylvania | 99939 | 0.8305 | 0.8332 | 0.33
39270 | Cumberland County, Pennsylvania | 25420 | 0.9273 | 0.9419 | 1.57
39280 | Dauphin County, Pennsylvania | 25420 | 0.9273 | 0.9419 | 1.57
39290 | Delaware County, Pennsylvania | 37964 | 1.0980 | 1.1018 | 0.35
39310 | Elk County, Pennsylvania | 99939 | 0.8305 | 0.8332 | 0.33
39320 | Erie County, Pennsylvania | 21500 | 0.8737 | 0.8704 | -0.38
39330 | Fayette County, Pennsylvania | 38300 | 0.8853 | 0.8685 | -1.90
39340 | Forest County, Pennsylvania | 99939 | 0.8305 | 0.8332 | 0.33
39350 | Franklin County, Pennsylvania | 99939 | 0.8305 | 0.8332 | 0.33
39360 | Fulton County, Pennsylvania | 99939 | 0.8305 | 0.8332 | 0.33
39370 | Greene County, Pennsylvania | 99939 | 0.8305 | 0.8332 | 0.33
39380 | Huntingdon County, Pennsylvania | 99939 | 0.8305 | 0.8332 | 0.33
39390 | Indiana County, Pennsylvania | 99939 | 0.8305 | 0.8332 | 0.33
39400 | Jefferson County, Pennsylvania | 99939 | 0.8305 | 0.8332 | 0.33
39410 | Juniata County, Pennsylvania | 99939 | 0.8305 | 0.8332 | 0.33
39420 | Lackawanna County, Pennsylvania | 42540 | 0.8532 | 0.8521 | -0.13
39440 | Lancaster County, Pennsylvania | 29540 | 0.9694 | 0.9644 | -0.52
39450 | Lawrence County, Pennsylvania | 99939 | 0.8305 | 0.8332 | 0.33
39460 | Lebanon County, Pennsylvania | 30140 | 0.8846 | 0.8695 | -1.71
39470 | Lehigh County, Pennsylvania | 10900 | 0.9832 | 0.9910 | 0.79
39480 | Luzerne County, Pennsylvania | 42540 | 0.8532 | 0.8521 | -0.13
39510 | Lycoming County, Pennsylvania | 48700 | 0.8364 | 0.8126 | -2.85
39520 | Mc Kean County, Pennsylvania | 99939 | 0.8305 | 0.8332 | 0.33
39530 | Mercer County, Pennsylvania | 49660 | 0.8198 | 0.8817 | 7.55
39540 | Mifflin County, Pennsylvania | 99939 | 0.8305 | 0.8332 | 0.33
39550 | Monroe County, Pennsylvania | 99939 | 0.8305 | 0.8332 | 0.33
39560 | Montgomery County, Pennsylvania | 37964 | 1.0980 | 1.1018 | 0.35
39580 | Montour County, Pennsylvania | 99939 | 0.8305 | 0.8332 | 0.33
39590 | Northampton County, Pennsylvania | 10900 | 0.9832 | 0.9910 | 0.79
39600 | Northumberland County, Pennsylvania | 99939 | 0.8305 | 0.8332 | 0.33
39610 | Perry County, Pennsylvania | 25420 | 0.9273 | 0.9419 | 1.57
39620 | Philadelphia County, Pennsylvania | 37964 | 1.0980 | 1.1018 | 0.35
39630 | Pike County, Pennsylvania | 35084 | 1.1545 | 1.1890 | 2.99
39640 | Potter County, Pennsylvania | 99939 | 0.8305 | 0.8332 | 0.33
39650 | Schuylkill County, Pennsylvania | 99939 | 0.8305 | 0.8332 | 0.33
39670 | Snyder County, Pennsylvania | 99939 | 0.8305 | 0.8332 | 0.33
39680 | Somerset County, Pennsylvania | 99939 | 0.8189 | 0.8332 | 1.75
39690 | Sullivan County, Pennsylvania | 99939 | 0.8305 | 0.8332 | 0.33
39700 | Susquehanna County, Pennsylvania | 99939 | 0.8305 | 0.8332 | 0.33
39710 | Tioga County, Pennsylvania | 99939 | 0.8305 | 0.8332 | 0.33
39720 | Union County, Pennsylvania | 99939 | 0.8305 | 0.8332 | 0.33
39730 | Venango County, Pennsylvania | 99939 | 0.8305 | 0.8332 | 0.33
39740 | Warren County, Pennsylvania | 99939 | 0.8305 | 0.8332 | 0.33
39750 | Washington County, Pennsylvania | 38300 | 0.8853 | 0.8685 | -1.90
39760 | Wayne County, Pennsylvania | 99939 | 0.8305 | 0.8332 | 0.33
39770 | Westmoreland County, Pennsylvania | 38300 | 0.8853 | 0.8685 | -1.90
39790 | Wyoming County, Pennsylvania | 42540 | 0.8532 | 0.8521 | -0.13
39800 | York County, Pennsylvania | 49620 | 0.9347 | 0.9414 | 0.72
40010 | Adjuntas County, Puerto Rico | 99940 | 0.3826 | 0.4047 | 5.78
40020 | Aguada County, Puerto Rico | 10380 | 0.4807 | 0.3922 | -18.41
40030 | Aguadilla County, Puerto Rico | 10380 | 0.4807 | 0.3922 | -18.41
40040 | Aguas Buenas County, Puerto Rico | 41980 | 0.4687 | 0.4397 | -6.19
40050 | Aibonito County, Puerto Rico | 41980 | 0.4113 | 0.4397 | 6.90
40060 | Anasco County, Puerto Rico | 10380 | 0.4491 | 0.3922 | -12.67
40070 | Arecibo County, Puerto Rico | 41980 | 0.4367 | 0.4397 | 0.69
40080 | Arroyo County, Puerto Rico | 25020 | 0.3393 | 0.3241 | -4.48
40090 | Barceloneta County, Puerto Rico | 41980 | 0.4687 | 0.4397 | -6.19
40100 | Barranquitas County, Puerto Rico | 41980 | 0.4113 | 0.4397 | 6.90
40110 | Bayamon County, Puerto Rico | 41980 | 0.4687 | 0.4397 | -6.19
40120 | Cabo Rojo County, Puerto Rico | 41900 | 0.4447 | 0.4893 | 10.03
40130 | Caguas County, Puerto Rico | 41980 | 0.4371 | 0.4397 | 0.59
40140 | Camuy County, Puerto Rico | 41980 | 0.4367 | 0.4397 | 0.69
40145 | Canovanas County, Puerto Rico | 41980 | 0.4687 | 0.4397 | -6.19
40150 | Carolina County, Puerto Rico | 41980 | 0.4687 | 0.4397 | -6.19
40160 | Catano County, Puerto Rico | 41980 | 0.4687 | 0.4397 | -6.19
40170 | Cayey County, Puerto Rico | 41980 | 0.4371 | 0.4397 | 0.59
40180 | Ceiba County, Puerto Rico | 21940 | 0.4453 | 0.4044 | -9.18
40190 | Ciales County, Puerto Rico | 41980 | 0.4113 | 0.4397 | 6.90
40200 | Cidra County, Puerto Rico | 41980 | 0.4371 | 0.4397 | 0.59
40210 | Coamo County, Puerto Rico | 99940 | 0.3826 | 0.4047 | 5.78
40220 | Comerio County, Puerto Rico | 41980 | 0.4687 | 0.4397 | -6.19
40230 | Corozal County, Puerto Rico | 41980 | 0.4687 | 0.4397 | -6.19
40240 | Culebra County, Puerto Rico | 99940 | 0.3826 | 0.4047 | 5.78
40250 | Dorado County, Puerto Rico | 41980 | 0.4687 | 0.4397 | -6.19
40260 | Fajardo County, Puerto Rico | 21940 | 0.4453 | 0.4044 | -9.18
40265 | Florida County, Puerto Rico | 41980 | 0.4687 | 0.4397 | -6.19
40270 | Guanica County, Puerto Rico | 49500 | 0.4006 | 0.3861 | -3.62
40280 | Guayama County, Puerto Rico | 25020 | 0.3393 | 0.3241 | -4.48
40290 | Guayanilla County, Puerto Rico | 49500 | 0.4645 | 0.3861 | -16.88
40300 | Guaynabo County, Puerto Rico | 41980 | 0.4687 | 0.4397 | -6.19
40310 | Gurabo County, Puerto Rico | 41980 | 0.4371 | 0.4397 | 0.59
40320 | Hatillo County, Puerto Rico | 41980 | 0.4367 | 0.4397 | 0.69
40330 | Hormigueros County, Puerto Rico | 32420 | 0.4132 | 0.3857 | -6.66
40340 | Humacao County, Puerto Rico | 41980 | 0.4687 | 0.4397 | -6.19
40350 | Isabela County, Puerto Rico | 10380 | 0.4171 | 0.3922 | -5.97
40360 | Jayuya County, Puerto Rico | 99940 | 0.3826 | 0.4047 | 5.78
40370 | Juana Diaz County, Puerto Rico | 38660 | 0.4910 | 0.4851 | -1.20
40380 | Juncos County, Puerto Rico | 41980 | 0.4687 | 0.4397 | -6.19
40390 | Lajas County, Puerto Rico | 41900 | 0.4127 | 0.4893 | 18.56
40400 | Lares County, Puerto Rico | 10380 | 0.4171 | 0.3922 | -5.97
40410 | Las Marias County, Puerto Rico | 99940 | 0.3826 | 0.4047 | 5.78
40420 | Las Piedras County, Puerto Rico | 41980 | 0.4687 | 0.4397 | -6.19
40430 | Loiza County, Puerto Rico | 41980 | 0.4687 | 0.4397 | -6.19
40440 | Luquillo County, Puerto Rico | 21940 | 0.4453 | 0.4044 | -9.18
40450 | Manati County, Puerto Rico | 41980 | 0.4687 | 0.4397 | -6.19
40460 | Maricao County, Puerto Rico | 99940 | 0.3826 | 0.4047 | 5.78
40470 | Maunabo County, Puerto Rico | 41980 | 0.4113 | 0.4397 | 6.90
40480 | Mayaguez County, Puerto Rico | 32420 | 0.4132 | 0.3857 | -6.66
40490 | Moca County, Puerto Rico | 10380 | 0.4807 | 0.3922 | -18.41
40500 | Morovis County, Puerto Rico | 41980 | 0.4687 | 0.4397 | -6.19
40510 | Naguabo County, Puerto Rico | 41980 | 0.4687 | 0.4397 | -6.19
40520 | Naranjito County, Puerto Rico | 41980 | 0.4687 | 0.4397 | -6.19
40530 | Orocovis County, Puerto Rico | 41980 | 0.4113 | 0.4397 | 6.90
40540 | Patillas County, Puerto Rico | 25020 | 0.3393 | 0.3241 | -4.48
40550 | Penuelas County, Puerto Rico | 49500 | 0.4645 | 0.3861 | -16.88
40560 | Ponce County, Puerto Rico | 38660 | 0.4910 | 0.4851 | -1.20
40570 | Quebradillas County, Puerto Rico | 41980 | 0.4113 | 0.4397 | 6.90
40580 | Rincon County, Puerto Rico | 10380 | 0.4171 | 0.3922 | -5.97
40590 | Rio Grande County, Puerto Rico | 41980 | 0.4687 | 0.4397 | -6.19
40610 | Sabana Grande County, Puerto Rico | 41900 | 0.4447 | 0.4893 | 10.03
40620 | Salinas County, Puerto Rico | 99940 | 0.3826 | 0.4047 | 5.78
40630 | San German County, Puerto Rico | 41900 | 0.4447 | 0.4893 | 10.03
40640 | San Juan County, Puerto Rico | 41980 | 0.4687 | 0.4397 | -6.19
40650 | San Lorenzo County, Puerto Rico | 41980 | 0.4371 | 0.4397 | 0.59
40660 | San Sebastian County, Puerto Rico | 10380 | 0.4171 | 0.3922 | -5.97
40670 | Santa Isabel County, Puerto Rico | 99940 | 0.3826 | 0.4047 | 5.78
40680 | Toa Alta County, Puerto Rico | 41980 | 0.4687 | 0.4397 | -6.19
40690 | Toa Baja County, Puerto Rico | 41980 | 0.4687 | 0.4397 | -6.19
40700 | Trujillo Alto County, Puerto Rico | 41980 | 0.4687 | 0.4397 | -6.19
40710 | Utuado County, Puerto Rico | 99940 | 0.3826 | 0.4047 | 5.78
40720 | Vega Alta County, Puerto Rico | 41980 | 0.4687 | 0.4397 | -6.19
40730 | Vega Baja County, Puerto Rico | 41980 | 0.4687 | 0.4397 | -6.19
40740 | Vieques County, Puerto Rico | 99940 | 0.3826 | 0.4047 | 5.78
40750 | Villalba County, Puerto Rico | 38660 | 0.4910 | 0.4851 | -1.20
40760 | Yabucoa County, Puerto Rico | 41980 | 0.4687 | 0.4397 | -6.19
40770 | Yauco County, Puerto Rico | 49500 | 0.4645 | 0.3861 | -16.88
41000 | Bristol County, Rhode Island | 39300 | 1.1012 | 1.0804 | -1.89
41010 | Kent County, Rhode Island | 39300 | 1.1012 | 1.0804 | -1.89
41020 | Newport County, Rhode Island | 39300 | 1.1012 | 1.0804 | -1.89
41030 | Providence County, Rhode Island | 39300 | 1.1012 | 1.0804 | -1.89
41050 | Washington County, Rhode Island | 39300 | 1.1012 | 1.0804 | -1.89
42000 | Abbeville County, S Carolina | 99942 | 0.8635 | 0.8583 | -0.60
42010 | Aiken County, S Carolina | 12260 | 0.9778 | 0.9678 | -1.02
42020 | Allendale County, S Carolina | 99942 | 0.8635 | 0.8583 | -0.60
42030 | Anderson County, S Carolina | 11340 | 0.9306 | 0.8959 | -3.73
42040 | Bamberg County, S Carolina | 99942 | 0.8635 | 0.8583 | -0.60
42050 | Barnwell County, S Carolina | 99942 | 0.8635 | 0.8583 | -0.60
42060 | Beaufort County, S Carolina | 99942 | 0.8635 | 0.8583 | -0.60
42070 | Berkeley County, S Carolina | 16700 | 0.9245 | 0.9156 | -0.96
42080 | Calhoun County, S Carolina | 17900 | 0.8844 | 0.8028 | -9.23
42090 | Charleston County, S Carolina | 16700 | 0.9245 | 0.9156 | -0.96
42100 | Cherokee County, S Carolina | 99942 | 0.9127 | 0.8583 | -5.96
42110 | Chester County, S Carolina | 99942 | 0.8635 | 0.8583 | -0.60
42120 | Chesterfield County, S Carolina | 99942 | 0.8635 | 0.8583 | -0.60
42130 | Clarendon County, S Carolina | 99942 | 0.8635 | 0.8583 | -0.60
42140 | Colleton County, S Carolina | 99942 | 0.8635 | 0.8583 | -0.60
42150 | Darlington County, S Carolina | 22500 | 0.8789 | 0.8421 | -4.19
42160 | Dillon County, S Carolina | 99942 | 0.8635 | 0.8583 | -0.60
42170 | Dorchester County, S Carolina | 16700 | 0.9245 | 0.9156 | -0.96
42180 | Edgefield County, S Carolina | 12260 | 0.9778 | 0.9678 | -1.02
42190 | Fairfield County, S Carolina | 17900 | 0.8844 | 0.8028 | -9.23
42200 | Florence County, S Carolina | 22500 | 0.8995 | 0.8421 | -6.38
42210 | Georgetown County, S Carolina | 99942 | 0.8635 | 0.8583 | -0.60
42220 | Greenville County, S Carolina | 24860 | 0.9821 | 0.9733 | -0.90
42230 | Greenwood County, S Carolina | 99942 | 0.8635 | 0.8583 | -0.60
42240 | Hampton County, S Carolina | 99942 | 0.8635 | 0.8583 | -0.60
42250 | Horry County, S Carolina | 34820 | 0.8934 | 0.8824 | -1.23
42260 | Jasper County, S Carolina | 99942 | 0.8635 | 0.8583 | -0.60
42270 | Kershaw County, S Carolina | 17900 | 0.8844 | 0.8028 | -9.23
42280 | Lancaster County, S Carolina | 99942 | 0.8635 | 0.8583 | -0.60
42290 | Laurens County, S Carolina | 24860 | 0.9329 | 0.9733 | 4.33
42300 | Lee County, S Carolina | 99942 | 0.8635 | 0.8583 | -0.60
42310 | Lexington County, S Carolina | 17900 | 0.9070 | 0.8028 | -11.49
42320 | Mc Cormick County, S Carolina | 99942 | 0.8635 | 0.8583 | -0.60
42330 | Marion County, S Carolina | 99942 | 0.8635 | 0.8583 | -0.60
42340 | Marlboro County, S Carolina | 99942 | 0.8635 | 0.8583 | -0.60
42350 | Newberry County, S Carolina | 99942 | 0.8635 | 0.8583 | -0.60
42360 | Oconee County, S Carolina | 99942 | 0.8635 | 0.8583 | -0.60
42370 | Orangeburg County, S Carolina | 99942 | 0.8635 | 0.8583 | -0.60
42380 | Pickens County, S Carolina | 24860 | 0.9821 | 0.9733 | -0.90
42390 | Richland County, S Carolina | 17900 | 0.9070 | 0.8028 | -11.49
42400 | Saluda County, S Carolina | 17900 | 0.8844 | 0.8028 | -9.23
42410 | Spartanburg County, S Carolina | 43900 | 0.9394 | 0.9190 | -2.17
42420 | Sumter County, S Carolina | 44940 | 0.8377 | 0.8098 | -3.33
42430 | Union County, S Carolina | 99942 | 0.8635 | 0.8583 | -0.60
42440 | Williamsburg County, S Carolina | 99942 | 0.8635 | 0.8583 | -0.60
42450 | York County, S Carolina | 16740 | 0.9733 | 0.9564 | -1.74
43010 | Aurora County, S Dakota | 99943 | 0.8556 | 0.8496 | -0.70
43020 | Beadle County, S Dakota | 99943 | 0.8556 | 0.8496 | -0.70
43030 | Bennett County, S Dakota | 99943 | 0.8556 | 0.8496 | -0.70
43040 | Bon Homme County, S Dakota | 99943 | 0.8556 | 0.8496 | -0.70
43050 | Brookings County, S Dakota | 99943 | 0.8556 | 0.8496 | -0.70
43060 | Brown County, S Dakota | 99943 | 0.8556 | 0.8496 | -0.70
43070 | Brule County, S Dakota | 99943 | 0.8556 | 0.8496 | -0.70
43080 | Buffalo County, S Dakota | 99943 | 0.8556 | 0.8496 | -0.70
43090 | Butte County, S Dakota | 99943 | 0.8556 | 0.8496 | -0.70
43100 | Campbell County, S Dakota | 99943 | 0.8556 | 0.8496 | -0.70
43110 | Charles Mix County, S Dakota | 99943 | 0.8556 | 0.8496 | -0.70
43120 | Clark County, S Dakota | 99943 | 0.8556 | 0.8496 | -0.70
43130 | Clay County, S Dakota | 99943 | 0.8556 | 0.8496 | -0.70
43140 | Codington County, S Dakota | 99943 | 0.8556 | 0.8496 | -0.70
43150 | Corson County, S Dakota | 99943 | 0.8556 | 0.8496 | -0.70
43160 | Custer County, S Dakota | 99943 | 0.8556 | 0.8496 | -0.70
43170 | Davison County, S Dakota | 99943 | 0.8556 | 0.8496 | -0.70
43180 | Day County, S Dakota | 99943 | 0.8556 | 0.8496 | -0.70
43190 | Deuel County, S Dakota | 99943 | 0.8556 | 0.8496 | -0.70
43200 | Dewey County, S Dakota | 99943 | 0.8556 | 0.8496 | -0.70
43210 | Douglas County, S Dakota | 99943 | 0.8556 | 0.8496 | -0.70
43220 | Edmunds County, S Dakota | 99943 | 0.8556 | 0.8496 | -0.70
43230 | Fall River County, S Dakota | 99943 | 0.8556 | 0.8496 | -0.70
43240 | Faulk County, S Dakota | 99943 | 0.8556 | 0.8496 | -0.70
43250 | Grant County, S Dakota | 99943 | 0.8556 | 0.8496 | -0.70
43260 | Gregory County, S Dakota | 99943 | 0.8556 | 0.8496 | -0.70
43270 | Haakon County, S Dakota | 99943 | 0.8556 | 0.8496 | -0.70
43280 | Hamlin County, S Dakota | 99943 | 0.8556 | 0.8496 | -0.70
43290 | Hand County, S Dakota | 99943 | 0.8556 | 0.8496 | -0.70
43300 | Hanson County, S Dakota | 99943 | 0.8556 | 0.8496 | -0.70
43310 | Harding County, S Dakota | 99943 | 0.8556 | 0.8496 | -0.70
43320 | Hughes County, S Dakota | 99943 | 0.8556 | 0.8496 | -0.70
43330 | Hutchinson County, S Dakota | 99943 | 0.8556 | 0.8496 | -0.70
43340 | Hyde County, S Dakota | 99943 | 0.8556 | 0.8496 | -0.70
43350 | Jackson County, S Dakota | 99943 | 0.8556 | 0.8496 | -0.70
43360 | Jerauld County, S Dakota | 99943 | 0.8556 | 0.8496 | -0.70
43370 | Jones County, S Dakota | 99943 | 0.8556 | 0.8496 | -0.70
43380 | Kingsbury County, S Dakota | 99943 | 0.8556 | 0.8496 | -0.70
43390 | Lake County, S Dakota | 99943 | 0.8556 | 0.8496 | -0.70
43400 | Lawrence County, S Dakota | 99943 | 0.8556 | 0.8496 | -0.70
43410 | Lincoln County, S Dakota | 43620 | 0.9635 | 0.9587 | -0.50
43420 | Lyman County, S Dakota | 99943 | 0.8556 | 0.8496 | -0.70
43430 | Mc Cook County, S Dakota | 43620 | 0.9093 | 0.9587 | 5.43
43440 | Mc Pherson County, S Dakota | 99943 | 0.8556 | 0.8496 | -0.70
43450 | Marshall County, S Dakota | 99943 | 0.8556 | 0.8496 | -0.70
43460 | Meade County, S Dakota | 39660 | 0.8769 | 1.0351 | 18.04
43470 | Mellette County, S Dakota | 99943 | 0.8556 | 0.8496 | -0.70
43480 | Miner County, S Dakota | 99943 | 0.8556 | 0.8496 | -0.70
43490 | Minnehaha County, S Dakota | 43620 | 0.9635 | 0.9587 | -0.50
43500 | Moody County, S Dakota | 99943 | 0.8556 | 0.8496 | -0.70
43510 | Pennington County, S Dakota | 39660 | 0.8987 | 1.0351 | 15.18
43520 | Perkins County, S Dakota | 99943 | 0.8556 | 0.8496 | -0.70
43530 | Potter County, S Dakota | 99943 | 0.8556 | 0.8496 | -0.70
43540 | Roberts County, S Dakota | 99943 | 0.8556 | 0.8496 | -0.70
43550 | Sanborn County, S Dakota | 99943 | 0.8556 | 0.8496 | -0.70
43560 | Shannon County, S Dakota | 99943 | 0.8556 | 0.8496 | -0.70
43570 | Spink County, S Dakota | 99943 | 0.8556 | 0.8496 | -0.70
43580 | Stanley County, S Dakota | 99943 | 0.8556 | 0.8496 | -0.70
43590 | Sully County, S Dakota | 99943 | 0.8556 | 0.8496 | -0.70
43600 | Todd County, S Dakota | 99943 | 0.8556 | 0.8496 | -0.70
43610 | Tripp County, S Dakota | 99943 | 0.8556 | 0.8496 | -0.70
43620 | Turner County, S Dakota | 43620 | 0.9093 | 0.9587 | 5.43
43630 | Union County, S Dakota | 43580 | 0.8966 | 0.9217 | 2.80
43640 | Walworth County, S Dakota | 99943 | 0.8556 | 0.8496 | -0.70
43650 | Washabaugh County, S Dakota | 99943 | 0.8556 | 0.8496 | -0.70
43670 | Yankton County, S Dakota | 99943 | 0.8556 | 0.8496 | -0.70
43680 | Ziebach County, S Dakota | 99943 | 0.8556 | 0.8496 | -0.70
44000 | Anderson County, Tennessee | 28940 | 0.8419 | 0.8263 | -1.85
44010 | Bedford County, Tennessee | 99944 | 0.7915 | 0.7841 | -0.93
44020 | Benton County, Tennessee | 99944 | 0.7915 | 0.7841 | -0.93
44030 | Bledsoe County, Tennessee | 99944 | 0.7915 | 0.7841 | -0.93
44040 | Blount County, Tennessee | 28940 | 0.8419 | 0.8263 | -1.85
44050 | Bradley County, Tennessee | 17420 | 0.8037 | 0.8124 | 1.08
44060 | Campbell County, Tennessee | 99944 | 0.7915 | 0.7841 | -0.93
44070 | Cannon County, Tennessee | 34980 | 0.8838 | 0.9862 | 11.59
44080 | Carroll County, Tennessee | 99944 | 0.7915 | 0.7841 | -0.93
44090 | Carter County, Tennessee | 27740 | 0.7972 | 0.8057 | 1.07
44100 | Cheatham County, Tennessee | 34980 | 0.9751 | 0.9862 | 1.14
44110 | Chester County, Tennessee | 27180 | 0.8964 | 0.8869 | -1.06
44120 | Claiborne County, Tennessee | 99944 | 0.7915 | 0.7841 | -0.93
44130 | Clay County, Tennessee | 99944 | 0.7915 | 0.7841 | -0.93
44140 | Cocke County, Tennessee | 99944 | 0.7915 | 0.7841 | -0.93
44150 | Coffee County, Tennessee | 99944 | 0.7915 | 0.7841 | -0.93
44160 | Crockett County, Tennessee | 99944 | 0.7915 | 0.7841 | -0.93
44170 | Cumberland County, Tennessee | 99944 | 0.7915 | 0.7841 | -0.93
44180 | Davidson County, Tennessee | 34980 | 0.9751 | 0.9862 | 1.14
44190 | Decatur County, Tennessee | 99944 | 0.7915 | 0.7841 | -0.93
44200 | De Kalb County, Tennessee | 99944 | 0.7915 | 0.7841 | -0.93
44210 | Dickson County, Tennessee | 34980 | 0.9751 | 0.9862 | 1.14
44220 | Dyer County, Tennessee | 99944 | 0.7915 | 0.7841 | -0.93
44230 | Fayette County, Tennessee | 32820 | 0.9407 | 0.9361 | -0.49
44240 | Fentress County, Tennessee | 99944 | 0.7915 | 0.7841 | -0.93
44250 | Franklin County, Tennessee | 99944 | 0.7915 | 0.7841 | -0.93
44260 | Gibson County, Tennessee | 99944 | 0.7915 | 0.7841 | -0.93
44270 | Giles County, Tennessee | 99944 | 0.7915 | 0.7841 | -0.93
44280 | Grainger County, Tennessee | 34100 | 0.7948 | 0.7944 | -0.05
44290 | Greene County, Tennessee | 99944 | 0.7915 | 0.7841 | -0.93
44300 | Grundy County, Tennessee | 99944 | 0.7915 | 0.7841 | -0.93
44310 | Hamblen County, Tennessee | 34100 | 0.7948 | 0.7944 | -0.05
44320 | Hamilton County, Tennessee | 16860 | 0.9088 | 0.8963 | -1.38
44330 | Hancock County, Tennessee | 99944 | 0.7915 | 0.7841 | -0.93
44340 | Hardeman County, Tennessee | 99944 | 0.7915 | 0.7841 | -0.93
44350 | Hardin County, Tennessee | 99944 | 0.7915 | 0.7841 | -0.93
44360 | Hawkins County, Tennessee | 28700 | 0.8031 | 0.7975 | -0.70
44370 | Haywood County, Tennessee | 99944 | 0.7915 | 0.7841 | -0.93
44380 | Henderson County, Tennessee | 99944 | 0.7915 | 0.7841 | -0.93
44390 | Henry County, Tennessee | 99944 | 0.7915 | 0.7841 | -0.93
44400 | Hickman County, Tennessee | 34980 | 0.8838 | 0.9862 | 11.59
44410 | Houston County, Tennessee | 99944 | 0.7915 | 0.7841 | -0.93
44420 | Humphreys County, Tennessee | 99944 | 0.7915 | 0.7841 | -0.93
44430 | Jackson County, Tennessee | 99944 | 0.7915 | 0.7841 | -0.93
44440 | Jefferson County, Tennessee | 34100 | 0.7948 | 0.7944 | -0.05
44450 | Johnson County, Tennessee | 99944 | 0.7915 | 0.7841 | -0.93
44460 | Knox County, Tennessee | 28940 | 0.8419 | 0.8263 | -1.85
44470 | Lake County, Tennessee | 99944 | 0.7915 | 0.7841 | -0.93
44480 | Lauderdale County, Tennessee | 99944 | 0.7915 | 0.7841 | -0.93
44490 | Lawrence County, Tennessee | 99944 | 0.7915 | 0.7841 | -0.93
44500 | Lewis County, Tennessee | 99944 | 0.7915 | 0.7841 | -0.93
44510 | Lincoln County, Tennessee | 99944 | 0.7915 | 0.7841 | -0.93
44520 | Loudon County, Tennessee | 28940 | 0.8419 | 0.8263 | -1.85
44530 | Mc Minn County, Tennessee | 99944 | 0.7915 | 0.7841 | -0.93
44540 | Mc Nairy County, Tennessee | 99944 | 0.7915 | 0.7841 | -0.93
44550 | Macon County, Tennessee | 34980 | 0.8838 | 0.9862 | 11.59
44560 | Madison County, Tennessee | 27180 | 0.8964 | 0.8869 | -1.06
44570 | Marion County, Tennessee | 16860 | 0.9088 | 0.8963 | -1.38
44580 | Marshall County, Tennessee | 99944 | 0.7915 | 0.7841 | -0.93
44590 | Maury County, Tennessee | 99944 | 0.7915 | 0.7841 | -0.93
44600 | Meigs County, Tennessee | 99944 | 0.7915 | 0.7841 | -0.93
44610 | Monroe County, Tennessee | 99944 | 0.7915 | 0.7841 | -0.93
44620 | Montgomery County, Tennessee | 17300 | 0.8284 | 0.8451 | 2.02
44630 | Moore County, Tennessee | 99944 | 0.7915 | 0.7841 | -0.93
44640 | Morgan County, Tennessee | 99944 | 0.7915 | 0.7841 | -0.93
44650 | Obion County, Tennessee | 99944 | 0.7915 | 0.7841 | -0.93
44660 | Overton County, Tennessee | 99944 | 0.7915 | 0.7841 | -0.93
44670 | Perry County, Tennessee | 99944 | 0.7915 | 0.7841 | -0.93
44680 | Pickett County, Tennessee | 99944 | 0.7915 | 0.7841 | -0.93
44690 | Polk County, Tennessee | 17420 | 0.8037 | 0.8124 | 1.08
44700 | Putnam County, Tennessee | 99944 | 0.7915 | 0.7841 | -0.93
44710 | Rhea County, Tennessee | 99944 | 0.7915 | 0.7841 | -0.93
44720 | Roane County, Tennessee | 99944 | 0.7915 | 0.7841 | -0.93
44730 | Robertson County, Tennessee | 34980 | 0.9751 | 0.9862 | 1.14
44740 | Rutherford County, Tennessee | 34980 | 0.9751 | 0.9862 | 1.14
44750 | Scott County, Tennessee | 99944 | 0.7915 | 0.7841 | -0.93
44760 | Sequatchie County, Tennessee | 16860 | 0.8512 | 0.8963 | 5.30
44770 | Sevier County, Tennessee | 99944 | 0.8146 | 0.7841 | -3.74
44780 | Shelby County, Tennessee | 32820 | 0.9407 | 0.9361 | -0.49
44790 | Smith County, Tennessee | 34980 | 0.8838 | 0.9862 | 11.59
44800 | Stewart County, Tennessee | 17300 | 0.8110 | 0.8451 | 4.20
44810 | Sullivan County, Tennessee | 28700 | 0.8031 | 0.7975 | -0.70
44820 | Sumner County, Tennessee | 34980 | 0.9751 | 0.9862 | 1.14
44830 | Tipton County, Tennessee | 32820 | 0.9407 | 0.9361 | -0.49
44840 | Trousdale County, Tennessee | 34980 | 0.8838 | 0.9862 | 11.59
44850 | Unicoi County, Tennessee | 27740 | 0.7972 | 0.8057 | 1.07
44860 | Union County, Tennessee | 28940 | 0.8419 | 0.8263 | -1.85
44870 | Van Buren County, Tennessee | 99944 | 0.7915 | 0.7841 | -0.93
44880 | Warren County, Tennessee | 99944 | 0.7915 | 0.7841 | -0.93
44890 | Washington County, Tennessee | 27740 | 0.7972 | 0.8057 | 1.07
44900 | Wayne County, Tennessee | 99944 | 0.7915 | 0.7841 | -0.93
44910 | Weakley County, Tennessee | 99944 | 0.7915 | 0.7841 | -0.93
44920 | White County, Tennessee | 99944 | 0.7915 | 0.7841 | -0.93
44930 | Williamson County, Tennessee | 34980 | 0.9751 | 0.9862 | 1.14
44940 | Wilson County, Tennessee | 34980 | 0.9751 | 0.9862 | 1.14
45000 | Anderson County, Texas | 99945 | 0.7967 | 0.7973 | 0.08
45010 | Andrews County, Texas | 99945 | 0.7967 | 0.7973 | 0.08
45020 | Angelina County, Texas | 99945 | 0.7967 | 0.7973 | 0.08
45030 | Aransas County, Texas | 18580 | 0.8241 | 0.8579 | 4.10
45040 | Archer County, Texas | 48660 | 0.8325 | 0.8326 | 0.01
45050 | Armstrong County, Texas | 11100 | 0.8544 | 0.9177 | 7.41
45060 | Atascosa County, Texas | 41700 | 0.8456 | 0.8860 | 4.78
45070 | Austin County, Texas | 26420 | 0.8962 | 1.0026 | 11.87
45080 | Bailey County, Texas | 99945 | 0.7967 | 0.7973 | 0.08
45090 | Bandera County, Texas | 41700 | 0.8456 | 0.8860 | 4.78
45100 | Bastrop County, Texas | 12420 | 0.9437 | 0.9360 | -0.82
45110 | Baylor County, Texas | 99945 | 0.7967 | 0.7973 | 0.08
45113 | Bee County, Texas | 99945 | 0.7967 | 0.7973 | 0.08
45120 | Bell County, Texas | 28660 | 0.8526 | 0.9098 | 6.71
45130 | Bexar County, Texas | 41700 | 0.8982 | 0.8860 | -1.36
45140 | Blanco County, Texas | 99945 | 0.7967 | 0.7973 | 0.08
45150 | Borden County, Texas | 99945 | 0.7967 | 0.7973 | 0.08
45160 | Bosque County, Texas | 99945 | 0.7967 | 0.7973 | 0.08
45170 | Bowie County, Texas | 45500 | 0.8283 | 0.8118 | -1.99
45180 | Brazoria County, Texas | 26420 | 0.9278 | 1.0026 | 8.06
45190 | Brazos County, Texas | 17780 | 0.8900 | 0.9061 | 1.81
45200 | Brewster County, Texas | 99945 | 0.7967 | 0.7973 | 0.08
45201 | Briscoe County, Texas | 99945 | 0.7967 | 0.7973 | 0.08
45210 | Brooks County, Texas | 99945 | 0.7967 | 0.7973 | 0.08
45220 | Brown County, Texas | 99945 | 0.7967 | 0.7973 | 0.08
45221 | Burleson County, Texas | 17780 | 0.8416 | 0.9061 | 7.66
45222 | Burnet County, Texas | 99945 | 0.7967 | 0.7973 | 0.08
45223 | Caldwell County, Texas | 12420 | 0.9437 | 0.9360 | -0.82
45224 | Calhoun County, Texas | 47020 | 0.8046 | 0.8575 | 6.57
45230 | Callahan County, Texas | 10180 | 0.7914 | 0.8014 | 1.26
45240 | Cameron County, Texas | 15180 | 0.9804 | 0.9446 | -3.65
45250 | Camp County, Texas | 99945 | 0.7967 | 0.7973 | 0.08
45251 | Carson County, Texas | 11100 | 0.8544 | 0.9177 | 7.41
45260 | Cass County, Texas | 99945 | 0.7967 | 0.7973 | 0.08
45270 | Castro County, Texas | 99945 | 0.7967 | 0.7973 | 0.08
45280 | Chambers County, Texas | 26420 | 1.0040 | 1.0026 | -0.14
45281 | Cherokee County, Texas | 99945 | 0.7967 | 0.7973 | 0.08
45290 | Childress County, Texas | 99945 | 0.7967 | 0.7973 | 0.08
45291 | Clay County, Texas | 48660 | 0.8108 | 0.8326 | 2.69
45292 | Cochran County, Texas | 99945 | 0.7967 | 0.7973 | 0.08
45300 | Coke County, Texas | 99945 | 0.7967 | 0.7973 | 0.08
45301 | Coleman County, Texas | 99945 | 0.7967 | 0.7973 | 0.08
45310 | Collin County, Texas | 19124 | 1.0217 | 1.0093 | -1.21
45311 | Collingsworth County, Texas | 99945 | 0.7967 | 0.7973 | 0.08
45312 | Colorado County, Texas | 99945 | 0.7967 | 0.7973 | 0.08
45320 | Comal County, Texas | 41700 | 0.8982 | 0.8860 | -1.36
45321 | Comanche County, Texas | 99945 | 0.7967 | 0.7973 | 0.08
45330 | Concho County, Texas | 99945 | 0.7967 | 0.7973 | 0.08
45340 | Cooke County, Texas | 99945 | 0.7967 | 0.7973 | 0.08
45341 | Coryell County, Texas | 28660 | 0.8526 | 0.9098 | 6.71
45350 | Cottle County, Texas | 99945 | 0.7967 | 0.7973 | 0.08
45360 | Crane County, Texas | 99945 | 0.7967 | 0.7973 | 0.08
45361 | Crockett County, Texas | 99945 | 0.7967 | 0.7973 | 0.08
45362 | Crosby County, Texas | 31180 | 0.8357 | 0.8628 | 3.24
45370 | Culberson County, Texas | 99945 | 0.7967 | 0.7973 | 0.08
45380 | Dallam County, Texas | 99945 | 0.7967 | 0.7973 | 0.08
45390 | Dallas County, Texas | 19124 | 1.0217 | 1.0093 | -1.21
45391 | Dawson County, Texas | 99945 | 0.7967 | 0.7973 | 0.08
45392 | Deaf Smith County, Texas | 99945 | 0.7967 | 0.7973 | 0.08
45400 | Delta County, Texas | 19124 | 0.9080 | 1.0093 | 11.16
45410 | Denton County, Texas | 19124 | 1.0217 | 1.0093 | -1.21
45420 | De Witt County, Texas | 99945 | 0.7967 | 0.7973 | 0.08
45421 | Dickens County, Texas | 99945 | 0.7967 | 0.7973 | 0.08
45430 | Dimmit County, Texas | 99945 | 0.7967 | 0.7973 | 0.08
45431 | Donley County, Texas | 99945 | 0.7967 | 0.7973 | 0.08
45440 | Duval County, Texas | 99945 | 0.7967 | 0.7973 | 0.08
45450 | Eastland County, Texas | 99945 | 0.7967 | 0.7973 | 0.08
45451 | Ector County, Texas | 36220 | 0.9813 | 1.0119 | 3.12
45460 | Edwards County, Texas | 99945 | 0.7967 | 0.7973 | 0.08
45470 | Ellis County, Texas | 19124 | 1.0217 | 1.0093 | -1.21
45480 | El Paso County, Texas | 21340 | 0.8977 | 0.9069 | 1.02
45490 | Erath County, Texas | 99945 | 0.7967 | 0.7973 | 0.08
45500 | Falls County, Texas | 99945 | 0.7967 | 0.7973 | 0.08
45510 | Fannin County, Texas | 99945 | 0.7967 | 0.7973 | 0.08
45511 | Fayette County, Texas | 99945 | 0.7967 | 0.7973 | 0.08
45520 | Fisher County, Texas | 99945 | 0.7967 | 0.7973 | 0.08
45521 | Floyd County, Texas | 99945 | 0.7967 | 0.7973 | 0.08
45522 | Foard County, Texas | 99945 | 0.7967 | 0.7973 | 0.08
45530 | Fort Bend County, Texas | 26420 | 1.0040 | 1.0026 | -0.14
45531 | Franklin County, Texas | 99945 | 0.7967 | 0.7973 | 0.08
45540 | Freestone County, Texas | 99945 | 0.7967 | 0.7973 | 0.08
45541 | Frio County, Texas | 99945 | 0.7967 | 0.7973 | 0.08
45542 | Gaines County, Texas | 99945 | 0.7967 | 0.7973 | 0.08
45550 | Galveston County, Texas | 26420 | 0.9814 | 1.0026 | 2.16
45551 | Garza County, Texas | 99945 | 0.7967 | 0.7973 | 0.08
45552 | Gillespie County, Texas | 99945 | 0.7967 | 0.7973 | 0.08
45560 | Glasscock County, Texas | 99945 | 0.7967 | 0.7973 | 0.08
45561 | Goliad County, Texas | 47020 | 0.8046 | 0.8575 | 6.57
45562 | Gonzales County, Texas | 99945 | 0.7967 | 0.7973 | 0.08
45563 | Gray County, Texas | 99945 | 0.7967 | 0.7973 | 0.08
45564 | Grayson County, Texas | 43300 | 0.9507 | 0.8517 | -10.41
45570 | Gregg County, Texas | 30980 | 0.8809 | 0.8803 | -0.07
45580 | Grimes County, Texas | 99945 | 0.7967 | 0.7973 | 0.08
45581 | Guadaloupe County, Texas | 41700 | 0.8982 | 0.8860 | -1.36
45582 | Hale County, Texas | 99945 | 0.7967 | 0.7973 | 0.08
45583 | Hall County, Texas | 99945 | 0.7967 | 0.7973 | 0.08
45590 | Hamilton County, Texas | 99945 | 0.7967 | 0.7973 | 0.08
45591 | Hansford County, Texas | 99945 | 0.7967 | 0.7973 | 0.08
45592 | Hardeman County, Texas | 99945 | 0.7967 | 0.7973 | 0.08
45600 | Hardin County, Texas | 13140 | 0.8412 | 0.8610 | 2.35
45610 | Harris County, Texas | 26420 | 1.0040 | 1.0026 | -0.14
45620 | Harrison County, Texas | 99945 | 0.8446 | 0.7973 | -5.60
45621 | Hartley County, Texas | 99945 | 0.7967 | 0.7973 | 0.08
45630 | Haskell County, Texas | 99945 | 0.7967 | 0.7973 | 0.08
45631 | Hays County, Texas | 12420 | 0.9437 | 0.9360 | -0.82
45632 | Hemphill County, Texas | 99945 | 0.7967 | 0.7973 | 0.08
45640 | Henderson County, Texas | 99945 | 0.9104 | 0.7973 | -12.42
45650 | Hidalgo County, Texas | 32580 | 0.8934 | 0.8788 | -1.63
45651 | Hill County, Texas | 99945 | 0.7967 | 0.7973 | 0.08
45652 | Hockley County, Texas | 99945 | 0.7967 | 0.7973 | 0.08
45653 | Hood County, Texas | 99945 | 0.8763 | 0.7973 | -9.02
45654 | Hopkins County, Texas | 99945 | 0.7967 | 0.7973 | 0.08
45660 | Houston County, Texas | 99945 | 0.7967 | 0.7973 | 0.08
45661 | Howard County, Texas | 99945 | 0.7967 | 0.7973 | 0.08
45662 | Hudspeth County, Texas | 99945 | 0.7967 | 0.7973 | 0.08
45670 | Hunt County, Texas | 19124 | 1.0217 | 1.0093 | -1.21
45671 | Hutchinson County, Texas | 99945 | 0.7967 | 0.7973 | 0.08
45672 | Irion County, Texas | 41660 | 0.8101 | 0.8377 | 3.41
45680 | Jack County, Texas | 99945 | 0.7967 | 0.7973 | 0.08
45681 | Jackson County, Texas | 99945 | 0.7967 | 0.7973 | 0.08
45690 | Jasper County, Texas | 99945 | 0.7967 | 0.7973 | 0.08
45691 | Jeff Davis County, Texas | 99945 | 0.7967 | 0.7973 | 0.08
45700 | Jefferson County, Texas | 13140 | 0.8412 | 0.8610 | 2.35
45710 | Jim Hogg County, Texas | 99945 | 0.7967 | 0.7973 | 0.08
45711 | Jim Wells County, Texas | 99945 | 0.7967 | 0.7973 | 0.08
45720 | Johnson County, Texas | 23104 | 0.9504 | 0.9587 | 0.87
45721 | Jones County, Texas | 10180 | 0.7914 | 0.8014 | 1.26
45722 | Karnes County, Texas | 99945 | 0.7967 | 0.7973 | 0.08
45730 | Kaufman County, Texas | 19124 | 1.0217 | 1.0093 | -1.21
45731 | Kendall County, Texas | 41700 | 0.8456 | 0.8860 | 4.78
45732 | Kenedy County, Texas | 99945 | 0.7967 | 0.7973 | 0.08
45733 | Kent County, Texas | 99945 | 0.7967 | 0.7973 | 0.08
45734 | Kerr County, Texas | 99945 | 0.7967 | 0.7973 | 0.08
45740 | Kimble County, Texas | 99945 | 0.7967 | 0.7973 | 0.08
45741 | King County, Texas | 99945 | 0.7967 | 0.7973 | 0.08
45742 | Kinney County, Texas | 99945 | 0.7967 | 0.7973 | 0.08
45743 | Kleberg County, Texas | 99945 | 0.7967 | 0.7973 | 0.08
45744 | Knox County, Texas | 99945 | 0.7967 | 0.7973 | 0.08
45750 | Lamar County, Texas | 99945 | 0.7967 | 0.7973 | 0.08
45751 | Lamb County, Texas | 99945 | 0.7967 | 0.7973 | 0.08
45752 | Lampasas County, Texas | 28660 | 0.8229 | 0.9098 | 10.56
45753 | La Salle County, Texas | 99945 | 0.7967 | 0.7973 | 0.08
45754 | Lavaca County, Texas | 99945 | 0.7967 | 0.7973 | 0.08
45755 | Lee County, Texas | 99945 | 0.7967 | 0.7973 | 0.08
45756 | Leon County, Texas | 99945 | 0.7967 | 0.7973 | 0.08
45757 | Liberty County, Texas | 26420 | 1.0040 | 1.0026 | -0.14
45758 | Limestone County, Texas | 99945 | 0.7967 | 0.7973 | 0.08
45759 | Lipscomb County, Texas | 99945 | 0.7967 | 0.7973 | 0.08
45760 | Live Oak County, Texas | 99945 | 0.7967 | 0.7973 | 0.08
45761 | Llano County, Texas | 99945 | 0.7967 | 0.7973 | 0.08
45762 | Loving County, Texas | 99945 | 0.7967 | 0.7973 | 0.08
45770 | Lubbock County, Texas | 31180 | 0.8783 | 0.8628 | -1.76
45771 | Lynn County, Texas | 99945 | 0.7967 | 0.7973 | 0.08
45772 | Mc Culloch County, Texas | 99945 | 0.7967 | 0.7973 | 0.08
45780 | Mc Lennan County, Texas | 47380 | 0.8518 | 0.8648 | 1.53
45781 | Mc Mullen County, Texas | 99945 | 0.7967 | 0.7973 | 0.08
45782 | Madison County, Texas | 99945 | 0.7967 | 0.7973 | 0.08
45783 | Marion County, Texas | 99945 | 0.7967 | 0.7973 | 0.08
45784 | Martin County, Texas | 99945 | 0.7967 | 0.7973 | 0.08
45785 | Mason County, Texas | 99945 | 0.7967 | 0.7973 | 0.08
45790 | Matagorda County, Texas | 99945 | 0.7967 | 0.7973 | 0.08
45791 | Maverick County, Texas | 99945 | 0.7967 | 0.7973 | 0.08
45792 | Medina County, Texas | 41700 | 0.8456 | 0.8860 | 4.78
45793 | Menard County, Texas | 99945 | 0.7967 | 0.7973 | 0.08
45794 | Midland County, Texas | 33260 | 0.9628 | 0.9803 | 1.82
45795 | Milam County, Texas | 99945 | 0.7967 | 0.7973 | 0.08
45796 | Mills County, Texas | 99945 | 0.7967 | 0.7973 | 0.08
45797 | Mitchell County, Texas | 99945 | 0.7967 | 0.7973 | 0.08
45800 | Montague County, Texas | 99945 | 0.7967 | 0.7973 | 0.08
45801 | Montgomery County, Texas | 26420 | 1.0040 | 1.0026 | -0.14
45802 | Moore County, Texas | 99945 | 0.7967 | 0.7973 | 0.08
45803 | Morris County, Texas | 99945 | 0.7967 | 0.7973 | 0.08
45804 | Motley County, Texas | 99945 | 0.7967 | 0.7973 | 0.08
45810 | Nacogdoches County, Texas | 99945 | 0.7967 | 0.7973 | 0.08
45820 | Navarro County, Texas | 99945 | 0.7967 | 0.7973 | 0.08
45821 | Newton County, Texas | 99945 | 0.7967 | 0.7973 | 0.08
45822 | Nolan County, Texas | 99945 | 0.7967 | 0.7973 | 0.08
45830 | Nueces County, Texas | 18580 | 0.8550 | 0.8579 | 0.34
45831 | Ochiltree County, Texas | 99945 | 0.7967 | 0.7973 | 0.08
45832 | Oldham County, Texas | 99945 | 0.7967 | 0.7973 | 0.08
45840 | Orange County, Texas | 13140 | 0.8412 | 0.8610 | 2.35
45841 | Palo Pinto County, Texas | 99945 | 0.7967 | 0.7973 | 0.08
45842 | Panola County, Texas | 99945 | 0.7967 | 0.7973 | 0.08
45843 | Parker County, Texas | 23104 | 0.9504 | 0.9587 | 0.87
45844 | Parmer County, Texas | 99945 | 0.7967 | 0.7973 | 0.08
45845 | Pecos County, Texas | 99945 | 0.7967 | 0.7973 | 0.08
45850 | Polk County, Texas | 99945 | 0.7967 | 0.7973 | 0.08
45860 | Potter County, Texas | 11100 | 0.9156 | 0.9177 | 0.23
45861 | Presidio County, Texas | 99945 | 0.7967 | 0.7973 | 0.08
45870 | Rains County, Texas | 99945 | 0.7967 | 0.7973 | 0.08
45871 | Randall County, Texas | 11100 | 0.9156 | 0.9177 | 0.23
45872 | Reagan County, Texas | 99945 | 0.7967 | 0.7973 | 0.08
45873 | Real County, Texas | 99945 | 0.7967 | 0.7973 | 0.08
45874 | Red River County, Texas | 99945 | 0.7967 | 0.7973 | 0.08
45875 | Reeves County, Texas | 99945 | 0.7967 | 0.7973 | 0.08
45876 | Refugio County, Texas | 99945 | 0.7967 | 0.7973 | 0.08
45877 | Roberts County, Texas | 99945 | 0.7967 | 0.7973 | 0.08
45878 | Robertson County, Texas | 17780 | 0.8416 | 0.9061 | 7.66
45879 | Rockwall County, Texas | 19124 | 1.0217 | 1.0093 | -1.21
45880 | Runnels County, Texas | 99945 | 0.7967 | 0.7973 | 0.08
45881 | Rusk County, Texas | 30980 | 0.8331 | 0.8803 | 5.67
45882 | Sabine County, Texas | 99945 | 0.7967 | 0.7973 | 0.08
45883 | San Augustine County, Texas | 99945 | 0.7967 | 0.7973 | 0.08
45884 | San Jacinto County, Texas | 26420 | 0.8962 | 1.0026 | 11.87
45885 | San Patricio County, Texas | 18580 | 0.8550 | 0.8579 | 0.34
45886 | San Saba County, Texas | 99945 | 0.7967 | 0.7973 | 0.08
45887 | Schleicher County, Texas | 99945 | 0.7967 | 0.7973 | 0.08
45888 | Scurry County, Texas | 99945 | 0.7967 | 0.7973 | 0.08
45889 | Shackelford County, Texas | 99945 | 0.7967 | 0.7973 | 0.08
45890 | Shelby County, Texas | 99945 | 0.7967 | 0.7973 | 0.08
45891 | Sherman County, Texas | 99945 | 0.7967 | 0.7973 | 0.08
45892 | Smith County, Texas | 46340 | 0.9168 | 0.8827 | -3.72
45893 | Somervell County, Texas | 99945 | 0.7967 | 0.7973 | 0.08
45900 | Starr County, Texas | 99945 | 0.7967 | 0.7973 | 0.08
45901 | Stephens County, Texas | 99945 | 0.7967 | 0.7973 | 0.08
45902 | Sterling County, Texas | 99945 | 0.7967 | 0.7973 | 0.08
45903 | Stonewall County, Texas | 99945 | 0.7967 | 0.7973 | 0.08
45904 | Sutton County, Texas | 99945 | 0.7967 | 0.7973 | 0.08
45905 | Swisher County, Texas | 99945 | 0.7967 | 0.7973 | 0.08
45910 | Tarrant County, Texas | 23104 | 0.9504 | 0.9587 | 0.87
45911 | Taylor County, Texas | 10180 | 0.7975 | 0.8014 | 0.49
45912 | Terrell County, Texas | 99945 | 0.7967 | 0.7973 | 0.08
45913 | Terry County, Texas | 99945 | 0.7967 | 0.7973 | 0.08
45920 | Throckmorton County, Texas | 99945 | 0.7967 | 0.7973 | 0.08
45921 | Titus County, Texas | 99945 | 0.7967 | 0.7973 | 0.08
45930 | Tom Green County, Texas | 41660 | 0.8271 | 0.8377 | 1.28
45940 | Travis County, Texas | 12420 | 0.9437 | 0.9360 | -0.82
45941 | Trinity County, Texas | 99945 | 0.7967 | 0.7973 | 0.08
45942 | Tyler County, Texas | 99945 | 0.7967 | 0.7973 | 0.08
45943 | Upshur County, Texas | 30980 | 0.8809 | 0.8803 | -0.07
45944 | Upton County, Texas | 99945 | 0.7967 | 0.7973 | 0.08
45945 | Uvalde County, Texas | 99945 | 0.7967 | 0.7973 | 0.08
45946 | Val Verde County, Texas | 99945 | 0.7967 | 0.7973 | 0.08
45947 | Van Zandt County, Texas | 99945 | 0.7967 | 0.7973 | 0.08
45948 | Victoria County, Texas | 47020 | 0.8160 | 0.8575 | 5.09
45949 | Walker County, Texas | 99945 | 0.7967 | 0.7973 | 0.08
45950 | Waller County, Texas | 26420 | 1.0040 | 1.0026 | -0.14
45951 | Ward County, Texas | 99945 | 0.7967 | 0.7973 | 0.08
45952 | Washington County, Texas | 99945 | 0.7967 | 0.7973 | 0.08
45953 | Webb County, Texas | 29700 | 0.8068 | 0.7825 | -3.01
45954 | Wharton County, Texas | 99945 | 0.7967 | 0.7973 | 0.08
45955 | Wheeler County, Texas | 99945 | 0.7967 | 0.7973 | 0.08
45960 | Wichita County, Texas | 48660 | 0.8325 | 0.8326 | 0.01
45961 | Wilbarger County, Texas | 99945 | 0.7967 | 0.7973 | 0.08
45962 | Willacy County, Texas | 99945 | 0.7967 | 0.7973 | 0.08
45970 | Williamson County, Texas | 12420 | 0.9437 | 0.9360 | -0.82
45971 | Wilson County, Texas | 41700 | 0.8982 | 0.8860 | -1.36
45972 | Winkler County, Texas | 99945 | 0.7967 | 0.7973 | 0.08
45973 | Wise County, Texas | 23104 | 0.8709 | 0.9587 | 10.08
45974 | Wood County, Texas | 99945 | 0.7967 | 0.7973 | 0.08
45980 | Yoakum County, Texas | 99945 | 0.7967 | 0.7973 | 0.08
45981 | Young County, Texas | 99945 | 0.7967 | 0.7973 | 0.08
45982 | Zapata County, Texas | 99945 | 0.7967 | 0.7973 | 0.08
45983 | Zavala County, Texas | 99945 | 0.7967 | 0.7973 | 0.08
46000 | Beaver County, Utah | 99946 | 0.8440 | 0.8154 | -3.39
46010 | Box Elder County, Utah | 99946 | 0.8440 | 0.8154 | -3.39
46020 | Cache County, Utah | 30860 | 0.8963 | 0.9038 | 0.84
46030 | Carbon County, Utah | 99946 | 0.8440 | 0.8154 | -3.39
46040 | Daggett County, Utah | 99946 | 0.8440 | 0.8154 | -3.39
46050 | Davis County, Utah | 36260 | 0.9185 | 0.9011 | -1.89
46060 | Duchesne County, Utah | 99946 | 0.8440 | 0.8154 | -3.39
46070 | Emery County, Utah | 99946 | 0.8440 | 0.8154 | -3.39
46080 | Garfield County, Utah | 99946 | 0.8440 | 0.8154 | -3.39
46090 | Grand County, Utah | 99946 | 0.8440 | 0.8154 | -3.39
46100 | Iron County, Utah | 99946 | 0.8440 | 0.8154 | -3.39
46110 | Juab County, Utah | 39340 | 0.9131 | 0.9554 | 4.63
46120 | Kane County, Utah | 99946 | 0.9982 | 0.8154 | -18.31
46130 | Millard County, Utah | 99946 | 0.8440 | 0.8154 | -3.39
46140 | Morgan County, Utah | 36260 | 0.8896 | 0.9011 | 1.29
46150 | Piute County, Utah | 99946 | 0.8440 | 0.8154 | -3.39
46160 | Rich County, Utah | 99946 | 0.8440 | 0.8154 | -3.39
46170 | Salt Lake County, Utah | 41620 | 0.9381 | 0.9418 | 0.39
46180 | San Juan County, Utah | 99946 | 0.8440 | 0.8154 | -3.39
46190 | Sanpete County, Utah | 99946 | 0.8440 | 0.8154 | -3.39
46200 | Sevier County, Utah | 99946 | 0.8440 | 0.8154 | -3.39
46210 | Summit County, Utah | 41620 | 0.9092 | 0.9418 | 3.59
46220 | Tooele County, Utah | 41620 | 0.9092 | 0.9418 | 3.59
46230 | Uintah County, Utah | 99946 | 0.8440 | 0.8154 | -3.39
46240 | Utah County, Utah | 39340 | 0.9500 | 0.9554 | 0.57
46250 | Wasatch County, Utah | 99946 | 0.8440 | 0.8154 | -3.39
46260 | Washington County, Utah | 41100 | 0.9077 | 0.9281 | 2.25
46270 | Wayne County, Utah | 99946 | 0.8440 | 0.8154 | -3.39
46280 | Weber County, Utah | 36260 | 0.9185 | 0.9011 | -1.89
47000 | Addison County, Vermont | 99947 | 0.9830 | 0.9944 | 1.16
47010 | Bennington County, Vermont | 99947 | 0.9830 | 0.9944 | 1.16
47020 | Caledonia County, Vermont | 99947 | 0.9830 | 0.9944 | 1.16
47030 | Chittenden County, Vermont | 15540 | 0.9410 | 0.9491 | 0.86
47040 | Essex County, Vermont | 99947 | 0.9830 | 0.9944 | 1.16
47050 | Franklin County, Vermont | 15540 | 0.9410 | 0.9491 | 0.86
47060 | Grand Isle County, Vermont | 15540 | 0.9410 | 0.9491 | 0.86
47070 | Lamoille County, Vermont | 99947 | 0.9830 | 0.9944 | 1.16
47080 | Orange County, Vermont | 99947 | 0.9830 | 0.9944 | 1.16
47090 | Orleans County, Vermont | 99947 | 0.9830 | 0.9944 | 1.16
47100 | Rutland County, Vermont | 99947 | 0.9830 | 0.9944 | 1.16
47110 | Washington County, Vermont | 99947 | 0.9830 | 0.9944 | 1.16
47120 | Windham County, Vermont | 99947 | 0.9830 | 0.9944 | 1.16
47130 | Windsor County, Vermont | 99947 | 0.9830 | 0.9944 | 1.16
48010 | St Croix County, Virgin Islands | 99948 | 0.7615 | 0.7615 | 0.00
48020 | St Thomas-John County, Virgin Islands | 99948 | 0.7615 | 0.7615 | 0.00
49000 | Accomack County, Virginia | 99949 | 0.8215 | 0.7954 | -3.18
49010 | Albemarle County, Virginia | 16820 | 1.0187 | 1.0143 | -0.43
49011 | Alexandria City County, Virginia | 47894 | 1.0951 | 1.1074 | 1.12
49020 | Alleghany County, Virginia | 99949 | 0.8215 | 0.7954 | -3.18
49030 | Amelia County, Virginia | 40060 | 0.8873 | 0.9193 | 3.61
49040 | Amherst County, Virginia | 31340 | 0.8691 | 0.8710 | 0.22
49050 | Appomattox County, Virginia | 31340 | 0.8554 | 0.8710 | 1.82
49060 | Arlington County, Virginia | 47894 | 1.0951 | 1.1074 | 1.12
49070 | Augusta County, Virginia | 99949 | 0.8215 | 0.7954 | -3.18
49080 | Bath County, Virginia | 99949 | 0.8215 | 0.7954 | -3.18
49088 | Bedford City County, Virginia | 31340 | 0.8691 | 0.8710 | 0.22
49090 | Bedford County, Virginia | 31340 | 0.8691 | 0.8710 | 0.22
49100 | Bland County, Virginia | 99949 | 0.8215 | 0.7954 | -3.18
49110 | Botetourt County, Virginia | 40220 | 0.8381 | 0.8662 | 3.35
49111 | Bristol City County, Virginia | 28700 | 0.8031 | 0.7975 | -0.70
49120 | Brunswick County, Virginia | 99949 | 0.8215 | 0.7954 | -3.18
49130 | Buchanan County, Virginia | 99949 | 0.8215 | 0.7954 | -3.18
49140 | Buckingham County, Virginia | 99949 | 0.8215 | 0.7954 | -3.18
49141 | Buena Vista City County, Virginia | 99949 | 0.8215 | 0.7954 | -3.18
49150 | Campbell County, Virginia | 31340 | 0.8691 | 0.8710 | 0.22
49160 | Caroline County, Virginia | 40060 | 0.8873 | 0.9193 | 3.61
49170 | Carroll County, Virginia | 99949 | 0.8215 | 0.7954 | -3.18
49180 | Charles City County, Virginia | 40060 | 0.9328 | 0.9193 | -1.45
49190 | Charlotte County, Virginia | 99949 | 0.8215 | 0.7954 | -3.18
49191 | Charlottesville City County, Virginia | 16820 | 1.0187 | 1.0143 | -0.43
49194 | Chesapeake County, Virginia | 47260 | 0.8799 | 0.8805 | 0.07
49200 | Chesterfield County, Virginia | 40060 | 0.9328 | 0.9193 | -1.45
49210 | Clarke County, Virginia | 47894 | 1.0951 | 1.1074 | 1.12
49211 | Clifton Forge City County, Virginia | 99949 | 0.8215 | 0.7954 | -3.18
49212 | Colonial Heights County, Virginia | 40060 | 0.9328 | 0.9193 | -1.45
49213 | Covington City County, Virginia | 99949 | 0.8215 | 0.7954 | -3.18
49220 | Craig County, Virginia | 40220 | 0.8396 | 0.8662 | 3.17
49230 | Culpeper County, Virginia | 99949 | 0.9495 | 0.7954 | -16.23
49240 | Cumberland County, Virginia | 40060 | 0.8873 | 0.9193 | 3.61
49241 | Danville City County, Virginia | 19260 | 0.8489 | 0.8466 | -0.27
49250 | Dickenson County, Virginia | 99949 | 0.8215 | 0.7954 | -3.18
49260 | Dinniddie County, Virginia | 40060 | 0.9328 | 0.9193 | -1.45
49270 | Emporia County, Virginia | 99949 | 0.8215 | 0.7954 | -3.18
49280 | Essex County, Virginia | 99949 | 0.8215 | 0.7954 | -3.18
49288 | Fairfax City County, Virginia | 47894 | 1.0951 | 1.1074 | 1.12
49290 | Fairfax County, Virginia | 47894 | 1.0951 | 1.1074 | 1.12
49291 | Falls Church City County, Virginia | 47894 | 1.0951 | 1.1074 | 1.12
49300 | Fauquier County, Virginia | 47894 | 1.0951 | 1.1074 | 1.12
49310 | Floyd County, Virginia | 99949 | 0.8215 | 0.7954 | -3.18
49320 | Fluvanna County, Virginia | 16820 | 1.0187 | 1.0143 | -0.43
49328 | Franklin City County, Virginia | 99949 | 0.8215 | 0.7954 | -3.18
49330 | Franklin County, Virginia | 40220 | 0.8396 | 0.8662 | 3.17
49340 | Frederick County, Virginia | 49020 | 0.9316 | 1.0109 | 8.51
49342 | Fredericksburg City County, Virginia | 47894 | 1.0951 | 1.1074 | 1.12
49343 | Galax City County, Virginia | 99949 | 0.8215 | 0.7954 | -3.18
49350 | Giles County, Virginia | 13980 | 0.8186 | 0.8227 | 0.50
49360 | Gloucester County, Virginia | 47260 | 0.8799 | 0.8805 | 0.07
49370 | Goochland County, Virginia | 40060 | 0.9328 | 0.9193 | -1.45
49380 | Grayson County, Virginia | 99949 | 0.8215 | 0.7954 | -3.18
49390 | Greene County, Virginia | 16820 | 1.0187 | 1.0143 | -0.43
49400 | Greensville County, Virginia | 99949 | 0.8215 | 0.7954 | -3.18
49410 | Halifax County, Virginia | 99949 | 0.8215 | 0.7954 | -3.18
49411 | Hampton City County, Virginia | 47260 | 0.8799 | 0.8805 | 0.07
49420 | Hanover County, Virginia | 40060 | 0.9328 | 0.9193 | -1.45
49421 | Harrisonburg City County, Virginia | 25500 | 0.8753 | 0.9090 | 3.85
49430 | Henrico County, Virginia | 40060 | 0.9328 | 0.9193 | -1.45
49440 | Henry County, Virginia | 99949 | 0.8215 | 0.7954 | -3.18
49450 | Highland County, Virginia | 99949 | 0.8215 | 0.7954 | -3.18
49451 | Hopewell City County, Virginia | 40060 | 0.9328 | 0.9193 | -1.45
49460 | Isle Of Wight County, Virginia | 47260 | 0.8799 | 0.8805 | 0.07
49470 | James City County, Virginia | 47260 | 0.8799 | 0.8805 | 0.07
49480 | King And Queen County, Virginia | 40060 | 0.8873 | 0.9193 | 3.61
49490 | King George County, Virginia | 99949 | 0.9495 | 0.7954 | -16.23
49500 | King William County, Virginia | 40060 | 0.8873 | 0.9193 | 3.61
49510 | Lancaster County, Virginia | 99949 | 0.8215 | 0.7954 | -3.18
49520 | Lee County, Virginia | 99949 | 0.8215 | 0.7954 | -3.18
49522 | Lexington County, Virginia | 99949 | 0.8215 | 0.7954 | -3.18
49530 | Loudoun County, Virginia | 47894 | 1.0951 | 1.1074 | 1.12
49540 | Louisa County, Virginia | 40060 | 0.8873 | 0.9193 | 3.61
49550 | Lunenburg County, Virginia | 99949 | 0.8215 | 0.7954 | -3.18
49551 | Lynchburg City County, Virginia | 31340 | 0.8691 | 0.8710 | 0.22
49560 | Madison County, Virginia | 99949 | 0.8215 | 0.7954 | -3.18
49561 | Martinsville City County, Virginia | 99949 | 0.8215 | 0.7954 | -3.18
49563 | Manassas City County, Virginia | 47894 | 1.0951 | 1.1074 | 1.12
49565 | Manassas Park City County, Virginia | 47894 | 1.0951 | 1.1074 | 1.12
49570 | Mathews County, Virginia | 47260 | 0.8799 | 0.8805 | 0.07
49580 | Mecklenburg County, Virginia | 99949 | 0.8215 | 0.7954 | -3.18
49590 | Middlesex County, Virginia | 99949 | 0.8215 | 0.7954 | -3.18
49600 | Montgomery County, Virginia | 13980 | 0.8186 | 0.8227 | 0.50
49610 | Nansemond, Virginia | 99949 | 0.8215 | 0.7954 | -3.18
49620 | Nelson County, Virginia | 16820 | 0.9302 | 1.0143 | 9.04
49621 | New Kent County, Virginia | 40060 | 0.9328 | 0.9193 | -1.45
49622 | Newport News City County, Virginia | 47260 | 0.8799 | 0.8805 | 0.07
49641 | Norfolk City County, Virginia | 47260 | 0.8799 | 0.8805 | 0.07
49650 | Northampton County, Virginia | 99949 | 0.8215 | 0.7954 | -3.18
49660 | Northumberland County, Virginia | 99949 | 0.8215 | 0.7954 | -3.18
49661 | Norton City County, Virginia | 99949 | 0.8215 | 0.7954 | -3.18
49670 | Nottoway County, Virginia | 99949 | 0.8215 | 0.7954 | -3.18
49680 | Orange County, Virginia | 99949 | 0.8215 | 0.7954 | -3.18
49690 | Page County, Virginia | 99949 | 0.8215 | 0.7954 | -3.18
49700 | Patrick County, Virginia | 99949 | 0.8215 | 0.7954 | -3.18
49701 | Petersburg City County, Virginia | 40060 | 0.9328 | 0.9193 | -1.45
49710 | Pittsylvania County, Virginia | 19260 | 0.8489 | 0.8466 | -0.27
49711 | Portsmouth City County, Virginia | 47260 | 0.8799 | 0.8805 | 0.07
49712 | Poquoson City County, Virginia | 47260 | 0.8799 | 0.8805 | 0.07
49720 | Powhatan County, Virginia | 40060 | 0.9328 | 0.9193 | -1.45
49730 | Prince Edward County, Virginia | 99949 | 0.8215 | 0.7954 | -3.18
49740 | Prince George County, Virginia | 40060 | 0.9328 | 0.9193 | -1.45
49750 | Prince William County, Virginia | 47894 | 1.0951 | 1.1074 | 1.12
49770 | Pulaski County, Virginia | 13980 | 0.8186 | 0.8227 | 0.50
49771 | Radford City County, Virginia | 13980 | 0.8186 | 0.8227 | 0.50
49780 | Rappahannock County, Virginia | 99949 | 0.8215 | 0.7954 | -3.18
49790 | Richmond County, Virginia | 99949 | 0.8215 | 0.7954 | -3.18
49791 | Richmond City County, Virginia | 40060 | 0.9328 | 0.9193 | -1.45
49800 | Roanoke County, Virginia | 40220 | 0.8381 | 0.8662 | 3.35
49801 | Roanoke City County, Virginia | 40220 | 0.8381 | 0.8662 | 3.35
49810 | Rockbridge County, Virginia | 99949 | 0.8215 | 0.7954 | -3.18
49820 | Rockingham County, Virginia | 25500 | 0.8753 | 0.9090 | 3.85
49830 | Russell County, Virginia | 99949 | 0.8215 | 0.7954 | -3.18
49838 | Salem County, Virginia | 40220 | 0.8381 | 0.8662 | 3.35
49840 | Scott County, Virginia | 28700 | 0.8031 | 0.7975 | -0.70
49850 | Shenandoah County, Virginia | 99949 | 0.8215 | 0.7954 | -3.18
49860 | Smyth County, Virginia | 99949 | 0.8215 | 0.7954 | -3.18
49867 | South Boston City County, Virginia | 99949 | 0.8215 | 0.7954 | -3.18
49870 | Southampton County, Virginia | 99949 | 0.8215 | 0.7954 | -3.18
49880 | Spotsylvania County, Virginia | 47894 | 1.0951 | 1.1074 | 1.12
49890 | Stafford County, Virginia | 47894 | 1.0951 | 1.1074 | 1.12
49891 | Staunton City County, Virginia | 99949 | 0.8215 | 0.7954 | -3.18
49892 | Suffolk City County, Virginia | 47260 | 0.8799 | 0.8805 | 0.07
49900 | Surry County, Virginia | 47260 | 0.8608 | 0.8805 | 2.29
49910 | Sussex County, Virginia | 40060 | 0.8873 | 0.9193 | 3.61
49920 | Tazewell County, Virginia | 99949 | 0.8215 | 0.7954 | -3.18
49921 | Virginia Beach City County, Virginia | 47260 | 0.8799 | 0.8805 | 0.07
49930 | Warren County, Virginia | 47894 | 1.0951 | 1.1074 | 1.12
49950 | Washington County, Virginia | 28700 | 0.8031 | 0.7975 | -0.70
49951 | Waynesboro City County, Virginia | 99949 | 0.8215 | 0.7954 | -3.18
49960 | Westmoreland County, Virginia | 99949 | 0.8215 | 0.7954 | -3.18
49961 | Williamsburg City County, Virginia | 47260 | 0.8799 | 0.8805 | 0.07
49962 | Winchester City County, Virginia | 49020 | 0.9316 | 1.0109 | 8.51
49970 | Wise County, Virginia | 99949 | 0.8215 | 0.7954 | -3.18
49980 | Wythe County, Virginia | 99949 | 0.8215 | 0.7954 | -3.18
49981 | York County, Virginia | 47260 | 0.8799 | 0.8805 | 0.07
50000 | Adams County, Washington | 99950 | 1.0364 | 1.0281 | -0.80
50010 | Asotin County, Washington | 30300 | 1.0052 | 0.9871 | -1.80
50020 | Benton County, Washington | 28420 | 1.0619 | 1.0361 | -2.43
50030 | Chelan County, Washington | 48300 | 1.0144 | 1.0365 | 2.18
50040 | Clallam County, Washington | 99950 | 1.0364 | 1.0281 | -0.80
50050 | Clark County, Washington | 38900 | 1.1266 | 1.1436 | 1.51
50060 | Columbia County, Washington | 99950 | 1.0364 | 1.0281 | -0.80
50070 | Cowlitz County, Washington | 31020 | 0.9898 | 1.0029 | 1.32
50080 | Douglas County, Washington | 48300 | 1.0144 | 1.0365 | 2.18
50090 | Ferry County, Washington | 99950 | 1.0364 | 1.0281 | -0.80
50100 | Franklin County, Washington | 28420 | 1.0619 | 1.0361 | -2.43
50110 | Garfield County, Washington | 99950 | 1.0364 | 1.0281 | -0.80
50120 | Grant County, Washington | 99950 | 1.0364 | 1.0281 | -0.80
50130 | Grays Harbor County, Washington | 99950 | 1.0364 | 1.0281 | -0.80
50140 | Island County, Washington | 99950 | 1.1039 | 1.0281 | -6.87
50150 | Jefferson County, Washington | 99950 | 1.0364 | 1.0281 | -0.80
50160 | King County, Washington | 42644 | 1.1572 | 1.1454 | -1.02
50170 | Kitsap County, Washington | 14740 | 1.0675 | 1.0932 | 2.41
50180 | Kittitas County, Washington | 99950 | 1.0364 | 1.0281 | -0.80
50190 | Klickitat County, Washington | 99950 | 1.0364 | 1.0281 | -0.80
50200 | Lewis County, Washington | 99950 | 1.0364 | 1.0281 | -0.80
50210 | Lincoln County, Washington | 99950 | 1.0364 | 1.0281 | -0.80
50220 | Mason County, Washington | 99950 | 1.0364 | 1.0281 | -0.80
50230 | Okanogan County, Washington | 99950 | 1.0364 | 1.0281 | -0.80
50240 | Pacific County, Washington | 99950 | 1.0364 | 1.0281 | -0.80
50250 | Pend Oreille County, Washington | 99950 | 1.0364 | 1.0281 | -0.80
50260 | Pierce County, Washington | 45104 | 1.0742 | 1.0808 | 0.61
50270 | San Juan County, Washington | 99950 | 1.0364 | 1.0281 | -0.80
50280 | Skagit County, Washington | 34580 | 1.0336 | 1.0536 | 1.93
50290 | Skamania County, Washington | 38900 | 1.0742 | 1.1436 | 6.46
50300 | Snohomish County, Washington | 42644 | 1.1572 | 1.1454 | -1.02
50310 | Spokane County, Washington | 44060 | 1.0905 | 1.0465 | -4.03
50320 | Stevens County, Washington | 99950 | 1.0364 | 1.0281 | -0.80
50330 | Thurston County, Washington | 36500 | 1.0927 | 1.1100 | 1.58
50340 | Wahkiakum County, Washington | 99950 | 1.0364 | 1.0281 | -0.80
50350 | Walla Walla County, Washington | 99950 | 1.0364 | 1.0281 | -0.80
50360 | Whatcom County, Washington | 13380 | 1.1731 | 1.1124 | -5.17
50370 | Whitman County, Washington | 99950 | 1.0364 | 1.0281 | -0.80
50380 | Yakima County, Washington | 49420 | 1.0155 | 0.9865 | -2.86
51000 | Barbour County, W Virginia | 99951 | 0.7809 | 0.7620 | -2.42
51010 | Berkeley County, W Virginia | 25180 | 1.0233 | 0.9054 | -11.52
51020 | Boone County, W Virginia | 16620 | 0.8173 | 0.8558 | 4.71
51030 | Braxton County, W Virginia | 99951 | 0.7809 | 0.7620 | -2.42
51040 | Brooke County, W Virginia | 48260 | 0.7819 | 0.8078 | 3.31
51050 | Cabell County, W Virginia | 26580 | 0.9477 | 0.9013 | -4.90
51060 | Calhoun County, W Virginia | 99951 | 0.7809 | 0.7620 | -2.42
51070 | Clay County, W Virginia | 16620 | 0.8173 | 0.8558 | 4.71
51080 | Doddridge County, W Virginia | 99951 | 0.7809 | 0.7620 | -2.42
51090 | Fayette County, W Virginia | 99951 | 0.7809 | 0.7620 | -2.42
51100 | Gilmer County, W Virginia | 99951 | 0.7809 | 0.7620 | -2.42
51110 | Grant County, W Virginia | 99951 | 0.7809 | 0.7620 | -2.42
51120 | Greenbrier County, W Virginia | 99951 | 0.7809 | 0.7620 | -2.42
51130 | Hampshire County, W Virginia | 49020 | 0.9057 | 1.0109 | 11.62
51140 | Hancock County, W Virginia | 48260 | 0.7819 | 0.8078 | 3.31
51150 | Hardy County, W Virginia | 99951 | 0.7809 | 0.7620 | -2.42
51160 | Harrison County, W Virginia | 99951 | 0.7809 | 0.7620 | -2.42
51170 | Jackson County, W Virginia | 99951 | 0.7809 | 0.7620 | -2.42
51180 | Jefferson County, W Virginia | 47894 | 1.0951 | 1.1074 | 1.12
51190 | Kanawha County, W Virginia | 16620 | 0.8445 | 0.8558 | 1.34
51200 | Lewis County, W Virginia | 99951 | 0.7809 | 0.7620 | -2.42
51210 | Lincoln County, W Virginia | 16620 | 0.8173 | 0.8558 | 4.71
51220 | Logan County, W Virginia | 99951 | 0.7809 | 0.7620 | -2.42
51230 | Mc Dowell County, W Virginia | 99951 | 0.7809 | 0.7620 | -2.42
51240 | Marion County, W Virginia | 99951 | 0.7809 | 0.7620 | -2.42
51250 | Marshall County, W Virginia | 48540 | 0.7161 | 0.7022 | -1.94
51260 | Mason County, W Virginia | 99951 | 0.7809 | 0.7620 | -2.42
51270 | Mercer County, W Virginia | 99951 | 0.7809 | 0.7620 | -2.42
51280 | Mineral County, W Virginia | 19060 | 0.9317 | 0.8859 | -4.92
51290 | Mingo County, W Virginia | 99951 | 0.7809 | 0.7620 | -2.42
51300 | Monongalia County, W Virginia | 34060 | 0.8160 | 0.8438 | 3.41
51310 | Monroe County, W Virginia | 99951 | 0.7809 | 0.7620 | -2.42
51320 | Morgan County, W Virginia | 25180 | 0.8695 | 0.9054 | 4.13
51330 | Nicholas County, W Virginia | 99951 | 0.7809 | 0.7620 | -2.42
51340 | Ohio County, W Virginia | 48540 | 0.7161 | 0.7022 | -1.94
51350 | Pendleton County, W Virginia | 99951 | 0.7809 | 0.7620 | -2.42
51360 | Pleasants County, W Virginia | 37620 | 0.8085 | 0.7940 | -1.79
51370 | Pocahontas County, W Virginia | 99951 | 0.7809 | 0.7620 | -2.42
51380 | Preston County, W Virginia | 34060 | 0.8160 | 0.8438 | 3.41
51390 | Putnam County, W Virginia | 16620 | 0.8445 | 0.8558 | 1.34
51400 | Raleigh County, W Virginia | 99951 | 0.7809 | 0.7620 | -2.42
51410 | Randolph County, W Virginia | 99951 | 0.7809 | 0.7620 | -2.42
51420 | Ritchie County, W Virginia | 99951 | 0.7809 | 0.7620 | -2.42
51430 | Roane County, W Virginia | 99951 | 0.7809 | 0.7620 | -2.42
51440 | Summers County, W Virginia | 99951 | 0.7809 | 0.7620 | -2.42
51450 | Taylor County, W Virginia | 99951 | 0.7809 | 0.7620 | -2.42
51460 | Tucker County, W Virginia | 99951 | 0.7809 | 0.7620 | -2.42
51470 | Tyler County, W Virginia | 99951 | 0.7809 | 0.7620 | -2.42
51480 | Upshur County, W Virginia | 99951 | 0.7809 | 0.7620 | -2.42
51490 | Wayne County, W Virginia | 26580 | 0.9477 | 0.9013 | -4.90
51500 | Webster County, W Virginia | 99951 | 0.7809 | 0.7620 | -2.42
51510 | Wetzel County, W Virginia | 99951 | 0.7809 | 0.7620 | -2.42
51520 | Wirt County, W Virginia | 37620 | 0.8085 | 0.7940 | -1.79
51530 | Wood County, W Virginia | 37620 | 0.8270 | 0.7940 | -3.99
51540 | Wyoming County, W Virginia | 99951 | 0.7809 | 0.7620 | -2.42
52000 | Adams County, Wisconsin | 99952 | 0.9494 | 0.9468 | -0.27
52010 | Ashland County, Wisconsin | 99952 | 0.9494 | 0.9468 | -0.27
52020 | Barron County, Wisconsin | 99952 | 0.9494 | 0.9468 | -0.27
52030 | Bayfield County, Wisconsin | 99952 | 0.9494 | 0.9468 | -0.27
52040 | Brown County, Wisconsin | 24580 | 0.9483 | 0.9804 | 3.39
52050 | Buffalo County, Wisconsin | 99952 | 0.9494 | 0.9468 | -0.27
52060 | Burnett County, Wisconsin | 99952 | 0.9494 | 0.9468 | -0.27
52070 | Calumet County, Wisconsin | 11540 | 0.9264 | 0.9472 | 2.25
52080 | Chippewa County, Wisconsin | 20740 | 0.9201 | 0.9647 | 4.85
52090 | Clark County, Wisconsin | 99952 | 0.9494 | 0.9468 | -0.27
52100 | Columbia County, Wisconsin | 31540 | 1.0069 | 1.0736 | 6.62
52110 | Crawford County, Wisconsin | 99952 | 0.9494 | 0.9468 | -0.27
52120 | Dane County, Wisconsin | 31540 | 1.0707 | 1.0736 | 0.27
52130 | Dodge County, Wisconsin | 99952 | 0.9494 | 0.9468 | -0.27
52140 | Door County, Wisconsin | 99952 | 0.9494 | 0.9468 | -0.27
52150 | Douglas County, Wisconsin | 20260 | 1.0213 | 1.0070 | -1.40
52160 | Dunn County, Wisconsin | 99952 | 0.9494 | 0.9468 | -0.27
52170 | Eau Claire County, Wisconsin | 20740 | 0.9201 | 0.9647 | 4.85
52180 | Florence County, Wisconsin | 99952 | 0.9494 | 0.9468 | -0.27
52190 | Fond Du Lac County, Wisconsin | 22540 | 0.9559 | 1.0081 | 5.46
52200 | Forest County, Wisconsin | 99952 | 0.9494 | 0.9468 | -0.27
52210 | Grant County, Wisconsin | 99952 | 0.9494 | 0.9468 | -0.27
52220 | Green County, Wisconsin | 99952 | 0.9494 | 0.9468 | -0.27
52230 | Green Lake County, Wisconsin | 99952 | 0.9494 | 0.9468 | -0.27
52240 | Iowa County, Wisconsin | 31540 | 1.0069 | 1.0736 | 6.62
52250 | Iron County, Wisconsin | 99952 | 0.9494 | 0.9468 | -0.27
52260 | Jackson County, Wisconsin | 99952 | 0.9494 | 0.9468 | -0.27
52270 | Jefferson County, Wisconsin | 99952 | 0.9494 | 0.9468 | -0.27
52280 | Juneau County, Wisconsin | 99952 | 0.9494 | 0.9468 | -0.27
52290 | Kenosha County, Wisconsin | 29404 | 1.0095 | 1.0406 | 3.08
52300 | Kewaunee County, Wisconsin | 24580 | 0.9481 | 0.9804 | 3.41
52310 | La Crosse County, Wisconsin | 29100 | 0.9564 | 0.9442 | -1.28
52320 | Lafayette County, Wisconsin | 99952 | 0.9494 | 0.9468 | -0.27
52330 | Langlade County, Wisconsin | 99952 | 0.9494 | 0.9468 | -0.27
52340 | Lincoln County, Wisconsin | 99952 | 0.9494 | 0.9468 | -0.27
52350 | Manitowoc County, Wisconsin | 99952 | 0.9494 | 0.9468 | -0.27
52360 | Marathon County, Wisconsin | 48140 | 0.9590 | 0.9740 | 1.56
52370 | Marinette County, Wisconsin | 99952 | 0.9494 | 0.9468 | -0.27
52380 | Marquette County, Wisconsin | 99952 | 0.9494 | 0.9468 | -0.27
52381 | Menominee County, Wisconsin | 99952 | 0.9494 | 0.9468 | -0.27
52390 | Milwaukee County, Wisconsin | 33340 | 1.0146 | 1.0236 | 0.89
52400 | Monroe County, Wisconsin | 99952 | 0.9494 | 0.9468 | -0.27
52410 | Oconto County, Wisconsin | 24580 | 0.9481 | 0.9804 | 3.41
52420 | Oneida County, Wisconsin | 99952 | 0.9494 | 0.9468 | -0.27
52430 | Outagamie County, Wisconsin | 11540 | 0.9264 | 0.9472 | 2.25
52440 | Ozaukee County, Wisconsin | 33340 | 1.0146 | 1.0236 | 0.89
52450 | Pepin County, Wisconsin | 99952 | 0.9494 | 0.9468 | -0.27
52460 | Pierce County, Wisconsin | 33460 | 1.1075 | 1.0965 | -0.99
52470 | Polk County, Wisconsin | 99952 | 0.9494 | 0.9468 | -0.27
52480 | Portage County, Wisconsin | 99952 | 0.9494 | 0.9468 | -0.27
52490 | Price County, Wisconsin | 99952 | 0.9494 | 0.9468 | -0.27
52500 | Racine County, Wisconsin | 39540 | 0.8997 | 0.9192 | 2.17
52510 | Richland County, Wisconsin | 99952 | 0.9494 | 0.9468 | -0.27
52520 | Rock County, Wisconsin | 27500 | 0.9538 | 0.9672 | 1.40
52530 | Rusk County, Wisconsin | 99952 | 0.9494 | 0.9468 | -0.27
52540 | St Croix County, Wisconsin | 33460 | 1.1075 | 1.0965 | -0.99
52550 | Sauk County, Wisconsin | 99952 | 0.9494 | 0.9468 | -0.27
52560 | Sawyer County, Wisconsin | 99952 | 0.9494 | 0.9468 | -0.27
52570 | Shawano County, Wisconsin | 99952 | 0.9494 | 0.9468 | -0.27
52580 | Sheboygan County, Wisconsin | 43100 | 0.8911 | 0.9042 | 1.47
52590 | Taylor County, Wisconsin | 99952 | 0.9494 | 0.9468 | -0.27
52600 | Trempealeau County, Wisconsin | 99952 | 0.9494 | 0.9468 | -0.27
52610 | Vernon County, Wisconsin | 99952 | 0.9494 | 0.9468 | -0.27
52620 | Vilas County, Wisconsin | 99952 | 0.9494 | 0.9468 | -0.27
52630 | Walworth County, Wisconsin | 99952 | 0.9494 | 0.9468 | -0.27
52640 | Washburn County, Wisconsin | 99952 | 0.9494 | 0.9468 | -0.27
52650 | Washington County, Wisconsin | 33340 | 1.0146 | 1.0236 | 0.89
52660 | Waukesha County, Wisconsin | 33340 | 1.0146 | 1.0236 | 0.89
52670 | Waupaca County, Wisconsin | 99952 | 0.9494 | 0.9468 | -0.27
52680 | Waushara County, Wisconsin | 99952 | 0.9494 | 0.9468 | -0.27
52690 | Winnebago County, Wisconsin | 36780 | 0.9211 | 0.9332 | 1.31
52700 | Wood County, Wisconsin | 99952 | 0.9494 | 0.9468 | -0.27
53000 | Albany County, Wyoming | 99953 | 0.9257 | 0.9311 | 0.58
53010 | Big Horn County, Wyoming | 99953 | 0.9257 | 0.9311 | 0.58
53020 | Campbell County, Wyoming | 99953 | 0.9257 | 0.9311 | 0.58
53030 | Carbon County, Wyoming | 99953 | 0.9257 | 0.9311 | 0.58
53040 | Converse County, Wyoming | 99953 | 0.9257 | 0.9311 | 0.58
53050 | Crook County, Wyoming | 99953 | 0.9257 | 0.9311 | 0.58
53060 | Fremont County, Wyoming | 99953 | 0.9257 | 0.9311 | 0.58
53070 | Goshen County, Wyoming | 99953 | 0.9257 | 0.9311 | 0.58
53080 | Hot Springs County, Wyoming | 99953 | 0.9257 | 0.9311 | 0.58
53090 | Johnson County, Wyoming | 99953 | 0.9257 | 0.9311 | 0.58
53100 | Laramie County, Wyoming | 16940 | 0.8775 | 0.9076 | 3.43
53110 | Lincoln County, Wyoming | 99953 | 0.9257 | 0.9311 | 0.58
53120 | Natrona County, Wyoming | 16220 | 0.9026 | 0.9161 | 1.50
53130 | Niobrara County, Wyoming | 99953 | 0.9257 | 0.9311 | 0.58
53140 | Park County, Wyoming | 99953 | 0.9257 | 0.9311 | 0.58
53150 | Platte County, Wyoming | 99953 | 0.9257 | 0.9311 | 0.58
53160 | Sheridan County, Wyoming | 99953 | 0.9257 | 0.9311 | 0.58
53170 | Sublette County, Wyoming | 99953 | 0.9257 | 0.9311 | 0.58
53180 | Sweetwater County, Wyoming | 99953 | 0.9257 | 0.9311 | 0.58
53190 | Teton County, Wyoming | 99953 | 0.9257 | 0.9311 | 0.58
53200 | Uinta County, Wyoming | 99953 | 0.9257 | 0.9311 | 0.58
53210 | Washakie County, Wyoming | 99953 | 0.9257 | 0.9311 | 0.58
53220 | Weston County, Wyoming | 99953 | 0.9257 | 0.9311 | 0.58
65010 | Agana County, Guam | 99965 | 0.9611 | 0.9611 | 0.00
65020 | Agana Heights County, Guam | 99965 | 0.9611 | 0.9611 | 0.00
65030 | Agat County, Guam | 99965 | 0.9611 | 0.9611 | 0.00
65040 | Asan County, Guam | 99965 | 0.9611 | 0.9611 | 0.00
65050 | Barrigada County, Guam | 99965 | 0.9611 | 0.9611 | 0.00
65060 | Chalan Pago County, Guam | 99965 | 0.9611 | 0.9611 | 0.00
65070 | Dededo County, Guam | 99965 | 0.9611 | 0.9611 | 0.00
65080 | Inarajan County, Guam | 99965 | 0.9611 | 0.9611 | 0.00
65090 | Maite County, Guam | 99965 | 0.9611 | 0.9611 | 0.00
65100 | Mangilao County, Guam | 99965 | 0.9611 | 0.9611 | 0.00
65110 | Merizo County, Guam | 99965 | 0.9611 | 0.9611 | 0.00
65120 | Mongmong County, Guam | 99965 | 0.9611 | 0.9611 | 0.00
65130 | Ordot County, Guam | 99965 | 0.9611 | 0.9611 | 0.00
65140 | Piti County, Guam | 99965 | 0.9611 | 0.9611 | 0.00
65150 | Santa Rita County, Guam | 99965 | 0.9611 | 0.9611 | 0.00
65160 | Sinajana County, Guam | 99965 | 0.9611 | 0.9611 | 0.00
65170 | Talofofo County, Guam | 99965 | 0.9611 | 0.9611 | 0.00
65180 | Tamuning County, Guam | 99965 | 0.9611 | 0.9611 | 0.00
65190 | Toto County, Guam | 99965 | 0.9611 | 0.9611 | 0.00
65200 | Umatac County, Guam | 99965 | 0.9611 | 0.9611 | 0.00
65210 | Yigo County, Guam | 99965 | 0.9611 | 0.9611 | 0.00
65220 | Yona County, Guam | 99965 | 0.9611 | 0.9611 | 0.00

[FR Doc. 06-6614 Filed 7-27-06; 4:00 pm]

BILLING CODE 4120-01-P